DEPARTMENT OF THE INTERIOR

Fish and Wildlife Service

50 CFR Part 17

[FWS-R8-ES-2009-0089]

[MO 92210-0-0009-B4]

RIN 1018-AV90

Endangered and Threatened Wildlife and Plants; Revised Designation of Critical Habitat for the California Red-Legged Frog

AGENCY: Fish and Wildlife Service, Interior.

ACTION: Final rule.

SUMMARY: We, the U.S. Fish and Wildlife Service (Service), designate revised critical habitat for the California red-legged frog (Rana draytonii) under the Endangered Species Act of 1973, as amended (Act). In total, approximately 1,636,609 acres (ac) (662,312 hectares (ha)) of critical habitat in 27 California counties fall within the boundaries of the final revised critical habitat designation.

DATES: This rule becomes effective on April 16, 2010.

ADDRESSES: This final rule, final economic analysis, and maps are available on the Internet at http://www.regulations.gov and http://www.fws.gov/sacramento/. Comments and materials received, as well as supporting documentation used in preparing this final rule, are available for public inspection, by appointment, during normal business hours, at the U.S. Fish and Wildlife Service, Sacramento Fish and Wildlife Office, 2800 Cottage Way, Room W-2605, Sacramento, CA 95825; telephone 916-414-6600; or facsimile 916-414-6712.

FOR FURTHER INFORMATION CONTACT: For information on the revised designation in general and information about the revised designation in Alameda, Butte, Calaveras, Contra Costa, El Dorado, Kern, Kings, Marin, southern Mendocino, Merced, Napa, Nevada, Placer, San Joaquin, San Mateo, Santa Clara, Solano, Sonoma, Stanislaus, and Yuba Counties, contact Susan Moore, Field Supervisor or Arnold Roessler, Fish and Wildlife Biologist, U.S. Fish and Wildlife Service, Sacramento Fish and Wildlife Office, 2800 Cottage Way, Room W-2605, Sacramento, CA 95825; telephone 916-414-6600; or facsimile 916-414-6712. If you use a telecommunications device for the deaf (TDD), call the Federal Information Relay Service (FIRS) at 800-877-8339.

For information about the revised designation in Los Angeles, Monterey, San Benito, San Luis Obispo, Santa Barbara, Santa Cruz, and Ventura Counties, contact Diane Noda, Field Supervisor, Ventura Fish and Wildlife Office, U.S. Fish and Wildlife Service, 2394 Portola Road, Suite B, Ventura, CA 93003; telephone 805-644-1766; facsimile 805-644-3958.

For information about the exclusion of critical habitat in Riverside County, contact Jim Bartel, Field Supervisor, Carlsbad Fish and Wildlife Office, U.S. Fish and Wildlife Service, 6010 Hidden Valley Road, Suite 101, Carlsbad, CA 92011; telephone 760-431-9440; facsimile 760-431-9624.

For information about the revised designation in northern Mendocino County, contact Randy Brown, Acting Field Supervisor, Arcata Fish and Wildlife Office, U.S. Fish and Wildlife Service, 1655 Heindon Road, Arcata, CA 95521; telephone 707-822-7201; facsimile 707-822-8411.

SUPPLEMENTARY INFORMATION:

Background

It is our intent to discuss only those topics directly relevant to the designation of critical habitat for the California red-legged frog in this final rule. For more information on the California red-legged frog and threats affecting the species, refer to the final listing rule published in the Federal Register on May 23, 1996 (61 FR 25813) and the recovery plan for the species (Service 2002, pp. 1-173).

Change in Nomenclature

When we made the draft economic analysis of the proposed revised critical habitat for the California red-legged frog available on April 28, 2009 (74 FR 19184), we proposed a nomenclature change to the California red-legged frog from Rana aurora draytonii to Rana draytonii and for that change to be published in the Code of Federal Regulations (CFR) when this rule became final. In this rule, we make that change and will now refer to the California red-legged frog by its accepted taxonomic name of Rana draytonii.

Species Description

The California red-legged frog is the largest native frog in the western United States. It is endemic (native and restricted) to California and Baja California, Mexico, at elevations ranging from sea level to approximately 5,000 feet (ft) (1,500 meters (m)). Records of the California red-legged frog are known from Riverside County to Mendocino County along the Coast Range; from Calaveras County to Butte County in the Sierra Nevada; and in Baja California, Mexico (Grismer 2002, p. 79; Fidenci 2004, pp. 27-29; Smith and Krofta 2005, pp. 4, 6; California Natural Diversity Database 2009 (CNDDB)). The California red-legged frog gains its name from the typically red or pink color of its posterior abdomen and hind legs. For a detailed description of the species, see the recovery plan for the California red-legged frog (Service 2002, pp. 1-173), references identified in the recovery plan, and information in previous Federal Register notices (April 13, 2006, 71 FR 19244; March 13, 2001, 66 FR 14626; May 23, 1996, 61 FR 25813).

Life History

During the breeding season, which typically runs from November through April, males call to females from the margins of ponds and slow streams (Jennings et al. 1992, p. 3). Mating most commonly occurs in February or March, but can vary depending on seasonal climatic patterns. The female lays a jellylike mass of 2,000 to 5,000 reddish brown eggs in the water attached to emergent vegetation, twigs, or other structure. The resulting tadpoles, which likely feed on algae (Dickman, 1968, pp. 1189-1190), typically require about 3 weeks to hatch, and another 11 to 20 weeks to metamorphose into juvenile frogs. Metamorphosis, therefore, typically occurs from July to September, although some tadpoles have been observed to delay metamorphosis until the following March or April (Bobzien et al. 2000, p. 13; Fellers et al. 2001, pp. 156-157). Adults are predominantly nocturnal, while juveniles can be active at any time of day (Hayes and Tennant 1985, p. 604).

Habitat

California red-legged frogs live in a Mediterranean climate, which brings about temporal and spatial changes in habitat quality. Almost the entire landscape, not just breeding ponds and streams, may become suitable habitat for the adults during periods of above average rainfall. Conversely, habitat that is suitable may be drastically reduced during periods of prolonged drought. Due to this variability, population sizes can vary widely from year to year. During years when aquatic habitat (ponds and streams) is abundant as a result of adequate rainfall, the California red-legged frog can produce large numbers of dispersing young, resulting in an increase in the number of occupied sites. In contrast, the California red-legged frog may temporarily disappear from an area during periods of extended drought. Therefore, it is essential to provide for sites that can be recolonized by dispersing individuals (Semlitsch 2000, pp. 623, 624).

Habitats used by the California red-legged frog typically change in extent and suitability in response to the dynamic nature of floodplain and fluvial processes (i.e., variable natural water flow and sedimentation regimes that create, modify, and eliminate deep pools, backwater areas, ponds, marshes, and other aquatic habitats). Rangewide, and even within local populations, the California red-legged frog uses a variety of areas, including aquatic, riparian, and upland habitats. They may complete their entire life cycle in a particular habitat (e.g., a pond is suitable for all life stages), or they may seek multiple habitat types depending on climatic conditions or distance between and availability of wetland and other suitably moist environments.

Despite the California red-legged frog's ability to utilize multiple habitat types, there are certain habitat features they require. Most important is a breeding pond, or slow-flowing stream reach or deep pool within a stream with vegetation or other material to which egg masses may be attached. These areas must hold water long enough for tadpoles to complete their metamorphosis into juvenile frogs that can survive outside of water. Bobzien et al. (2000, p. 12) observed juveniles inhabiting a wide variety of habitats while adults primarily inhabited deep pools. They postulated that juveniles might segregate themselves away from adults to escape predation and competition (see Dispersal section below).

In northern California, many California red-legged frog populations occupy artificially created wetland environments. Historically, as natural wetlands and streams were converted for agriculture, flood control, and urban development, the California red-legged frog colonized small artificial impoundments, or stock ponds, created by cattle ranchers for the purpose of providing water for their cattle. Our understanding of the role of stock ponds in the conservation of the California red-legged frog has evolved since listing. Without these stock ponds, the range of the California red-legged frog would be more limited in this region.

Riparian and upland habitats adjacent to aquatic areas used by the California red-legged frog are essential in maintaining frog populations, and for protecting the appropriate hydrological, physical, and water quality conditions of the aquatic areas. Riparian habitat includes vegetation that grows along banks and in the floodplains of streams and adjacent to ponds and that is dependent on the bordering water source for survival. Adjacent uplands are marked by vegetation that is not dependent on a nearby supply of surface water. The California red-legged frog uses both riparian and upland habitats for foraging, shelter, cover, and non-dispersal movement (Service 2002, pp. 14-15; Bulger et al. 2003, p. 87; Fellers and Kleeman 2007, p. 276). Bulger et al. (2003, pp. 85-95) studied the California red-legged frog's terrestrial activity in coastal forest and grassland habitats and recommends at least a 328-ft (100-m) buffer zone for protection of adjacent aquatic and upland habitat, as well as seasonal restrictions for activities within this zone. In a recent study also specific to the California red-legged frog, Fellers and Kleeman (2007, pp. 278-280) recommend establishing zones around breeding habitat, non-breeding habitat, and migration corridors that are sufficient to protect function of the amphibian habitat. However, Fellers and Kleeman (2007, p. 279) discourage setting specific distances for these zones due to differences in biological or site-specific requirements; they further state that any distances set for avoidance of upland habitat should be made on a case-by-case basis, taking into account the need to protect breeding and non-breeding habitat as well as any migration corridors. Without protecting and maintaining the upland areas surrounding breeding and non-breeding habitats the quality of the water feature may deteriorate to such an extent as to not support the California red-legged frog.

California red-legged frogs will disperse from their breeding habitat to forage and seek suitable upland and riparian habitat if aquatic habitat is not available. Tatarian (2004, p. 33) found the California red-legged frog inhabiting upland areas for 50 days at a distance of 302 ft (92 m) from aquatic habitat; Bulger et al. (2003, p. 87-89) found that the species is capable of inhabiting upland habitats within 200 ft (60 m) of aquatic habitat for continuous durations exceeding 20 days; and Rathbun et al. (1993, p. 15) observed a California red-legged frog inhabiting upland riparian habitat at distances of up to 85 ft (26 m) for 65 days. These upland habitat areas used by the California red-legged frog include structure that provides shade, moisture, and cooler temperatures. This structure may be natural, such as the spaces under boulders or rocks and organic debris (e.g., downed trees or logs), or manmade, such as certain industrial debris and agricultural features (e.g., drains, watering troughs, abandoned sheds, or stacks of hay or other vegetation). The California red-legged frog will also use small mammal burrows and moist leaf litter as refugia (areas whose climate remains habitable when that of the surrounding areas has changed) (Rathbun et al. 1993, p. 15; Jennings and Hayes 1994, p. 64; Fellers and Kleeman 2005, p. 12).

Metapopulation Dynamics

The life history and ecology of the California red-legged frog make it likely that this species has a metapopulation structure (Hanski and Gilpin 1991, pp. 3-16). A metapopulation is a set of breeding sites within an area, where typical migration from one local occurrence or breeding site to other areas containing suitable habitat is possible, but not routine. Within this rule we refer to these local occurrences as populations. The movement (i.e., dispersal) of frogs between areas containing suitable upland and aquatic habitats is restricted due to inhospitable conditions around and between areas of suitable habitats. Because many of the areas of suitable habitats may be small and support small numbers of frogs, local extinction of these small populations may be common. The persistence of a metapopulation depends on the combined dynamics of these local extinctions and the subsequent recolonization of these areas through dispersal (Hanski and Gilpin 1991, pp. 3-16; Hanski 1994, pp. 151-162). Maintaining corridors for dispersal between breeding and non-breeding habitat and between populations is essential in preserving the population structure of the California red-legged frog.

Dispersal

Adult California red-legged frogs may disperse from breeding sites at any time of year depending on habitat availability and the environmental conditions of the aquatic habitat. In addition, a few frogs may disperse long distances in search of additional breeding or non-breeding habitat. Dispersing adult California red-legged frogs in northern Santa Cruz County traveled distances of 0.25 mile (mi) (0.4 kilometers (km)) to more than 2.0 mi (3.2 km) without apparent regard to topography, vegetation type, or riparian corridors (Bulger et al. 2003, p. 90). California red-legged frogs have also been tracked using radio telemetry in East Las Virgenes Creek, Ventura County, which is characterized by a well-defined creek and riparian zone with permanent deep pools and highly variable rainfall (Smith 2005, p. 1). The maximum distance moved in this study was 48 ft (15 m) (Smith 2005, p. 1). In contrast, California red-legged frog movements in Santa Cruz County in similar habitat were found to be substantially less, with typical movements of 9 to 16 ft (3 to 5 m) from the water's edge. In a study in Marin County, 123 California red-legged frogs were tracked using radio telemetry between 1997 and 2003 at 8 different sites within the Point Reyes National Seashore and Golden Gate National Recreation Area (Fellers and Kleeman 2007, p. 277). The habitat at the sites included permanent ponds, seasonal ponds, permanent marsh, and a seasonal seep. The majority of movement was small scale (less than 98 ft (30 m)) and considered non-dispersal. Movements of greater than 98 ft (30 m) occurred mostly during winter rain events; however, some movements did occur when the ponded habitat was almost dry (Fellers and Kleeman 2007, p. 279). The majority of California red-legged frogs dispersed less than 1,640 ft (500 m) away from breeding habitat, and the maximum dispersal distance recorded was 1.7 mi (2.8 km) (Fellers and Kleeman 2007, pp. 279-280). The study concluded that most California red-legged frogs move away from breeding sites, but only a few disperse farther than the nearest non-breeding habitat, and that the distance moved is highly dependent on site conditions and local landscapes (Fellers and Kleeman 2007, p. 284). The study also concluded that, by establishing a generic dispersal distance for the species, we may select for sedentary frogs and thus lose those individuals that disperse farthest and reach other distant breeding sites. This selection may thereby decrease genetic exchange and diversity (Fellers and Kleeman 2007, p. 285). As a result the authors recommend that the average dispersal or migration distances identified in the study not be used; site conditions should dictate the area needed for the species.

Newly metamorphosed juveniles tend to disperse short distances initially from July through September, and then move farther away from the breeding habitat during warm rain events (Jennings 2000, p. 1). Additionally, and for reasons that are unclear, juveniles tend to disperse away from aquatic habitat occupied by adults. Juvenile dispersal is essential for recolonizing temporarily extirpated habitat and for preventing genetic isolation because juveniles disperse in more directions, and for longer distances, than do migrating adults (Wright 1999, p. 2; Bulger et al. 2003, p. 94). Dispersal habitat for juveniles can be any habitat that provides sheltering vegetation and scattered wetlands or streams, including forested areas, nonnative grasslands, croplands, and pastures. It is unlikely that juveniles disperse through urbanized or suburban areas, suburban developments, or areas separated from breeding habitat by impassible barriers. Juveniles dispersing along riparian corridors may have higher survivorship, as sheltering vegetation and suitable aquatic habitat are both more common in such corridors (Jennings 2000, p. 1). Finally, juvenile California red-legged frogs appear to have less strict requirements for aquatic habitat than adults, and tend to segregate away from adults in water bodies that are shallower or faster moving than those typically used for breeding (Hayes and Jennings 1988, p. 147; Bobzien 2000, p. 1; M. Jennings 2000, p. 1).

Dispersal Barriers

Impassible barriers that impact dispersal of the California red-legged frog include wide or fast-flowing rivers and streams, lakes greater than 50 ac (20 ha), and heavily traveled roads (such as highways or freeways) without underpasses or culverts (Reh and Seitz 1990, pp. 247, 248; Fahrig et al. 1995, pp. 179-181). Passable roadways that are heavily used by vehicles may also result in a high rate of mortality for California red-legged frog adults and juveniles, and other amphibians, thereby limiting dispersal capabilities (Glista et al. 2008, pp. 81-82).

The long-term probability of the survival and recovery of the California red-legged frog is dependent upon the protection of existing breeding habitat and associated uplands (Fellers and Kleeman 2005, pp. 1, 17-18), the movement of individuals between aquatic habitat patches, and the ability to recolonize newly created or vacated habitats. Recolonization of vacant habitat patches, which is vital to maintaining the California red-legged frog populations and the recovery of this species, is dependent upon landscape characteristics, including appropriate distances between suitable breeding and non-breeding aquatic habitat, and limited fragmentation of interconnecting habitat (Vos and Chardon 1998, pp. 44, 53-56). For this rule, we based our designation of critical habitat on areas of high-quality habitat that we determined provide for persistence of California red-legged frog populations and allow for dispersal within, and in most cases between, populations. We did not designate areas subject to anthropogenic activities (e.g., urban development) or those that were fragmented or unlikely to be restorable (poor quality habitat) unless it was determined that these areas were unique for the species (for more information, see the Criteria Used to Identify Critical Habitat section below).

Previous Federal Action

On July 20, 2007, we announced that we would review the April 13, 2006, final rule (published at 71 FR 19243) designating critical habitat for the California red-legged frog under the Act (16 U.S.C. 1531 et seq.)(Service 2007a, pp. 1-2), after questions were raised about the integrity of scientific information used and whether the decision made was consistent with the appropriate legal standards. Based on our review of the 2006 final critical habitat designation, we determined it was necessary to revise the critical habitat; however, no specific dates for completing such revision were established. Subsequently, the Center for Biological Diversity filed a complaint in the U.S. District Court for the Northern District of California on December 12, 2007, challenging our designation of critical habitat for the California red-legged frog (Center for Biological Diversity v. Kempthorne, et al., Case No. C-07-6404-WHA). The court entered a consent decree on April 2, 2008, requiring a proposed revised critical habitat rule to be submitted to the Federal Register by August 29, 2008, and a final revised critical habitat designation to be submitted to the Federal Register by August 31, 2009. On September 16, 2008, we published in the Federal Register a proposed revised rule to designate critical habitat for the California red-legged frog (73 FR 53491).

We published a document in the Federal Register on April 28, 2009 (74 FR 19184): (1) Reopening the public comment period on the revised proposed rule to designate critical habitat for the California red-legged frog (73 FR 53491); (2) announcing the availability of a draft economic analysis (DEA) of the proposed rule to revise critical habitat; (3) proposing boundary changes to Unit MEN-1 to better reflect the occupied habitat for the species; and (4) proposing a change to the taxonomic nomenclature for the species. The public comment period closed on May 28, 2009.

The comments received on our DEA (IEc 2009a) during the April 28 to May 28, 2009, public comment period led us to revise the DEA (IEc 2009b). To allow public comment on the revised DEA, an extension to the publication deadline of the final determination of critical habitat was required. On August 31, 2009, a consent decree was signed by the court extending the deadline for the final revised designation of critical habitat for the California red-legged frog to March 1, 2010. On October 8, 2009, we published a document in the Federal Register (74 FR 51825) announcing the availability of the revised DEA. We reopened the comment period for an additional 30 days to allow all interested parties an opportunity to comment simultaneously on the proposed revision of critical habitat and the associated revised DEA. This rule represents our final revised designation of critical habitat in compliance with the court order.

Summary of Comments and Recommendations

We requested written comments from the public and peer reviewers during three comment periods on the proposed rule to revise critical habitat for the California red-legged frog. The first comment period opened September 16, 2008 (73 FR 53491), and closed November 17, 2008. The second comment period opened April 28, 2009 (74 FR 19184), and closed May 28, 2009. The third comment period opened October 8, 2009 (74 FR 51825), and closed November 9, 2009. During these three comment periods, we contacted appropriate Federal, State, and local agencies; scientific organizations; and other interested parties and invited them to comment on the proposed rule to revise critical habitat for the California red-legged frog and the associated DEA. We did not receive any requests for public hearings during these comment periods. We did, however, receive a request to attend a public meeting in San Andreas, California held on October 30, 2008. During the public meeting, we provided information and answered questions regarding the designation and exclusion processes.

During the three comment periods we received a total of 113 public comments directly addressing the proposed revision of critical habitat. In addition we received four responses from peer reviewers we solicited to comment on the proposed revised designation. During the first comment period we received 80 comments directly addressing the proposed revision of critical habitat for the California red-legged frog. During the second comment period, we received 19 new comments directly addressing the proposed revision of critical habitat for the California red-legged frog and the DEA; and during the third comment period we received an additional 12 comments addressing the proposed revision of critical habitat for the California red-legged frog and the DEA.

Peer Review

In accordance with our policy published in the Federal Register on July 1, 1994 (59 FR 34270), we solicited expert opinions from five knowledgeable individuals with scientific expertise that included familiarity with the California red-legged frog, the geographic region in which the species occurs, and conservation biology principles. We received responses from four of the peer reviewers.

We reviewed all comments received from the peer reviewers and the public for substantive issues and new information regarding critical habitat for the California red-legged frog. These comments are addressed below and incorporated into the final rule as appropriate.

Peer Review Comments

Comment (1): One peer reviewer stated that the Service used a reasonable approach in determining the critical habitat boundaries for the California red-legged frog by looking at the core recovery areas as identified in the 2002 recovery plan. The reviewer also said the Service appropriately evaluated the metapopulation dynamics, unoccupied areas, dispersal, and connectivity of habitat for the California red-legged frog. The peer reviewer concurred with our proposal to raise the California red-legged frog to full species level. However, the peer reviewer went on to say that the current designation represents only a relatively small proportion of the historic geographic range of the species and that it is unknown if the California red-legged frog can survive long-term in such a reduced range.

Response: In this current revised designation, we acknowledge that we did not include all areas where the California red-legged frog occurs and that areas outside the designation either: (1) Do not contain essential habitat features, or (2) are not essential to the conservation of the species. We believe it is important, however, to note that critical habitat designation is a different process than development of a long-term management plan such as a recovery plan. A critical habitat designation is a specific regulatory action that defines particular areas as critical habitat in accordance with the statutory definition. Our revised methodology incorporates new information to best identify areas that meet the definition of critical habitat. As a result, the final revised critical habitat designation does not include, for example, all areas that the 2002 recovery plan identified as necessary for the conservation of the California red-legged frog. Therefore, we believe this final revised critical habitat designation more precisely maps the essential physical and biological features that occur within the geographical area occupied by the California red-legged frog at the time of listing, and includes those areas containing the most suitable habitat for use by the frog.

Comment (2): One peer reviewer stated that, although the review of dispersal capabilities of the frog were well discussed, it should be noted that the studies of dispersal capabilities rely on relatively few individuals and likely miss the relatively rare long-range distance dispersers. The peer reviewer also mentioned that the Service did not discuss whether dispersal events actually result in geneflow between metapopulations.

Response: We believe we have reviewed the most recent scientific information on frog dispersal capabilities of the California red-legged frog and have used this information appropriately in our designation of critical habitat. We acknowledge that the California red-legged frog may disperse beyond the dispersal distance of 1 mi (1.6 km) identified in the designation (Bulger et al. 1999, p. 11; Fellers and Kleeman 2007, pp. 279-280). However, as stated by the peer reviewer, these long distance movements are rare and represent the exception to dispersal events for the species. In addition, the designation is not based solely on the 1-mi (1.6-km) dispersal distance but is based on habitat features and watershed boundaries that we have determined are connected to those areas where the California red-legged frog occurs. We have, therefore, included areas in this designation beyond the strict 1-mi (1.6-km) distance. We are currently unaware of any completed genetic studies regarding the genetic exchange between frog populations and at what distance this genetic exchange is considered to be limited and not important for the species. Our methodology to include the habitat areas surrounding known populations, as well as to connect adjacent populations together into discernable units, most likely allows for such genetic exchange.

Comment (3): One peer reviewer applauded our decision to reevaluate the 2006 designation, but stated that the Service should incorporate the 2001 designation into our analysis and remove areas identified in the 2001 designation only if the Service has justifiable scientific information or if it can be shown that the 2001 designation was inaccurate. The same peer reviewer mentioned that the Service should review the units within Sonoma County to ensure that they include all uplands within 1 mi (1.6 km). The peer reviewer also stated that the entire Sonoma Mountain area from Annadel State Park to Sears Point/Highway 37 area should be designated as this area has more than 15 records of the California red-legged frog, most of which are breeding sites. The peer reviewer went on to mention that Unit SON-3 should be connected to Unit MRN-2 in Marin County to provide connectivity between units based on habitat availability and recent documentation of new California red-legged frog records within the area.

Response: We agree with the peer reviewer that habitat connectivity is important to allow for movement between California red-legged frog populations and to maintain genetic variation. We are aware of the extensive amount of scientific evidence illustrating the importance of habitat connectivity, and we considered this information during the development of this critical habitat designation. We acknowledge that areas potentially providing connectivity between units were included in the 2001 critical habitat designation; however, based on our reevaluation of the data available at the time of the 2001 designation, data obtained since, and our revised methodology for delineating critical habitat, we find that those areas do not meet the definition of critical habitat because the available data do not identify specific areas between these units that contain the physical or biological features essential to the conservation of the California red-legged frog. The 2001 designation was based on large-scale watershed boundaries and not the local watershed boundaries in this designation. We believe the use of the local watershed boundaries is more appropriate based on dispersal capabilities of the species and the information known on occupancy. The area surrounding the Sonoma and Marin County units includes developed areas, dairies, and ranchland. We evaluated the areas within the 1-mi (1.6-km) distance from the Sonoma and Marin County occurrence records and potential breeding habitats and determined that for the most part these areas, although likely used by the frog, do not meet our criteria established for this designation. We focused our designation to encompass areas that support viable (self-sustaining or increasing) populations, areas that represent portions of the geographic extent of the species within the core areas identified in the 2002 recovery plan, and any other unique habitats. We did not include all the areas occupied by the California red-legged frog. For more information on our criteria for designating critical habitat for the California red-legged frog see the Criteria Used To Identify Critical Habitat section below.

Comment (4): One peer reviewer commented on Unit MEN-1 (as identified in the September 2008 proposed revised designation), saying that it includes northern red-legged frogs (Rana aurora) or hybrids between the northern red-legged frog and the California red-legged frog. The peer reviewer stated that hybrids between the two species occur as far south as Manchester State Beach, but that the exact zone of hybridization and its importance to either species is unknown.

Response: As stated in our April 28, 2009, Federal Register publication announcing the availability of the draft economic analysis (74 FR 19184), we revised Unit MEN-1 to better reflect new species occurrence data within the area and the habitat surrounding those records. On further review of the unit, we further adjusted the boundaries to include only known California red-legged frog records and not hybrid northern red-legged frog records. The unit currently includes the habitat from Manchester State Beach south to Riverside Road. Unit MEN-1 represents the northern extent of the California red-legged frog within the North Coast of California and likely represents a unique genetic component of the species.

Comment (5): One peer reviewer concluded that it is unclear whether the Service considered climate change in the current designation and what effects climate change may have on the California red-legged frog's habitat in the future.

Response: We acknowledge that climate change may alter the suitability of the California red-legged frog's habitat in the future. However, we are required to designate critical habitat based upon the best available scientific data at the time that we finalize the designation. For species like the California red-legged frog, we conclude relatively higher elevation and moister habitat is likely to become increasingly important in the face of climate changes. The designated critical habitat units include areas distributed across the species range from southern California to Butte and Mendocino County in northern California and vary from coastal sea-level locations to interior Coast Range areas and higher elevation locations in the Sierra Nevada Mountains. The variability of environmental conditions at locations across the range of the species would likely become more important to the extent that California red-legged frog distribution and habitat may shift upward in elevation and northward in distribution as temperatures increase and precipitation becomes more variable due to climate change. However, at this point in time, reliable projections of future climatic conditions and how those conditions may affect the California red-legged frog's distribution and habitat in California are not available. Consequently, we find it appropriate to designate critical habitat for the California red-legged frog in areas occupied by the species that currently contain the physical and biological features or the areas essential to the conservation of the California red-legged. Revisions to the critical habitat designation may be necessary in the future to accommodate shifts in the occupied range of the California red-legged frog.

Comments from Department of Defense

Comment (6): The Department of The Army, the National Guard Bureau, and the California Army National Guard commented that we should exclude Camp San Luis Obispo (CSLO) from critical habitat designation for the California red-legged frog under section 4(b)(2) of the Act, for reasons including national security and economic impacts.

Response: The Secretary has determined to exercise his discretion under section 4(b)(2) of the Act to exclude lands at CSLO from this final designation due to potential impacts on national security (see Application of Section 4(b)(2) - Impacts to National Security section).

Comment (7): The Department of the Air Force commented that we should exclude Vandenberg Air Force Base (VAFB) from critical habitat designation for the California red-legged frog under section 4(b)(2) of the Act, for reasons including impacts on national security, and under section 4(a)(3)(B)(i) of the Act, for operating under a draft Integrated Natural Resources Management Plan (INRMP).

Response: The Secretary has determined to exercise his discretion under section 4(b)(2) of the Act to exclude lands at VAFB from this final designation due to potential impacts on national security (see Application of Section 4(b)(2) - Impacts to National Security section).

Public Comments

Comments Related to Site-Specific Areas or Issues

Comment (8): Four commenters opposed designation of parts or all of proposed Unit CAL-1 because they believe that the majority of the area constitutes poor habitat for the California red-legged frog. Six commenters stated that most of the area is too dry for the California red-legged frog to occur, and that most ponds and streams are dry for 4 to 5 months of the year. Two commenters noted that perennial ponds and streams support populations of predatory fish and bullfrogs and would not support California red-legged frogs.

Response: We consider Unit CAL-1 to contain high-quality habitat because it contains the physical and biological features essential to the conservation of the species and has not been subject to fragmentation due to development. The habitat within the unit includes areas of aquatic breeding habitat that hold water for a minimum of 20 weeks in all but the driest years, areas of non-breeding aquatic habitat, and areas of upland and dispersal habitat within 1 mi (1.6 km) of aquatic habitat. The California red-legged frog is adapted to dry environments. The drying of watercourses and ponds is beneficial in that it precludes the use of these habitats by bullfrogs and predatory fish. While water bodies free of bullfrogs and predatory fish would be optimal, the California red-legged frog can persist in the presence of both of these predators under specific conditions such as occur within Unit CAL-1. In aquatic systems subject to seasonal drying, it may be difficult for bullfrogs to become established. As discussed in the background section of the proposed revised critical habitat rule, Doubledee et al. (2003, pp. 424-438) studied the relationship between bullfrogs and California red-legged frog persistence. That study showed that bullfrogs and California red-legged frogs can coexist and persist under certain natural and managed regimes. Additionally, periodic drying may prevent nonnative warm water fish from becoming established as well. Alvarez et al. (2003, pp. 9-12) presented evidence that nonnative predatory fish can have a significant effect on juvenile California red-legged frog survival in ponds where they co-occur. Of 90 ponds surveyed in the Los Vaqueros watershed in Contra Costa County, 7 were found to have nonnative fish. Over 3 years, one or more ponds with nonnative fish were repeatedly drained, and all fish were exhaustively removed. Compared to surveys conducted before fish removal, surveys conducted after fish removal and pond recharge showed juvenile and adult California red-legged frog abundance increased dramatically. This suggests a strong link between nonnative fish presence and decreased California red-legged frog survival. The California red-legged frog is adapted to the drying of its aquatic habitat. Moreover, this drying assists the frog by eliminating potential predators and competition for resources.

Comment (9): Nine commenters stated that the data on the California red-legged frog population in Unit CAL-1 are not sufficient to justify critical habitat designation throughout the unit. Five of these claimed there is no information to indicate the population still exists, while others noted they had never seen such frogs within the unit despite long residence and experience with catching bullfrogs in the area. One commenter questioned the validity of California red-legged frog occurrence as being natural and suggested that the California red-legged frog was potentially introduced to the area. One commenter asked why the unit extends 2.2 mi (3.5 km) from the frog population despite our PCEs, which restrict the extent of upland and dispersal habitat. Another commenter specifically noted the importance of the California red-legged frog population at Unit CAL-1 on the grounds that it is one of only six remaining in the Sierra foothills.

Response: We consider this population to be important to the conservation of the California red-legged frog because it is one of six remaining populations in the Sierra Nevada foothills, which is a historical portion of the species' range (Service 2002, p. 5). Such peripheral populations may also have unusual genetic characteristics that could prove useful in maintaining the genetic variability of the species (Gilpin and Soule 1986, p. 32). Species that are able to maintain their genetic variability can more easily adapt to environmental changes and therefore be less prone to extirpation or extinction. The California Natural Diversity Database (2009) indicates the California red-legged frog population was seen relatively recently, and we have no evidence to suggest it is no longer extant. Information available to the Service confirms the species' presence as recently as October 2008. We consider repeated and comprehensive surveys by trained personnel to be necessary to conclude a population has been extirpated. Based on the information available on the sighting and circumstances surrounding the discovery of California red-legged frogs, we have no reason to question the validity of the record as being a natural occurrence. Also, regardless of whether the population of California red-legged frogs was introduced to the area, it is still considered a listed species under the Act and still receives the protections of a listed entity.

The size of Unit CAL-1 reflects our methodology and criteria for mapping the critical habitat units. We based the proposed boundaries of the unit on the local watershed boundaries where California red-legged frogs have been sighted. However, in response to public comments and site visits by Service staff, we revised the boundaries of the unit to better reflect the available habitat within the area and the locations used by the California red-legged frog. As a result, we revised the extent of the unit and removed those areas that we determined do not contain the physical and biological features essential for conservation of the California red-legged frog.

Comment (10): Two commenters noted that Unit CAL-1 is outside the core recovery area identified by the recovery plan (Service 2002, p. 132). One additional commenter asked if surveys had established local salinity or temperature levels, or if a habitat suitability index had been established for the area.

Response: We recognize this designation is different than what is outlined as essential habitat in the 2002 recovery plan (which largely adopted the boundary delineated in the 2001 critical habitat designation (66 FR 14625; March 13, 2001)). While we believe the 2001 designation and the 2002 recovery plan are important for determining the extent of habitat use by the California red-legged frog, we have significantly more data available today than when we finalized 2001 critical habitat designation and the 2002 Recovery Plan. We have utilized the currently available data to more precisely identify areas meeting the definition of critical habitat, in particular, areas related to connectivity. We include such areas in this designation where the data support the determination that such areas contain the physical and biological features essential to the conservation of the species. We believe it is important to note that critical habitat designation is a different process than development of a recovery plan. A critical habitat designation is a specific regulatory action that defines specific areas as critical habitat in accordance with the statutory definition. A recovery plan is a guidance document, developed in cooperation with partners, that provides a roadmap with detailed site-specific management actions to help conserve listed species and their ecosystems. The term “essential,” as used in the recovery plan, is not necessarily used in the same manner as it is used in the definition of critical habitat (section 3(5) of the Act). The recovery plan provides important information about the species and the actions that are needed to bring about its recovery, while critical habitat identifies specific areas that are essential for the species' conservation. In addition, although Unit CAL-1 is outside the core recovery area established for Calaveras County by the recovery plan, that plan was completed in 2002, and could not account for the discovery of the California red-legged frog population in 2003.

We have not conducted water quality surveys or developed habitat suitability index models for proposed critical habitat units. The extent of the designation would make these efforts impractical. We have determined that specific water salinity or other water monitoring aspects are not necessary because the California red-legged frog is recently confirmed to be occupying the area and the landowner maintains suitable habitat as a result of agreements with the Service. Based on the best scientific information available to us at this time, we believe that the area within Unit CAL-1 that we are designating as critical habitat for the California red-legged frog is appropriate and necessary.

Comment (11): Five commenters indicated we could do more for California red-legged frog conservation by pursuing conservation agreements with landowners in the vicinity of Unit CAL-1, rather than by designating the unit. Thirty-five signatories of a form letter indicated they would be less likely to participate in conservation partnership projects with us in the future if we designate this unit.

Response: Although we are aware that the establishment of partnerships with private landowners is essential to the conservation of many species including the California red-legged frog, we are not able to forego the designation of critical habitat based on the possibility of establishing conservation partnerships in the future. We must adequately weigh the benefits, pursuant to section 4(b)(2) of the Act, for conserving the California red-legged frog and its habitat from the partnerships and resulting conservation programs and plans relative to the regulatory benefits of designating the specific areas as critical habitat. Despite our exclusion of this unit in our 2006 final critical habitat designation (71 FR 19243), landowners wishing to build partnerships have not approached us despite our efforts to establish such willing partnerships with landowners. It was not until after we published our proposed revised designation on September 16, 2008 (73 FR 53491), that landowners within Unit CAL-1 contacted us regarding developing potential partnerships. On October 30, 2008, we attended a public meeting in San Andreas, California, to provide information on the proposed revised designation, and we were subsequently approached by several landowners interested in forming partnerships and working with the Service on conservation measures for the California red-legged frog on their private property. However, due to the short court-ordered timeframe of this action, we have not been able to finalize any agreements or management plans for the frog or its habitat with these landowners. We have, however, been able to meet with these landowners during site visits to discuss potential habitat restoration activities or other conservation measures for the California red-legged frog on their properties. We will continue to work with local landowners and seek new partnerships regarding the frog in the future.

Comment (12): Ten commenters, and an additional 35 signatories of a form letter, requested exclusion of Unit CAL-1 under section 4(b)(2) of the Act. They stated that the benefits of such exclusion would outweigh the benefits of designation for the following reasons:

(1) Routine grazing practices benefit the California red-legged frog, and designation would increase the liabilities on such practices;

(2) Designation would trigger review of Farm Bill conservation grant projects under section 7 of the Act, thereby decreasing the incentive to apply for such grants;

(3) Designation negatively impacts landowners but provides little benefit to the species;

(4) Much of the land in the unit is already protected by incentives under the Williamson Act to keep the land in agricultural uses;

(5) Designation could impact water deliveries to farmers and interfere with road repair, the clearing of logjams from streams, and other infrastructure maintenance;

(6) Designation would limit development and the planting of crops; and

(7) Designation would lower property values.

Response: We finalized a special rule under section 4(d) of the Act for the California red-legged frog in 2006 (71 FR 19243; April 13, 2006) that exempts routine ranching operations from the take prohibitions of the Act. We recognize livestock ranching as a dynamic process, which requires the ability to adapt to changing environmental and economic conditions. However, many of the activities essential to successful ranching are considered routine, and are undertaken at various times and places throughout the year as need dictates. Although the 4(d) special rule is not intended to provide a comprehensive list of those ranching activities considered routine, some examples include: maintenance of stock ponds; fence construction for grazing management; planting, harvest, and rotation of unirrigated forage crops; maintenance and construction of corrals, ranch buildings, and roads; discing of field sections for fire prevention management; control of noxious weeds by prescribed fire or by herbicides; placement of mineral supplements; and rodent control. The final version of the 4(d) special rule includes an expanded definition of routine ranching practices and incorporates additional activities we believe are consistent with the conservation of the California red-legged frog. These activities are those that may provide conservation benefits to the California red-legged frog. The ranching activities listed in the 2006 final critical habitat designation (71 FR 19243; April 13, 2006) are examples of practices that we understand are routine to managing an active ranching operation. Our intention is not to limit activities that may be necessary to the operation of a ranch. As a result of implementing the 4(d) special rule, we are unaware of any increased liabilities associated with ranching operations having a higher liability than those areas not dedicated to ranching.

The final economic analysis (EA) prepared for this designation calculates the impact of critical habitat on agricultural land values by measuring its effect on the likelihood and profitability of residential and commercial development. One comment stated that farm subsidies may trigger a consultation under section 7 of the Act and that these costs should be included in the final EA. This linkage is speculative, and there is no instance of a farm subsidy being used as the basis for a consultation with the Service. Further, activities including discing, plowing, irrigation, chemical application, harvesting, and others that are part of normal agricultural operations are also unlikely to trigger a section 7 consultation. Incremental costs to farming operations may result from construction of stream crossings, water diversion, and sediment and debris removal; these costs are discussed in the final economic analysis. Existing regulatory mechanisms such as the California Land Conservation Act of 1965 (commonly referred to as the Williamson Act) may afford some regulatory protection to the California red-legged frog. However, the protection afforded by these regulations does not sufficiently protect the species to such an extent that it would warrant consideration for exclusion under section 4(b)(2) of the Act. The Williamson Act is a voluntary contract between participating landowners and cities or counties to voluntarily restrict land use to agricultural or open-space uses. The term of the contracts is a minimum of 10 years, and the landowner may petition to cancel the contract. Also the conditions of the contracts vary by city or county or even landowner and would not specifically identify conservation measures for the frog. Therefore, as a result of implementing the 4(d) special rule, our review of the Williamson Act conditions, and review of the economic costs associated with Unit CAL-1, we have determined that the measures identified by the commenters do not warrant further consideration for our exclusion of the unit under section 4(b)(2) of the Act.

Comment (13): Five commenters asked us to exclude agricultural land in Marin County under section 4(b)(2) of the Act. They stated that the benefits of such exclusion would outweigh the benefits of designation for the following reasons:

(1) Routine grazing practices benefit the frog, and designation would increase the liabilities on such practices;

(2) Designation would trigger review of Farm Bill conservation grant projects under section 7 of the Act, thereby decreasing the incentive to apply for such grants;

(3) Designation negatively impacts landowners economically but provides little benefit to the species;

(4) Designation could impact water deliveries to farmers and interfere with road repair, the clearing of logjams from streams, and other infrastructure maintenance; and

(5) Designation would lower property values.

Response: See our response to Comment (12) above.

Comment (14): One commenter noted that we provided incorrect area estimates for Federal and private lands in proposed unit ELD-1. The commenter also stated that designation of private lands within the proposed unit would be inconsistent with the El Dorado County General Plan.

Response: We have revised the land ownership for Unit ELD-1 to correctly reflect the landownership within the unit. When designating critical habitat, we base our designation on the essential habitat features required by the species. When exercising our discretion to exclude areas from critical habitat under section 4(b)(2) of the Act, we must weigh the benefits of designating against the benefits of not designating critical habitat. Such exclusions are usually based on finalized management plans, habitat conservation plans, or other documents and not on local general plans unless there is a high degree of certainty that conservation measures will take place for a particular species and that those measures are more beneficial than the designation of critical habitat. We have reviewed El Dorado County's general plan and found no measures specific to the conservation of the California red-legged frog or its habitat. The County identifies numerous goals in the Conservation and Open Space Element within its general plan; however, no specific measures with respect to the conservation of the primary constituent elements for the California red-legged frog are mentioned. While we value El Dorado County's voluntary agreement in the interagency protection of Spivey Pond, based on the general plan, we have not exercised our discretion to exclude El Dorado County in its entirety from designated critical habitat. We have, however, exercised our discretion to exclude those areas managed by the Bureau of Land Management (BLM) at Spivey Pond in El Dorado County based on an interagency land use management plan (see Application of Section 4(b)(2) of the Act section below).

Comment (15): One commenter stated that we should include downstream portions of Weber Creek in proposed unit ELD-1, as that area contains habitat elements essential to the conservation of the species.

Response: We used the best scientific information available in determining those areas that contain the physical and biological features essential for the California red-legged frog and that we therefore proposed as critical habitat. During our determination process, we considered several criteria in the selection of areas that contain the features essential for the conservation of the California red-legged frog. We did not include all available habitat or all areas where frogs are located within the designation. Although the Weber Creek area may contain some primary constituent elements, we believe the arrangement and quantity of those features may not be adequate. For more information, please see the Criteria Used to Identify Critical Habitat section below.

Comment (16): One commenter asked us to remove a specific property from SOL-2 on the basis that some of it is too dry to constitute good habitat, while the rest is not within 1 mi (1.6 km) of a known occurrence, nor is it uplands connecting several occurrences. The commenter also requested exclusion from the critical habitat designation on economic grounds, arguing that designation would prevent conversion of over 900 ac (364 ha) of land suitable for winegrowing, resulting in a cost of $3.5 million in gross revenue. Another commenter stated that we appropriately designated land within Units SOL-1, SOL-2, and SOL-3 in that designation of this land will assist in conserving the California red-legged frog and its habitat. The commenter suggested that additional areas adjacent to Unit SOL-1 be part of the designation including areas along Highway 680 and adjacent to Suisun Marsh in Solano County. The commenter also stated that the Service should ensure that “these critical habitat designations not be overridden by presumed ‘public' benefits” for other uses such as wind energy or electrical transmission lines.

Response: We based this final revised critical habitat designation on California red-legged frog occurrence records, habitat surrounding those localities, and local watershed boundaries. The occurrence records within Unit SOL-2 are associated with the drainages in the Jameson Canyon area. Our determination of the unit boundaries focused on incorporating not only the occurrence records but also any adjacent habitat up to the local watershed boundary as long as we could determine that the habitat within the watershed was reasonably connected. In some cases where the records were isolated and habitat not extensive, we used the 1-mi (1.6-km) dispersal distance to determine the extent of the designation. In other cases where the habitat was similar or included adjacent water courses within the dispersal distance of the California red-legged frog, we looked at the habitat and watershed boundaries to guide our designation (see Criteria Used To Identify Critical Habitat section below). In regards to the areas adjacent to Unit SOL-1 along Highway 680, we believe we have properly designated the specific areas where those physical or biological features essential to the conservation of the species are found. Extending the unit to these adjacent areas would require, as the commenter points out, the species to cross under the multilane highway through a culvert. Our review of the use of the area by the California red-legged frog shows the species in upland grassland habitats with no records into the Suisun Marsh area. Although the species may be able to access and use the Suisun Marsh area, we believe the species is more likely to use the upland grassland habitats and not the brackish marsh habitats associated with the Suisun Marsh. As a result of our examining the available habitat within the area and use of our mapping criteria, we believe we have used the best scientific information available on determining the critical habitat boundaries including those for Units SOL-1 and SOL-2.

The final economic analysis prepared for this designation calculates potential impacts to agricultural crop farming activities. According to the final economic analysis, the relative incremental costs associated with the designation within Unit SOL-2 is less than 1 percent of the total incremental costs of the designation and only 3 percent of the total incremental costs associated with agricultural crop farming activities. Based on these results, we do not consider the estimated costs associated with the designation of critical habitat within Unit SOL-2 to be disproportionate and have not exercised our discretion to exclude any area within Unit SOL-2 under section 4(b)(2) of the Act. See “Exclusions Under Section 4(b)(2) of the Act - Economic Exclusions” section below for more information regarding exclusions.

Comment (17): The San Francisco Public Utilities Commission (Commission) wrote in support of the two units proposed on portions of its property. Those units are SNM-1 and ALA-2 in San Mateo and Alameda Counties. The commenter added that the Commission has enacted additional protections for the frog, and that it is also preparing habitat conservation plans (HCPs) with the Service to protect endangered and threatened species and enhance their habitats within those areas.

Response: We appreciate the support and look forward to working with the commenter in the future on continued conservation efforts for the California red-legged frog. We do not expect the HCPs to be completed by the time this designation is made effective (see the DATES section).

Comment (18): Three commenters stated that they were not properly notified of the proposed rule, despite being landowners in designated areas or having submitted comments in the past.

Response: We published the proposed critical habitat designation in the Federal Register on September 16, 2008 (73 FR 53491), and we accepted comments from all interested parties for 60 days, ending November 17, 2008. We then extended the public comment period for an additional 30 days (74 FR 19184; April 28, 2009). We later reopened the public comment period again for another 30 days (74 FR 51825; October 8, 2009). For each publication, the Service wrote press releases that resulted in newspaper articles throughout California and specifically noticed the proposed designation in pertinent newspapers in the range of the California red-legged frog. We held a public meeting where we discussed opportunities for the public to comment and provide input and information. Thus, although we did not specifically notify individual landowners within the designation, we believe we provided adequate opportunity for individuals to review and provide comment on the proposed revised rule. It is our practice to include on our mailing lists those individuals who have made comments in the past regarding a specific issue. We apologize for having inadvertently failed to notify certain people of the proposed action and have updated our records accordingly.

Comment (19): A commenter requested exclusion of approximately 3,000 ac (1,214 ha) of private land proposed within unit MNT-3 because there is an existing conservation easement that protects habitat in this area.

Response: Our review of the easement indicates that: (1) It primarily is intended to protect viewshed resources; (2) it covers only a portion of the area requested for exclusion; and (3) it allows a variety of uses that could adversely affect the physical and biological features essential to the California red-legged frog, including new utilities and highway improvements, clearing of vegetation for fire management, and changes in water use. We have therefore determined not to exercise our discretion to exclude these areas under section 4(b)(2) of the Act.

Comment (20): A commenter requested designation of an additional critical habitat unit encompassing the Moss Beach, Sawmill Gulch, Seal Rock Creek, Fan Shell, and Carmel Bay watersheds on the Monterey Peninsula in Monterey County.

Response: Our approach to designating critical habitat includes designating areas with a high density of California red-legged frog occurrences and avoiding developed and fragmented areas. Our review of the information provided by the commenter and information available in our files indicates that the area requested for designation is highly fragmented by recreational and residential development. The California red-legged frog has been observed in the area, with a small number of frogs observed at two localities. Although the California red-legged frogs occur in watersheds of the Monterey Peninsula, the best available information indicates these watersheds are occupied at low densities within fragmented habitat. We have therefore determined that the requested addition is not appropriate. For more information, please see the Criteria Used to Identify Critical Habitat section below.

Comment (21): One commenter supported the expansion of critical habitat to include the Little Sur River, North and South forks of La Brea Creek, the North fork and Upper North fork of Matillija Creek, Santa Paula Creek and its tributaries, and Agua Caliente Creek. The commenter indicated that these areas are important to the survival and recovery of the California red-legged frog.

Response: We contacted the commenter because we were unable to locate Agua Caliente Creek on a map. The commenter stated that the correct name was Agua Blanca Creek. In our proposed designation of revised critical habitat for the California red-legged frog, we determined that all occupied habitat did not need to be designated as revised critical habitat, nor did we believe it necessary to designate unoccupied habitat, based on our determination that enough occupied areas representing the distribution of the frog across its range had already been determined and that these areas would provide for the conservation of the species. Because we have no records of the California red-legged frog occupying the Little Sur River, North and South forks of La Brea Creek, the North Fork and Upper North Fork of Matillija Creek, Santa Paula Creek and its tributaries, or Agua Blanca Creek, we consider these areas unoccupied and have not included them in this final rule. For more information on our criteria for designating critical habitat, please see the Criteria Used to Identify Critical Habitat section below.

Comment (22): One commenter supported the expansion of critical habitat to include the Cuyama River and its tributaries, Branch Creek and Alamo Creek, the tributaries feeding Lake Cachuma, a portion of Sespe Creek, Birabent Canyon, a portion of the Sisquoc River, the Arroyo Seco River and its tributaries, and San Carpoforo Creek. The commenter indicated that these areas are important to the survival and recovery of the California red-legged frog.

Response: Our designation of revised critical habitat for the California red-legged frog does not include all occupied areas. As described in the proposed rule, when determining which occupied areas are essential to the conservation of the species and meet the definition of critical habitat, we considered theories of metapopulation persistence, on-the-ground survey data, and California red-legged frog longevity. We focused on areas of high California red-legged frog abundance, areas needed to maintain connectivity between aquatic breeding habitat, and areas of unique ecological significance. We selected areas that are inhabited by source populations that are capable of maintaining their current population levels and capable of providing individuals to recruit into subpopulations found in adjacent areas. We are aware that California red-legged frogs do occur in the areas listed by the commenter; however, these areas are isolated, occupied at low densities, or otherwise not essential to the conservation of the species; therefore, we have not included them in this final designation. For more information on our criteria for designating critical habitat, please see the Criteria Used to Identify Critical Habitat section below.

Comment (23): One commenter identified the California red-legged frog as a coastal species and stated that the species was never in any inland counties until the early 1900s. The commenter concluded that the designation of critical habitat for the species outside of coastal areas is not justified.

Response: According to accepted scientific and taxonomic information on the California red-legged frog, the species' historic and current distribution includes inland counties in the Sacramento and San Joaquin Valleys as well as Sierra Nevada and Interior Coast Range counties from Riverside to Shasta County, California. According to early species distribution accounts and collections by species experts (Storer 1925; pp. 235-236), the species was present in the interior portions of California well before the 1900s. As a result of the early species' range descriptions and collections in accredited scientific facilities and currently known occurrence records for the species, we have determined that the historic and current range of the species does include interior California counties. This information justifies the designation of critical habitat within these interior areas.

Comment (24): One commenter requested not to increase the mitigation requirements for the California red-legged frog because it will harm the livelihood or restrict activities of private citizens.

Response: According to section 7(a)(2) of the Act, each Federal agency shall, in consultation with the Service, insure that any action will not result in the destruction or adverse modification of habitat of a listed species . Only activities that have a Federal nexus (i.e., that involve a Federal permit, license, or funding, or are carried out by a Federal agency) and are likely to destroy or adversely modify the area of critical habitat will be affected. If this is the case, we will work with the Federal agency and, where appropriate, applicants for Federal permits or license, or for Federal funding, to modify their projects so that those projects will not adversely affect the critical habitat. Thus, most Federal projects are likely to go forward, but some will be modified to minimize harm to critical habitat. Critical habitat does not set mitigation requirements for a species.

Comment (25): One commenter identified pesticide use and pesticide drift from agricultural use, not habitat loss, as the major threat impacting the California red-legged frog. The commenter also stated the decline in frog populations worldwide is a result of disease and climate change and that fish are not at all the cause of the species' decline. The commenter stated that the designation of critical habitat is a typical “knee-jerk” reaction to frog species' decline and does not address the problem.

Response: In our May 23, 1996, final listing determination (61 FR 25813), we determined that habitat loss and fragmentation from urban encroachment (along with other factors) constituted the dominant factor leading to the listing of the species. Since the listing, numerous studies have looked at pesticide drift as the potential cause of amphibian declines in California. According to several studies, the transport and deposition of pesticides from the agriculturally intensive Central Valley of California to the adjacent Sierra Nevada is well documented, and pesticides have been found in the bodies of Sierra frogs (Davidson et al. 2002, pp. 1589-1590; Davidson 2004, pp. 1892-1902). However, to date, no direct links have been found between pesticides and actual amphibian population declines. We are currently consulting with the Environmental Protection Agency (EPA) on the use of 66 pesticides on or near areas where the California red-legged frog occurs to determine appropriate conservation measures for the species. We disagree with the commenter that fish are not an issue in the species' decline because the introductions of nonnative warm water fish (e.g., bass, sunfish, and mosquito fish) have caused some declines in the species' distribution and abundance throughout its range (Service 1996, p. 25827). We agree with the commenter that other factors in addition to habitat loss are contributing to a world-wide decline in frog and other amphibian populations and that, in some species, disease is the major factor. However, in the case of the California red-legged frog, we continue to assert that habitat loss and fragmentation continue to be the dominant factors in preventing the recovery of the species. In response to the commenter's statement that the designation is only a reaction to current amphibian declines, we have designated critical habitat according to our implementing regulations at 50 CFR 424.12, by using the best scientific data available and defining specific areas that contain those essential physical or biological features essential to the conservation of the species and which may require special management considerations or protection. Consistent with these regulations, we have determined the areas designated as critical habitat are appropriate for conservation of the California red-legged frog.

Comment (26): One commenter: (1) Stated that the designation as proposed is essential for the proper protection of this species, and (2) emphasized the importance of maintaining buffer zones around wetland areas, and (3) agreed that the methodologies employed in the designation were a practical means for determining the extent of the critical habitat boundaries. The commenter stated that that methodologies used would assist in protecting both the aquatic features and habitat corridors between wetland features and thus allow the necessary genetic exchange between populations.

Response: In accordance with 50 CFR 424.12, we designated critical habitat on the basis of the best scientific data available, after taking into consideration the probable economic and other impacts of making such a designation. In designating critical habitat, we considered those physical and biological features that are essential to the conservation of the California red-legged frog and that may require special management considerations or protection. We are not designating buffer zones around those features we determined to be essential. An area we designate as critical habitat is not a refuge or sanctuary for the species; it serves as a reminder to Federal agencies that they must make special efforts to protect the important characteristics of the areas designated. Listed species and their habitats are protected by the Act whether or not they are in an area designated as critical habitat.

Comment (27): One commenter stated that we should exclude all areas being considered as part of the proposed Santa Clara Valley Habitat Conservation Plan (SCVHCP) under section 4(b)(2) of the Act, because the California red-legged frog is a covered species, an administrative draft has been developed and released to the public, and the exclusion would follow past Service practice in previous exclusions such as with the East Contra Costa HCP.

Response: When considering the exclusion of areas that are covered by conservation plans from critical habitat under section 4(b)(2) of the Act, we must determine whether the benefits of such exclusion outweigh the benefits of specifying such areas as critical habitat. Such exclusions are usually based on finalized management plans, HCPs, or other documents that provide a high degree of assurance that conservation measures will be implemented and effective for a particular species and its habitat, and that those measures are more beneficial than the designation of critical habitat. The current information on the SCVHCP made available to stakeholders and resource agencies consists of early administrative drafts and only portions of the entire document. The information is not intended for public review and comment and is not final documents. Because they are incomplete, the documents have not gone through section 7 intra-Service consultation regarding effects to endangered species. The Service's current position is not to consider areas for exclusion that are covered by draft conservation programs or plans. Draft documents and their proposed conservation measures are subject to change. Without a high degree of assurance that conservation measures will be implemented and effective for a particular species and its habitat, we cannot complete a meaningful analysis under section 4(b)(2) of the Act.

Comment (28): One commenter objected to the redefinition of “occupied at the time of listing” and said the redefinition was arbitrary and capricious because the Service did not articulate its rational for the change.

Response: In the previous final critical habitat designation, we interpreted the “occupied at time of listing” standard to include only those specific records mentioned in the final listing rule (61 FR 25813, May 23, 1996). The purpose of the listing rule is to identify threats to a species and determine whether or not listing the species under the Act is necessary. The final listing rule is not intended as a complete listing of all specific locations where a species occurs. The records identified in the final listing rule were not the only locations where California red-legged frogs existed but only those reported to scientific, higher education, or informational sources. Other occupied areas outside those specifically mentioned in the final listing rule existed for the frog. In this designation, we interpreted occupancy “at time of listing” based on the dates of occurrence records and life history of the California red-legged frog. For example, if an occurrence was recorded after the 1996 listing, but we could determine based on population size, demographics, and biological factors that the population was most likely present at time of listing, we considered that area to be occupied at the time of listing for this designation of revised critical habitat. When determining occupancy, we considered theories of metapopulation persistence, on-the-ground survey data, and California red-legged frog longevity. Bulger et al. (2003, pp. 85, 92) found that more than 75 percent of California red-legged frogs are resident at permanent aquatic habitats over the course of a year, thereby providing local population stability. Survey data provided to us during the development of this and previous critical habitat rules show an average persistence of 19 years for the California red-legged frog populations. Additionally, the California red-legged frog is considered long-lived, with a minimum longevity of male and female California red-legged frogs of between 8 and 10 years, respectively (Jennings et al. 1992, p. 3), which also contributes to generational and metapopulation stability. By limiting our previous designation to only those specific records identified in the listing rule and using an overly narrow definition of occupancy at the time of listing, we were not including many records which were identified before 1996, or any records present but not specifically identified in the listing rule. The process for designating critical habitat in this rule is consistent with the standards required by our implementing regulations at 50 CFR 424.12 on using the best scientific data when designating critical habitat.

Comment (29): One commenter stated that the elimination of the upward boundary for upland habitat was arbitrary and capricious in that it deferred designation of critical habitat to the consultation process under section 7 of the Act.

Response: We did identify the upland distance surrounding aquatic features within the current designation. The primary constituent element (PCE 3), as identified in the 2006 final critical habitat designation, limited the upland areas to 200 ft (60 m) from the water feature. Based on new biological information on protecting breeding and non-breeding aquatic features for the California red-legged frog and movements of the frog between breeding and non-breeding habitat (Fellers and Kleeman 2007, pp. 276-286), we have extended the upland distance surrounding the breeding and non-breeding aquatic features. In general, the upland habitat surrounding the aquatic breeding and non-breeding habitat (PCEs 1 and 2) would be limited to 1 mile (1.6 km) in most cases, depending on surrounding landscape and dispersal barriers.

Comment (30): One commenter stated that several units or portions of units be removed from the designation because they are within planned development areas as identified in County or City general plans and these areas, according to the preamble of the proposed revised critical habitat rule, should not be designated according to the methodology used in determining the critical habitat boundaries. An additional commenter stated that we should not remove areas of planned development because arbitrarily removing these areas is not a valid biological reason.

Response: We are basing this final designation of revised critical habitat on the best scientific data available, after taking into consideration the probable economic and other impacts of making such a designation in accordance with our implementing regulations at 50 CFR 424.19. As we state in the preamble of our 2008 proposed rule to revise critical habitat (73 FR 53500), our methodology and the criteria we used to determine the critical habitat boundaries were not intended to exclude all planned development as identified in city, county, or regional general plans. The methods and criteria we used to map areas adjacent to development removed areas only if (1) they do not contain sufficient PCEs to support one or more of the species' life processes, or (2) they have low-quality PCEs because either the area is highly degraded and is likely not restorable or the area is small, highly fragmented, or isolated and may provide little or no long-term conservation value. As a result, we do not believe it would be appropriate to automatically exclude planned development areas from the designation.

Comment (31): One commenter requested exclusion from the designation of critical habitat in Unit SLO-4 between the town of Pozo and the National Forest boundary south of Pozo. The commenter stated that designation of critical habitat on private land can significantly depreciate the value of the property, affecting the landowner's ability to acquire operating capital. The commenter further stated that designation of critical habitat can make habitat-enhancing projects (i.e., water troughs and delivery systems) cost-prohibitive if it is necessary to obtain permits for the projects, thereby discouraging voluntary measures to enhance habitat for California red-legged frogs. The commenter also expressed concerns with our assertion that the Salinas River, near the town of Pozo, is occupied by California-red legged frogs.

Response: Section 3(5)(A) of the Act defines critical habitat as the specific areas within the geographical area occupied by the species, at the time it is listed, on which are found those physical or biological features (I) essential to the conservation of the species and (II) which may require special management considerations or protection. Our criteria for determining features essential to the conservation of the species has been to target areas known to be occupied by the California red-legged frog at the time of listing; including those areas discovered to be occupied since the time of listing; or known to possess high-quality habitat likely to be occupied based on proximity to known occurrences, contiguous habitat, or dispersal capabilities of the California red-legged frog. We included large blocks of contiguous habitat that: (1) Provide geographic distribution across the range of the species; (2) represent the full range of habitat and environmental variability the species occupies; (3) avoid conflict with existing commercial and residential development; (4) focus on public land, where available; and (5) overlap with other critical habitat designations, where possible.

As noted in the unit description for SLO-4 (see Final Critical Habitat Designation section), this area was not known to be occupied at the time of listing but is currently occupied. Based on life history and population dynamics of the species we have determined that the area was most likely occupied at the time of listing. The occurrence records for California red-legged frogs in SLO-4 were generated from surveys conducted according to Service protocol by the U.S. Forest Service in 1999. We have reviewed these records and consider them to be our best available science. SLO-4 contains the following features that are essential for the conservation of the species: aquatic habitat for breeding and non-breeding activities (PCE 1 and PCE 2) and upland habitat for foraging, dispersal activities, and shelter (PCE 3 and PCE 4). Also, as noted in the unit description, threats that may require special management in this unit include predation by nonnative species and habitat disturbance. Therefore, based on the criteria above, we have designated SLO-4 as revised critical habitat in this rule.

We recognize that routine ranching activities may be beneficial to the California red-legged frog. In 2006, we published a special rule under the authority of section 4(d) of the Act containing the actions and prohibitions necessary to provide for the conservation of the California red-legged frog (50 CFR 17.43(d)). Under the special rule, incidental take of the California red-legged frog is not a violation of section 9 of the Act, if the incidental take results from routine ranching activities located on private or Tribal lands. We believe that this special rule will encourage landowners and ranchers operating on non-Federal land to continue their livestock-related practices that are important not only for livestock operations, but also for maintaining or enhancing habitat for the California red-legged frog.

Comment (32): One commenter opposed the designation of the Hearst Corporation's Jack Ranch property in Unit SLO-1. The commenter stated that many areas on the portion of the Jack Ranch within SLO-1 are extremely arid, would not support a California red-legged frog population, and therefore do not meet the definition of critical habitat. The commenter also argued that the Jack Ranch property does not meet the definition of critical habitat because the property does not require special management considerations or protection. The commenter stated that the Jack Ranch has been responsibly managed for over 40 years in a manner that has protected and benefited the various natural habitats on the ranch. Alternatively, the commenter argued that we should exclude the Jack Ranch property from critical habitat because the benefits of excluding the ranch outweigh the benefits of including it. The commenter asserted that as a result of the current ranch management practices in place on the Jack Ranch, the various habitats and species present on the ranch are generally flourishing and will continue to benefit if these practices are allowed to continue. The commenter argued that designating the ranch as critical habitat would create regulatory uncertainty, impose economic burdens on the landowner, and increase vulnerability to legal challenge that could threaten the area's long-term viability as a working ranch.

Response: Section 3(5)(A) of the Act defines critical habitat, in part, as the specific areas within the geographic area occupied by the species, at the time it is listed in accordance with the provisions of section 4 of the Act, on which are found only those physical and biological features (I) essential to the conservation of the species and (II) which may require special management considerations or protection. Our strategy for determining features essential to the conservation of the species was to target areas that are known to be occupied by the California red-legged frog at the time of listing; that we determined to be occupied since the time of listing; or that are known to possess high-quality habitat likely to be occupied based on proximity to known occurrences, being part of contiguous habitat, and the dispersal capabilities of the California red-legged frog. We included large blocks of contiguous habitat that:

(1) Provide geographic distribution across the range of the species;

(2) Represent the full range of habitat and environmental variability the species occupies;

(3) Avoid conflict with existing commercial and residential development;

(4) Focus on public land, where available; and

(5) Overlap with other critical habitat designations, where possible.

As noted in the unit description for SLO-1 (see “Final Critical Habitat Designation” section), this area was known to be occupied by California red-legged frogs at the time of listing, is currently occupied, and contains the following features that are essential for the conservation of the species: aquatic habitat for breeding and non-breeding activities (PCE 1 and PCE 2) and upland habitat for foraging and dispersal activities (PCE 3 and PCE 4). Also as noted in the unit description, threats that may require special management in this unit include: highway construction, which may remove upland or aquatic habitat; overgrazing of aquatic and riparian habitats; and dewatering of aquatic habitats due to water diversions. Therefore, based on the criteria above, occupancy at the time of listing, and the requirement for special management, we have designated SLO-1 as critical habitat, including a portion of the Jack Ranch property within SLO-1.

We recognize that routine ranching activities may be beneficial to the California red-legged frog. In 2006, we published a special rule under the authority of section 4(d) of the Act to provide for the conservation of the California red-legged frog (50 CFR 17.43(d)). The special rule provides that incidental take of the California red-legged frog will not be a violation of section 9 of the Act, if the incidental take results from routine ranching activities located on private or Tribal lands. We believe that this special rule will encourage landowners and ranchers operating on non-Federal land to continue their livestock-related practices that are important not only for livestock operations, but also for maintaining or enhancing habitat for the California red-legged frog.

Comment (33): One commenter was opposed to the designation of lands in Unit SLO-2 in San Luis Obispo County that are covered under the Hearst Ranch Conservation Easement (Easement) and Hearst Ranch San Simeon Conservation Easement Management Plan (Plan). The commenter asserted that California red-legged frogs occurring within the boundaries of the Easement will be protected through specific measures addressed in the Plan, and therefore, these lands either do not fall within the definition of critical habitat contained in section 3 of the Act or should be excluded under section 4(b)(2) of the Act. In addition, the commenter argued that designation of lands covered under the Easement would discourage voluntary conservation initiatives on private land.

Response: We recognize the importance of voluntary conservation measures, such as the Hearst Ranch Easement and Plan, which provide protections for California red-legged frogs and their habitat. The Secretary has determined to exercise his discretion under section 4(b)(2) of the Act to exclude from critical habitat 34,777 ac (14,074 ha) of Easement lands that occur in Unit SLO-2. See the Exclusions under Section 4(b)(2) of the Act section for additional information.

Comment (34): One commenter commended our abandonment of methods used in determining “co-extensive” costs in previous critical habitat designations including the previous final designation for the California red-legged frog (April 13, 2006, 71 FR 19244). The commenter also commended the Service for refraining from claiming in the preamble that the designation of critical habitat provides little additional protection to most listed species and for refraining from statements emphasizing primarily the “limitations” of any “benefits of designating” an area as critical habitat and using this as a basis for excluding areas from the designation. The commenter strongly urged the Service to “follow through with changes in interpretations and procedures” as found in the Federal Register notice for the proposed designation (September 16, 2008, 73 FR 53491).

The commenter also pointed out several concerns with the DEA and the proposed revised designation. The commenter stated that the DEA does not appropriately focus on or address market impacts; stated that the DEA is not transparent on whether the ancillary benefits of designating critical habitat were appropriately analyzed; and that the Service did not fairly account for the benefits and costs of designating critical habitat.

Response: We acknowledge that our past practice of including language in the preamble to critical habitat designations stating a policy position at that time was not the appropriate forum for doing so and has not been conducive for facilitating the appropriate dialogue to assist in the conservation of listed species. As stated earlier, we are revising this and certain other designations because of inappropriate influence of past Department of Interior personnel and have taken into account the information reported by the General Accounting Office on critical habitat and listing designations. Comments related to the Economic analysis are addressed below.

Comments Related to the Economic Analysis

Comment (35): One commenter requested the exclusion based on economic costs of an area in SOL-1 where a mining company plans to expand its existing aggregate quarry.

Response: As described in section 10.2 of the final economic analysis (FEA), we revised the report to include discussion of the potential economic impacts to the proposed mining project. The company states it is already working closely with Solano County and representatives of the Service to develop appropriate mitigation measures. The options under consideration are consistent with the types of project modifications considered in the FEA. Because these discussions are already underway, costs are attributed to the baseline scenario. Additional impacts resulting from the designation of critical habitat are not anticipated.

Comment (36): One commenter requested exclusion of a portion of an existing aggregate quarry overlapping the southern portion of SOL-3 because it does not contain the PCEs and out of concern that the designation may delay implementation of the ongoing reclamation process.

Response: As described in section 10.2 of the FEA, we revised the report to include a discussion of this quarry site. The company has already submitted a revised reclamation plan to Napa County, which incorporates the results of a biological assessment. In addition, the company is currently working with the County and the Service to develop mitigation measures that will minimize the impact of the reclamation operations on the California red-legged frog. Because the company is already working with the Service, costs of efforts to protect the California red-legged frog are attributed to the baseline scenario. Given that the PCEs are not present at the site, delays due to the designation of critical habitat are not anticipated.

Comment (37): Multiple commenters requested the exclusion of specific private properties in SLO-1, SLO-2, SLO-3, and SOL-4, based on the assumption that the designation will trigger land use restrictions limiting current ranching and farming practices, and in SLO-2, that the designation will create barriers to future uses of the land for development or agricultural purposes.

Response: The commenters do not provide information about the types of farming and ranching activities taking place on these properties. As described in Chapters 6 and 7 of the FEA, this analysis relies upon the California Department of Conservation's Farmland Mapping and Monitoring Program (FMMP) to identify active crop farming and grazing land within the study area as of 2006. According to the FMMP, the private properties identified by these commenters are classified primarily as grazing lands with a small portion of the properties classified as agricultural lands. For property identified as agricultural lands, these areas are included in the analysis of impacts to agricultural activities presented in Chapter 6. For areas identified in these private properties as grazing lands, as described in Chapter 7, this analysis assumes that ranchers will likely be subject to restrictions on the use of 66 named active ingredients. However, according to discussions with representatives of the Agricultural Commissioner offices in several counties, the impact of the use restrictions to date have been relatively minor, as herbicides are only used to treat noxious weeds through spot application. To further minimize the impact of the restrictions, some Agricultural Commissioner offices are also working with affected ranchers to identify alternative herbicides not subject to restrictions. Accordingly, while ranchers may be affected by California red-legged frog related herbicide use restrictions, the nature of the use of herbicides by ranchers is likely to vary depending on the specific ranching operation, and the economic impacts of any resulting herbicide use restrictions are expected to be minor.

In addition to existing ranching activities, one of the commenters notes that approximately 300 ac (121 ha) of the private property located in SLO-2 are allocated for development. The commenter does not provide specific information about plans for future residential or commercial development of the property. As described in Chapter 4 of the FEA, this analysis relies on local planning authorities for estimates of the number of housing units projected to be built by 2030 in the study area. In San Luis Obispo County, this analysis relies upon data from the San Luis Obispo Council of Governments (SLOCOG). As shown in Exhibit 4-4, in SLO-2 this analysis forecasts the development of 241 ac (98 ha). Baseline impacts associated with consideration of the California red-legged frog and its habitat are estimated in this unit to be $14.6 million to $58.0 million and incremental impacts are estimated to be $3.9 million to $16.4 million, assuming a seven percent discount rate.

Comment (38): Several commenters requested the exclusion of a private property in CAL-1 engaged in ranching activities, based on the assumption that the designation will trigger (1) land use restrictions by local agencies limiting current ranching practices, (2) devaluation of the property as a result of barriers to urban development, and (3) additional costs should the landowner chose to convert a portion of their property to agricultural uses.

Response: The private property identified by the commenter is approximately 1,094 ac (443 ha) in size, of which 247 ac (100 ha) is proposed for critical habitat designation in CAL-1. As described in Chapter 7, this analysis assumes that ranchers will likely be subject to restrictions on the use of 66 named active ingredients. However, according to discussions with representatives of the Agricultural Commissioner offices in several counties, the impact of these restrictions have been relatively minor, as herbicides are only used to treat noxious weeds through spot application. To further minimize the impact of the restrictions, some Agricultural Commissioner offices are also working with affected ranchers to identify alternative herbicides not subject to restrictions. Accordingly, while ranchers may be affected by California red-legged frog related herbicide use restrictions, the nature of the use of herbicides by ranchers is likely to vary depending on the specific ranching operation, and the economic impacts of any resulting herbicide use restrictions are expected to be minor..

The commenter does not provide specific information about plans for future residential or commercial development of the property. As described in Chapter 4 of the FEA, this analysis relies on local planning authorities for estimates of the number of housing units projected to be built by 2030 in the study area. In Calaveras County, this analysis relies upon growth projections obtained from Applied Geographic Solutions (AGS), which develops forecasts of population and households at the census tract level for the entire state of California through the year 2018. Growth through 2030 was projected linearly. As shown in Exhibit 4-4, in CAL-1 this analysis forecasts the development of 300 ac (121 ha). Baseline impacts to development activities in CAL-1 associated with the consideration of the California red-legged frog and its habitat are estimated to be $2.6 million to $7.6 million and incremental impacts are estimated to be $2.1 million to $7.0 million, assuming a seven percent discount rate.

There could also be additional property value losses if the landowner is not able to develop portions of the property for agricultural purposes. In that case, those losses may not be captured because this property was not identified as agricultural lands. Without additional information on plans for future agricultural development of this property, data are not readily available to estimate potential future losses.

Comment (39): One commenter states that the DEA fails to analyze the socio-economic and cumulative impacts related to agriculture. The commenter anticipates economic impacts stemming from the loss of agricultural acreage in production, the loss of jobs, and reductions in food and fiber production, and from negative impacts to local communities, among other losses.

Response: As described in Section 6.5 of the FEA, we revised the analysis to include the regional economic impacts expected to result from the implementation of no-pesticide use areas for 66 pesticide ingredients in the study area. The estimated baseline impact of a loss 16,519 ac (6,685 ha) from agricultural production to the study area in an average year is approximately $103.3 million and approximately 2,062 jobs. The estimated impact of an incremental loss 7,286 ac (2,949 ha) from agricultural production to the study area in an average year is approximately $23.8 million and approximately 404 jobs. Detailed information on direct, indirect, and induced impacts, including job losses, is provided in Chapter 6 of the FEA.

Comment (40): The Small Business Administration (SBA) submitted a comment recommending the Service exercise its discretion under section 4(b)(2) of the Act to exclude the agricultural acres of small business-owned farmland that the DEA expects to be taken out of agricultural production.

Response: As described in Chapter 6 and Appendix A of the FEA, we revised the Initial Regulatory Flexibility Analysis (IRFA) to incorporate refined geographic data on active farming lands in the study area. Specifically, this analysis relies upon the Farmland Mapping & Monitoring Program (FMMP) to identify active crop farming and grazing lands, including a newer data set maintained internally by the FMMP, that resulted in the reclassification of a significant number of cropped acres within the study area as grazing lands. The number of cropped agricultural area incrementally affected decreased from 29,413 ac (11,903 ha) in the first DEA (dated March 3, 2009) to 7,286 ac (2,949 ha) in the FEA.

We also revised the methodology used to estimate the number of small farms affected in each county. Small businesses in crop production (North American Industry Classification System (NAICS) subsectors 1111, 1112, and 1113) are defined by SBA as having annual revenues less than $750,000 (hereinafter referred to as “small farms”). Ideally this analysis would rely on geographic data to identify the size of farms within the study area and the percentage of a farm's total harvested acres potentially removed from agricultural production as a result of the pesticide use restriction. However such geographic data are not readily available.

As described in section A.1.3 of the FEA, in the absence of this information, this analysis uses publically-available Census data to estimate the probability that incrementally affected acres are located on small farms and the percent of cropland harvested by “small farms.” This approach yields a lower-bound estimate of the total number of small farms affected in the study area of 198. Worst-case annualized incremental impacts are anticipated to range between $500 and $168,000 per farm.

Comment (40): One commenter stated that the Service's failure to evaluate the economic benefits of the rule is inconsistent with administrative guidance and widely accepted professional standards. Further, the commenter stated that the economic benefits of protecting critical habitat for the California red-legged frog probably outweigh the costs and are too substantial to downplay or ignore. The commenter concludes that the Service should devote equal effort to identifying and accounting for categories of benefits relative to the rigor devoted to identifying costs.

Response: In the context of a critical habitat designation, the primary purpose of the rulemaking (i.e., the direct benefit) is to designate areas in need of special management that are essential to the conservation of listed species. While a listed species may be the primary beneficiary of designated critical habitat, the Act is clear that it is the policy of the Federal government to provide a means whereby the ecosystems upon which endangered and threatened species depend are conserved. By extension, therefore, benefits must somehow also accrue to society from a designation or else Congress would not have included this provision in the Act. The designation of critical habitat may result in two distinct categories of benefits to society: (1) use; and (2) non-use benefits. Use benefits are simply the social benefits that accrue from the physical use of a resource. Visiting critical habitat to see endangered species in their natural habitat would be a primary example. Non-use benefits, in contrast, represent welfare gains from “just knowing that a particular listed species' natural habitat is being specially managed for the survival and recovery of that species.” Both use and non-use benefits may occur unaccompanied by any market transactions.

A primary reason for conducting the economic analysis is to provide information regarding the economic impacts associated with a proposed critical habitat designation. Section 4(b)(2) of the Act requires the Secretary to designate critical habitat based on the best scientific data available after taking into consideration the economic impact, and any other relevant impact, of specifying any particular area as critical habitat. Economic impacts can be both positive and negative and by definition, are observable through market transactions.

While the Act requires the specific consideration of the economic impact of a designation, it does not require the Service to explicitly consider any broader social benefits (or costs) that may be associated with the designation. In fact, the Service believes that this is by Congressional design because the Act explicitly states up front that it is the Federal government's policy to conserve all threatened and endangered species and the ecosystems upon which they depend. While section 4(b)(2) of the Act gives the Secretary discretion to exclude certain areas from the final designation, he is authorized to do so only if an exclusion does not result in the extinction of the species. Thus, the Service believes that explicit consideration of broader social values for the species and its habitat, beyond economic impacts, is not necessary as Congress has already clarified the importance our society places on conserving all threatened and endangered species and their natural habitats upon which they depend. In terms of carrying out its responsibilities under section 4(b)(2) then, the Service need only to consider whether the economic impacts are significant enough to merit exclusion of any particular area without causing the species to go extinct.

To support the claim that the benefits of designating critical habitat for the frog probably outweigh the costs, the commenter provides examples of other situations and environmental regulations where studies have shown that the benefits exceed costs. However, this evidence does not support a conclusion that the same is true in this instance. If environmental regulation always resulted in net benefits, there would be no need to conduct economic analyses.

Finally, no guidance or executive order requires Federal agencies to spend equal effort estimating the benefits and costs of regulations. Specifically, OMB's Circular A-4 states (p. 26-27), “some important benefits and costs...may be inherently too difficult to quantify or monetize given current data and methods”. Chapter 13 of the FEA describes qualitatively the types of benefits that may result from the designation of critical habitat, including open space benefits, improved water quality, aesthetic benefits, flood control, improved soil productivity, and regional economic benefits if increased visitation results from the former benefits. To quantify these benefits, information about the current environmental quality of the habitat (e.g., current concentration of pollutants in waterways, current capacity of the habitat to absorb flood waters, current productivity of the soil) is necessary as a starting point. In addition, ecological and hydrologic models are necessary to understand how conservation measures such as reduced pesticide use will change the concentration of contaminants in the relative waterways. Most of these data and models are not readily available, preventing the quantification of benefits at this time.

Comment (41): One commenter states that in its estimate of the costs imposed on development activities, the DEA does not consider offsetting positive market impacts, particularly in areas outside of the designation. Specifically, the commenter states that the Service mistakenly reports the gross, rather than net, costs of critical habitat designation.

Response: We considered the potential for shifts in the market that would offset the costs experienced by existing landowners and developers within the proposed designation and concluded that measurable offsetting gains to homeowners, developers, or landowners are unlikely. As discussed in detail in Chapter 4 of the FEA, anticipated costs to landowners and developers include the administrative costs to consult with the Service or to comply with the California Environmental Quality Act, the costs of conservation measures, and opportunity costs associated with delays in development schedules. Anticipated conservation measures include on-site or off-site habitat restoration and the preservation of off-site habitat through the acquisition of mitigation banking credits (see section 4.7.2 of the FEA).

If adequate substitutes for areas projected for development are available, developers are likely to avoid areas of critical habitat and to develope substitute sites instead. Thus, existing owners of land parcels that would have been developed absent critical habitat experience a devaluation of their property equivalent to the additional costs that would have been incurred by the developers to conserve the California red-legged frog. As described in section 4.3 of the FEA, of the 1,252,096 ac (506,706 ha) of private land within the proposed designation, only 5,746 ac (2,325 ha), or less than one percent, of this land is anticipated to be developed within the next 22 years. In the 20 affected counties, the number of affected acres (hectares) ranges from 2 ac (0.8 ha) to 1,034 ac (418 ha), with an average of 287 ac (116 ha) affected per county. Given the relatively small number of affected acres relative to the size of the affected counties (hundreds of thousands to millions of acres), the availability of suitable substitutes is likely.

It is possible that the value of land at substitute sites outside of critical habitat may increase; however, where many substitutes are available, the marginal increase is likely small. Furthermore, quantification of such increases requires significant additional data describing the geographic characteristics of alternatives and construction of complex, general equilibrium economic models of the markets for raw land in each county. Finally, no reduction in the number of new houses is anticipated. Developers will either move to substitute locations or implement the project modifications, which do not include conserving habitat on-site. Thus, measurable consumer surplus gains in the market for existing houses, and consumer surplus losses in the market for new housing, are not anticipated.

Finally, we note that Quigley and Swoboda (2007, pp. 299-318) specifically addressed these issues in the context of critical habitat, and found that consideration of additional losses and gains to landowners and homeowners outside of critical habitat but within the same market is likely to result in higher, rather than lower overall cost estimates.

Comment (42): One commenter stated that they could not identify clear evidence that the Service estimated ancillary benefits that are measurable in markets through shifts in resource allocation, as suggested in Chapter 2 of the DEA. Specifically, the commenter states that habitat protection for an aquatic species such as the California red-legged frog may enhance water quality or quantity, resulting in avoided costs associated with treatment facilities or other water-supply-related infrastructure. The commenter cites, as an example, a study of such benefits resulting from restoring high-quality watersheds in Portland, Oregon.

Response: Assessment of the potential changes in the costs associated with treatment facilities or other water-supply-related infrastructure first requires an understanding of current water quality. In addition, complex fate and transport models of contaminants and sediments are necessary to calculate the change in water quality likely to result from the implementation of conservation activities (e.g., pesticide use restrictions, habitat restoration) protecting critical habitat. Finally, engineering cost models of alternative treatment technologies are necessary to estimate the incremental cost savings associates with a change in water quality. Most of these data and models are not readily available; thus, the potential offsetting benefit of reduced water treatment costs cannot be quantified or monetized at this time.

Summary of Changes from the 2006 Critical Habitat Designation to the 2008 Proposed Rule to Revise Critical Habitat

In the proposed revised and final revised designation of critical habitat for the California red-legged frog, we determined that it would be appropriate to complete our analysis of critical habitat without using the 2006 final critical habitat designation as a base from which to make changes due to the involvement of Department of the Interior personnel that may have inappropriately influenced the extent and locations of critical habitat designated in our previous final determination. As a result of this unrestricted analysis, the amount and distribution of final critical habitat has increased over the 2006 final critical habitat designation and better represents those areas that contain the features essential to the conservation of the species.

In the 2006 final critical habitat designation for the California red-legged frog (71 FR 19281; April 13, 2006), we excluded all Forest Service lands managed under the Sierra Nevada Forest Plan Amendment (SNFPA) under section 4(b)(2) of the Act. We based this decision on the conservation benefits to the frog outlined in the SNFPA. In the proposed revised critical habitat designation issued on September 16, 2008 (73 FR 53491) we asked for public comment regarding the exclusion of these lands from the designation under section 4(b)(2) of the Act and whether the SNFPA was an appropriate mechanism for exclusion. Although the SNFPA addresses the California red-legged frog in Chapter 4, and states generally that the “species parameters are similar to those applicable to other areas of California” (USDA 2004, pp. 234-239), no details are given as to what specific conservation measures would be implemented and how these measures would benefit the California red-legged frog. The SNFPA does state that the preferred alternative is to limit streambank disturbance to 10 percent of any reach within critical aquatic refuges and the SNFPA does limit streambank disturbance to 20 percent of any reach in general. Again these measures are not specific to identify how and where these measures will be implemented and how they will benefit the California red-legged frog. Consequently, we are not exercising our discretion to exclude Forest Service lands from the final designation because the SNFPA not including specific measures to protect and conserve the California red-legged frog and its habitat.

In the 2006 final critical habitat designation, we also excluded the entire critical habitat unit CAL-1 from Calaveras County, California, under section 4(b)(2) of the Act. We based this decision on the actions of a single private landowner who has been managing for the frog on their property and who has been encouraging additional landowners to join efforts to conserve the frog. Since our publication of the proposed revised designation of critical habitat in September 2008 (73 FR 53491), we held a public meeting to discuss the revised proposal in San Andreas, California on October 30, 2008, and to answer questions regarding the Unit CAL-1. Shortly after the meeting we were approached by several private landowners within the unit that are willing to work with us on potentially developing conservation efforts for the frog on their lands. We are also working with the County of Calaveras on developing a Habitat Conservation Plan for the California red-legged frog and other listed or sensitive species in the county. However, we have not been able to finalize a HCP or other management plans to assure development and implementation of conservation measures and protection for the California red-legged frog or its habitat. As a result we are not excluding the lands within Unit CAL-1 from the designation under section 4(b)(2) of the Act.

In the 2008 proposed revised designation, we used the recovery plan for the California red-legged frog (Service 2002, pp. 1-173) as part of our criteria. Specifically, we used the 34 core areas described in the recovery plan to focus our efforts on where to designate critical habitat. We attempted to include areas in this critical habitat designation from those 34 core areas that contain those physical and biological features essential to the conservation of the species, that were unique habitat types for the species, that were a representation of the species' geographic range within each core area, and that were most appropriate for conservation of the species across its current range. When determining critical habitat, we included areas that met the definition of critical habitat and that maximized the potential for the conservation of the species, and we attempted to avoid potential conflict with development. As a result, we included several new areas within the species' current range as final revised critical habitat. We did not designate areas adjacent to development (i.e., planned development areas) if we determined that the areas do not contain sufficient PCEs to support one or more of the species' life processes, or that the areas have low-quality PCEs because either the area is highly degraded and is likely not restorable or the area is small, highly fragmented, or isolated and may provide little or no long-term conservation value. As a result, designations adjacent to highly developed areas are “pulled-back” to areas that are more biologically defensible and less likely to be affected by anthropogenic activities. We did not exercise our discretion to exclude areas from the designation based solely on planned development.

In the proposed revised critical habitat we also included a new unit in the Sierra Nevada (Unit PLA-1); bringing the total number of units in the designation to six for the Sierra Nevada region.

In the 2006 final critical habitat designation, we interpreted the “occupied at time of listing” standard to include only those specific records mentioned in the final listing rule (May 23, 1996; 61 FR 25813). The records identified in the final listing rule were not the only locations where California red-legged frogs existed; rather, the final listing rule identified only those records reported to scientific, higher education, or informational sources. Other occupied areas outside those specifically mentioned in the final listing rule existed for the California red-legged frog. In this final revised designation, we interpreted “occupied at time of listing” based on the dates of occurrence records and life history of the California red-legged frog. For example, if an occurrence was recorded after the 1996 listing, but we could determine based on population size, demographics, and biological factors that the population was most likely present at the time of listing just not specifically recorded, we would consider the area as occupied at the time of listing for this final revised critical habitat designation. When determining occupancy, we considered metapopulation dynamics, population persistence, on-the-ground survey data, and California red-legged frog longevity. Bulger et al. (2003, pp. 85, 92) found more than 75 percent of California red-legged frogs are resident at permanent aquatic habitats over the course of a year, thereby providing local population stability. Survey data provided to us during the development of this and previous critical habitat rules show an average persistence of 19 years for California red-legged frog populations. Additionally, the California red-legged frog is considered long-lived, with a minimum longevity of male and female California red-legged frogs of between 8 and 10 years, respectively (Jennings et al. 1992, p. 3), which also contributes to generational and metapopulation stability.

In the 2006 rule, we only focused on designating those areas that contain large numbers and concentrations of occurrence records. In this final revised critical habitat designation we focused on occurrence records as well as on areas adjacent to the occurrences that we determined are essential or contain the features essential to the conservation of the species.

We revised the primary constituent element that described the upland habitat surrounding water features (PCE 3). The PCE in the 2006 rule limits the upland areas to 200 ft (60 m) from a water feature. Based on new biological information on protecting breeding and non-breeding aquatic features for the California red-legged frog and movements of the California red-legged frog between breeding and non-breeding habitat (Fellers and Kleeman 2007, pp. 276-286), we decided that such determinations should be made on a case-by-case basis and removed the specific distance surrounding each individual water feature. In general, the upland habitat surrounding the aquatic breeding and non-breeding habitat (PCEs 1 and 2) would be limited to 1 mi (1.6 km) in most cases, depending on surrounding landscape and dispersal barriers. The 1 mi (1.6 km) distance is also the distance used in the Service's site assessment and survey guidelines used in analyses under section 7 and section 10 of the Act for consultation purposes and allows for a better evaluation of habitat use and characteristics of a given area by the frog (Service 2005, pp. 1-26).

In the 2008 proposed revised critical habitat designation we included a new area in Mendocino County (Unit MEN-1) based on new genetic information on the northern coastal range of the species (Shaffer et al. 2004, pp. 2667-2677). The intent of the new unit was to capture habitat that would represent the northern extent of the species along the northern California coast. The occurrence information was based on CNDDB records (CNDDB 2008).

Summary of Changes from the 2008 Proposed Rule

On September 16, 2008, we proposed revised critical habitat for the California red-legged frog comprising a total of 1,804,865 ac (730,402 ha) (73 FR 53491). This final revised critical habitat designation includes approximately 1,681,938 ac (680,656 ha) in 27 California counties in 48 units, after refining areas based on public comment and excluding approximately 121,927 ac (49,746 ha) under section 4(b)(2) of the Act (see Application of Section 4(b)(2) of the Act section below for a detailed discussion).

In the 2008 proposed revised critical habitat designation, we included an area in Mendocino County (Unit MEN-1) as a result of genetic information on the northern coastal range of the species (Shaffer et al. 2004, pp. 2667-2677). We revised the boundary of this unit in the Federal Register document announcing the availability of the draft economic analysis on the proposed revised designation of critical habitat (74 FR 19184; April 28, 2009). The revised Unit MEN-1 included approximately 26,875 ac (10,876 ha), a change of an additional 2,970 ac (1,202 ha) of critical habitat within this unit from the 2008 proposed revised designation. We revised Unit MEN-1 to better reflect new species occurrence data within the area and the habitat surrounding those records. On further review of the unit in this final revised designation, we have adjusted the boundaries to include only known California red-legged frog records or hybrid records genetically comprised mostly (50 percent or greater) of the California red-legged frog. This percentage was chosen because research on the exact boundary between the two species has not yet been determined and we wanted to avoid designating critical habitat in areas solely populated by the northern red-legged frog (Rana aurora). By choosing such a percentage we are ensuring that the designated unit is comprised mostly of pure California red-legged frogs. The unit currently includes the habitat from Manchester State Beach south to Riverside Road. Unit MEN-1 represents the northern extent of the California red-legged frog within the North Coast of California and likely represents a unique genetic component of the species.

In response to public comments and site visits by Service staff, we reevaluated the boundaries of Unit CAL-1 to assess the available habitat within the area and the locations used by the California red-legged frog. As a result, we revised the extent of the unit and removed those areas that we determined do not contain the physical and biological features essential for conservation of the California red-legged frog or that are part of the watershed not likely used by the species.

The Secretary also exercised his discretion to exclude several areas from the designation under section 4(b)(2) of the Act due to potential impacts on national security (see Application of Section 4(b)(2) - Impacts to National Security section for further discussion) and the Department of Defense's efforts to conserve the California red-legged frog on their military installations. These areas include: Vandenberg Air Force Base (24,913 ac (10,090 ha)) (Units STB-2 and STB-4) and Camp San Luis Obispo (5,612 ac (2,271 ha)) (Unit SLO-3). The Secretary further exercised his discretion to exclude several other areas either based on existing management plans or HCPs that specifically identify and implement measures to conserve and protect the California red-legged frog and its habitat. These areas include: Bonnie Doon Quarries Settlement Ponds HCP, Santa Cruz County (6 ac (3 ha)) (Unit SCZ-1); East Contra Costa HCP/NCCP, Contra Costa County (75,767 ac (30,662 ha)) (Unit CCS-2); Western Riverside Multi-species HCP, Riverside County (4,069 ac (1,647 ha)) (Unit RIV-1); East Bay Regional Park District lands, Contra Costa County (14,627 ac (5,919 ha)) (Unit CCS-2); Hearst Ranch lands, San Luis Obispo County (34,777 ac (14,074 ha)) (Unit SLO-2); and Spivey Pond Management Area (BLM), El Dorado County (54 ac (22 ha)) (Unit ELD-1). See the section Exclusions Under Section 4(b)(2) of the Act for further discussion.

Critical Habitat

Critical habitat is defined in section 3 of the Act as:

(1) The specific areas within the geographical area occupied by a species, at the time it is listed in accordance with the Act, on which are found those physical or biological features

(a) essential to the conservation of the species and

(b) that may require special management considerations or protection; and

(2) specific areas outside the geographical area occupied by a species at the time it is listed, upon a determination that such areas are essential for the conservation of the species.

Conservation, as defined under section 3 of the Act, means the use of all methods and procedures that are necessary to bring any endangered or threatened species to the point at which the measures provided under the Act are no longer necessary. Such methods and procedures include, but are not limited to, all activities associated with scientific resources management such as research, census, law enforcement, habitat acquisition and maintenance, propagation, live trapping, transplantation, and in the extraordinary case where population pressures within a given ecosystem cannot otherwise be relieved, may include regulated taking.

Critical habitat receives protection under section 7 of the Act through the prohibition against Federal agencies carrying out, funding, or authorizing the destruction or adverse modification of critical habitat. Section 7(a)(2) of the Act requires consultation on Federal actions that may affect critical habitat. The designation of critical habitat does not affect land ownership or establish a refuge, wilderness, reserve, preserve, or other conservation area. Such designation does not allow the government or public to access private lands. Such designation does not require implementation of restoration, recovery, or enhancement measures by private landowners. Where a landowner requests Federal agency funding or authorization for an action that may affect a listed species or critical habitat, the consultation requirements of section 7(a)(2) of the Act would apply, but even in the event of a destruction or adverse modification finding, the landowner's obligation is not to restore or recover the species, but to implement reasonable and prudent alternatives to avoid destruction or adverse modification of critical habitat.

For inclusion in a critical habitat designation, habitat within the geographical area occupied by the species at the time it was listed must contain the physical and biological features that are essential to the conservation of the species, and be included only if those features may require special management considerations or protection. Critical habitat designations identify, to the extent known using the best scientific data available, habitat areas that provide essential life-cycle needs of the species (i.e., areas on which are found the primary constituent elements laid out in the appropriate quantity and spatial arrangement essential to the conservation of the species).

Under the Act, we can designate an area outside the geographical area occupied by the species at the time of listing as critical habitat only when we determine that the best available scientific data demonstrate that the designation of that area is essential for the conservation of the species.

Section 4 of the Act requires that we designate critical habitat on the basis of the best scientific data available. Further, our Policy on Information Standards Under the Endangered Species Act (published in the Federal Register on July 1, 1994 (59 FR 34271)), the Information Quality Act (section 515 of the Treasury and General Government Appropriations Act for Fiscal Year 2001 (Pub. L. 106-554; H.R. 5658)), and our associated Information Quality Guidelines, provide criteria, establish procedures, and provide guidance to ensure that our decisions are based on the best scientific data available. They require our biologists, to the extent consistent with the Act and with the use of the best scientific data available, to use primary and original sources of information as the basis for recommendations to designate critical habitat.

When we are determining which areas to designate as revised critical habitat, our primary source of information is generally the information developed during the listing process for the species. Additional information sources may include the recovery plan for the species, articles in peer-reviewed journals, conservation plans developed by States and counties, scientific status surveys and studies, biological assessments, or other unpublished materials and expert opinion or personal knowledge.

Habitat is often dynamic, and species may move from one area to another over time. Furthermore, we recognize that designation of critical habitat may not include all habitat areas that we may eventually determine, based on scientific data not now available to the Service, are necessary for the recovery of the species. For these reasons, a critical habitat designation does not signal that habitat outside the designated area is unimportant or may not be required for recovery of the species.

Areas that support populations, but are outside the critical habitat designation, will continue to be subject to conservation actions we implement under section 7(a)(1) of the Act. They are also subject to the regulatory protections afforded by the section 7(a)(2) jeopardy standard, as determined on the basis of the best available scientific information at the time of the Federal agency action. Federally funded or permitted projects affecting listed species outside their designated critical habitat areas may still result in jeopardy findings in some cases. Similarly, critical habitat designations made on the basis of the best available information at the time of designation will not control the direction and substance of future recovery plans, habitat conservation plans (HCPs), or other species conservation planning efforts if information available at the time of these planning efforts calls for a different outcome.

Primary Constituent Elements (PCEs)

In accordance with section 3(5)(A)(i) of the Act and the regulations at 50 CFR 424.12, in determining which areas within the geographical area occupied by the species at the time of listing to designate as critical habitat, we consider the physical and biological features essential to the conservation of the species that may require special management considerations or protection to be the PCEs laid out in the appropriate quantity and spatial arrangement essential to the conservation of the species. These include, but are not limited to:

(1) Space for individual and population growth and for normal behavior;

(2) Food, water, air, light, minerals, or other nutritional or physiological requirements;

(3) Cover or shelter;

(4) Sites for breeding, reproduction, or rearing (or development) of offspring; and

(5) Habitats that are protected from disturbance or are representative of the historical, geographical, and ecological distributions of a species.

We derive the specific PCEs required for the California red-legged frog from its biological needs as described below; in the Background section of this final rule; in the proposed revised critical habitat designation (73 FR 53491; September 16, 2008); and in the final listing rule (61 FR 25813; May 23, 1996).

Aquatic Breeding Habitat

Aquatic breeding habitat is essential for providing space, food, and cover necessary to sustain all aquatic life stages of the California red-legged frog. It consists of low-gradient fresh water bodies, including natural and manmade (e.g., stock) ponds, backwaters within streams and creeks, marshes, lagoons, and dune ponds. It does not include deep lacustrine water habitat (e.g., deep lakes and reservoirs 50 ac (20 ha) or larger in size).

To be considered essential breeding habitat, the aquatic feature must have the capability to hold water for a minimum of 20 weeks in all but the driest of years. This is the approximate amount of time needed for egg and tadpole development and metamorphosis so that juveniles can become capable of surviving in upland habitats (Storer 1925, pp. 242-243; Wright and Wright 1949, p. 418; Jennings 1988, p. 63). Drying of the aquatic habitat after that time can be beneficial because it helps prevent the establishment of predators such as fish in the family Centrarchidae (bass), mosquito fish (Gambusia affinis), or bullfrogs (Lithobates catesbeianus) (Hayes and Jennings 1988, p. 152; Cook 1997, pp. ii, iii, 17-19; Scott 1998, p. 3; Lawler et al. 1999, pp. 613-622; Frost et al. 2006, p. 369; Cook and Jennings 2007, p. 438; Crother et al. 2008, p. 7). Water quality requirements for eggs and tadpoles include low salinity (below 4.5 parts per thousand (ppt) for eggs; up to 7.0 ppt for tadpoles) (Jennings and Hayes 1990, pp. 18, 19; Jennings 1994, p. 1), and temperatures below about 73 degrees Fahrenheit (23 degrees Celsius) (Cook 1997, p. 16; Nussbaum et al. 1983, p. 160). Water bodies free of bullfrogs and nonnative predatory fish are optimal, but California red-legged frog populations can persist in the presence of one or the other of these predators (Kiesecker and Blaustein 1998, pp. 776, 782; Lawler et al. 1999, pp. 613, 619-621; Cook and Jennings 2007, p. 438).

Adult California red-legged frogs can survive in moist upland areas after breeding habitat has dried, and can live up to 8 to 10 years to make new breeding attempts. Therefore, aquatic breeding habitat need not be available every year, but it must be available at least once within the frog's lifespan for breeding to occur. In addition, the aquatic features must have appropriate hydroperiods (ponded habitat during the appropriate aquatic phase of the species) in order to maintain a California red-legged frog population during most years. Without aquatic breeding habitats, the California red-legged frog would not survive, reproduce, develop juveniles, and grow into adult California red-legged frogs that can complete their life cycles.

Non-Breeding Aquatic and Riparian Habitat

Non-breeding aquatic and riparian habitat is essential for providing the space, food, and cover necessary to sustain the California red-legged frog. Non-breeding aquatic habitat consists of shallow (non-lacustrine) freshwater features not suitable as breeding habitat, such as streams, small seeps, and ponds that dry too quickly to support breeding. Riparian habitat consists of vegetation growing nearby, but not typically in, a body of water on which it depends, and usually extends from the bank of a pond or stream to the margins of the associated floodplain.

Other non-breeding aquatic features that the California red-legged frog is known to use include locations such as moist cracks at the bottom of dried ponds, seeps, springs, intermittent streams, and small ponds. Cracks in the bottom of dried ponds are used as refugia to maintain moisture and avoid heat and solar exposure (Alvarez 2004, p. 162). Fellers and Kleeman (2007, p. 279) found that most California red-legged frogs leave their breeding habitat once breeding is completed and disperse to non-breeding aquatic habitat locations such as those listed above. Without these non-breeding aquatic features, the California red-legged frog would not be able to survive drought periods or disperse to other breeding habitat.

Upland Habitat

Upland habitats associated with riparian and aquatic habitat are essential to maintain California red-legged frog populations. This habitat type provides food and shelter sites for the California red-legged frog and assists in maintaining the integrity of aquatic sites by protecting them from disturbance and supporting the normal functions of the aquatic habitat. Upland habitat associated with occupied wetland habitat often contains blackberry (Rubus spp.), poison oak (Toxicodendron diversilobum), coyote brush (Baccharis pilularis), oaks (Quercus sp.), grasses, and other upland species, and serves as foraging habitat and provides shelter from predatory species (Service 2002, pp. 12-14; Fellers and Kleeman 2007, pp. 276-277).

Upland habitat that contains the features essential to the conservation of the species consists of natural areas near the edge of the riparian vegetation or the edge of the watershed boundary, and includes the dispersal corridor between breeding and non-breeding aquatic habitat. This is based on the dispersal capabilities of the species (see the Dispersal Habitat section below), and research identifying the use of upland areas by the species (Rathbun et al. 1993, pp. 15, 16; Bulger et al. 2003, pp. 93, 94; Tatarian 2004, pp. 24, 25; Fellers and Kleeman 2007, p. 279). Tatarian (2004, p. 22) found the California red-legged frog inhabiting upland areas for 50 days at a distance of 302 ft (92 m) from aquatic habitat; Bulger et al. (2003, pp. 87, 88) found that the species is capable of inhabiting upland habitats within 200 ft (60 m) of aquatic habitat for continuous durations exceeding 20 days; and Rathbun et al. (1993, pp. 15, 16) observed California red-legged frogs inhabiting upland riparian habitat for durations up to 77 days. California red-legged frogs often disperse from their breeding habitat to forage and seek suitable upland habitat if aquatic habitat is not available.

As stated above in the Background section, the California red-legged frog is documented to disperse from ponds and streams a distance over 2.0 mi (3.2 km) (Bulger et al. 2003, p. 90). However, based on a review of the most current literature and information gathered in development of the recovery plan and subsequent critical habitat designations for the species, we determined that the 2.0-mi (3.2-km) distance is near the maximum dispersal distance for the species during a single season, and that the 1-mi (1.6-km) distance is more reflective of the average dispersal distance for the California red-legged frog (Rathbun et al. 1993, pp. 15, 16; Wright 1999, pp. 1, 2; Bulger et al. 2003, p. 90; Tatarian 2004, table 9; Fellers and Kleeman 2005, pp. 14-16; Fellers and Kleeman 2007, pp. 276-286). In addition, upland habitat features will influence California red-legged frog movements in a particular landscape. For example, in an area that contains a riparian habitat surrounded by drier chaparral habitat you would expect the frog to avoid movements into the drier habitat and to use the riparian area as a corridor for movement. Based on the landscape characteristics within the species' range and the species' reported dispersal capabilities, the upland habitat surrounding the aquatic breeding and non-breeding habitat (PCEs 1 and 2) would be limited to 1 mi (1.6 km) in most cases depending on surrounding landscape and dispersal barriers.

Upland habitat used by the California red-legged frog includes structures that provide shade, moisture, and cooler temperatures. These structures may be natural, such as the spaces under boulders or rocks and organic debris (e.g., downed trees or logs), or they could be manmade, such as construction debris or agricultural features (e.g., concrete blocks, drains, watering troughs, spring boxes, abandoned sheds, stacks of hay or other vegetation). The California red-legged frogs will also use small mammal burrows and moist leaf litter as refugia (Jennings and Hayes 1994, p. 64; Fellers and Kleeman 2005, p. 12).

Dispersal Habitat

Dispersal habitat provides connectivity among California red-legged frog breeding (and associated upland) habitat patches. While the California red-legged frog can pass many obstacles, and does not require a particular type of habitat for dispersal, the habitat connecting breeding locations and other aquatic habitat must be free of barriers that prevent California red-legged frogs from dispersing.

Designated dispersal habitat consists of upland and riparian habitat contiguous with breeding and non-breeding aquatic habitat that is free of barriers, and connects two or more patches of aquatic habitat within 1 mi (1.6 km) of one another. Dispersal barriers include heavily traveled roads (Vos and Chardon 1998, pp. 44, 54; Glista et al. 2008, pp. 81-82) that possess no bridges or culverts, moderate- to high-density urban or industrial developments with large expanses of asphalt or concrete that do not contain the PCEs or features essential to conservation of the species, and large lakes or reservoirs over 50 ac (20 ha). Agricultural lands such as row crops, orchards, vineyards, and pastures do not constitute barriers to California red-legged frog dispersal.

The California red-legged frog is documented to travel as far as 2.2 mi (3.6 km) from non-breeding to breeding habitats (Bulger et al. 2003, p. 90). These long-distance movements are likely migrations rather than use of corridors for moving between habitats (Scott and Rathbun 1998, pp. 2, 3). Additionally, these movements occur with apparent disregard to topography, vegetation type, or riparian corridors (Bulger et al. 2003, pp. 93, 94; Fellers and Kleeman 2005, pp. 15, 16). Based on our review of the best scientific data available, we conclude that 2.2 mi (3.6 km) is likely near the upward limit of dispersal capability for the California red-legged frog within a single season and that a 1-mi (1.6-km) dispersal distance will, in most instances, provide for connectivity between breeding aquatic habitats, non-breeding aquatic habitats, and areas of non-aquatic (i.e., upland) habitat and can be used as a general guide for habitat use (Rathbun et al. 1993, pp. 15, 16; Wright 1999, pp. 1, 2; Bulger et al. 2003, p. 90; Tatarian 2004, table 9; Fellers and Kleeman 2005, pp. 14-16; Fellers and Kleeman 2007, pp. 276-286). However, we also concur with Fellers and Kleeman (2007, p. 279) in that the exact extent of habitat use by the California red-legged frog is influenced by habitat availability and the location of movement corridors.

Accessible dispersal habitat provides opportunities for the California red-legged frog to move freely across the landscape in search of adjacent breeding and non-breeding habitats. Accessible dispersal habitat is considered essential to the conservation of the species and provides for: (1) Movement and establishment of home ranges by juvenile recruits; (2) Maintenance of gene flow through the movement of juveniles and adults between populations; and (3) recruitment into new breeding habitat or recolonization of breeding habitat after local extirpations.

Primary Constituent Elements (PCEs) for the California Red-Legged Frog

Within the geographical area occupied by the California red-legged frog at the time of listing, we must identify the physical or biological features essential to the conservation of the species that may require special management considerations or protection. This final revised critical habitat designation encompasses those areas containing the PCEs that are necessary to support one or more of the species' life history functions and that are laid out in the appropriate quantity and spatial arrangement essential to the conservation of the species. As stated in the Criteria Used to Identify Critical Habitat section of this rule, we believe that we can conserve the California red-legged frog within its extant range, and we are therefore not including any areas outside the geographical area currently occupied by the species. Because not all life-history functions require all the PCEs, not all areas designated as critical habitat will contain all the PCEs.

Based on the above needs and our current knowledge of the life-history, biology, and ecology of the California red-legged frog, we determined the California red-legged frog's PCEs are:

(1) Aquatic Breeding Habitat. Standing bodies of fresh water (with salinities less than 4.5 ppt), including natural and manmade (e.g., stock) ponds, slow-moving streams or pools within streams, and other ephemeral or permanent water bodies that typically become inundated during winter rains and hold water for a minimum of 20 weeks in all but the driest of years.

(2) Aquatic Non-Breeding Habitat. Freshwater pond and stream habitats, as described above, that may not hold water long enough for the species to complete its aquatic life cycle but which provide for shelter, foraging, predator avoidance, and aquatic dispersal of juvenile and adult California red-legged frogs. Other wetland habitats considered to meet these criteria include, but are not limited to: plunge pools within intermittent creeks, seeps, quiet water refugia within streams during high water flows, and springs of sufficient flow to withstand short-term dry periods.

(3) Upland Habitat. Upland areas adjacent to or surrounding breeding and non-breeding aquatic and riparian habitat up to a distance of 1 mi (1.6 km) in most cases (i.e., depending on surrounding landscape and dispersal barriers) including various vegetational types such as grassland, woodland, forest, wetland, or riparian areas that provide shelter, forage, and predator avoidance for the California red-legged frog. Upland features are also essential in that they are needed to maintain the hydrologic, geographic, topographic, ecological, and edaphic features that support and surround the aquatic, wetland, or riparian habitat. These upland features contribute to: (1) Filling of aquatic, wetland, or riparian habitats; (2) maintaining suitable periods of pool inundation for larval frogs and their food sources; and (3) providing non-breeding, feeding, and sheltering habitat for juvenile and adult frogs (e.g., shelter, shade, moisture, cooler temperatures, a prey base, foraging opportunities, and areas for predator avoidance). Upland habitat should include structural features such as boulders, rocks and organic debris (e.g., downed trees, logs), small mammal burrows, or moist leaf litter.

(4) Dispersal Habitat. Accessible upland or riparian habitat within and between occupied or previously occupied sites that are located within 1 mi (1.6 km) of each other, and that support movement between such sites. Dispersal habitat includes various natural habitats, and altered habitats such as agricultural fields, that do not contain barriers (e.g., heavily traveled roads without bridges or culverts) to dispersal. Dispersal habitat does not include moderate- to high-density urban or industrial developments with large expanses of asphalt or concrete, nor does it include large lakes or reservoirs over 50 ac (20 ha) in size, or other areas that do not contain those features identified in PCE 1, 2, or 3 as essential to the conservation of the species.

Special Management Considerations or Protections

When designating critical habitat within the geographical area that is occupied at the time of listing, we identify the features that are essential to the conservation of the species and assess whether those features may require special management considerations or protection.

The area designated as revised critical habitat will require some level of management to address current and future threats to the California red-legged frog and maintain the physical and biological features essential to the conservation of the species. Special management will be required in all units to ensure that aquatic and upland habitats provide abundant breeding and non-breeding areas, prey species, shelter, and connectivity within the landscape. The designation of critical habitat does not imply that areas outside of the final revised critical habitat designation do not play an important role in the conservation of the California red-legged frog. Areas outside the final revised critical habitat designation will continue to be subject to conservation actions implemented under section 7(a)(1) of the Act, regulatory protections afforded by the section 7(a)(2) jeopardy standard, and the prohibitions of section 9 of the Act. These protections and conservation tools will continue to contribute to recovery of the species.

A detailed discussion of threats to the California red-legged frog and its habitat can be found in the final listing rule (May 23, 1996; 61 FR 25813); the 2001 critical habitat designation (March 13, 2001; 66 FR 14626); the 2006 critical habitat designation (April 13, 2006; 71 FR 19243); the 2008 proposed revised critical habitat designation (September 16, 2008; 73 FR 53491); and the 2002 recovery plan (Service 2002, pp. 1-173). Threats that may warrant special management considerations or protection of those features that define essential habitat in the appropriate quantity and spatial arrangement for the California red-legged frog include, but are not limited to: disease; direct and indirect impacts from some human recreational activities; flood control maintenance activities; water diversions; mining; dredging; sedimentation; water chemistry or temperature alterations; pesticide application; overgrazing; competition and predation by nonnative animal species; and habitat removal and alteration by urbanization, timber activities, and nonnative plant introduction. These threats may cause habitat alteration, degradation, or fragmentation and the direct or indirect loss of California red-legged frog eggs, juveniles, or adults or their habitat.

Criteria Used To Identify Critical Habitat

As required by section 4(b)(2) of the Act, we use the best scientific data available in determining within the geographical area occupied at the time of listing the specific areas on which are found the features essential to the conservation of the California red-legged frog which may require special management considerations or protection, as well as in determining if any specific areas outside the geographical area occupied by the species are essential for the conservation of the California red-legged frog. We are designating critical habitat for the California red-legged frog within areas that we determined were occupied at the time of listing and that contain the physical and biological features essential to the conservation of the species. Lands are designated based on sufficient essential features being present to support one or more life processes.

Based on the criteria used to identify critical habitat for the California red-legged frog, we believe those areas designated as critical habitat within the geographical area occupied by the species at the time of listing and those occupied areas identified subsequent to listing are sufficient to conserve the California red-legged frog. Our strategy for determining features essential to the conservation of the species was to target areas known to be occupied by the California red-legged frog at the time of listing, or known to possess high-quality habitat likely to be occupied based on proximity to known occurrences, contiguous habitat, and dispersal capabilities of the California red-legged frog. We included large blocks of contiguous habitat that: (1) provide geographic distribution across the range of the species; (2) represent the full range of habitat and environmental variability the species occupies; (3) avoid conflict with existing commercial and residential development; (4) focus on public land, where available; and (5) where possible, overlap with other critical habitat designations. We believe the areas designated provide for the conservation of the California red-legged frog because the areas support large stable populations throughout the range of the species. The areas selected represent a distribution across the species' range and incorporate the northern and southern extent of the species within the coastal, interior coast, interior valleys, and Sierra Nevada Mountains. We believe the critical habitat units provide for connectivity and dispersal opportunities within, and in most cases between, units. Such opportunities for dispersal assist in maintaining the population structure and distribution of the California red-legged frog. We realize that there are areas outside of the designation that are included in the recovery plan and past critical habitat designations as having California red-legged frog occurrences or containing some of the primary constituent elements and that these areas may be utilized by the California red-legged frog for breeding, non-breeding activities, movement, and dispersal. However, as stated above, we believe the areas designated in this rule provide for the conservation of the California red-legged frog. Therefore, we do not believe that we need to designate unoccupied areas for the species.

We believe it is important to note that critical habitat designation is a different process than development of a recovery plan. A critical habitat designation is a specific regulatory action that defines specific areas as critical habitat in accordance with the statutory definition. A recovery plan is a guidance document, developed in cooperation with partners, which provides a roadmap with detailed, site-specific management actions to help conserve listed species and their ecosystems. The term “essential” as used in the recovery plan does not necessarily carry the same meaning as in the definition of critical habitat. The recovery plan provides important information about the species and the actions that are needed to bring about its recovery, while critical habitat identifies specific areas that are essential for the species' conservation.

As required by section 4(b)(1)(A) of the Act, we used the best scientific data available in determining areas that contain the features essential to the conservation of the California red-legged frog, including the California red-legged frog recovery plan (Service 2002, pp. 1-173), reports submitted during section 7 consultations and by biologists holding section 10(a)(1)(A) recovery permits, research published in peer-reviewed articles and presented in academic theses and agency reports, and regional Geographic Information Systems (GIS) coverages. We are not designating any areas outside the geographical area presently occupied by the species.

We examined the core areas identified in the recovery plan and used these to focus our analysis of which areas to include in our critical habitat designation. We included a distribution of critical habitat within each core area that contains areas that were occupied at the time of listing and additional occupied areas identified as such subsequent to the time of listing. We found that the majority of newer occurrence records were within areas already known to support the California red-legged frog. We identified critical habitat units that have the highest likelihood to contain populations of the California red-legged frog based on (1) The presence of the defined PCEs; (2) the density of the California red-legged frog occurrences; (3) the kind, amount, and quality of habitat associated with those occurrences; and (4) the reasonable likelihood of habitat connectivity within and between units. The units contain the physical and biological features, as identified by the PCEs, in the appropriate quantity and arrangement essential to the conservation of the species.

We considered several criteria in the selection of areas that contain the physical and biological features essential to the conservation of the California red-legged frog. We designated units throughout the geographical, elevational, and ecological distribution of the species that: (1) Maintain the current population structure across the species' range; (2) retain or provide for connectivity between breeding sites to allow for the continued existence of viable and essential metapopulations, despite fluctuations in the status of subpopulations; (3) possess large continuous blocks of occupied habitat, representing source populations or unique ecological characteristics; and (4) contain sufficient upland habitat around each breeding location to allow for sufficient survival and recruitment to maintain a breeding population over the long term. We then compared areas meeting these requirements to the core areas identified in the recovery plan for the species (Service 2002, pp. 1-173) and adjusted the number and distribution of units so that all core areas were represented in this final revised critical habitat designation.

We delineated critical habitat boundaries using the following steps. We examined the range of the species as identified in our 2002 recovery plan for the California red-legged frog (Service 2002, pp. 1-173). We then determined the occupancy status of areas on the basis of report data compiled by the California Department of Fish and Game (CDFG) (CNDDB 2009). Initially, we used the 1996 final listing rule to establish those areas occupied at the time of listing. Subsequently, we used information on California red-legged frog population size, demographics, and biology to determine that additional areas were also occupied at the time of listing. Our designation does not include all areas where the California red-legged frog is known to occur. When determining which occupied areas contain the physical and biological features essential to the conservation of the species or the specific areas essential for the conservation of the species identified subsequent to those areas identified at the time of listing, we considered theories of metapopulation persistence, on-the-ground survey data, and the California red-legged frog's longevity. Bulger et al. (2003, pp. 85, 92) found more than 75 percent of California red-legged frogs are resident at permanent aquatic habitats over the course of a year, thereby providing local population stability. Survey data provided to us during the development of this and previous critical habitat rules show an average persistence of 19 years for California red-legged frog populations. Additionally, California red-legged frogs are considered long-lived with a minimum longevity of male and female California red-legged frogs between 8 and 10 years respectively (Jennings et al. 1992, p. 3), which also contributes to generational and metapopulation stability. For the above reasons, we believe that California red-legged frog populations located after the time of listing were actually present at the time of listing. This is because not all information on species locations existed or were available at that time (1996), and because new populations were unlikely to have been established in the interim period.

We conducted a more detailed analysis of the occurrence data records by evaluating records where the exact site location was not identified or confirmed, and we removed those locations from our analysis. We then selected areas that were inhabited by source populations that are capable of maintaining their current population levels and providing individuals to recruit into subpopulations found in adjacent areas. We based this on the occurrence information or history for the site and persistence within the area. Additionally, we selected several areas that have ecological significance because of their unique features or settings, with the goal of representing the full range of the habitat variability and evolutionary adaptation in this species. These unique areas include locations on the periphery of the current range or that are representative of the varying habitats occupied by the California red-legged frog (i.e., coastal areas, interior coast, interior valleys, and montane habitats) to cover the full distribution of the species, and areas that provide connectivity among populations.

Critical habitat units were delineated by creating approximate areas for the units by screen-digitizing polygons (map units) using ArcMap (Environmental Systems Research Institute, Inc.), a GIS program. The polygons were created by overlaying a 1-mi (1.6-km) radius around locations with occurrence records. We then used this distance as a guide for mapping the physical and biological features essential to the conservation of the species around the locations of California red-legged frog populations (see Dispersal Habitat section). As stated above, the California red-legged frog has been documented to disperse from ponds and streams a distance greater than 2.0 mi (3.2 km) (Bulger et al. 2003, p. 90). However, based on our review of the best scientific data available, we determined that the 2.0-mi (3.2-km) distance is likely near the maximum dispersal distance for the species during a single season, and that the 1-mi (1.6-km) distance is more reflective of the average dispersal distance for the California red-legged frog (Rathbun et al. 1993, pp. 15, 16; Wright 1999, pp. 1, 2; Bulger et al. 2003, p. 90; Tatarian 2004, Table 9; Fellers and Kleeman 2005, pp. 14-16; Fellers and Kleeman 2007, pp. 276-286). We recognize that upland habitat features will influence California red-legged frog movements in a particular landscape. As a result, we made adjustments to the upland areas of the critical habitat boundaries to include lands up to the watershed boundaries or habitat containing the PCEs beyond the 1-mi (1.6-km) distance (where appropriate) to aggregate clumps of occurrences and provide connectivity between occurrences. Whenever determinable, we removed areas not containing the PCEs from this revised designation, including agricultural, developed, disturbed, or fragmented lands.

We evaluated the resulting units and refined the boundaries of the units within each watershed if it could be determined that certain areas within the units did not contain the primary constituent elements, were developed, or had dispersal barriers. We did not designate some areas because: (1) They do not contain sufficient PCEs to support one or more of the species' life processes; (2) the habitat within the area is highly degraded and is likely not restorable; (3) the area is small, highly fragmented, or isolated and likely provides little or no long-term conservation value; or (4) we determined that a sufficient amount of critical habitat had already been designated for an area. We applied this last criterion by evaluating the number of occurrence records for an area, the area's habitat quality or uniqueness, and the likelihood of persistence of the occurrences for an area.

Finally, we focused on areas of high California red-legged frog abundance and areas needed to maintain connectivity between aquatic breeding habitats. We used the core areas identified in the recovery plan (Service 2002, pp.1-173) to assist in focusing the areas and extent of the critical habitat boundaries. We refined unit boundaries by using watershed boundaries from the State of California's CALWATER watershed classification system (version 2.2) using the smallest (planning watersheds) watershed designation. Visual inspection of mapped California red-legged frog occurrence records revealed un-surveyed regions surrounded by surveyed regions (mostly adjacent to highly developed areas). Rather than designating critical habitat in a development fringe (areas adjacent to development), we designated in areas where fewer surveys may have been conducted but where California red-legged frogs are likely to occur based on nearby records and on similarity of habitat and presence of the physical and biological features essential to the conservation of the species. In areas where planning watersheds were large or hydrology was significantly altered, we used alternative structural, political, or topographic boundaries (e.g., streams, roads, county boundaries, ridgeline features, elevation contour lines) as the critical habitat boundary. These landscape features were used as critical habitat boundaries in these planning watershed areas because using a watershed boundary would have incorporated areas outside the species' dispersal distance or areas of unknown conservation value for the California red-legged frog. We made every attempt to connect localized California red-legged frog populations into single critical habitat units, if sufficient PCEs were present, in an attempt to combine similar habitats and to provide for better management of the unit.

When determining critical habitat boundaries within this final rule, we made every effort to avoid including developed areas such as lands covered by buildings, pavement, and other structures because such lands lack essential features for the California red-legged frog. The scale of the maps we prepared under the parameters for publication within the Code of Federal Regulations may not reflect the exclusion of such developed lands. Any such structures and the land under them inadvertently left inside critical habitat boundaries shown on the maps of this final revised critical habitat are excluded by text in this final rule. Therefore, a Federal action involving these lands would not trigger section 7 consultation with respect to critical habitat and the requirement of no destruction or adverse modification, unless the specific action may affect adjacent critical habitat.

Final Critical Habitat Designation

We are designating approximately 1,636,609 ac (662,312 ha) of critical habitat for the California red-legged frog in 48 units that we proposed as revised critical habitat. We have determined that all units were occupied at the time of listing. The critical habitat areas in Tables 1 and 2, and the unit descriptions below constitute our best assessment at this time of areas that meet the definition of critical habitat for the California red-legged frog. Table 1 lists those units we are excluding from critical habitat under section 4(b)(2) of the Act. Table 2 identifies the approximate area designated as critical habitat for the California red-legged frog by land ownership. Due to the conversion of GIS data from two different geographic projection zones (zone 10 and zone 11) and conversion of the data to acres and hectares, some rounding adjustments may be reflected in the area estimates.

TABLE 1. Summary of areas excluded from the designation of critical habitat for the California red-legged frog under section 4(b)(2) of the Act.
Unit | Areas of Critical Habitat: ac | Areas of Critical Habitat: ha | Areas Excluded: ac | Areas Excluded: ha
ELD-1 | 5,525 | 2,236 | 54 | 22
CCS-2 | 138,858 | 56,194 | 90,394 | 36,581
SCZ-1 | 72,255 | 29,241 | 6 | 2
SLO-2 | 117,449 | 47,530 | 34,777 | 14,074
SLO-3 | 122,420 | 49,541 | 5,612 | 2,271
STB-2 | 36,004 | 14,570 | 23,912 | 9,684
STB-4 | 8,693 | 3,518 | 1,001 | 405
RIV-1 | 4,069 | 1,647 | 4,069 | 1,647
Total |  |  | 159,825 | 64,686

TABLE 2. Critical habitat units designated for the California red-legged frog.
Unit/Subunit | Federal: ac | Federal: ha | State: ac | State: ha | Local/Tribal*: ac | Local/Tribal*: ha | Private: ac | Private: ha | Total
BUT-1 | 3,256 | 1,318 | 281 | 114 |  |  | 1,757 | 711 | 5,294 | 2,142
YUB-1 | 2,494 | 1,009 |  |  |  |  | 3,828 | 1,549 | 6,322 | 2,558
NEV-1 | 3,171 | 1,283 | 12 | 5 |  |  | 5,102 | 2,065 | 8,285 | 3,353
PLA-1 | 814 | 329 |  |  |  |  | 430 | 174 | 1,243 | 503
ELD-1 | 705 | 285 |  |  |  |  | 4,766 | 1,929 | 5,471 | 2,214
CAL-1 |  |  |  |  |  |  | 2,764 | 1,119 | 2,764 | 1,119
MEN-1 | 86 | 35 | 296 | 120 | 92* | 37* | 21,340 | 8,636 | 21,814 | 8,828
SON-1 |  |  | 1,157 | 468 |  |  | 407 | 165 | 1,564 | 633
SON-2 |  |  |  |  |  |  | 4,932 | 1,996 | 4,932 | 1,996
SON-3 |  |  |  |  | 105 | 42 | 2,125 | 860 | 2,230 | 902
NAP-1 |  |  |  |  |  |  | 2,524 | 1,022 | 2,524 | 1,022
MRN-1 |  |  | 11 | 4 |  |  | 7,829 | 3,168 | 7,840 | 3,173
MRN-2 |  |  |  |  | 1,046 | 423 | 21,513 | 8,706 | 22,559 | 9,129
MRN-3 | 31,403 | 12,709 | 147 | 60 |  |  | 2,050 | 830 | 33,600 | 13,598
SOL-1 |  |  |  |  |  |  | 11,971 | 4,845 | 11,971 | 4,845
SOL-2 |  |  |  |  |  |  | 3,360 | 1,360 | 3,360 | 1,360
SOL-3 |  |  |  |  | 1,087 | 440 | 3,510 | 1,421 | 4,597 | 1,861
CCS-1 |  |  |  |  | 9,835 | 3,980 | 4,010 | 1,623 | 13,845 | 5,603
CCS-2A |  |  | 3,006 | 1,217 | 277 | 112 | 944 | 382 | 4,227 | 1,711
CCS-2B |  |  | 4,059 | 1,643 | 3,088 | 1,250 | 37,322 | 15,104 | 44,470 | 17,996
ALA-1A |  |  |  |  | 603 | 244 | 3,047 | 1,233 | 3,650 | 1,477
ALA-1B |  |  |  |  | 3,667 | 1,484 | 6,492 | 2,627 | 10,159 | 4,111
ALA-2 | 6,892 | 2,789 | 3,932 | 1,591 | 39,525 | 15,995 | 103,276 | 41,794 | 153,624 | 62,169
SNM-1 |  |  | 12 | 5 | 2,096 | 848 | 32,844 | 13,292 | 34,952 | 14,145
SNM-2 | 406 | 164 | 4,004 | 1,620 | 6,332 | 2,563 | 85,396 | 34,559 | 96,138 | 38,906
STC-1 | 37 | 15 |  |  | 8,451 | 3,420 | 43,795 | 17,723 | 52,283 | 21,158
STC-2 | 604 | 244 | 53,267 | 21,556 | 74 | 30 | 150,773 | 61,016 | 204,718 | 82,846
SCZ-1 | 226 | 92 | 20,562 | 8,321 |  |  | 51,460 | 20,825 | 72,249 | 29,238
SCZ-2 | 115 | 46 |  |  |  |  | 3,942 | 1,595 | 4,057 | 1,642
MNT-1 |  |  |  |  |  |  | 519 | 210 | 519 | 210
MNT-2 | 26,098 | 10,562 | 374 | 151 | 1,373 | 556 | 91,647 | 37,088 | 119,492 | 48,357
MNT-3 | 9,960 | 4,030 | 4,245 | 1,718 |  |  | 13,338 | 5,398 | 27,542 | 11,146
SNB-1 | 13 | 5 | 3,109 | 1,258 |  |  | 33,172 | 13,424 | 36,294 | 14,687
SNB-2 |  |  |  |  |  |  | 17,356 | 7,024 | 17,356 | 7,024
SNB-3 | 20,048 | 8,113 |  |  |  |  | 43,706 | 17,687 | 63,753 | 25,800
SLO-1 | 169 | 68 |  |  |  |  | 17,849 | 7,223 | 18,018 | 7,292
SLO-2 | 440 | 178 | 648 | 262 |  |  | 81,585 | 33,016 | 82,673 | 33,457
SLO-3 | 29,104 | 11,778 | 5,737 | 2,322 |  |  | 81,676 | 33,053 | 116,517 | 47,153
SLO-4 | 26,183 | 10,596 |  |  |  |  | 8,280 | 3,351 | 34,463 | 13,947
STB-1 | 20,896 | 8,456 |  |  |  |  | 4,269 | 1,727 | 25,164 | 10,184
STB-2 | 35 | 14 |  |  |  |  | 12,031 | 4,869 | 12,066 | 4,883
STB-3 | 40,148 | 16,247 |  |  |  |  | 7,411 | 2,999 | 47,559 | 19,246
STB-4 | 44 | 18 |  |  |  |  | 7,641 | 3,092 | 7,685 | 3,110
STB-5 | 1,547 | 626 | 2,074 | 839 |  |  | 9,267 | 3,750 | 12,888 | 5,216
STB-6 | 1,881 | 761 | 29 | 12 |  |  | 10,075 | 4,077 | 11,985 | 4,850
STB-7 | 124,831 | 50,517 | 8 | 3 |  |  | 20,282 | 8,208 | 145,121 | 58,728
VEN-1 |  |  |  |  |  |  | 2,915 | 1,180 | 2,915 | 1,180
VEN-2 | 8,363 | 3,384 |  |  |  |  | 474 | 192 | 8,837 | 3,576
VEN-3 | 56 | 23 |  |  | 2,048 | 830 | 2,896 | 1,171 | 5,000 | 2,024
LOS-1 | 3,909 | 1,582 |  |  |  |  | 322 | 130 | 4,231 | 1,712
Total | 363,931 | 147,278 | 106,970 | 43,289 | 79,700 | 32,254 | 1,090,223 | 441,197 | 1,636,609 | 662,312

Note: Area estimates (ac, (ha)) reflect the entire area within the critical habitat unit boundaries; areas supporting PCEs may have been included inadvertently as a result of mapping limitations. Due to conversion and rounding unit totals may not sum.

Presented below are brief descriptions of the units we are designating as revised critical habitat for the California red-legged frog. The units are listed in order geographically north to south and west to east, with the exception of units in the Sierra Nevada foothills, which are listed first, north to south. For more information about the areas excluded from critical habitat, please see the “Exclusions Under Section 4(b)(2) of the Act” section of this final rule.

BUT-1, Hughes Place Pond

This unit consists of approximately 5,294 ac (2,142 ha) and is located in east-central Butte County, east of State Highway 70 and west of Oroville-Quincy Highway. This unit is mapped entirely from occurrences recorded subsequent to the time of listing, but based on life history and population dynamics of the species the area was most likely occupied at the time of listing. The unit is essential for the conservation of the species because the area contains aquatic habitat for breeding and non-breeding activities (PCE 1 and PCE 2), contains upland habitat for foraging and dispersal activities (PCE 3 and PCE 4), and is currently occupied by the species. This unit encompasses one of six extant Sierra Nevada foothill populations identified since the time of listing and is located in the easternmost portion of the species' historical range. This unit would form one of the core areas for the species and would assist in maintaining the distribution of the species within the Sierra Nevada Mountains. This unit represents the California red-legged frog's adaptation to a wide range of habitat and ecological conditions, and contains high-quality habitat. Land ownership within this unit consists of approximately 3,256 ac (1,318 ha) of Federal land, 281 ac (114 ha) of State land, and 1,757 ac (711 ha) of private land.

The essential features in this unit may require special management considerations or protection due to necessary wildland fire suppression activities, which may dewater aquatic habitats and thereby result in the desiccation of egg masses or direct death of adults from water drafting; timber harvest activities; and predation by non-native species. Please see the Special Management Considerations or Protection section of this final rule for a detailed discussion of the threats to California red-legged frog habitat and potential management considerations.

YUB-1, Little Oregon Creek

This unit consists of approximately 6,322 ac (2,558 ha) of land and is located in northeastern Yuba County, north of Marysville Road and south of La Porte Road. YUB-1 is mapped entirely from records identified since the time of listing, but based on life history and population dynamics of the species the area was most likely occupied at the time of listing. The unit is considered essential for the conservation of the species because it contains aquatic habitat for breeding and non-breeding activities (PCE 1 and PCE 2), contains upland habitat for foraging and dispersal activities (PCE 3 and PCE 4), and is currently occupied by the species. YUB-1 is one of six known extant Sierra Nevada foothill populations and is located in the easternmost portion of the species' historical range. This unit would form one of the core areas for the species and would assist in maintaining the distribution of the species within the Sierra Nevada Mountains. This unit represents the California red-legged frog's adaptation to a wide range of habitat and ecological conditions, is known to be occupied, and contains high-quality habitat. This unit consists of Federal (2,494 ac (1,009 ha)) and private (3,828 ac (1,549 ha)) lands.

The essential features in this unit may require special management considerations or protection due to necessary wildland fire suppression activities, which may dewater aquatic habitats and thereby result in the desiccation of egg masses or direct death of adults from water drafting; timber harvest activities; and predation by non-native species. Please see the Special Management Considerations or Protection section of this final rule for a detailed discussion of the threats to California red-legged frog habitat and potential management considerations.

NEV-1, Sailor Flat

This unit is comprised of approximately 8,285 ac (3,353 ha) of land and is located in central Nevada County, approximately 3 mi (5 km) northeast of Nevada City, south of Tyler Foote Road and north of State Highway 20. NEV-1 is mapped entirely from occurrences recorded subsequent to the time of listing, but based on life history and population dynamics of the species the area was most likely occupied at the time of listing. The unit is considered essential for the conservation of the species because it contains aquatic habitat for breeding and non-breeding activities (PCE 1 and PCE 2), contains upland habitat for foraging and dispersal activities (PCE 3 and PCE 4), and is occupied by the species. NEV-1 is one of six known extant Sierra Nevada foothill populations and is located in the easternmost portion of the species' historical range. This unit would form one of the core areas for the species and would assist in maintaining the distribution of the species within the Sierra Nevada Mountains. This unit represents the California red-legged frog's adaptation to a wide range of habitat and ecological variability, is currently known to be occupied, and contains high-quality habitat. This unit consists of Federal (3,171 ac (1,283 ha)), State (12 ac (5 ha)) and private (5,102 ac (2,065 ha)) lands.

The essential features in this unit may require special management considerations or protection due to necessary wildland fire suppression activities, which may dewater aquatic habitats and thereby result in the desiccation of egg masses or direct death of adults from water drafting; timber harvest activities; and predation by non-native species. Please see the Special Management Considerations or Protection section of this final rule for a detailed discussion of the threats to California red-legged frog habitat and potential management considerations.

PLA-1, Michigan Bluff

This unit is comprised of approximately 1,243 ac (503 ha) of land and is located in central Placer County Nevada County, approximately 4 mi (6 km) east northeast of Foresthill. Unit PLA-1 is mapped entirely from occurrences recorded subsequent to listing, but based on life history and population dynamics of the species the area was most likely occupied at the time of listing. The unit is considered essential for the conservation of the species because it contains aquatic habitat for breeding and non-breeding activities (PCE 1 and PCE 2), contains upland habitat for foraging and dispersal activities (PCE 3 and PCE 4), and is occupied by the species. PLA-1 is one of six known extant Sierra Nevada foothill populations and is located in the easternmost portion of the species' historical range. This unit would form one of the core areas for the species and would assist in maintaining the distribution of the species within the Sierra Nevada Mountains. This unit represents the California red-legged frog's adaptation to a wide range of habitat and ecological variability, is currently known to be occupied, and contains high-quality habitat. This unit consists of Federal (814 ac (329 ha)) and private (430 ac (174 ha)) lands.

The essential features in this unit may require special management considerations or protection due to necessary wildland fire suppression activities, which may dewater aquatic habitats and thereby result in the desiccation of egg masses or direct death of adults from water drafting; timber harvest activities; and predation by non-native species. Please see the “Special Management Considerations or Protection” section of this final rule for a detailed discussion of the threats to California red-legged frog habitat and potential management considerations.

ELD-1, Spivey Pond

This unit is comprised of approximately 5,471 ac (2,214 ha) of land and is located in central El Dorado County, south of State Highway 50 and east of Newton Road. ELD-1 is mapped entirely from occurrences recorded subsequent to listing. However, records at this location were first reported 1 year after listing (1997). Based on the number of mature, reproducing adults and non-reproducing juveniles, we have determined that this site was occupied at the time of listing. This unit contains features essential for the conservation of the species, including aquatic habitat for breeding and non-breeding activities (PCE 1 and PCE 2) and upland habitat for foraging and dispersal activities (PCE 3 and PCE 4), and is occupied by the species. ELD-1 is 1 of 6 known extant Sierra Nevada foothill populations and is located in the easternmost portion of the species' historical range. This unit would form one of the core areas for the species and would assist in maintaining the distribution of the species within the Sierra Nevada Mountains. This unit represents the California red-legged frog's adaptation to a wide range of habitat and ecological variability, is currently known to be occupied, and contains high-quality habitat. The unit consists of Federal (705 ac (285 ha)) land and private (4,766 ac (1,929 ha)) lands. The essential features in this unit may require special management considerations or protection due to necessary wildland fire suppression activities, which may dewater aquatic habitats and thereby result in the desiccation of egg masses or direct death of adults from water drafting; timber harvest activities; and predation by nonnative species. Snows Quarry does not contain the PCEs, and we have removed it from this final designation of revised critical habitat. However, due to technical mapping constraints we did not physically remove the area from the map depicting unit ELD-1. A portion of the lands containing features essential to the conservation of the California red-legged frog in Unit ELD-1 have been excluded from critical habitat designation under section 4(b)(2) of the Act (see Application of Section 4(b)(2) of the Act section below).

CAL-1, Young's Creek

This unit is comprised of approximately 2,764 ac (1,119 ha) of land and is located in northwestern Calaveras County, north of State Highway 26 and south of Paloma Road. CAL-1 is mapped entirely from occurrences recorded subsequent to the time of listing and based on life history and population dynamics of the species the area was most likely occupied at the time of listing. The unit is essential for the conservation of the species because it contains aquatic habitat for breeding and non-breeding activities (PCE 1 and PCE 2), and upland habitat for foraging and dispersal activities (PCE 3 and PCE 4), and is occupied by the species. This unit encompasses one of six known extant Sierra Nevada foothill populations identified since the time of listing and is located in the easternmost portion of the species historical range. This unit would form one of the core areas for the species and would assist in maintaining the distribution of the species within the Sierra Nevada Mountains. This unit represents the California red-legged frog's adaptation to a wide range of habitat and ecological variability, is currently known to be occupied, and contains high-quality habitat. The unit consists entirely of private land. The essential features in this unit may require special management considerations or protection due to necessary wildland fire suppression activities, which may dewater aquatic habitats and thereby result in the desiccation of egg masses or direct death of adults from water drafting; overgrazing of land; and predation by non-native species. Please see the Special Management Considerations or Protection section of this final rule for a detailed discussion of the threats to California red-legged frog habitat and potential management considerations.

MEN-1, Mills Creek

This unit is comprised of approximately 21,814 ac (8,828 ha) of land and is located along the coast north and west of Manchester, California, including the majority of the Mills Creek watershed in Mendocino County. MEN-1 contains aquatic habitat for breeding and non-breeding activities (PCE 1 and PCE 2), and upland habitat for foraging and dispersal activities (PCE 3 and PCE 4). The records within the unit were identified subsequent to listing as northern Mendocino County was thought to be outside the known range of the species. Based on life history and populations dynamics of the species this area was most likely occupied at the time of listing. Subsequent genetic research has confirmed the species occurs in this part of Mendocino County (Shaffer et al. 2004, p. 2676). This unit is currently occupied and is essential to the conservation of the species because it contains permanent and ephemeral aquatic habitats consisting of streams and natural and manmade ponds surrounded by emergent vegetation and marshland with upland comprised of forested timber that provides for breeding and other upland areas for dispersal, shelter, and foraging. The unit also contains freshwater pond and stream habitats associated with upland dune complexes near the coast. Additionally, the unit represents the northernmost extent of the species' range along the coast of California and may be genetically significant to the species (Shaffer et al. 2004, p. 2676). The unit consists of approximately 86 acres (ac) (35 hectares (ha)) of Federal land; 296 ac (120 ha) of State land; 92 ac (37 ha) of Tribal land; and 21,340 ac (8,636 ha) of private land.

The physical and biological features essential to the conservation of California red-legged frog in the MEN-1 unit may require special management considerations or protection due to non-native animal species, habitat alteration from invasive plant species, timber harvesting which may alter aquatic or upland habitats and thereby result in the direct or indirect loss of egg masses or adults due to habitat modification and predation. Please see the Special Management Considerations or Protection section of this final rule for a detailed discussion of the threats to California red-legged frog habitat and potential management considerations.

SON-1, Annadel

This unit is comprised of approximately 1,564 ac (633 ha) of land, is located in Annadel State Park southeast of Santa Rosa, California, in Sonoma County, and contains features that are essential for the conservation of the species. SON-1 was known to be occupied at the time of listing and is currently occupied. SON-1 contains aquatic habitat for breeding and non-breeding activities (PCE 1 and PCE 2), and upland habitat for foraging and dispersal activities (PCE 3 and PCE 4). The unit contains permanent and ephemeral aquatic habitat consisting of marshland ponds with emergent vegetation surrounded by bulrush (Scirpus spp.) and cattail (Typha spp.), annual and perennial grasslands, oak forest, and Douglas-fir forests, which allow for breeding and non-breeding pond activities. Upland areas in the unit provide for dispersal, shelter, and foraging. The unit provides for connectivity between populations farther south in the northbay area (area north of San Francisco Bay), and contains high-quality, protected habitat. The unit also represents the distribution of the California red-legged frog in the northern interior Coast Range. The unit consists of State (1,157 ac (468 ha)) and private (407 ac (165 ha)) lands and is mapped from occurrences recorded at the time of listing and subsequent to the time of listing.

The physical and biological features essential to the conservation of California red-legged frog in the SON-1 unit may require special management considerations or protection due to nonnative animal species, habitat alteration from invasive plant species, and recreational use which may alter aquatic or upland habitats and thereby result in the direct or indirect loss of egg masses or adults due to habitat modification and predation. Please see the “Special Management Considerations or Protection” section of this final rule for a detailed discussion of the threats to California red-legged frog habitat and potential management considerations.

SON-2, Sonoma Mountain

This unit is comprised of approximately 4,932 ac (1,996 ha) of land and is located east of Petaluma, California, in the Sonoma Mountains in Sonoma County. SON-2 is mapped from occurrences recorded at the time and subsequent to the time of listing and is currently occupied. This unit is essential to the conservation of the species because it contains permanent and ephemeral breeding and non-breeding aquatic habitats (PCE 1 and PCE 2) consisting of natural and manmade ponds surrounded by emergent vegetation and marshland with appropriate upland areas for dispersal, shelter, and foraging (PCE 3 and PCE 4). The unit also provides for connectivity between populations farther north and south in the northbay (Counties North of San Francisco Bay), and contains high-quality habitat. The unit also represents the distribution of the California red-legged frog in the northern interior Coast Range. The unit consists entirely of private land.

The physical and biological features essential to the conservation of California red-legged frog in the SON-2 unit may require special management considerations or protection due to predation by nonnative species, and habitat alteration from invasive plant species, which may alter aquatic or upland habitats and thereby result in the direct or indirect loss of egg masses or adults due to habitat modification. Please see the Special Management Considerations or Protection section of this final rule for a detailed discussion of the threats to California red-legged frog habitat and potential management considerations.

SON-3, Petaluma

This unit is comprised of approximately 2,230 ac (902 ha) of land and is located southwest of Petaluma, California, near West Petaluma Regional Park in Sonoma County. SON-3 is mapped entirely from occurrences recorded subsequent to the time of listing, but based on life history and population dynamics of the species the area was most likely occupied at the time of listing. The unit is essential for the conservation of the species because it provides for connectivity between populations farther west in the northbay, and contains high-quality habitat. The unit also represents the distribution of the California red-legged frog in the northern interior Coast Range. This unit also contains aquatic habitat for breeding and non-breeding activities (PCE 1 and PCE 2), and upland habitat for foraging and dispersal activities (PCE 3 and PCE 4). SON-3 is currently occupied and contains permanent and ephemeral aquatic habitats comprised of manmade ponds and connecting streams surrounded by riparian and grassland habitat that provide for breeding, and upland areas for dispersal, shelter, and foraging. The unit consists of local government lands (105 ac (42 ha)) and private lands (2,125 ac (860 ha)).

The physical and biological features essential to the conservation of California red-legged frog in the SON-3 unit may require special management considerations or protection due to non-native animal species, habitat alteration from invasive plant species, and recreational use which may alter aquatic or upland habitats and thereby result in the direct or indirect loss of egg masses or adults due to habitat modification and predation. Please see the “Special Management Considerations or Protection” section of this final rule for a detailed discussion of the threats to California red-legged frog habitat and potential management considerations.

NAP-1, Wragg Creek

This unit is comprised of approximately 2,524 ac (1,022 ha) of land, is located in east-central Napa County, is bisected by State Highway 128, and lies largely to the west of State Highway 121. NAP-1 was known to be occupied at the time of listing, is currently occupied, and contains the features that are essential for the conservation of the species. The unit contains aquatic habitat for breeding and non-breeding activities (PCE 1 and PCE 2), and upland habitat for foraging and dispersal activities (PCE 3 and PCE 4). The unit contains permanent and ephemeral aquatic habitats suitable for breeding and upland areas for dispersal, shelter, and food. The unit provides for connectivity between populations northwest of the northbay; represents the northern extent of the species' range in the northern interior Coast Range; and contains high-quality habitat. The unit consists entirely of private land and is mapped from occurrences recorded at the time of listing and subsequent to the time of listing.

The physical and biological features essential to the conservation of California red-legged frog in the NAP-1 unit may require special management considerations or protection due to predation by nonnative species and habitat disturbance, which may alter aquatic or upland habitats and thereby result in the direct or indirect loss of egg masses or adults due to habitat modification. Please see the Special Management Considerations or Protection section of this final rule for a detailed discussion of the threats to California red-legged frog habitat and potential management considerations.

MRN-1, Estero

This unit is comprised of approximately 7,840 ac (3,173 ha) of land and is located in northwestern Marin County, west of State Highway 1 along the Estero de San Antonio. MRN-1 is occupied and contains occurrences recorded at the time of listing and subsequent to the time of listing. The area is occupied by the species, and contains features essential to the conservation of the species because it contains aquatic habitat for breeding and non-breeding activities (PCE 1 and PCE 2), and upland habitat for foraging and dispersal activities (PCE 3 and PCE 4). MRN-1 provides for connectivity between populations in the northbay region. The unit also represents the distribution of the California red-legged frog in the northbay coastal area. The unit contains permanent and ephemeral aquatic habitats, such as shallow and deep pools, as well as ephemeral and permanent drainages surrounded by grasslands, emergent and other riparian vegetation that provide for aquatic breeding and non-breeding, and upland areas for dispersal, shelter, and foraging. The unit consists of 11 ac (4 ha) of State land and 7,829 ac (3,168 ha) of private land.

The physical and biological features essential to the conservation of California red-legged frog in the MRN-1 unit may require special management considerations or protection due to overgrazing of aquatic and riparian habitats, introduction of exotic vegetation, and urban development, which may alter aquatic or upland habitats and thereby result in the direct or indirect loss of egg masses or adults due to habitat modification. Please see the “Special Management Considerations or Protection” section of this final rule for a detailed discussion of the threats to California red-legged frog habitat and potential management considerations.

MRN-2, Salmon Creek

This unit is comprised of approximately 22,559 ac (9,129 ha) of land and is located in north-central Marin County, east of State Highway 1 and north of Point Reyes Petaluma Road. MRN-2 is occupied and contains occurrences recorded subsequent to the time of listing, but based on life history and population dynamics of the species the area was most likely occupied at the time of listing. The area is essential to the conservation of the species because it contains aquatic habitat for breeding and non-breeding activities (PCE 1 and PCE 2), contains upland habitat for foraging and dispersal activities (PCE 3 and PCE 4), and is occupied by the species. MRN-2 provides for connectivity between populations in the northbay region of the species' coastal range. The unit also represents the distribution of the California red-legged frog in the northbay coastal area. The unit contains permanent and ephemeral aquatic habitats suitable for breeding; upland areas for dispersal, shelter, and food; and high-quality habitat. The unit consists of 1,046 ac (423 ha) of local government land and 21,513 ac (8,706 ha) of private land.

The physical and biological features essential to the conservation of California red-legged frog in the MRN-2 unit may require special management considerations or protection due to non-native animal species, habitat alteration from invasive plant species, and recreational use which may alter aquatic or upland habitats and thereby result in the direct or indirect loss of egg masses or adults due to habitat modification and predation. Please see the Special Management Considerations or Protection section of this final rule for a detailed discussion of the threats to California red-legged frog habitat and potential management considerations.

MRN-3, Point Reyes Peninsula

This unit is comprised of approximately 33,600 ac (13,598 ha) of land and is located in western Marin County, west of State Highway 1. MRN-3 contains the features that are essential for the conservation of the species. The unit contains aquatic habitat for breeding and non-breeding activities (PCE 1 and PCE 2), and upland habitat for foraging and dispersal activities (PCE 3 and PCE 4). MRN-3 was known to be occupied at the time of listing and is currently occupied. The unit contains high-quality permanent and ephemeral aquatic habitats suitable for breeding, and upland areas for dispersal, shelter, and food. The unit provides for connectivity between populations farther north and inland and represents the southern portion of the geographic range of the California red-legged frog within the northbay coastal region. The unit consists of Federal land (National Park Service) (31,403 ac (12,709 ha)), State land (147 ac (60 ha)), and private land (2,050 ac (830 ha)) and is mapped from occurrences recorded at the time of listing and subsequent to the time of listing.

The physical and biological features essential to the conservation of California red-legged frog in the MRN-3 unit may require special management considerations or protection due to predation by non-native species and to overgrazing of aquatic and riparian habitats which may alter aquatic or upland habitats and thereby result in the direct or indirect loss of egg masses or adults due to habitat modification. Please see the Special Management Considerations or Protection section of this final rule for a detailed discussion of the threats to California red-legged frog habitat and potential management considerations.

SOL-1, Sky Valley

This unit is comprised of approximately 11,971 ac (4,845 ha) of land and is located in southwestern Solano County and a portion of extreme southeastern Napa County, south of Interstate 80 and west of Interstate 680. SOL-1 contains the features that are essential for the conservation of the species. The unit contains aquatic habitat for breeding and non-breeding activities (PCE 1 and PCE 2), and upland habitat for foraging and dispersal activities (PCE 3 and PCE 4). Unit SOL-1 was known to be occupied at the time of listing and is currently occupied. The unit contains high-quality permanent and ephemeral aquatic habitats suitable for breeding, and upland areas for dispersal, shelter, and food. The designation of this unit is expected to prevent further fragmentation of habitat in this portion of the species' range and represents the southern extent of the species in the interior Coast Range north of the Suisun Bay. The unit consists entirely of private land and is mapped from occurrences recorded at the time of listing and subsequent to the time of listing.

The physical and biological features essential to the conservation of California red-legged frog in the SOL-1 unit may require special management considerations or protection due to overgrazing of aquatic and riparian habitats, and removal and alteration of habitat due to urbanization, which may alter or eliminate aquatic or upland habitats and thereby result in the direct or indirect loss of egg masses adults. Please see the Special Management Considerations or Protection section of this final rule for a detailed discussion of the threats to California red-legged frog habitat and potential management considerations.

SOL-2, Jameson Canyon

This unit is comprised of approximately 3,360 ac (1,360 ha) of land and is located in southwestern Solano County and a portion of extreme southeastern Napa County, south of Interstate 80 and west of Interstate 680. SOL-2 is mapped entirely from records found subsequent to the time of listing and is currently occupied, but based on life history and population dynamics of the species the area was most likely occupied at the time of listing. SOL-2 is essential for the conservation of the species because it provides connectivity to adjacent units to the south in the interior Coast Range north of the Suisun Bay and is expected to prevent further fragmentation of habitat in this portion of the species' range. This unit also contains aquatic habitat for breeding and non-breeding activities (PCE 1 and PCE 2), and upland habitat for foraging and dispersal activities (PCE 3 and PCE 4). The unit contains high-quality permanent and ephemeral aquatic habitats consisting of stream and plunge pools as well as large freshwater marsh surrounded by open grassland, willow (Salix spp.), and oak (Quercus agrifolia) that provide for breeding, and upland areas for dispersal, shelter, and foraging. The unit consists entirely of private land.

The physical and biological features essential to the conservation of California red-legged frog in the SOL-2 unit may require special management considerations or protection due to non-native animal species, over grazing of habitat, urbanization, habitat alteration from invasive plant species, and recreational use which may alter aquatic or upland habitats and thereby result in the direct or indirect loss of egg masses or adults due to habitat modification and predation. Please see the Special Management Considerations or Protection section of this final rule for a detailed discussion of the threats to California red-legged frog habitat and potential management considerations.

SOL-3, American Canyon

This unit is comprised of approximately 4,597 ac (1,861 ha) of land and is located in southwestern Solano County and a portion of extreme southeastern Napa County, north of Interstate 80 and south of Highway 12. SOL-3 was known to be occupied at the time of listing and is currently occupied. SOL-3 contains the features that are essential for the conservation of the species. The unit contains aquatic habitat for breeding and non-breeding activities (PCE 1 and PCE 2), and upland habitat for foraging and dispersal activities (PCE 3 and PCE 4). The unit contains high-quality permanent and ephemeral aquatic habitats consisting of pools, stream, and spring habitat surrounded by riparian tree species and annual grasslands that provide for breeding, and upland areas for dispersal, shelter, and foraging. The designation of this unit is expected to prevent further fragmentation of habitat in this portion of the species' range and provides connectivity to other units farther north and south in the interior Coast Range north of the Suisun Bay. The unit consists of 1,087 ac (440 ha) of local nonprofit ownership and 3,510 ac (1,421 ha) of private land and is mapped from occurrences recorded at the time of listing and subsequent to the time of listing.

The physical and biological features essential to the conservation of California red-legged frog in the SOL-3 unit may require special management considerations or protection due to overgrazing of aquatic and riparian habitats, and loss and alteration of habitat due to urbanization, which may alter or eliminate aquatic or upland habitats and thereby result in the direct or indirect loss of egg masses or adults. Please see the Special Management Considerations or Protection section of this final rule for a detailed discussion of the threats to California red-legged frog habitat and potential management considerations.

CCS-1, Berkeley Hills

This unit is comprised of approximately 13,845 ac (5,603 ha) of land and is located in western Contra Costa County, south of Alhambra Valley Road and north of Bear Creek Road. CCS-1 contains the features that are essential for the conservation of the species. The unit contains aquatic habitat for breeding and non-breeding activities (PCE 1 and PCE 2), and upland habitat for foraging and dispersal activities (PCE 3 and PCE 4). CCS-1 was known to be occupied at the time of listing, is currently occupied, and contains high-quality permanent and ephemeral aquatic habitats suitable for breeding and upland areas for dispersal, shelter, and food. The designation of this unit is expected to prevent further fragmentation of habitat in this portion of the species' range. The unit also represents the northern extent of the California red-legged frog in the eastbay region (area east of San Francisco Bay). The unit consists of private (4,010 ac (1,623 ha)) and local government (9,835 ac (3,980 ha)) lands.

The physical and biological features essential to the conservation of California red-legged frog in the CCS-1 unit may require special management considerations or protection due to predation by nonnative species, and removal and alteration of habitat due to urbanization, and overgrazing of aquatic and riparian habitats, which may alter aquatic and upland habitats and thereby result in the direct or indirect loss of egg masses or adults due to habitat modification. Please see the Special Management Considerations or Protection section of this final rule for a detailed discussion of the threats to California red-legged frog habitat and potential management considerations.

CCS-2, Mount Diablo

This unit is comprised of two subunits (CCS-2A and CCS-2B), totals approximately 48,697 ac (19,707 ha) of land, and is located in eastern Contra Costa County and northeastern Alameda County, north of Highway 580. Unit CCS-2A (4,227 ac (1,711 ha)) and CCS-2B (44,470 ac (17,996 ha)) contain the features that are essential for the conservation of the species. The subunits contain aquatic habitat for breeding and non-breeding activities (PCE 1 and PCE 2), and upland habitat for foraging and dispersal activities (PCE 3 and PCE 4). Subunits CCS-2A and CCS-2B were known to be occupied at the time of listing and are currently occupied. The subunits contain permanent and ephemeral aquatic habitats suitable for breeding, and upland areas for dispersal, shelter, and food, and they provide for connectivity between populations farther south in the interior Coast Range. The Subunit CCS-2A also represents the northern extent of the California red-legged frog in the interior Coast Range. Subunit CCS-2B contains some of the highest concentrations of California red-legged frog and frog habitat and could serve as a source for potential reintroduction efforts. Subunit CCS-2A consists of State (3,006 ac (1,217 ha)), local government (277 ac (112 ha)), and private (944 ac (382 ha)) land, and subunit CCS-2B consists of State (4,059 ac (1,643 ha)), local government (3,088 ac (1,250 ha)), and private (37,322 ac (15,104 ha)) lands. Both subunits are mapped from occurrences recorded at the time of listing and subsequent to the time of listing.

The physical and biological features essential to the conservation of California red-legged frog in CCS-2 may require special management considerations or protection due to predation by nonnative species, urbanization, overgrazing of aquatic and riparian habitats, and erosion and siltation due to flooding, which may alter aquatic and upland habitats and thereby result in the direct or indirect loss of egg masses or adults. Please see the Special Management Considerations or Protection section of this final rule for a detailed discussion of the threats to California red-legged frog habitat and potential management considerations. A portion of the lands containing features essential to the conservation of the California red-legged frog in Unit CCS-2 have been excluded from critical habitat designation under section 4(b)(2) of the Act (see Application of Section 4(b)(2) of the Act section below).

ALA-1A, Dublin Canyon

This subunit is one of two subunits for the Alameda County area and is comprised of approximately 3,650 ac (1,477 ha) of land and is located in northwestern Alameda County and southern Contra Costa County, north of Highway 580 and west of Dublin, California. Unit ALA-1A contains the features that are essential for the conservation of the species. The subunit contains aquatic habitat for breeding and non-breeding activities (PCE 1 and PCE 2), and upland habitat for foraging and dispersal activities (PCE 3 and PCE 4). ALA-1A was known to be occupied at the time of listing and is currently occupied. The subunit contains permanent and ephemeral aquatic habitats that provide for breeding that are comprised of manmade stock ponds and natural streams with emergent vegetation, willows (Salix spp.), or are surrounded by riparian vegetation, grasslands and oak forest. These aquatic habitats also have adjacent upland areas for dispersal, shelter, and foraging opportunities. The subunit provides for connectivity between populations farther south in the eastbay foothills. The unit also represents the southern-most distribution of the California red-legged frog and its habitat in the east bay region. The subunit consists entirely of local government land (603 ac (244 ha)) and private land (3,047 ac (1,233 ha)) and is mapped from occurrences recorded at the time of listing and subsequent to the time of listing.

The physical and biological features essential to the conservation of California red-legged frog in the ALA-1A subunit may require special management considerations or protection due to removal and alteration of habitat due to urbanization, alteration of aquatic and riparian habitats, dumping, and erosion and siltation of ponded habitat, which may alter aquatic or upland habitats and thereby result in the direct or indirect loss of egg masses or adults. Please see the “Special Management Considerations or Protection” section of this final rule for a detailed discussion of the threats to California red-legged frog habitat and potential management considerations.

ALA-1B, Cook Canyon

This subunit is the second of two subunits and is comprised of approximately 10,159 ac (4,111 ha) of land and is located in northwestern Alameda County, south of Highway 580. Unit ALA-1B contains the features that are essential for the conservation of the species. The subunit contains aquatic habitat for breeding and non-breeding activities (PCE 1 and PCE 2), and upland habitat for foraging and dispersal activities (PCE 3 and PCE 4). ALA-1B was known to be occupied at the time of listing and is currently occupied. The subunit contains permanent and ephemeral aquatic habitats comprised of manmade stock ponds and natural streams with emergent vegetation, willows (Salix spp.) surrounded by riparian vegetation, grasslands and oak forest that provide for breeding, and upland areas for dispersal, shelter, and foraging opportunities. The subunit provides for connectivity between populations farther north in the eastbay foothills. The subunit also represents the southern-most distribution of the California red-legged frog and its habitat in the east bay region. The subunit consists of local government land (3,667 ac (1,484 ha)) and private land (6,492 ac (2,627 ha)) and is mapped from occurrences recorded at the time of listing and subsequent to the time of listing.

The physical and biological features essential to the conservation of California red-legged frog in the ALA-1B subunit may require special management considerations or protection due to removal and alteration of habitat due to urbanization, alteration of aquatic and riparian habitats, and erosion and siltation of ponded habitat, which may result in direct or indirect loss of egg masses or adults. Please see the Special Management Considerations or Protection section of this final rule for a detailed discussion of the threats to California red-legged frog habitat and potential management considerations.

ALA-2, Arroyo Valle

This unit is comprised of approximately 153,624 ac (62,169 ha) of land and is located in southwestern Alameda County, south of Highway 580 at Altamont Pass southeast into San Joaquin County and southwest into Santa Clara County near Arroyo Hondo and Calaveras Reservoir. Unit ALA-2 contains the features that are essential for the conservation of the species. The unit contains aquatic habitat for breeding and non-breeding activities (PCE 1 and PCE 2), and upland habitat for foraging and dispersal activities (PCE 3 and PCE 4). ALA-2 was known to be occupied at the time of listing and is currently occupied. The unit contains permanent and ephemeral aquatic habitats comprised of natural ponds and streams and manmade stock ponds with emergent vegetation, willows (Salix spp.) surrounded by riparian vegetation, grasslands and oak forest that provide for breeding, and upland areas for dispersal, shelter, and foraging opportunities. The unit provides for connectivity between populations farther north and south in the interior Coast Range. The unit consists of Federal (6,892 ac (2,789 ha)), State (3,932 ac (1,591 ha)), local government (39,525 ac (15,995 ha)), and private (103,276 ac (41,794 ha)) lands and is mapped from occurrences recorded at the time of listing and subsequent to the time of listing.

The physical and biological features essential to the conservation of California red-legged frog in the ALA-2 unit may require special management considerations or protection due to urbanization, alteration of aquatic and riparian habitats, and erosion and siltation of ponded habitat, which may alter aquatic or upland habitats and thereby result in the direct or indirect loss of egg masses or adults. Please see the Special Management Considerations or Protection section of this final rule for a detailed discussion of the threats to California red-legged frog habitat and potential management considerations.

SNM-1, Cahill Ridge

This unit is comprised of approximately 34,952 ac (14,145 ha) of land and is located in north central San Mateo County, west of Interstate 280 and south of Pacifica, California. SNM-1 contains the features that are essential for the conservation of the species. The unit contains aquatic habitat for breeding and non-breeding activities (PCE 1 and PCE 2), and upland habitat for foraging and dispersal activities (PCE 3 and PCE 4). SNM-1 was known to be occupied at the time of listing and is currently occupied. The unit contains high-quality permanent and ephemeral aquatic habitats consisting of ponds and streams surrounded by riparian and emergent vegetation that provides for breeding and upland areas for dispersal, shelter, and food. The unit represents the only unit in the San Francisco peninsula, and would assist in maintaining the distribution of the California red-legged frog population within the San Francisco area, and provide connectivity to units farther south into Santa Cruz County. The unit consists of State (12 ac (5 ha)), private (32,844 ac (13,292 ha)), and local government (2,096 ac (848 ha)) lands and is mapped from occurrences recorded at the time of listing and subsequent to the time of listing.

The physical and biological features essential to the conservation of California red-legged frog in the SNM-1 unit may require special management considerations or protection due to development and nonnative invasive plants, which may alter aquatic and upland habitats and thereby result in the direct or indirect loss of egg masses or adults. Please see the Special Management Considerations or Protection section of this final rule for a detailed discussion of the threats to California red-legged frog habitat and potential management considerations.

SNM-2, Pescadero

This unit is comprised of approximately 96,138 ac (38,906) of land and is located in southwestern San Mateo County, south of Tunitas Creek, west of State Route 35 south into Santa Cruz County near Big Basin Redwoods State Park. Unit SNM-2 contains the features that are essential for the conservation of the species. The unit contains aquatic habitat for breeding and non-breeding activities (PCE 1 and PCE 2), and upland habitat for foraging and dispersal activities (PCE 3 and PCE 4). SNM-2 was known to be occupied at the time of listing and is currently occupied. The unit contains high-quality permanent and ephemeral aquatic habitats consisting of ponds and streams surrounded by riparian and emergent vegetation that provides for breeding and upland areas for dispersal, shelter, and food. The unit provides connectivity to units farther north toward San Francisco and south into Santa Cruz County. The unit consists of Federal (406 ac (164 ha)), State (4,004 ac (1,620 ha)), local government (6,332 ac (2,563 ha)), and private (85,396 ac (34,559 ha)) lands and is mapped from occurrences recorded at the time of listing and subsequent to the time of listing.

The physical and biological features essential to the conservation of California red-legged frog in the SNM-2 unit may require special management considerations or protection due to development and nonnative invasive plants, which may alter aquatic and upland habitats and thereby result in the direct or indirect loss of egg masses or adults. Please see the Special Management Considerations or Protection section of this final rule for a detailed discussion of the threats to California red-legged frog habitat and potential management considerations.

STC-1, Cañada de Pala

This unit is comprised of approximately 52,283 ac (21,158 ha) of land and is located in north-central Santa Clara County, south of Calaveras Reservoir near Los Buellis Hills south along the ridgeline east of Santa Clara Valley to Anderson Lake and Henry Coe State Park. Unit STC-1 contains the features that are essential for the conservation of the species. The unit contains aquatic habitat for breeding and non-breeding activities (PCE 1 and PCE 2) and upland habitat for foraging and dispersal activities (PCE 3 and PCE 4). STC-1 was known to be occupied at the time of listing, is currently occupied, and contains high-quality permanent and ephemeral aquatic habitats consisting of artificial and natural ponds and streams surrounded by emergent vegetation, grasslands and oak woodlands that provide for breeding, and upland areas for dispersal, shelter, and food. The designation of this unit is expected to assist in preventing further fragmentation of habitat in this portion of the species' range and represents a connectivity corridor between units farther north into Contra Costa County and south into Merced and San Benito Counties. This unit consists of Federal (37 ac (15 ha)), local government (8,451 ac (3,420 ha)), and private (43,795 ac (17,723 ha)) lands and is mapped from occurrences recorded at the time of listing and subsequent to the time of listing.

The physical and biological features essential to the conservation of California red-legged frog in the STC-1 unit may require special management considerations or protection due to predation by nonnative species, urbanization, the presence of exotic species, siltation and erosion of ponded habitat, and overgrazing of aquatic and riparian habitats, which may alter aquatic or upland habitats and thereby result in the direct or indirect loss of egg masses or adults. Please see the “Special Management Considerations or Protection” section of this final rule for a detailed discussion of the threats to California red-legged frog habitat and potential management considerations.

STC-2, Wilson Peak

This unit is comprised of approximately 204,718 ac (82,846 ha) of land and is located in southeastern Santa Clara County to western Stanislaus County down to northern San Benito County from Henry Coe State Park south to Mount Ararat (Merced County) and Mariposa Peak (San Benito County) to San Felipe (Santa Clara County). Unit STC-2 contains the features that are essential for the conservation of the species. The unit also contains aquatic habitat for breeding and non-breeding activities (PCE 1 and PCE 2), and upland habitat for foraging and dispersal activities (PCE 3 and PCE 4). STC-2 was known to be occupied at the time of listing and is currently occupied. The unit contains high-quality permanent and ephemeral aquatic habitats suitable for breeding and upland areas for dispersal, shelter, and food. The designation of this unit is expected to prevent further habitat fragmentation; provide connectivity to units farther north in Santa Clara, Alameda, and Contra Costa Counties; and represents the southern portion of the areas designated within Santa Clara County and east bay. The unit consists of Federal (604 ac (244 ha)), State (53,267 ac (21,556 ha)), local government (74 ac (30 ha)), and private (150,773 ac (61,016 ha)) lands and is mapped from occurrences recorded at the time of listing and subsequent to the time of listing.

The physical and biological features essential to the conservation of California red-legged frog in the STC-2 unit may require special management considerations or protection due to predation by nonnative species, and habitat alteration from development activities which may affect aquatic habitats and thereby result in the direct or indirect loss of egg masses, juveniles, or adults. Please see the Special Management Considerations or Protection section of this final rule for a detailed discussion of the threats to California red-legged frog habitat and potential management considerations.

SCZ-1, North Coastal Santa Cruz County

This unit is comprised of approximately 72,249 ac (29,238 ha) of land and is located along the coastline of northern Santa Cruz County, plus a small area in southern San Mateo County, from approximately Green Oaks Creek to Wilder Creek. The unit includes the following watersheds: Green Oaks Creek, Waddell Creek, East Waddell Creek, Scott Creek, Big Creek, Little Creek, San Vicente Creek, Laguna Creek, and Majors Creek. The unit is mapped from occurrences recorded at the time of listing and subsequent to the time of listing and is currently occupied. SCZ-1 contains the features that are essential for the conservation of the species. The unit also contains aquatic habitat for breeding and non-breeding activities (PCE 1 and PCE 2), and upland habitat for foraging and dispersal activities (PCE 3 and PCE 4). SCZ-1 provides connectivity between occupied sites along the coast and farther inland. In addition, it contains high-quality habitat, indicated by high density of extant occurrences, permanent and ephemeral aquatic habitat suitable for breeding, and accessible upland areas for dispersal, shelter, and food. The unit represents one of two areas designated for critical habitat in Santa Cruz County and is the northern extent of the central coast recovery unit. The unit consists of Federal (226 ac (92 ha)), State (20,562 ac (8,321 ha)), and private (51,460 ac (20,825 ha)) lands.

The physical and biological features essential to the conservation of California red-legged frog in the SCZ-1 unit may require special management considerations or protection due to water diversions, which may alter aquatic habitats and thereby result in the direct or indirect loss of egg masses, juveniles, or adults. Please see the Special Management Considerations or Protection section of this final rule for a detailed discussion of the threats to California red-legged frog habitat and potential management considerations. A portion of the lands containing features essential to the conservation of the California red-legged frog in Unit SCZ-1 have been excluded from critical habitat designation under section 4(b)(2) of the Act (see Application of Section 4(b)(2) of the Act section below).

SCZ-2, Watsonville Slough

This unit is comprised of approximately 4,057 ac (1,642 ha) of land and is located along the coastal plain in southern Santa Cruz County, north of the mouth of the Pajaro River and seaward of California Highway 1. It includes locations in the Watsonville Slough system, including all or portions of Gallighan, Hanson, Harkins, Watsonville, Struve, and the West Branch of Struve sloughs. The unit includes portions of the Corralitos Lagoon and Mouth of the Pajaro River watersheds. The unit is mapped from occurrences recorded at the time of listing and subsequent to the time of listing. SCZ-2 contains the features that are essential for the conservation of the species. This unit is currently occupied, and contains permanent and ephemeral aquatic habitat for breeding and non-breeding activities (PCE 1 and PCE 2), and contains upland habitat for foraging, dispersal activities, and shelter (PCE 3 and PCE 4). SCZ-2 also provides connectivity between occupied sites along the coast and farther inland. The unit consists of Federal (115 ac (46 ha)) and private (3,942 ac (1,595 ha)) lands.

The physical and biological features essential to the conservation of California red-legged frog in the SCZ-2 unit may require special management considerations or protection due predation by nonnative species, and due to urbanization and the presence of introduced invasive plants, both of which may alter aquatic or upland habitats and thereby result in the direct or indirect loss of egg masses or adults. Please see the Special Management Considerations or Protection section of this final rule for a detailed discussion of the threats to California red-legged frog habitat and potential management considerations.

MNT-1, Elkhorn Slough

This unit is comprised of approximately 519 ac (210 ha) of land and is located along the coastal plain in northern Monterey County, inland from the town of Moss Landing, and it is mapped from occurrences recorded at the time of listing and subsequent to the time of listing. This unit is currently occupied. The unit includes the eastern edge of the Elkhorn Slough watershed and the western edge of the Strawberry Canyon watershed. MNT-1 contains the features that are essential for the conservation of the species. This unit contains aquatic habitat for breeding and non-breeding activities (PCE 1 and PCE 2), and upland habitat for foraging and dispersal activities (PCE 3 and PCE 4). The designation of MNT-1 is expected to prevent further fragmentation of habitat in this portion of the species' range, contains permanent and ephemeral aquatic habitats suitable for breeding, and contains upland areas for dispersal, shelter, and food. We have determined that these attributes are essential to the conservation of the species. Elkhorn Slough is unique in that it is a large estuary/freshwater slough system not typically found on the California coast. The unit consists entirely of private land.

The physical and biological features essential to the conservation of California red-legged frog in the MNT-1 unit may require special management considerations or protection due to pesticide exposure, trematode infestation, disease, and predation by nonnative species, which may affect aquatic or upland habitats and thereby result in the direct or indirect loss of egg masses or adults. Please see the “Special Management Considerations or Protection” section of this final rule for a detailed discussion of the threats to California red-legged frog habitat and potential management considerations.

MNT-2, Carmel River

This unit is comprised of approximately 119,492 ac (48,357 ha) of land, is located south and southeast of the city of Monterey, and includes locations in the Carmel River drainage and nearby San Jose Creek. The unit includes the following watersheds and portions of watersheds: the southern portion of Carmel Bay, Carmel Valley, Robinson Canyon, San Jose Creek, Las Garces Creek, Hitchcock Canyon, the western portion of Lower Tularcitos Creek, Klondike Canyon, Black Rock Creek, Pine Creek, Danish Creek, Cachagua Creek, Lower Finch Creek, Bear Canyon, Bruce Fork, and Miller Canyon. It is mapped from occurrences recorded at the time of listing and subsequent to the time of listing. MNT-2 contains the features that are essential for the conservation of the species. The unit is currently occupied and contains permanent and ephemeral aquatic habitat for breeding and non-breeding activities (PCE 1 and PCE 2), and upland habitat for foraging, dispersal activities, and shelter (PCE 3 and PCE 4). The unit is the largest designated within Monterey County. The unit consists of Federal (26,098 ac (10,562 ha)), State (374 ac (151 ha)), local government (1,373 ac (556 ha)), and private (91,647 ac (37,088 ha)) lands.

The physical and biological features essential to the conservation of California red-legged frog in the MNT-2 unit may require special management considerations or protection due to predation by nonnative species, urbanization, and water pumping and diversions, which may alter aquatic or upland habitats and thereby result in the direct or indirect loss of egg masses or adults. Please see the Special Management Considerations or Protection section of this final rule for a detailed discussion of the threats to California red-legged frog habitat and potential management considerations.

MNT-3, Big Sur Coast

This unit is comprised of approximately 27,542 ac (11,146 ha) of land; is located along the Big Sur coastline in Monterey County, approximately from the mouth of the Little Sur River south to McWay Canyon; and includes locations in and around the Big Sur River drainage. The unit includes the following watersheds: Point Sur, Big Sur River, Ventana Creek, Sycamore Canyon, and Partington Creek. This unit was not known to be occupied at the time of listing, but surveys conducted subsequent to the time of listing show that this unit is currently occupied. Based on life history and population dynamics of the species we have determined that the area was most likely occupied at the time of listing. MNT-3 is essential for the conservation of the species because it contains the largest coastal habitat within Monterey Bay region and provides for connectivity to more interior units further north. MNT-3 also contains permanent and ephemeral aquatic habitat for breeding and non-breeding activities (PCE 1 and PCE 2), and upland habitat for foraging, dispersal activities, and shelter (PCE 3 and PCE 4). MNT-3 is currently occupied by the species. The unit consists of Federal (9,960 ac (4,030 ha)), State (4,245 ac (1,718 ha)), and private (13,338 ac (5,398 ha)) lands.

The physical and biological features essential to the conservation of California red-legged frog in the MNT-3 unit may require special management considerations or protection due to predation by non-native species, urbanization, and water pumping and diversions, which may alter aquatic or upland habitats and thereby result in the direct or indirect loss of egg masses or adults. Please see the Special Management Considerations or Protection section of this final rule for a detailed discussion of the threats to California red-legged frog habitat and potential management considerations.

SNB-1, Hollister Hills/San Benito River

This unit is comprised of approximately 36,294 ac (14,687 ha) of land and is located in northwestern San Benito County in the San Benito River drainage. The unit includes the following watersheds and portions of watersheds: the southern portions of San Justo Reservoir, Northeast Hollister Hills, and Upper Bird Creek; Left Fork Bird Creek; Sulfur Canyon; and the western portions of Arroyo Hondo, Willow Grove School, Paicines Ranch, and Lower Pescadero Creek. It is mapped from occurrences recorded at the time of listing and subsequent to the time of listing near Saint Frances Retreat, San Juan Oaks, Azalea Canyon, Bird Creek, Hollister Hills State Vehicle Recreation Area, Paicines Reservoir, and Tres Pinos Creek. SNB-1 contains the features that are essential for the conservation of the species. The unit contains aquatic habitat for breeding and non-breeding activities (PCE 1 and PCE 2), and upland habitat for foraging and dispersal activities (PCE 3 and PCE 4). SNB-1 also provides essential connectivity between sites on the coast plain and inner Coast Range. SNB-1 is occupied by the species, is expected to prevent further fragmentation of habitat in this portion of the species' range, and contains permanent and ephemeral aquatic habitats suitable for breeding and accessible upland areas for dispersal, shelter, and food. The unit consists of Federal (13 ac (5 ha)), State (3,109 ac (1,258 ha)), and private (33,172 ac (13,424 ha)) lands.

The physical and biological features essential to the conservation of California red-legged frog in the SNB-1 unit may require special management considerations or protection due to predation by nonnative species, and habitat disturbance, which may alter aquatic and upland habitats and thereby result in the direct or indirect loss of egg masses or adults. Please see the Special Management Considerations or Protection section of this final rule for a detailed discussion of the threats to California red-legged frog habitat and potential management considerations.

SNB-2, Antelope Creek/Upper Tres Pinos Creek

This unit is comprised of approximately 17,356 ac (7,024 ha) of land and is located in central San Benito County along the Tres Pinos Creek drainage within the Antelope Creek watershed. This unit was not known to be occupied at the time of listing, but surveys conducted subsequent to the time of listing show that this unit is currently occupied, and based on life history and population dynamics of the species we have determined that the area was most likely occupied at the time of listing. It is mapped from occurrence records in and along Tres Pinos Creek between the confluences of Boulder and Willow Springs Creeks. SNB-2 is essential for the conservation of the species because it provides aquatic habitat for breeding and non-breeding activities (PCE 1 and PCE 2), and upland habitat for foraging and dispersal activities (PCE 3 and PCE 4). SNB-2 is occupied by the species, is expected to prevent fragmentation of habitat in this portion of the species' range, and contains permanent and ephemeral aquatic habitats suitable for breeding and accessible upland areas for dispersal, shelter, and food. The unit consists entirely of private land.

The physical and biological features essential to the conservation of California red-legged frog in the SNB-2 unit may require special management considerations or protection due to predation by nonnative species, overgrazing and trampling of aquatic and upland habitat by feral pigs, and recreational activities, which may alter aquatic and upland habitats and thereby result in the direct or indirect loss of egg masses or adults. Please see the Special Management Considerations or Protection section of this final rule for a detailed discussion of the threats to California red-legged frog habitat and potential management considerations.

SNB-3, Pinnacles National Monument

This unit is comprised of approximately 63,753 ac (25,800 ha) of land; is located in the Gabilan Range at Pinnacles National Monument, about 3.5 mi (5.6 km) west of the town of San Benito in southern San Benito County; and is mapped from occurrences recorded at the time of listing and subsequent to the time of listing. The unit includes the following watersheds: Gloria Lake, Bickmore Canyon, Sulfur Creek, and George Hansen Canyon. SNB-3 contains the features that are essential for the conservation of the species. The unit contains aquatic habitat for breeding and non-breeding activities (PCE 1 and PCE 2), and upland habitat for foraging and dispersal activities (PCE 3 and PCE 4). SNB-3 is expected to prevent further fragmentation of habitat in this portion of the species' range; contains permanent and ephemeral aquatic habitat suitable for breeding; contains accessible upland areas for dispersal, shelter, and food; and is occupied by the species. The unit consists of Federal (20,048 ac (8,113 ha)) and private (43,706 ac (17,687 ha)) lands.

The physical and biological features essential to the conservation of California red-legged frog in the SNB-3 unit may require special management considerations or protection due to predation by nonnative species, overgrazing and trampling of aquatic and upland habitat by feral pigs, and recreational activities, which may alter aquatic and upland habitats and thereby result in the direct or indirect loss of egg masses or adults. Please see the Special Management Considerations or Protection section of this final rule for a detailed discussion of the threats to California red-legged frog habitat and potential management considerations.

SLO-1, Cholame

This unit is comprised of approximately 18,018 ac (7,292 ha) of land; and is located in northeastern San Luis Obispo, northwestern Kern, and southwestern Kings Counties; includes locations in the Cholame Creek drainage; and is mapped from occurrences recorded at time of listing and subsequent to the time of listing. The unit includes portions of the following watersheds: the southern portion of Blue Point, the western portion of Jack Canyon, and the eastern portion of Palo Prieto Canyon. SLO-1 contains the features that are essential for the conservation of the species. The unit contains aquatic habitat for breeding and non-breeding activities (PCE 1 and PCE 2), and upland habitat for foraging and dispersal activities (PCE 3 and PCE 4). SLO-1 contains permanent and ephemeral aquatic habitats suitable for breeding; contains accessible upland areas for dispersal, shelter, and food; and is occupied by the species. SLO-1 consists of Federal (169 ac (68 ha)) and private (17,849 ac (7,223 ha)) lands.

The physical and biological features essential to the conservation of California red-legged frog in the SLO-1 unit may require special management considerations or protection due to highway construction, overgrazing, and water diversions, which may alter aquatic or upland habitats and thereby result in the direct or indirect loss of egg masses or adults. Please see the Special Management Considerations or Protection section of this final rule for a detailed discussion of the threats to California red-legged frog habitat and potential management considerations.

SLO-2, Piedras Blancas to Cayucos Creek

This unit is comprised of approximately 82,673 ac (33,457 ha) of land and is located along the coast in northwestern San Luis Obispo County from approximately Arroyo de Los Chinos southward to just before but not including Whale Rock Reservoir. The unit includes the following watersheds: Arroyo de los Chinos, Lower Arroyo de la Cruz, Arroyo del Corral, Oak Knoll Creek, Broken Bridge Creek, Pico Creek, Upper San Simeon Creek, Lower San Simeon Creek, Steiner Creek, Upper Santa Rosa Creek, Lower Santa Rosa Creek, and Lower Green Valley Creek. The unit is mapped from occurrences recorded at the time of listing and subsequent to the time of listing. SLO-2 contains the features that are essential for the conservation of the species. The unit contains aquatic habitat for breeding and non-breeding activities (PCE 1 and PCE 2), and upland habitat for foraging and dispersal activities (PCE 3 and PCE 4). SLO-2 provides connectivity within the Santa Lucia Range, and between this range and the inner Coast Range in San Luis Obispo County. This unit is occupied by the species. The unit contains high-quality habitat, indicated by high density of extant occurrences, permanent and ephemeral aquatic habitats suitable for breeding, and accessible upland areas for dispersal, shelter, and food. The unit consists of Federal (440 ac (178 ha)), State (648 ac (262 ha)), and private (81,585 ac (33,016 ha)) lands.

The physical and biological features essential to the conservation of California red-legged frog in the SLO-2 unit may require special management considerations or protection due to predation by nonnative species, water diversion, overgrazing, and urbanization, which may alter aquatic or upland habitats and thereby result in the direct or indirect loss of egg masses or adults due to habitat modification. Please see the Special Management Considerations or Protection section of this final rule for a detailed discussion of the threats to California red-legged frog habitat and potential management considerations. A portion of the lands containing features essential to the conservation of the California red-legged frog in Unit SLO-2 has been excluded from critical habitat designation under section 4(b)(2) of the Act (see Application of Section 4(b)(2) of the Act section below).

SLO-3, Willow and Toro Creeks to San Luis Obispo

This unit is comprised of approximately 116,517 ac (47,153 ha) of land and is located near the coast in central San Luis Obispo County and extends about 1.9 mi (3 km) north of the town of Morro Bay southward to just north and east of the city of San Luis Obispo. The unit includes the following watersheds: Old Creek, Whale Rock Reservoir, the southern portion of Hale Creek, Morro Bay, San Luisito Creek, the western and southern portions of Santa Margarita Creek, Choro Reservoir, Stenner Lake, Reservoir Canyon, Trout Creek, and Big Falls Canyon. The unit is mapped from occurrences recorded at the time of listing and subsequent to the time of listing. SLO-3 contains the features that are essential for the conservation of the species. The unit is currently occupied and contains permanent and ephemeral aquatic habitat for breeding and non-breeding activities (PCE 1 and PCE 2), and upland habitat for foraging, dispersal, and shelter (PCE 3 and PCE 4). SLO-3 provides connectivity within the Santa Lucia Range, and between this range and the inner Coast Range in San Luis Obispo County. This unit consists of Federal (29,104 ac (11,778 ha)), State (5,737 ac (2,322 ha)) and private (81,676 ac (33,053 ha)) lands.

The physical and biological features essential to the conservation of California red-legged frog in the SLO-3 unit may require special management considerations or protection due to predation by nonnative species, water diversion, overgrazing, and urbanization, which may alter aquatic or upland habitats and thereby result in the direct or indirect loss of egg masses or adults due to habitat modification. Please see the Special Management Considerations or Protection section of this final rule for a detailed discussion of the threats to California red-legged frog habitat and potential management considerations. A portion of the lands containing features essential to the conservation of the California red-legged frog in Unit SLO-3 has been excluded from critical habitat designation under section 4(b)(2) of the Act (see Application of Section 4(b)(2) of the Act section below).

SLO-4, Upper Salinas River

This unit is comprised of approximately 34,463 ac (13,947 ha) of land, is located at the base of Garcia Mountain about 17 mi (27 km) east of the City of San Luis Obispo, is mapped from occurrences recorded subsequent to the time of listing, and is currently occupied by the species. Based on the life history and population dynamics of the species we have determined that the area was most likely occupied at the time of listing. The unit includes the following watersheds: Horse Mesa, Douglas Canyon, American Canyon, and Coyote Hole. This unit is essential for the conservation of the species because it is the only unit in San Luis Obispo County entirely within the interior Coast Range and provides connectivity between populations in the coastal areas and populations farther inland. SLO-4 also contains permanent and ephemeral aquatic habitats consisting of natural and manmade ponds surrounded by emergent vegetation and marshland with upland dispersal habitat comprised of riparian areas for dispersal, shelter, and foraging. This unit consists of Federal (26,183 ac (10,596 ha)) and private (8,280 ac (3,351 ha)) lands.

The physical and biological features essential to the conservation of California red-legged frog in the SLO-4 unit may require special management considerations or protection due to predation by nonnative species, and due to water diversion, overgrazing, and urbanization, which may alter aquatic or upland habitats and thereby result in the direct or indirect loss of egg masses or adults due to habitat modification. Please see the Special Management Considerations or Protection section of this final rule for a detailed discussion of the threats to California red-legged frog habitat and potential management considerations.

STB-1, La Brea Creek

This unit is comprised of approximately 25,164 ac (10,184 ha) of land, is located in Los Padres National Forest in northern Santa Barbara County, and is mapped from occurrences recorded at the time of listing and subsequent to the time of listing. The unit includes the following watersheds: Bear Canyon, the southern portion of Smith Canyon, Rattlesnake Canyon, Lower South Fork La Brea Creek, and the eastern portion of Lower La Brea Creek. STB-1 contains the features that are essential for the conservation of the species. The unit contains aquatic habitat for breeding and non-breeding activities (PCE 1 and PCE 2), and upland habitat for foraging and dispersal activities (PCE 3 and PCE 4). The unit consists of Federal (20,896 ac (8,456 ha)) and private (4,269 ac (1,727 ha)) lands.

The physical and biological features essential to the conservation of California red-legged frog in the STB-1 unit may require special management considerations or protection due to recreational activities, which may alter aquatic or upland habitats and thereby result in the direct or indirect loss of egg masses or adults. Please see the Special Management Considerations or Protection section of this final rule for a detailed discussion of the threats to California red-legged frog habitat and potential management considerations.

STB-2, San Antonio Terrace

This unit is comprised of approximately 12,066 ac (4,883 ha) of land, is located in northwestern Santa Barbara County near the coast, extends from about Casmalia south to the Santa Lucia Canyon near the Purisima Hills, and is mapped from occurrences recorded subsequent to the time of listing. Based on the life history and population dynamics of the species we have determined that the area was most likely occupied at the time of listing. The unit includes the following watersheds: Graciosa Canyon and Lions Head. STB-2 provides connectivity between coastal populations and populations in the Transverse Ranges. STB-2 also contains aquatic habitat for breeding and non-breeding activities (PCE 1 and PCE 2), and upland habitat for foraging and dispersal activities (PCE 3 and PCE 4). This unit is currently occupied by the species. The unit consists of Federal (35 ac (14 ha)) and private (12,031 ac (4,869 ha)) lands. A portion of the lands containing features essential to the conservation of the California red-legged frog in Unit STB-2 has been excluded from critical habitat designation under section 4(b)(2) of the Act (see Application of Section 4(b)(2) of the Act section below).

The physical and biological features essential to the conservation of California red-legged frog in the STB-2 unit may require special management considerations or protection due to recreational activities, which may alter aquatic or upland habitats and thereby result in the direct or indirect loss of egg masses or adults. Please see the Special Management Considerations or Protection section of this final rule for a detailed discussion of the threats to California red-legged frog habitat and potential management considerations.

STB-3, Sisquoc River

This unit is comprised of approximately 47,559 ac (19,246 ha) of land and is located in northern Santa Barbara County and includes locations in the Sisquoc River drainage and is mapped from occurrences recorded at the time of listing and subsequent to the time of listing. The unit contains the following watersheds: the southern portion of Tunnel Canyon, Burro Canyon, Sulphur Creek, Lower Manzano Creek, Middle Manzano Creek, Fir Canyon, Upper Cachuma Creek, and the northern portion of Happy Canyon. STB-3 contains the features that are essential for the conservation of the species. The unit contains aquatic habitat for breeding and non-breeding activities (PCE 1 and PCE 2), and upland habitat for foraging and dispersal activities (PCE 3 and PCE 4). STB-3 is occupied by the species, provides connectivity between locations along the coast and the Transverse Ranges, and is essential in stabilizing populations of the species in tributaries to the Santa Ynez River. The unit consists of Federal (40,148 ac (16,247 ha)) and private (7,411 ac (2,999 ha)) land.

The physical and biological features essential to the conservation of California red-legged frog in the STB-3 unit may require special management considerations or protection due predation by nonnative species, recreational activities, and poor water management practices which may alter aquatic or upland habitats and thereby result in the direct or indirect loss of egg masses or adults. Please see the Special Management Considerations or Protection section of this final rule for a detailed discussion of the threats to California red-legged frog habitat and potential management considerations.

STB-4, Jalama Creek

This unit is comprised of approximately 7,685 ac (3,110 ha) of land and is located along the coast in southwestern Santa Barbara County about 4.4 mi (7 km) south of the City of Lompoc, and is mapped from occurrences recorded at the time of listing and subsequent to the time of listing. The unit includes the Casper Creek watershed. STB-4 contains the features that are essential for the conservation of the species. The unit includes aquatic habitat for breeding and non-breeding activities (PCE 1 and PCE 2), and upland habitat for foraging and dispersal activities (PCE 3 and PCE 4). STB-4 is occupied by the species and provides connectivity between locations along the coast and the Santa Ynez River watershed. This unit consists of Federal (44 ac (18 ha)) and private (7,641 ac (3,092 ha)) lands.

The physical and biological features essential to the conservation of California red-legged frog in the STB-4 unit may require special management considerations or protection due to predation by nonnative species and habitat disturbance, which may alter aquatic and upland habitats and thereby result in the direct or indirect loss of egg masses or adults. Please see the Special Management Considerations or Protection section of this final rule for a detailed discussion of the threats to California red-legged frog habitat and potential management considerations. A portion of the lands containing features essential to the conservation of the California red-legged frog in Unit STB-4 has been excluded from critical habitat designation under section 4(b)(2) of the Act (see Application of Section 4(b)(2) of the Act section below).

STB-5, Gaviota Creek

This unit is comprised of approximately 12,888 ac (5,216 ha) of land, is located along the coast in southern Santa Barbara County about 3 mi (5 km) southwest of the town of Buellton, and is mapped from occurrences recorded at the time of listing and subsequent to the time of listing. The unit includes the following watersheds: Cañada de las Cruces and Cañada de la Gavota. STB-5 contains the features that are essential for the conservation of the species. The unit contains aquatic habitat for breeding and non-breeding activities (PCE 1 and PCE 2), and upland habitat for shelter, foraging and dispersal activities (PCE 3 and PCE 4). STB-5 is occupied by the species and provides connectivity between locations along the coast and the Santa Ynez River watershed. The unit consists of Federal (1,547 ac (626 ha)), State (2,074 ac (839 ha)), and private (9,267 ac (3,750 ha) lands.

The physical and biological features essential to the conservation of California red-legged frog in the STB-5 unit may require special management considerations or protection due to predation by nonnative species and poor water management practices, which may alter aquatic or upland habitats and thereby result in the direct or indirect loss of egg masses or adults. Populations in this unit may also require special management or protection due to their potential importance in stabilizing California red-legged frog populations in tributaries to the Santa Ynez River. Please see the “Special Management Considerations or Protection” section of this final rule for a detailed discussion of the threats to California red-legged frog habitat and potential management considerations.

STB-6, Arroyo Quemado to Refugio Creek

This unit is comprised of approximately 11,985 ac (4,850 ha) of land, is located along the coast in southern Santa Barbara County about 5 mi (8 km) south of the town of Solvang, and is mapped from occurrences recorded at the time of listing and subsequent to the time of listing. The unit includes the Tajiguas Creek watershed. STB-6 contains the features that are essential for the conservation of the species. The unit contains aquatic habitat for breeding and non-breeding activities (PCE 1 and PCE 2), and upland habitat for foraging and dispersal activities (PCE 3 and PCE 4). STB-6 is occupied by the species, provides connectivity between locations along the coast and the Santa Ynez River watershed, and contains permanent and ephemeral aquatic habitats suitable for breeding, and upland areas for dispersal, shelter, and food. The unit consists of Federal (1,881 ac (761 ha)), State (29 ac (12 ha)), and private (10,075 ac (4,077 ha)) lands.

The physical and biological features essential to the conservation of California red-legged frog in the STB-6 unit may require special management considerations or protection due to predation by nonnative species and poor water management practices, which may alter aquatic or upland habitats and thereby result in the direct or indirect loss of egg masses or adults. Populations in this unit may also require special management or protection due to their potential importance in stabilizing California red-legged frog populations in tributaries to the Santa Ynez River. Please see the Special Management Considerations or Protection section of this final rule for a detailed discussion of the threats to California red-legged frog habitat and potential management considerations.

STB-7, Upper Santa Ynez River and Matilija Creek

This unit is comprised of approximately 145,121 ac (58,728 ha) of land, is located in southeastern Santa Barbara County about 5 mi (8 km) north of the City of Santa Barbara, and extends into western Ventura County at Matilija Creek. It is mapped from occurrences recorded at the time of listing and subsequent to the time of listing. The unit includes the following watersheds: Los Lauveles Canyon, Redrock Canyon, Oso Canyon, Buckhorn Creek, Camuesa Creek, Devils Canyon, Indian Creek Campground, Upper Mono Creek, Lower Mono Creek, Blue Canyon Upper Agua Caliente Canyon, Diablo Canyon, Lower Agua Caliente Canyon, Juncal Canyon, Lower Matilija Creek, North Fork Matilija Creek, and Cozy Dell Canyon. STB-7 contains the features that are essential for the conservation of the species. This unit contains aquatic habitat for breeding and non-breeding activities (PCE 1 and PCE 2), and upland habitat for foraging and dispersal activities (PCE 3 and PCE 4). STB-7 is occupied by the species and provides connectivity between locations along the coast, in the Sierra Madre Mountains, and in the Ventura River watershed. It is important to species conservation and the persistence of the species in the Matilija watershed because it contains permanent and ephemeral aquatic habitats suitable for breeding, and upland areas for dispersal, shelter, and food in that portion of the unit, which will provide connectivity between populations within the Transverse Ranges and will prevent further isolation of breeding locations near the limit of the geographic range of the species. The unit as a whole contains high-quality habitat, indicated by the high density of extant occurrences, permanent and ephemeral aquatic habitat suitable for breeding, and accessible upland areas for dispersal, shelter, and food. The unit consists of Federal (124,831 ac (50,517 ha)), State (8 ac (3 ha), and private (20,282 ac (8,208 ha)) lands.

The physical and biological features essential to the conservation of California red-legged frog in the STB-7 unit may require special management considerations or protection due to predation by nonnative species, flood control activities, road maintenance, and recreational activities, which may alter aquatic and upland habitats and thereby result in the direct or indirect loss of egg masses or direct death of adults. Please see the Special Management Considerations or Protection section of this final rule for a detailed discussion of the threats to California red-legged frog habitat and potential management considerations.

VEN-1, San Antonio Creek

This unit is comprised of approximately 2,915 ac (1,180 ha) of land, is located in western Ventura County at San Antonio Creek, and is mapped from occurrences recorded at the time of listing and subsequent to the time of listing, and is currently occupied. The unit includes portions of the following watersheds: a small southern portion of Upper San Antonio Creek, a small western portion of Lion Creek, and the eastern portion of Lower San Antonio Creek. VEN-1 contains the features that are essential for the conservation of the species. The unit contains aquatic habitat for breeding and non-breeding activities (PCE 1 and PCE 2), and upland habitat for foraging and dispersal activities (PCE 3 and PCE 4). Persistence of the species in this area will prevent further isolation of breeding locations near the limit of the geographic range of the species. The unit contains permanent and ephemeral aquatic habitats suitable for breeding and accessible upland areas for dispersal, shelter, and food, and provides connectivity between populations within the Transverse Ranges. The unit consists entirely of private land.

The physical and biological features essential to the conservation of California red-legged frog in the VEN-1 unit may require special management considerations or protection due to predation by nonnative species, recreational activities, and sedimentation of aquatic habitats, which may alter aquatic or upland habitats and thereby result in the direct or indirect loss of egg masses or adults. Please see the Special Management Considerations or Protection”section of this final rule for a detailed discussion of the threats to California red-legged frog habitat and potential management considerations.

VEN-2, Piru Creek

This unit is comprised of approximately 8,837 ac (3,576 ha) of land, is located in eastern Ventura County and northwestern Los Angeles County, and is mapped from occurrences recorded at the time of listing at Piru Creek. The unit includes the Michael Creek watershed. VEN-2 contains the features that are essential for the conservation of the species. The unit contains aquatic habitat for breeding and non-breeding activities (PCE 1 and PCE 2), and upland habitat for foraging and dispersal activities (PCE 3 and PCE 4). VEN-2 is occupied by the species. Persistence of the species in this area is important to prevent further isolation of breeding locations near the limit of the geographic range of the species, and the unit contains permanent and ephemeral aquatic habitats suitable for breeding, and upland areas for dispersal, shelter, and food. The unit consists of Federal (8,363 ac (3,384 ha)) and private (474 ac (192 ha)) land.

The physical and biological features essential to the conservation of California red-legged frog in the VEN-2 unit may require special management considerations or protection due to predation by nonnative species, off-road vehicle use, and conversion of native habitat by introduced invasive plant species, which may alter aquatic or upland habitats and thereby result in the direct or indirect loss of egg masses or direct death of adults. Please see the “Special Management Considerations or Protection” section of this final rule for a detailed discussion of the threats to California red-legged frog habitat and potential management considerations.

VEN-3, Upper Las Virgenes Canyon

This unit is comprised of approximately 5,000 ac (2,024 ha) of land, is located in southeastern Ventura County, and is mapped from occurrences recorded subsequent to the time of listing. Based on the life history and population dynamics of the species we have determined that the area was most likely occupied at the time of listing. The unit includes the upper portion of Las Virgenes Creek watershed that is north of the Ventura County line. VEN-3 is considered an area that is essential for the conservation of the species because it is currently occupied by the species and provides connectivity between coastal populations and populations in the Transverse Ranges. Further, VEN-3 contains aquatic habitat for breeding and non-breeding activities (PCE 1 and PCE 2), and upland habitat for shelter, foraging, and dispersal activities (PCE 3 and PCE 4). The unit consists of Federal (56 ac (23 ha)) and private (2,896 ac (1,171 ha)) land. Approximately 2,048 ac (830 ha) of land within the unit is managed by the Santa Monica Mountains Conservancy.

The physical and biological features essential to the conservation of California red-legged frog in the VEN-3 unit may require special management considerations or protection due to predation by nonnative species, off-road vehicle use, and conversion of native habitat by introduced invasive plant species, which may alter aquatic or upland habitats and thereby result in the direct or indirect loss of egg masses or direct death of adults. Please see the Special Management Considerations or Protection section of this final rule for a detailed discussion of the threats to California red-legged frog habitat and potential management considerations.

LOS-1, San Francisquito Creek

This unit is comprised of approximately 4,231 ac (1,712 ha) of land, is located in northwestern Los Angeles County, and is mapped from occurrences recorded at the time of listing and is currently occupied. LOS-1 contains the features that are essential for the conservation of the species. The unit contains aquatic habitat for breeding and non-breeding activities (PCE 1 and PCE 2), and upland habitat for shelter, foraging, and dispersal activities (PCE 3 and PCE 4). The unit consists of Federal (3,909 ac (1,582 ha)) and private land (322 ac (130 ha)) lands.

The physical and biological features essential to the conservation of California red-legged frog in the LOS-1 unit may require special management considerations or protection due to predation by nonnative species on egg masses, tadpoles, juveniles, or adults. Please see the Special Management Considerations or Protection section of this final rule for a detailed discussion of the threats to California red-legged frog habitat and potential management considerations.

RIV-1, Cole Creek

We have excluded the lands containing features essential to the conservation of the California red-legged frog in Unit RIV-1 from critical habitat designation under section 4(b)(2) of the Act (see Application of Section 4(b)(2) of the Act section below).

Effects of Critical Habitat Designation

Section 7 Consultation

Section 7(a)(2) of the Act requires Federal agencies, including the Service, to ensure that actions they fund, authorize, or carry out are not likely to jeopardize the continued existence of a listed species or destroy or adversely modify designated critical habitat. Decisions by the courts of appeals for the Fifth and Ninth Circuits have invalidated our definition of “destruction or adverse modification” (50 CFR 402.02) (see Gifford Pinchot Task Force v. U.S. Fish and Wildlife Service, 378 F. 3d 1059 (9th Cir. 2004) and Sierra Club v. U.S. Fish and Wildlife Service et al., 245 F.3d 434, 442 (5th Cir. 2001)), and we do not rely on this regulatory definition when analyzing whether an action is likely to destroy or adversely modify critical habitat. Under the statutory provisions of the Act, we determine destruction or adverse modification on the basis of whether, with implementation of the proposed Federal action, the affected critical habitat would remain functional (or retain those physical and biological features that relate to the ability of the area to periodically support the species) to serve its intended conservation role for the species.

If a species is listed or critical habitat is designated, section 7(a)(2) of the Act requires Federal agencies to ensure that activities they authorize, fund, or carry out are not likely to jeopardize the continued existence of the species or to destroy or adversely modify its critical habitat. If a Federal action may affect a listed species or its critical habitat, the responsible Federal agency (action agency) must enter into consultation with us. As a result of this consultation, we document compliance with the requirements of section 7(a)(2) through our issuance of:

(1) A concurrence letter for Federal actions that may affect, but are not likely to adversely affect, listed species or critical habitat; or

(2) A biological opinion for Federal actions that may affect, and are likely to adversely affect, listed species or critical habitat.

When we issue a biological opinion concluding that a project is likely to jeopardize the continued existence of a listed species or destroy or adversely modify critical habitat, we also provide reasonable and prudent alternatives to the project, if any are identifiable. We define ‘‘Reasonable and prudent alternatives'' at 50 CFR 402.02 as alternative actions identified during consultation that:

(1) Can be implemented in a manner consistent with the intended purpose of the action;

(2) Can be implemented consistent with the scope of the Federal agency's legal authority and jurisdiction;

(3) Are economically and technologically feasible; and

(4) Would, in the Director's opinion, avoid jeopardizing the continued existence of the listed species or destroying or adversely modifying critical habitat.

Reasonable and prudent alternatives can vary from slight project modifications to extensive redesign or relocation of the project. Costs associated with implementing a reasonable and prudent alternative are similarly variable.

Regulations at 50 CFR 402.16 require Federal agencies to reinitiate consultation on previously reviewed actions in instances where a new species is listed or critical habitat is subsequently designated that may be affected and the Federal agency has retained discretionary involvement or control over the action or such discretionary involvement or control is authorized by law. Consequently, Federal agencies may need to request reinitiation of consultation with us on actions for which formal consultation has been completed, if those actions with may affect subsequently listed species or designated critical habitat.

Federal activities that may affect the California red-legged frog or its designated critical habitat will require section 7(a)(2) consultation under the Act. Activities on State, tribal, local, or private lands requiring a Federal permit (such as a permit from the U.S. Army Corps of Engineers (Corps) under section 404 of the Clean Water Act (33 U.S.C. 1251 et seq.) or a permit from us under section 10(a)(1)(B) of the Act) or involving some other Federal action (such as funding from the Federal Highway Administration, Federal Aviation Administration, or the Federal Emergency Management Agency) are examples of agency actions that may be subject to the section 7(a)(2) consultation process. Federal actions not affecting listed species or critical habitat, and actions on State, tribal, local, or private lands that are not federally funded, authorized, or permitted, do not require section 7(a)(2) consultations.

Application of the “Adverse Modification” Standard

The key factor related to the adverse modification determination is whether, with implementation of the proposed Federal action, the affected critical habitat would continue to serve its intended conservation role for the species, or would retain its current ability for the primary constituent element(s) to be functionally established. Activities that may destroy or adversely modify critical habitat are those that alter the physical and biological features to an extent that appreciably reduces the conservation value of critical habitat for California red-legged frog. Generally, the conservation role of California red-legged frog critical habitat units is to support viable populations representative of each geographic area where the frog exists, as identified in the 2002 recovery plan and other information available to the Service.

Section 4(b)(8) of the Act requires us to briefly evaluate and describe in any proposed or final regulation that designates critical habitat, activities involving a Federal action that may destroy or adversely modify such habitat, or that may be affected by such designation.

Activities that, when carried out, funded, or authorized by a Federal agency, may affect critical habitat and therefore should result in consultation for the California red-legged frog include, but are not limited to:

(1) Actions that significantly alter water chemistry or temperature. Such activities could include, but are not limited to: release of chemicals, biological pollutants, or heated effluents into the surface water or into connected groundwater at a point source or by dispersed release (non-point source). These activities alter water conditions beyond the tolerances of the California red-legged frog and result in direct or cumulative adverse effects to these individuals and their life cycles.

(2) Actions that would significantly increase sediment deposition within a stream channel or pond or disturb upland foraging and dispersal habitat. Such activities could include, but are not limited to: excessive sedimentation from livestock overgrazing; road construction; commercial or urban development; channel alteration; timber harvest; off-road vehicle or recreational use; and other watershed and floodplain disturbances. These activities could eliminate or reduce the habitat necessary for the growth and reproduction of the California red-legged frog by increasing the sediment deposition to levels that would adversely affect a frog's ability to complete its life cycle.

(3) Actions that would significantly alter channel/pond morphology or geometry. Such activities could include, but are not limited to: channelization; impoundment; road and bridge construction; development; mining; dredging; and destruction of riparian vegetation. These activities may lead to changes to the hydrologic functioning of the stream or pond by altering flow timing or duration, or altering water levels, which would degrade or eliminate the California red-legged frog or its habitat. These actions can also lead to increased sedimentation and degradation in water quality to levels that are beyond the tolerances of the California red-legged frog.

(4) Actions that eliminate upland foraging or aestivating habitat, as well as dispersal habitat, for the California red-legged frog. Such activities could include, but are not limited to: road construction; commercial or urban development; timber harvest; off-road vehicle or recreational use; and other watershed and floodplain disturbances.

(5) Actions that result in the introduction, spread, or augmentation of nonnative aquatic species in stream segments or ponds used by the California red-legged frog. Possible actions could include, but are not limited to: introduction of chytrid fungus or other diseases; fish or bullfrog stocking for sport; nonnative aquatic plant species for aesthetics; or other related actions. These activities could affect the growth and reproduction of the California red-legged frog by subjecting eggs, larvae, tadpoles, and adult California red-legged frogs to increased predation pressure or could limit the amount of habitat available for the species, which would adversely affect the California red-legged frog's ability to complete its life cycle.

Note that the scale of these activities is a crucial factor in determining whether they may directly or indirectly alter critical habitat to the extent that the value of the critical habitat for the survival and recovery of California red-legged frog would be appreciably diminished.

If you have questions regarding whether specific activities may constitute adverse modification of critical habitat, contact the Field Supervisor of the appropriate Ecological Services Field Office (see FOR FURTHER INFORMATION CONTACT section).

Exemptions

Application of Section 4(a)(3) of the Act

The Sikes Act Improvement Act of 1997 (Sikes Act) (16 U.S.C. 670a) required each military installation that includes land and water suitable for the conservation and management of natural resources to complete an integrated natural resources management plan (INRMP) by November 17, 2001. An INRMP integrates implementation of the military mission of the installation with stewardship of the natural resources found on the base. Each INRMP includes:

• An assessment of the ecological needs on the installation, including the need to provide for the conservation of listed species;

• A statement of goals and priorities;

• A detailed description of management actions to be implemented to provide for these ecological needs; and

• A monitoring and adaptive management plan.

Among other things, each INRMP must, to the extent appropriate and applicable, provide for fish and wildlife management; fish and wildlife habitat enhancement or modification; wetland protection, enhancement, and restoration where necessary to support fish and wildlife; and enforcement of applicable natural resource laws.

The National Defense Authorization Act for Fiscal Year 2004 (Pub. L. 108-136) amended the Act to limit areas eligible for designation as critical habitat. Specifically, section 4(a)(3)(B)(i) of the Act (16 U.S.C. 1533(a)(3)(B)(i)) now provides: “The Secretary shall not designate as critical habitat any lands or other geographical areas owned or controlled by the Department of Defense, or designated for its use, that are subject to an integrated natural resources management plan prepared under section 670a of this title, if the Secretary determines in writing that such plan provides a benefit to the species for which critical habitat is proposed for designation.”

INRMPs developed by military installations located within the range of the California red-legged frog and which contain those features essential to the species' conservation were analyzed for exemption under the authority of section 4(a)(3) of the Act.

Previous Application of Section 4(a)(3) of the Act for Camp San Luis Obispo (Unit SLO-2) and Vandenberg Air Force Base (Units STB-2 and STB-4)

In the previous final critical habitat designation for the California red-legged frog (71 FR 19243; April 13, 2006), we exempted Camp San Luis Obispo (CSLO) in San Luis Obispo County, and Vandenberg Air Force Base (VAFB) in Santa Barbara County, from the designation of critical habitat under section 4(a)(3) of the Act. Currently CSLO and VAFB do not have Service-approved INRMPs in place. Section 4(a)(3)(B)(i) of the Act requires that an approved INRMP be in place in order to qualify for an exemption. As a result of CSLO and VAFB not having Service approved INRMPs, we have reevaluated our previous decision and are not exempting CSLO and VAFB from portions of Unit SLO-2, Unit STB-2, and Unit STB-4 under section 4(a)(3)(B)(i) of the Act. However, we have determined to exclude CSLO and VAFB from designated critical habitat under section 4(b)(2) of the Act (see “Application of Section 4(b)(2) - Impacts to National Security” section below).

Exclusions Under Section 4(b)(2) of the Act

Application of Section 4(b)(2) of the Act

Section 4(b)(2) of the Act states that the Secretary must designate and revise critical habitat on the basis of the best available scientific data after taking into consideration the economic impact, national security impact, and any other relevant impact of specifying any particular area as critical habitat. The Secretary may exclude an area from critical habitat if he determines that the benefits of such exclusion outweigh the benefits of specifying such area as part of the critical habitat, unless he determines, based on the best scientific data available, that the failure to designate such area as critical habitat will result in the extinction of the species. In making that determination, the legislative history is clear that the Secretary has broad discretion regarding which factor(s) to use and how much weight to give to any factor.

In the following sections, we address a number of general issues that are relevant to the exclusions we are considering. In addition, we have conducted an economic analysis of the impacts of the proposed critical habitat designation and related factors, which was made available for public review and comment. Based on public comment on that document and the proposed designation itself, as well as the information in the final economic analysis, the Secretary may exclude from critical habitat areas different from those identified for possible exclusion in the proposed rule under the provisions of section 4(b)(2) of the Act, up to and including all areas proposed for designation. This is also addressed in our implementing regulations at 50 CFR 424.19.

Benefits of Designating Critical Habitat

The process of designating critical habitat as described in the Act requires that the Service identify those lands within the geographical area occupied by the species at the time of listing on which are found the physical or biological features essential to the conservation of the species that may require special management considerations or protection, and those areas outside the geographical area occupied by the species at the time of listing that are essential to the conservation of the species. In identifying those lands, the Service must consider the recovery needs of the species, such that, on the basis of the best scientific data available at the time of designation, the habitat that is identified, if protected or managed appropriately, could provide for the survival and recovery of the species.

The identification of areas that contain features essential to the conservation of the species and that if managed or protected, can provide for the recovery of a species, is beneficial. The process of proposing and finalizing a critical habitat rule provides the Service with the opportunity to determine the physical and biological features essential to the conservation of the species within the geographical area occupied by the species at the time of listing, as well as to determine other areas essential for the conservation of the species. The designation process includes peer review and public comment on the identified physical and biological features and areas. This process is valuable to land owners and managers in developing conservation management plans for identified areas, as well as any other occupied habitat or suitable habitat that may not be included in the areas the Service identifies as meeting the definition of critical habitat.

The consultation provisions under section 7(a)(2) of the Act constitute the regulatory benefits of critical habitat. As discussed above, Federal agencies must consult with the Service on actions that may affect critical habitat and must avoid destroying or adversely modifying critical habitat. Federal agencies must also consult with us on actions that may affect a listed species and refrain from undertaking actions that are likely to jeopardize the continued existence of such species. The analysis of effects to critical habitat is a separate and different analysis from that of the effects to the species. Therefore, the difference in outcomes of these two analyses represents the regulatory benefit of critical habitat. For some species, and in some locations, the outcome of these analyses will be similar, because effects to habitat will often result in effects to the species. However, the regulatory standard is different, as the jeopardy analysis investigates the action's impact on survival and recovery of the species, while the adverse modification analysis investigates the action's effects on the designated habitat's contribution to conservation. This will, in many instances, lead to different results and different regulatory requirements. Thus, critical habitat designations may provide greater regulatory benefits to the recovery of a species than would listing alone.

There are two limitations to the regulatory effect of critical habitat. First, a consultation is required only where there is a Federal nexus (an action authorized, funded, or carried out by any Federal agency)—if there is no Federal nexus the designation of private lands as critical habitat itself does not restrict any actions that destroy or adversely modify critical habitat. Second, the designation only limits destruction or adverse modification. By its nature, the prohibition on adverse modification is designed to ensure that the conservation role and function of those areas that contain the physical and biological features essential to the conservation of the species or of unoccupied areas that are essential for the conservation of the species are not appreciably reduced. Critical habitat designation alone, however, does not require property owners to undertake specific steps toward recovery of the species.

Once an agency determines that consultation under section 7(a)(2) of the Act is necessary, the process may conclude informally when the Service concurs in writing that the proposed Federal action is not likely to adversely affect critical habitat. However, if we determine through informal consultation that adverse impacts are likely to occur, then formal consultation is initiated. Formal consultation concludes with a biological opinion issued by the Service on whether the proposed Federal action is likely to result in destruction or adverse modification of critical habitat.

For critical habitat, a biological opinion that concludes in a determination of no destruction or adverse modification may contain discretionary conservation recommendations to minimize adverse effects to primary constituent elements, but it would not suggest the implementation of any reasonable and prudent alternative. We suggest reasonable and prudent alternatives to the proposed Federal action only when our biological opinion results in an adverse modification conclusion.

As stated above, the designation of critical habitat does not require that any management or recovery actions take place on the lands included in the designation. Even in cases where consultation is initiated under section 7(a)(2) of the Act, the end result of consultation is to avoid jeopardy to the species and/or adverse modification of its critical habitat, but not necessarily to manage critical habitat or institute recovery actions on critical habitat. Conversely, voluntary conservation efforts implemented through management plans institute proactive actions over the lands they encompass and are put in place to remove or reduce known threats to a species or its habitat and, therefore, implement recovery actions.

Another benefit of including lands in critical habitat is that designation of critical habitat serves to educate landowners, State and local governments, and the public regarding the potential conservation value of an area. This helps focus and promote conservation efforts by other parties by clearly delineating areas of high conservation value for the affected species. In general, critical habitat designation always has educational benefits; however, in some cases, they may be redundant with other educational effects. For example, HCPs have significant public input and may largely duplicate the educational benefits of a critical habitat designation. Including lands in critical habitat also would inform State agencies and local governments about areas that could be conserved under State laws or local ordinances.

Conservation Partnerships on Non-Federal Lands

Most federally listed species in the United States will not recover without cooperation of non-Federal landowners. More than 60 percent of the United States is privately owned (National Wilderness Institute 1995, pp. 1-2), and at least 80 percent of endangered or threatened species occur either partially or solely on private lands (Crouse et al. 2002, p. 720). Stein et al. (1995, p. 400) found that only about 12 percent of listed species were found almost exclusively on Federal lands (90 to 100 percent of their known occurrences restricted to Federal lands) and that 50 percent of federally listed species are not known to occur on Federal lands at all.

Given the distribution of listed species with respect to land ownership, conservation of listed species in many parts of the United States is dependent upon working partnerships with a wide variety of entities and the voluntary cooperation of many non-Federal landowners (Wilcove and Chen 1998, p. 1407; Crouse et al. 2002, p. 720; James 2002, p. 271). Building partnerships and promoting voluntary cooperation of landowners are essential to understanding the status of species on non-Federal lands, and are necessary to implement recovery actions such as reintroducing listed species, habitat restoration, and habitat protection.

Many non-Federal landowners derive satisfaction from contributing to endangered species recovery. We promote these private-sector efforts through the Department of the Interior's Cooperative Conservation philosophy. Conservation agreements with non-Federal landowners (HCPs, safe harbor agreements, other conservation agreements, easements, and State and local regulations) enhance species conservation by extending species protections beyond those available through section 7 consultations. We encourage non-Federal landowners to enter into conservation agreements, based on a view that we can achieve greater species conservation on non-Federal land through such partnerships than we can through regulatory methods (61 FR 63854).

Many private landowners, however, are wary of the possible consequences of encouraging endangered species to their property. Mounting evidence suggests that some regulatory actions by the government, while well intentioned and required by law, can (under certain circumstances) have unintended negative consequences for the conservation of species on private lands (Wilcove et al. 1996, pp. 5-6; Bean 2002, pp.2-3; Conner and Mathews 2002, pp.1-2; James 2002, pp. 270-271; Koch 2002, pp. 2-3; Brook et al. 2003, pp. 1639-1643). Many landowners fear a decline in their property value due to real or perceived restrictions on land-use options where threatened or endangered species are found. Consequently, harboring endangered species is viewed by many landowners as a liability. This perception results in anti-conservation incentives because maintaining habitats that harbor endangered species represents a risk to future economic opportunities (Main et al. 1999, pp. 1264-1265; Brook et al. 2003, pp. 1644-1648).

According to some researchers, the designation of critical habitat on private lands significantly reduces the likelihood that landowners will support and carry out conservation actions (Main et al. 1999, p. 1263; Bean 2002, p. 2; Brook et al. 2003, pp. 1644-1648). The magnitude of this negative outcome is greatly amplified in situations where active management measures (such as reintroduction, fire management, and control of invasive species) are necessary for species conservation (Bean 2002, pp. 3-4). We believe that the judicious exclusion of specific areas of non-federally owned lands from critical habitat designations can contribute to species recovery and provide a superior level of conservation than critical habitat alone.

The purpose of designating critical habitat is to contribute to the conservation of threatened and endangered species and the ecosystems upon which they depend. The outcome of the designation, triggering regulatory requirements for actions funded, authorized, or carried out by Federal agencies under section 7(a)(2) of the Act, can sometimes be counterproductive to its intended purpose on non-Federal lands. Thus the benefits of excluding areas that are covered by partnerships or voluntary conservation efforts can, in specific circumstances, be high.

Benefits of Excluding Lands with HCPs or other Management Plans

The benefits of excluding lands with HCPs or other approved long-term management plans from critical habitat designation include relieving landowners, communities, and counties of any additional regulatory burden that might be imposed as a result of the critical habitat designation. Many HCPs and other conservation plans take many years to develop, and upon completion, are consistent with the recovery objectives for listed species that are covered within the plan area. Many conservation plans also provide conservation benefits to unlisted sensitive species.

A related benefit of excluding lands covered by approved HCPs and management plans that cover listed species from critical habitat designation is that it can make it easier for us to seek new partnerships with future plan participants, including States, counties, local jurisdictions, conservation organizations, and private landowners, which together can implement conservation actions that we would be unable to accomplish otherwise. HCPs often cover a wide range of species, including species that are not State and Federally listed, and that would otherwise receive little protection from development. By excluding these lands, we preserve our current partnerships and encourage additional future conservation actions.

We also note that permit issuance in association with HCP and Natural Communities Conservation Plan (NCCP)-HCP applications requires consultation under section 7 and section 10 of the Act, which would include the review of the effects of all HCP-covered activities that might adversely impact the species under a jeopardy standard, including possibly significant habitat modification (see definition of “harm” at 50 CFR 17.3), even without the critical habitat designation. Additionally, all other Federal actions that may affect the listed species still require consultation under section 7(a)(2) of the Act, and we review these actions for possibly significant habitat modification in accordance with the definition of harm referenced above.

Information provided in the previous sections applies to all the following discussions of benefits of inclusion or exclusion of critical habitat.

Economic Analysis

Section 4(b)(2) of the Act requires that we designate or revise critical habitat based upon the best scientific data available, after taking into consideration the economic impact, impact on national security, or any other relevant impact of specifying any particular area as critical habitat. In compliance with section 4(b)(2) of the Act, we have prepared an economic analysis (EA) of this final designation of critical habitat for the California red-legged frog. The final EA considers the potential economic effects of actions relating to the conservation of the California red-legged frog, including costs associated with sections 4, 7, and 10 of the Act, and including those attributable to designating critical habitat. It further considers the economic effects of protective measures taken as a result of other Federal, State, and local laws that aid habitat conservation for the California red-legged frog in essential habitat areas. The EA considers both economic efficiency and distributional effects. In the case of habitat conservation, efficiency effects generally reflect the “opportunity costs” associated with the commitment of resources to comply with habitat protection measures (for example, lost economic opportunities associated with restrictions on land use). The EA also addresses how potential economic impacts are likely to be distributed, including an assessment of any local or regional impacts of habitat conservation and the potential effects of conservation activities on small entities and the energy industry. The information in the EA can be used by the Service and the Secretary to assess whether the effects of the designation might unduly burden a particular group or economic sector. Finally, the EA considers those costs that may occur in the 22 years following the designation of critical habitat. The EA estimates the foreseeable economic impacts and the potential incremental costs as a result of the revised critical habitat designation; these are those costs attributed to critical habitat over and above those baseline costs coextensive with listing. The EA described economic impacts of California red-legged frog conservation efforts associated with the following categories of activity: (1) Residential and Commercial Development; (2) Water Management; (3) Agriculture; (4) Ranching/Grazing; (5) Timber Harvest; (6) Transportation; (7) Fire Management; (8) Utility and Oil and Gas Pipeline Construction and Maintenance; and (9) Habitat and Vegetation Management.

The pre-critical habitat designation (baseline) (1996-2008) costs associated with species conservation activities are estimated at $44 to $113 million on an annualized basis discounted at 7 percent. The EA estimated the total potential incremental economic impacts likely to result from the designation over the next 22 years (2009 to 2030) to be $159 million to $500 million ($14.4 to $45.2 million annualized) in present value terms using a 7 percent discount rate. Impacts to urban development represent approximately 90 percent of the incremental impacts. Impacts to agriculture activities account for 10 percent of the incremental costs due to the assumed establishment of no-pesticide use areas as part of the stipulated injunction as established by the Northern District Court of California for use of 66 pesticides (Center for Biological Diversity v. U.S. Environmental Protection Agency et al., Case No. C-02-1580-JSW (ND Ca. 2006)). This injunction and order will remain in effect for each of the 66 pesticides listed in the settlement until the Environmental Protection Agency (EPA) completes formal section 7(a)(2) consultation with the Service on the effects of each of the 66 active ingredients on the California red-legged frog.

The EA did identify areas within the designation that had disproportionate costs when compared to other areas within the designation. We have reviewed the units that were associated with the disproportionate costs and have determined that only two units have the majority (over 30 percent) of the costs identified in the EA. Those units are Unit SLO-3 in San Luis Obispo County and Unit ALA-2 in Alameda County. However, due to the methodologies used in determining the costs to development that are associated with the designation of critical habitat, we are unable to specifically identify the exact areas where those costs may occur. Because the areas within the units where the high costs are attributed cannot be specifically identified, we have determined that it would be inappropriate to exercise our discretion under section 4(b)(2) of the Act to exclude portions of Unit SLO-3, and Unit ALA-2 from the designation. Because the EA did not identify any disproportionate costs that are likely to result from the remainder of the designation outside Unit SLO-3 and Unit ALA-2, we did not consider exercising our discretion to exclude any other areas from this designation of critical habitat for the California red-legged frog based on economic impacts. A copy of the final EA with supporting documents is included in our administrative record and may be obtained by contacting the U.S. Fish and Wildlife Service, Sacramento Fish and Wildlife Office (see FOR FURTHER INFORMATION CONTACT) or by downloading from the Internet at www.regulations.go/.

Application of Section 4(b)(2) - Impacts to National Security

Section 4(b)(2) of the Act allows the Secretary to exercise his discretion to exclude areas from critical habitat for reasons of national security if he determines the benefits of such an exclusion exceed the benefits of designating the area as critical habitat. However, this exclusion cannot occur if it will result in the extinction of the species concerned.

Camp San Luis Obispo

Camp San Luis Obispo (CSLO) is a 5,612 ac (2,271 ha) State-owned training site managed by the California Army National Guard, which provides training grounds for National Guard, U.S. Army Reserve, and other Department of Defense troops, as well as law enforcement agencies and the U.S. State Department. CSLO currently trains approximately 100,000 soldiers annually and supports overseas deployments to Iraq, Afghanistan, Kosovo, and other theaters.

An Integrated Natural Resource Management Plan (INRMP) for CSLO was adopted by the California Army National Guard in 2001, but has not been approved and signed by the Service. The Endangered Species Management Plan for California red-legged frogs, included as part of the INRMP, specifies conservation measures including: annual monitoring of California red-legged frog populations on CSLO lands; monitoring of grazing and training impacts on riparian and upland habitats; installation of cattle exclusion fencing to protect riparian habitat; bank stabilization and revegetation, and nonnative/invasive plant removal; a 3:1 mitigation ratio for riparian vegetation lost during construction and maintenance projects; and actively seeking funding for habitat improvement and conservation projects. California red-legged frog management efforts would continue to be implemented regardless of whether we designate CSLO as critical habitat.

The Department of the Army, the National Guard Bureau, and the California Army National Guard stated in their comments that critical habitat designation on CSLO lands would impact national security. Designation of these lands could limit or restrict the amount of natural infrastructure available for ongoing and future mission execution and training needed for national security. The California Army National Guard expressed concern that critical habitat designation would impede troop readiness by requiring consultation for activities that may affect California red-legged frog critical habitat, and that delays or limitations to mission-essential training at CSLO directly affect the ability of soldiers to perform mission-essential tasks when deployed abroad or when assigned to National, State, local, and Homeland Security missions.

Benefits of Inclusion - Camp San Luis Obispo

The benefit of including CSLO lands in this critical habitat designation is that designation can serve to educate the public regarding potential conservation value of the area and help focus conservation efforts. The California Army National Guard is well aware of the presence of California red-legged frogs on CSLO and the value of CSLO lands to the conservation of the California red-legged frog. The California Army National Guard currently implements management measures to conserve California red-legged frogs and their habitat. The California Army National Guard is actively working with the Service and the CDFG to develop an approved INRMP that will ensure conservation of this species on CSLO lands. Furthermore, we included all CSLO lands in the proposed designation, which itself reached a wide audience. Therefore, the educational benefits that might follow critical habitat designation (such as providing information to the California Army National Guard on areas important to the long-term conservation of this species) may have been already provided by consultation, development of the INRMP including the Endangered Species Management Plan, and proposing these areas as critical habitat.

In light of the continued commitment by the California Army National Guard to manage their lands in a manner that promotes conservation of the California red-legged frog and because we will continue to complete consultations on activities that may impact California red-legged frogs, we believe designation of critical habitat would provide few, if any, additional regulatory and conservation benefits to the species beyond those that will result from continued species consultations.

Benefits of Exclusion - Camp San Luis Obispo

The benefits of excluding approximately 5,612 ac (2,271 ha) of California Army National Guard lands are significant. The CSLO lands are used for realistic, intensive military training that provides soldiers with essential war-fighting skills that they utilize on the battlefield. As described above, designation of CSLO lands could limit or restrict the amount of natural infrastructure available for ongoing and future training needed for national security. Excluding these California Army National Guard lands from critical habitat designation will remove the potential impact that a designation of critical habitat could have on the military's ability to maintain our national security.

Benefits of Exclusion Outweigh Benefits of Inclusion - Camp San Luis Obispo

We have determined that approximately 5,612 ac (2,271 ha) of the Camp San Luis Obispo National Guard Training Site (CSLO), located in Unit SLO-3, contain features essential to the conservation of the California red-legged frog, thereby meeting the definition of critical habitat under the Act. In the revised proposed rule to designate critical habitat we incorrectly identified approximately 5,902 ac (2,388 ha) owned by CSLO. On further review of the ownership of the lands for this designation within Unit SLO-3, we now correctly identify approximately 5,612 ac (2,271 ha) of land owned by CSLO that is subject to exclusion. In making our final decision with regard to CSLO lands, we considered several factors, including potential impacts to national security associated with a critical habitat designation as described by the Department of the Army, the National Guard Bureau, and the California Army National Guard; existing consultations; and conservation measures in place at this facility that benefit the California red-legged frog. We reviewed and evaluated the benefits of inclusion and benefits of exclusion for California Army National Guard lands in Unit SLO-3. We believe the benefits of designating these lands as California red-legged frog critical habitat are small, whereas the benefits of excluding these lands from critical habitat will result in the removal of potential impacts to national security. Therefore, we determined the benefits identified above of excluding approximately 5,612 ac (2,271 ha) of CSLO lands from the critical habitat designation outweigh the benefits of including these lands. Under section 4(b)(2) of the Act, the Secretary is exercising his discretion to exclude all CSLO lands in SLO-3 from this final revised critical habitat designation as a result of impacts to national security.

Exclusion Will Not Result in Extinction of the Species - Camp San Luis Obispo

We have determined that the exclusion of the CSLO lands from the final revised designation of critical habitat for the California red-legged frog will not result in the extinction of the species. The benefits of excluding 5,612 ac (2,271 ha) of lands from critical habitat are more significant than the benefits of inclusion and include the removal of impacts to national security. While some loss of habitat for the California red-legged frog may occur with the continued activities on CSLO lands, we conclude that, due to the measures outlined in the California red-legged frog management component of the pending INRMP, and the continued commitment from the California Army National Guard to consult with us on projects that may adversely impact California red-legged frogs, these continued activities will not result in extinction of this species. The jeopardy standard of section 7 of the Act and routine implementation of conservation measures through the section 7 process provide assurances that the species will not go extinct as a result of this exclusion.

Vandenberg Air Force Base

Vandenberg Air Force Base (VAFB) operates a 99,100 ac (40,104 ha) missile test base and aerospace center supporting west coast launch activities for the United States Air Force (Air Force). The base extends along approximately 42 miles (68 km) of Santa Barbara County coastline and includes variable elevations and unique habitats that contribute to VAFB's distinct biological diversity. VAFB provides airspace for space launches, ballistic missile tests, aeronautical operations and military exercises.

An INRMP for VAFB was developed by the Air Force, but has not been approved and signed by the Service. The draft INRMP has served as the foundation for implementation of conservation measures including: periodic surveys of California red-legged frog populations on VAFB, coordination with VAFB water quality staff to prevent degradation and contamination of California red-legged frog habitat, protection of various sites from human activities and grazing, prohibition of non-native fish introduction into VAFB water bodies, and consultation with the Service on all actions that may affect California red-legged frogs on VAFB.

The Air Force expressed concern that critical habitat designation on VAFB lands would impact national security and believes that designation of these lands as critical habitat would generally reduce the availability of unencumbered, natural infrastructure to support space and missile operations and essential maintenance activities. Additionally, the Air Force expressed concern that critical habitat designation would potentially delay short-notice, mission-critical activities that had not been previously analyzed in a consultation with the Service and that may affect critical habitat that has not been observed to be occupied by California red-legged frogs.

Benefits of Inclusion - Vandenberg Air Force Base

One benefit of including VAFB lands in this critical habitat designation is the designation can educate the public regarding potential conservation value of the installation and may help focus conservation efforts. The Air Force is aware of the value of VAFB lands to the conservation of the California red-legged frog and currently implements management measures to conserve California red-legged frogs and their habitat. The Air Force is actively working with the Service and the CDFG to develop a revised INRMP that will ensure conservation of this species on VAFB lands. Further, we included all VAFB lands in the proposed designation, which itself reached a wide audience. Therefore, the educational benefits that might follow critical habitat designation (such as providing information to the military on areas important to the long-term conservation of this species) may have been already provided by consultation, development of the INRMP, and proposing VAFB as critical habitat.

In light of the continued commitment by the Department of the Air Force to manage their lands in a manner that promotes conservation of the California red-legged frog and because we will continue to complete consultations on activities that may impact California red-legged frogs, we believe designation of critical habitat would provide few, if any, additional regulatory and conservation benefits to the species beyond those that will result from continued species consultations.

Benefits of Exclusion - Vandenberg Air Force Base

The benefits of excluding approximately 24,913 ac (10,090 ha) of Air Force lands are significant. The VAFB lands are used to provide restricted airspace for space launches, ballistic missile tests, aeronautical operations, and military exercises. Designation of VAFB lands as critical habitat for California red-legged frogs would generally reduce the availability of unencumbered, natural infrastructure to support space missile operations and essential maintenance activities, and may potentially delay short-notice, mission-critical activities that were not previously analyzed in a consultation with the Service. Excluding these Air Force lands from the critical habitat designation will remove the potential impact that a designation of critical habitat could have on the military's ability to maintain our national security.

Benefits of Exclusion Outweigh Benefits of Inclusion - Vandenberg Air Force Base

We determined that approximately 24, 913 ac (10,090 ha) of Air Force lands at VAFB, 23,912 ac (9,684 ha) located in Unit STB-2 and 1,001 ac (405 ha) in STB-4, contain the features essential to the conservation of the California red-legged frog, and therefore meet the definition of critical habitat under the Act. In the unit description for Unit STB-2 in the revised proposed rule, we erroneously identified only 4,992 ac (1,992 ha) as being part of VAFB (73 FR 53510). We corrected this error, and we now identify approximately 24,913 ac (10,090 ha) as being part of VAFB and as a result subject to exclusion. In making our final decision with regard to these Air Force lands, we considered several factors including potential impacts to national security associated with critical habitat designation as described by the Air Force, existing consultations, and conservation measures in place at VAFB that benefit the California red-legged frog.

We reviewed and evaluated the benefits of inclusion and benefits of exclusion for Air Force lands in Unit STB-2 and STB-4. We believe the benefits of designating these lands as California red-legged frog critical habitat are small, whereas the benefits of excluding these lands from critical habitat will result in the removal of potential impacts to national security. Therefore, we determined the benefits identified above of excluding approximately 24,913 ac (10,090 ha) of VAFB lands from the critical habitat designation outweigh the benefits of including these lands. Under section 4(b)(2) of the Act, we are excluding all Air Force lands in Unit STB-2 and STB-4 from this final revised critical habitat to prevent impacts to national security.

Exclusion Will Not Result in Extinction of the Species - Vandenberg Air Force Base

We determined that the exclusion of the VAFB lands from the final revised critical habitat designation for the California red-legged frog will not result in the extinction of the species. The benefits of excluding 24,913 ac (10,090 ha) of lands from critical habitat are more significant than the benefits of inclusion and include the prevention of impacts to national security as determined by the Air Force. While some loss of habitat for the California red-legged frog may occur with the continued activities on VAFB lands, we conclude that, due to the measures outlined in the draft INRMP, and the continued commitment from the Air Force to consult with us on projects that may adversely impact California red-legged frogs, these continued activities would not jeopardize the continued existence of this species. The jeopardy standard of section 7 of the Act and routine implementation of conservation measures through the section 7 process provide assurances that the species will not go extinct as a result of this exclusion.

Application of Section 4(b)(2) - Other Relevant Impacts - Conservation Partnerships

Section 4(b)(2) of the Act allows the Secretary to exclude areas from critical habitat for other relevant impacts if he determines that the benefits of such exclusion outweigh the benefits of specifying such area as part of critical habitat, unless he determines, based on the best scientific data available, that the failure to designate such area as critical habitat will result in the extinction of the species. As discussed above in the Conservation Partnerships on Non-Federal Lands section, we believe that designation can negatively impact the working relationships and conservation partnerships we have formed with private landowners. The Service recognizes that 80 percent of endangered or threatened species occur either partially or solely on private lands (Crouse et al. 2002, p. 270), and we will only achieve recovery of federally listed species with the cooperation of private landowners.

In making the following exclusions, we evaluated the benefits of designating these non-Federal lands that may not have a Federal nexus for consultation while considering if our existing partnerships have resulted, or will result, in greater conservation benefits to the California red-legged frog and the physical or biological features essential to its conservation than a critical habitat designation. As discussed in the “Benefits of Designating Critical Habitat” section above, conservation partnerships that result in implementation of an HCP or other management plan that considers enhancement or recovery as the management standard often provide as much or more benefit than consultation on projects that may affect critical habitat (the primary benefit of a designation).

In considering the benefits of including lands in a designation that are covered by a current HCP or other management plan, we evaluate a number of factors to help us determine the conservation benefit that the plan or program provides the species or its habitat:

(1) Whether the plan is complete and provides protection from destruction or adverse modification of areas proposed as critical habitat;

(2) Whether there is a reasonable expectation the conservation management strategies and actions will be implemented for the foreseeable future, based on past practices, written guidance, or regulations; and

(3) Whether the plan provides conservation strategies and measures consistent with currently accepted principles of conservation biology.

We balance the benefits of inclusion against the benefits of exclusion by considering the benefits that may accrue from consultations versus the benefits of preserving partnerships and encouraging development of additional HCPs and other conservation plans in the future.

After consideration under section 4(b)(2) of the Act, the Secretary has determined to exercise his discretion to exclude the following specific areas from the final revised critical habitat for the California red-legged frog: Bonnie Doon Quarries Settlement Ponds HCP in Santa Cruz County (6 ac (3 ha)) (Unit SCZ-1); East Contra Costa County HCP and Natural Community Conservation Plan (NCCP) in Contra Costa County (75,767 ac (30,662 ha)) (Unit CCS-2); Western Riverside Multi-species HCP in Riverside County (4,069 ac (1,647 ha)) (Unit RIV-1); East Bay Regional Park District lands in Contra Costa County (14,627 ac (5,919 ha)) (Unit CCS-2); Spivey Pond Management Area (BLM) in El Dorado County (54 ac (22 ha)) (Unit ELD-1); and Hearst Ranch Conservation Easement in San Luis Obispo County (34,777 ac (14,074 ha)) (Unit SLO-2).

Bonny Doon Quarries Settlement Ponds Habitat Conservation Plan (Bonny Doon HCP) (Unit SCZ-1)

The Bonny Doon HCP encompasses approximately 6 ac (3 ha) of privatelyowned lands in the Santa Cruz Mountains near the town of Davenport, Santa Cruz County, California. California red-legged frogs are present in both of the watersheds (San Vicente Creek and Liddell Creek) where seven settlement ponds were constructed at the Bonny Doon Quarries. The Bonny Doon HCP was completed and finalized in 1998, concurrently with a final environmental assessment on the HCP under the National Environmental Policy Act (NEPA; 42 U.S.C. 4321 et seq.). We issued a non-jeopardy biological opinion under section 7 of the Act on the Bonny Doon HCP on July 29, 1999 (Service, 1-8-99-FW-70, 1999, pp. 1-13). The Bonny Doon HCP contains measures to minimize and mitigate impacts to the California red-legged frog and its habitat from the quarry's operations, maintenance, and possible reclamation activities. The primary components of the minimization and mitigation include: developing and implementing an employee training program and community outreach program; conducting annual breeding and pre-activity surveys for California red-legged frogs at all settlement and mitigation ponds; avoiding or relocating California red-legged frog adults, tadpoles, and egg masses during maintenance activities; minimizing impacts of water releases to breeding populations of California red-legged frogs; inspecting the ground for California red-legged frogs that may be under vehicles prior to use; establishing a speed limit of 10 mi/hour (16 km/hour) on roads within the operational area; using pesticides and herbicides that do not affect aquatic organisms and applying them in accordance with label precautions; disposing of all food-related trash in closed containers; controlling nonnative predators; and enhancing habitat suitability of the mitigation ponds and Settlement Pond 1 for the California red-legged frog. The Bonny Doon HCP and its accompanying implementing agreement, which delineates the responsibilities of the Service and the permittee for the implementation of the HCP, are designed to allow the operation and maintenance activities of up to seven settlement ponds and the reclamation of two additional settlement ponds totaling 4.9 ac (2 ha) in a manner that will result in conservation of the California red-legged frog and its habitat.

Based on the reasoning below, the Secretary has determined to exercise his discretion to exclude approximately 6 ac (3 ha) of land from unit SCZ-1 in Santa Cruz County under section 4(b)(2) of the Act.

Benefits of Inclusion - Bonny Doon HCP

The inclusion of approximately 6 ac (3 ha) of lands within the Bonny Doon HCP could be beneficial because it identifies lands that require management for conservation of California red-legged frogs. The process of proposing and finalizing the revised critical habitat rule provided the Service with the opportunity to evaluate and refine the features essential to the conservation of the species within the geographical area occupied by it at the time of listing, as well as to evaluate whether there are other areas essential for the conservation of the species. The designation process included peer review and public comment on the identified features and areas. This process is valuable to landowners and managers in developing conservation management plans for identified areas, as well as any other occupied habitat or suitable habitat that may not have been included in the Service's determination of essential habitat.

The educational benefits of designation are small and largely redundant to those derived through conservation efforts currently being implemented in the approximately 6 ac (3 ha) of lands within the Bonny Doon HCP. The educational benefits of critical habitat designation derived through informing landowners and other members of the public of areas important for the long-term conservation of the California red-legged frog may have been and continue to be achieved through: (1) Development and implementation of the Bonny Doon HCP, (2) the original critical habitat designation process in 2001 (66 FR 14626), and (3) publication of the revised critical habitat designation in 2006 (71 FR 19244).

The consultation provisions under section 7 of the Act constitute the regulatory benefits of inclusion for critical habitat. As discussed above, Federal agencies must consult with us on actions that may affect critical habitat and must avoid destroying or adversely modifying critical habitat. There is some, albeit limited, potential for future activities within the lands we are excluding having a Federal nexus for the California red-legged frog as a result of actions by Federal agencies, such as the Army Corps of Engineers. Therefore, including this area may provide some regulatory benefits under section 7 of the Act.

However, the Bonny Doon HCP addresses conservation issues from a coordinated, integrated perspective rather than a piecemeal, project-by-project approach (as would occur on these lands under sections 7 of the Act absent this plan) and will arguably achieve more California red-legged frog conservation within the Bonny Doon HCP Plan Area than through section 7 consultations involving consideration of critical habitat. The PCEs required by California red-legged frogs will benefit from the conservation objectives and required measures outlined in the Bonny Doon HCP.

In light of the conservation planning used in the development of the Bonny Doon HCP and the conservation that will occur under the HCP, we conclude that the potential regulatory benefit of designating this area in Unit SCZ-1 as critical habitat is minimal.

Benefits of Exclusion - Bonny Doon HCP

HCPs foster a cooperative, coordinated approach to species protection and habitat conservation. The benefits of excluding HCP lands are: (1) Retaining and fostering the existing partnership and working relationship with the landowner(s) and other entities, and (2) encouraging future HCP development or development of other species/habitat conservation plans. The benefits of excluding lands within approved plans that specifically benefit listed or sensitive species from critical habitat discussed above applies fully to the Bonny Doon HCP. Additionally, exclusion of an HCP (such as the Bonny Doon HCP) demonstrates our good faith effort and collaborative working relationships, which should encourage initiation and completion of other HCPs.

We developed close partnerships with all participating entities through the development of the Bonny Doon HCP, which incorporates appropriate protections and management for the California red-legged frog, its habitat, and the features essential to the conservation of this species. By excluding 6 ac (3 ha) of lands in Unit SCZ-1 from designation, we are eliminating an essentially redundant layer of regulatory review for projects covered by the Bonny Doon HCP, helping to preserve our ongoing partnership with the plan participants, and encouraging new partnerships with other landowners and jurisdictions. These partnerships are critical for the conservation of California red-legged frog.

Benefits of Exclusion Outweigh the Benefits of Inclusion -Bonny Doon HCP

As discussed in the “Benefits of Inclusion - Bonny Doon HCP” section above, we believe the regulatory benefit of designating critical habitat on lands covered by the Bonny Doon HCP would be low. The Bonny Doon HCP addresses conservation issues from a coordinated, integrated perspective rather than a piecemeal project-by-project approach and will achieve more California red-legged frog conservation than we would achieve through multiple site-by-site, project-by- project, section 7 consultations involving consideration of critical habitat. We believe the conservation benefits for California red-legged frogs that would occur as a result of designating those 6 ac (3 ha) in Unit SCZ-1 as critical habitat (e.g., protection afforded through the section 7(a)(2) consultation process) is minimal compared to the overall conservation benefits for the species that will be realized through the implementation of the Bonny Doon HCP.

Furthermore, the educational benefits of critical habitat designation, including informing the public of areas important for the long-term conservation of the species, are accomplished from material provided on our website and through notices of public comment periods associated with the original California red-legged frog critical habitat rule (66 FR 14626), the first revised critical habitat rule (71 FR 19244), and the Bonny Doon HCP (Service 1998, pp. 1-23). Further, many educational benefits of critical habitat designation will be achieved through the overall designation, and will occur whether or not this particular location is designated. For these reasons, we believe that designating critical habitat has little benefit in areas covered by the Bonny Doon HCP.

The exclusion of the Bonny Doon HCP lands from California red-legged frog critical habitat will help preserve the partnerships that we developed for this HCP, which provides for California red-legged frog conservation. It may also help encourage new partnerships with other landowners and jurisdictions. These partnerships are critical for the conservation of California red-legged frog.

We reviewed and evaluated the exclusion of 6 ac (3 ha) of private lands within the Bonny Doon HCP plan area from the final revised critical habitat designation for the California red-legged frog and determined that the benefits of excluding these lands in Unit SCZ-1 outweigh the benefits of including them. As discussed above, the HCP will provide for preservation and management of habitat for and features essential to the conservation of the species.

Exclusion Will Not Result in Extinction of the Species - Bonny Doon HCP

In keeping with our analysis and conclusion detailed in our biological opinion for the Bonny Doon HCP (Service, 1-8-99-FW-70, 1999, pp 1-13), we determined the exclusion of 6 ac (3 ha) of permittee-owned lands within the Bonny Doon HCP from this final critical habitat designation will not result in the extinction of the species. The amount of habitat we are excluding within the Bonny Doon HCP is only a minute fraction (less than 0.001 percent) of the amount of designated critical habitat in Unit SCZ-1. Additionally, the jeopardy standard of section 7 of the Act and routine implementation of conservation measures through the section 7 process provide assurances that the species will not go extinct as a result of this exclusion.

Western Riverside County Multiple Species Habitat Conservation Plan (Western Riverside County MSHCP) (Unit RIV-1)

The Western Riverside County MSHCP is a large-scale, multijurisdictional HCP encompassing 1.26 million ac (510,000 ha) in western Riverside County and addresses 146 listed and unlisted “covered species,” including the California red-legged frog. Participants in the Western Riverside County MSHCP include 14 cities in western Riverside County; the County of Riverside, including the Riverside County Flood Control and Water Conservation Agency (County Flood Control), Riverside County Transportation Commission, Riverside County Parks and Open Space District (County Parks), and Riverside County Waste Department; California Department of Parks and Recreation (State Parks); and the California Department of Transportation (Caltrans).

The Western Riverside County MSHCP was designed to establish a multi-species conservation program that minimizes and mitigates the expected loss of habitat and associated incidental take of covered species. The Service issued an incidental take permit (TE-088609-0) under section 10(a)(1)(B) of the Act on June 22, 2004, to 22 permittees under the Western Riverside County MSHCP for a period of 75 years. This HCP requires establishment of approximately 153,000 ac (61,916 ha) of new conservation lands (Additional Reserve Lands) to complement the approximately 347,000 ac (140,426 ha) of pre-existing natural and open space areas defined by the Western Riverside County MSHCP as Public/Quasi-Public (PQP) lands. These PQP lands include those under Federal ownership, primarily managed by the Forest Service and BLM, and also permittee-owned, open-space areas, primarily managed by State and County Parks. Collectively, the Additional Reserve Lands and PQP lands form the overall Western Riverside County MSHCP Conservation Area. The configuration of the 153,000 ac (61,916 ha) of Additional Reserve Lands is not mapped or precisely identified in the Western Riverside County MSHCP, but rather is based on textual descriptions within the bounds of a 310,000-ac (125,453-ha) Criteria Area and is interpreted as implementation of the Western Riverside County MSHCP takes place. All lands in Unit RIV-1 are located within the Western Riverside County MSHCP Plan Area.

To address the primary threats to the California red-legged frog (i.e., habitat destruction and alteration) (61 FR 25813; May 23, 1996), the Western Riverside County MSHCP provides enhancement of habitat by removing or reducing these threats. Conservation objectives specific to the California red-legged frog in the MSHCP include the conservation of occupied and historical breeding habitat, and the conservation of intervening lands that provide for movement between core areas and upland habitat adjacent to occupied or suitable breeding habitat (Dudek and Associates, Inc. 2003, pp. A19-A20).

The only known population of California red-legged frogs in the boundaries of the Western Riverside County MSCHP occurs along Cole Creek on the Santa Rosa Plateau. The occupied area along Cole Creek is entirely within the Santa Rosa Plateau Ecological Reserve, which is owned and managed by the CDFG. The management of the Santa Rosa Plateau Ecological Reserve includes measures that protect the habitat of the California red-legged frog and focus on restoration activities that benefit this species (Service 2004, p. 54). This area is included in Unit RIV-1, which consists of 4,069 ac (1,647 ha) of lands owned or controlled by the permittees. A total of 3,997 ac (1,618 ha) of these lands are currently conserved and referred to as PQP lands in the analysis of the Western Riverside County MSHCP, and 72 ac (29 ha) of lands that are privately owned. The provisions of the Western Riverside County MSHCP strengthen the management for the California red-legged frog and ensure that any projects that take place on the private land will not reduce the viability of the population within Unit RIV-1.

Specifically, in the area proposed as critical habitat, the Western Riverside County MSHCP directs reserve managers of the PQP lands to maintain ecological processes within occupied habitat and appropriate new areas for the California red-legged frog (Dudek and Associates, Inc. 2003, pp. 5-13). Private lands included in Unit RIV-1 are in the survey area for the California red-legged frog, where 90 percent of areas that provide long-term conservation value for the species will be avoided until the conservation objectives for the California red-legged frog are met (Dudek and Associates, Inc. 2003, pp. 6-65-6-71). The Western Riverside County MSHCP indicates that the PQP reserve lands within Unit RIV-1 will be monitored to determine if successful reproduction is occurring (Dudek and Associates, Inc. 2003, p. 5-13). These lands will be managed to ensure that the threats to this species from altered hydrology, flood control, nonnative plant species, mining, human collecting, and predation will not negatively impact the population and that ecological processes necessary for the California red-legged frog breeding populations will be maintained (Dudek and Associates, Inc. 2003, p. 5-13). The Western Riverside County MSHCP preserves the habitat that supports identified core population(s) of this species and therefore contributes to recovery of this species in the Western Riverside County MSHCP area. The conservation objectives, required surveys, and adaptive management program for the California red-legged frog (and its PCEs) provided by the Western Riverside County MSHCP may exceed any conservation value provided as a result of regulatory protections that have been or may be afforded through critical habitat designation. Projects in these areas conducted or approved by Western Riverside County MSHCP permittees are subject to the conservation requirements of the Western Riverside County MSHCP. The Secretary has determined to exercised his discretion to exclude the entire approximately 4,069 ac (1,647 ha) of permittee-owned PQP and private lands from revised critical habitat designation within Unit RIV-1 (Cole Creek) under section 4(b)(2) of the Act.

Benefits of Inclusion - Western Riverside County MSHCP

The benefits of inclusion in a critical habitat designation will provide little additional benefit to the California red-legged frog within the boundaries of the approved Western Riverside County MSHCP. The principal benefit of any designated critical habitat is that federally funded, permitted, or authorized activities that may affect critical habitat will require consultation under section 7 of the Act. Such consultations ensure that adequate protection is provided to avoid adverse modification or destruction of critical habitat. The approved Western Riverside County MSHCP covers the California red-legged frog and is designed to ensure the conservation of the species within the Plan area and incorporates special management and protection measures for California red-legged frog habitat within Plan boundaries. The Western Riverside County MSHCP's measures to protect the California red-legged frog and its habitat have undergone thorough evaluation in the section 7 consultation prior to approval of the Plan, and, therefore, there is no benefit of section 7 consultation by including these areas in critical habitat. Development and implementation of the Western Riverside County MSHCP has provided other important conservation benefits for the California red-legged frog, including the development of biological information to guide conservation efforts and assist in the species' recovery within the Plan area. The educational benefits of designating critical habitat, including informing the public of areas that are important to the conservation of listed species, are essentially the same as those that have occurred during the process of reviewing and approving the Western Riverside County MSHCP. Specifically, the Western Riverside County MSHCP involved public participation through public notices and public comment periods, prior to being approved. For these reasons, we believe that designation of critical habitat would provide little additional benefit in areas covered by the approved Western Riverside County MSHCP. Federal actions that may affect the California red-legged frog will still require consultation under section 7 of the Act.

Benefits of Exclusion — Western Riverside County MSHCP

The benefits of excluding the Western Riverside County MSHCP from critical habitat designation include relieving landowners, communities, and portions of Riverside County of any additional regulatory burden that might be imposed by critical habitat. Many HCPs, particularly large regional HCPs, take many years to develop and, upon completion, become regional conservation plans that are consistent with the recovery objectives for listed species that are covered within the Plan area. Additionally, many of these HCPs provide conservation benefits to unlisted sensitive species. Imposing an additional regulatory review after an HCP is completed solely as a result of the designation of critical habitat may undermine conservation efforts and partnerships in many areas. In fact, it could result in the loss of species' benefits if participants abandon the voluntary HCP process. Designation of critical habitat within the boundaries of approved HCPs could also be viewed as a disincentive to those entities currently developing HCPs or contemplating them in the future. The benefits of excluding lands within approved plans that specifically benefit listed or sensitive species from critical habitat discussed above applies fully to the Western Riverside County MSHCP. A related benefit of excluding lands within approved HCPs that cover the California red-legged frog from the critical habitat designation is the continued ability to seek new partnerships with future HCP participants, including States, counties, local jurisdictions, conservation organizations, and private landowners, which together can implement conservation actions that we would be unable to accomplish otherwise. If lands within approved HCP plan areas are designated as critical habitat, it would likely have a chilling effect on our ability to establish new partnerships to develop HCPs, particularly large regional HCPs that involve numerous participants and address landscape-level conservation of the California red-legged frog and its habitat. By excluding the lands covered within the Western Riverside County MSHCP, we preserve our current partnerships and encourage additional conservation actions in the future.

Benefits of Exclusion Outweigh the Benefits of Inclusion - Western Riverside County MSHCP

We believe that the regulatory benefit of designating critical habitat on private lands covered by the Western Riverside County MSHCP would be low and may hinder the effective implementation of the Plan. The Western Riverside County MSHCP addresses conservation issues from a coordinated, integrated perspective and will achieve better California red-legged frog conservation than would be achieved through multiple site-by-site, project-by-project, section 7 consultations involving consideration of critical habitat. The Western Riverside County MSHCP provides for the proactive monitoring and management of conserved lands (as previously described), reducing known threats to California red-legged frog and its habitat.

Conservation and management of California red-legged frog habitat is essential to the survival and recovery of this species. Such conservation needs are typically not addressed through the application of the statutory prohibition on adverse modification or destruction of critical habitat. The Western Riverside County MSHCP provides as much or more conservation benefit to the species than a consultation for critical habitat designation conducted under the standards required by the Ninth Circuit in the Gifford Pinchot decision. Furthermore, educational benefits that may be derived from a critical habitat designation are low in this case and largely redundant to the educational benefits achieved through the significant public, State, and local government input solicited and received during the development of the Western Riverside County MSHCP.

We have developed close partnerships with the 22 Western Riverside County MSHCP permittees through the development of this regional HCP that incorporates appropriate protections and management of the physical and biological features essential to the conservation of this species. Those protections are consistent with the mandates under section 7 of the Act to avoid adverse modification or destruction of critical habitat and go beyond that prohibition by including active management and protection of essential habitat areas. By excluding these lands from designation, we are eliminating a largely redundant layer of regulatory review for a limited set of projects on non-Federal lands that are addressed by the Western Riverside County MSHCP, and we are helping to preserve our ongoing partnerships with the permittees and encouraging new partnerships with other landowners and jurisdictions. Those partnerships, and the landscape-level, multiple-species conservation planning efforts they promote, are critical for the conservation of the California red-legged frog. Designating critical habitat on non-Federal lands within the Western Riverside County MSHCP could have a detrimental effect on our partnerships with the 22 Western Riverside County MSHCP permittees and could be a significant disincentive to the establishment of future partnerships and HCPs with other partners.

We reviewed and evaluated the exclusion of 4,069 ac (1,647 ha) of private lands within the Western Riverside County MSHCP area from the final revised critical habitat designation for the California red-legged frog and determined that the benefits of excluding these lands in Unit RIV-1 outweigh the benefits of including them. As discussed above, the HCP will provide for preservation and management of habitat for and features essential to the conservation of the species.

Exclusion Will Not Result in Extinction of the Species - Western Riverside County MSHCP

In keeping with our analysis and conclusion detailed in our biological opinion for the Western Riverside County MSHCP (Service 2004, p. 334), we do not believe that the exclusion of non-Federal lands that meet the definition of critical habitat within the Western Riverside County MSHCP plan area from the final designation of critical habitat for the California red-legged frog will result in the extinction of the species. Additionally, the jeopardy standard of section 7 of the Act and routine implementation of conservation measures through the section 7 process also provide assurances that the species will not go extinct as a result of this exclusion.

East Contra Costa County Habitat Conservation Plan and Natural Community Conservation Plan (East Contra Costa County HCP/NCCP) (Unit CCS-2)

The East Contra Costa County HCP/NCCP was finalized on July 25, 2007 (Service 2007b, pp. 1-6). Participants in this HCP/NCCP include the County of Contra Costa; the cities of Brentwood, Clayton, Oakley, and Pittsburg, California; and the Contra Costa Water District. The East Contra Costa County HCP encompasses the eastern portion of Contra Costa County from approximately west of Concord to Sand Mound Slough and Clifton Court Forebay on the east. The East Contra Costa County HCP/NCCP is also a subregional plan under the State's NCCP process and was developed in cooperation with the CDFG. The East Contra Costa County HCP/NCCP includes areas where urban growth and development are expected to occur and has identified the California red-legged frog as a covered species. The East Contra Costa County HCP/NCCP specifically seeks to provide management and protection of the California red-legged frog through several conservation measures including: (1) Preserve between 24,455 to 29,467 ac (9,897 to 11,925 ha) of upland foraging and dispersal habitat (not including additional lands identified in open space and parks); (2) preserve between 28 to 36 wetted ac (11 to 15 wetted ha) of non-stream breeding habitat and between 85 to 98 mi (137 to 158 km) of stream breeding habitat; (3) create approximately 33 wetted ac (13 wetted ha) of ponds; (4) restore approximately 85 ac (34 ha) of perennial wetland complex; (5) preserve major habitat connections linking existing public lands; (6) incorporate a range of habitat and population management and enhancement measures; (7) fully mitigate the impacts of covered species and species, including the California red-legged frog; (8) maintain ecosystem processes; and (9) contribute to the recovery of covered species and species. These conservation measures will benefit California red-legged frog conservation by preserving and restoring existing wetland and upland habitat and creating new wetland habitat for the species. We expect the East Contra Costa County HCP/NCCP to provide substantial protection of the physical and biological features essential to the conservation of the species and provide special management considerations and protection of conservation lands. This will provide a greater level of management for the California red-legged frog on these private lands than would designation of critical habitat.

Benefits of Inclusion - East Contra Costa County HCP/NCCP

Critical habitat designation will provide little additional benefit to the California red-legged frog within the boundaries of the approved East Contra Costa County HCP/NCCP through the section 7 consultation process. The principal benefit of any designated critical habitat is that federally funded, permitted, or authorized activities that may affect critical habitat will require consultation under section 7 of the Act. Such consultations ensure that adequate protection is provided to avoid adverse modification or destruction of critical habitat. The approved East Contra Costa County HCP/NCCP covers the California red-legged frog and is designed to ensure the conservation of the species within the Plan area and incorporates special management and protection measures for California red-legged frog habitat within Plan boundaries. The adequacy of the East Contra Costa County HCP/NCCP measures to protect the California red-legged frog and its habitat has undergone thorough evaluation in the section 7 consultation completed prior to approval of the Plan, and, therefore, there is no benefit of including these areas in critical habitat. Development and implementation of the East Contra Costa County HCP/NCCP has provided other important conservation benefits for the California red-legged frog, including the development of biological information to guide conservation efforts and assist in the species' recovery within the Plan area. The educational benefits of designating critical habitat, including informing the public of areas that are important to the conservation of listed species, are essentially the same as those that have occurred during the process of reviewing and approving the East Contra Costa County HCP/NCCP. Specifically, the East Contra Costa County HCP/NCCP involved public participation through public notices and public comment periods, prior to being approved. For these reasons, we believe that designation of critical habitat would provide little additional benefit in areas covered by the approved East Contra Costa County HCP/NCCP. Federal actions that may affect the California red-legged frog will still require consultation under section 7 of the Act.

Benefits of Exclusion — East Contra Costa County HCP/NCCP

The benefits of excluding the East Contra Costa County HCP/NCCP from critical habitat designation include relieving landowners, communities, and portions of eastern Contra Costa County of any additional regulatory burden that might be imposed by critical habitat. Many HCPs, particularly large regional HCPs, take many years to develop and, upon completion, become regional conservation plans that are consistent with the recovery objectives for listed species that are covered within the Plan area. Additionally, many of these HCPs provide conservation benefits to unlisted sensitive species. Imposing an additional regulatory review after a HCP is completed solely as a result of the designation of critical habitat may undermine conservation efforts and partnerships in many areas. In fact, it could result in the loss of species' benefits if participants abandon the voluntary HCP process. Designation of critical habitat within the boundaries of approved HCPs could also be viewed as a disincentive to those entities currently developing HCPs or contemplating them in the future. The benefits of excluding lands within approved plans that specifically benefit listed or sensitive species from critical habitat discussed above applies fully to the East Contra Costa County HCP/NCCP. A related benefit of excluding lands within approved HCPs that cover the California red-legged frog from the critical habitat designation is the continued ability to seek new partnerships with future HCPs participants, including States, counties, local jurisdictions, conservation organizations, and private landowners, which together can implement conservation actions that we would be unable to accomplish otherwise. If lands within approved HCPs plan areas are designated as critical habitat, it would likely have a chilling effect on our ability to establish new partnerships to develop HCPs, particularly large regional HCPs that involve numerous participants and address landscape level conservation of the California red-legged frog and its habitat. By excluding the lands covered within the East Contra Costa County HCP/NCCP, we preserve our current partnerships and encourage additional conservation actions in the future.

Benefits of Exclusion Outweigh the Benefits of Inclusion

We believe that the regulatory benefit of designating critical habitat on private lands covered by the East Contra Costa County HCP/NCCP would be low and may hinder the effective implementation of the plan. The East Contra Costa County HCP/NCCP addresses conservation issues from a coordinated, integrated perspective and will achieve better California red-legged frog conservation than would be achieved through multiple site-by-site, project-by-project, section 7 consultations involving consideration of critical habitat. East Contra Costa County HCP/NCCP provides for the proactive monitoring and management of conserved lands (as previously described), reducing known threats to California red-legged frog and its habitat.

Conservation and management of California red-legged frog habitat is essential to the survival and recovery of this species. Such conservation needs are typically not addressed through the application of the statutory prohibition on adverse modification or destruction of critical habitat. The East Contra Costa County HCP/NCCP provides as much or more conservation benefit to the species than a consultation for critical habitat designation conducted under the standards required by the Ninth Circuit in the Gifford Pinchot decision. Furthermore, educational benefits that may be derived from a critical habitat designation are low in this case and largely redundant to the educational benefits achieved through the significant public, State, and local government input solicited and received during the development of the East Contra Costa County HCP/NCCP.

We have developed close partnerships with the eight East Contra Costa County HCP/NCCP permittees through the development of this regional HCP/NCCP that incorporates appropriate protections and management of the physical and biological features essential to the conservation of this species. Those protections are consistent with the mandates under section 7 of the Act to avoid adverse modification or destruction of critical habitat and go beyond that prohibition by including active management and protection of essential habitat areas. By excluding these lands from designation, we are eliminating a largely redundant layer of regulatory review for a limited set of projects on non-Federal lands that are addressed by the East Contra Costa County HCP/NCCP, and we are helping to preserve our ongoing partnerships with the permittees and encouraging new partnerships with other landowners and jurisdictions. Those partnerships, and the landscape-level, multiple-species conservation planning efforts they promote, are critical for the conservation of the California red-legged frog. Designating critical habitat on non-Federal lands within the East Contra Costa County HCP/NCCP could have a detrimental effect to our partnerships with the eight East Contra Costa County HCP/NCCP permittees and could be a significant disincentive to the establishment of future partnerships and HCPs with other partners.

As a result of the specific conservation measures in the Plan being implemented for the California red-legged frog, the Secretary has determined to exercise his discretion under section 4(b)(2) of the Act to exclude approximately 75,767 ac (30,662 ha) of land that will receive protection and the special management they require through funding mechanisms that will be implemented under the East Contra Costa County HCP/NCCP.

Exclusion Will Not Result in Extinction of the Species

In keeping with our analysis and conclusion detailed in our biological opinion for the East Contra Costa County HCP/NCCP (Service 2007c, pp. 1-189), we do not believe that the exclusion of non-Federal lands that meet the definition of critical habitat within the East Contra Costa County HCP/NCCP plan area from the final designation of critical habitat for the California red-legged frog will result in the extinction of the species. Additionally, the jeopardy standard of section 7 of the Act and routine implementation of conservation measures through the section 7 process also provide assurances that the species will not go extinct as a result of this exclusion.

Other Conservation Plans

East Bay Regional Park District Lands (EBRPD) (Unit CCS-2)

The East Bay Regional Park District (EBRPD) manages 65 regional parks, recreation areas, wilderness, shorelines, preserves, and land bank areas covering over 95,000 ac (34,446 ha) in Alameda and Contra Costa Counties. The EBRPD Board of Directors adopted the EBRPD Plan on December 17, 1996, under Resolution Number 1996-12-349 (EBRPD 1997, pp. 1-87). The EBRPD Plan provides for monitoring and conservation of rare, threatened, and endangered taxa, including the California red-legged frog. The Service issued an incidental take permit (817400) under section 10(a)(1)(B) of the Act to the EBRPD and they have been actively conducting California red-legged frog surveys and research over the last 15 years. In 1996, 2000, 2004, and most recently in 2007 (Bobzien and DiDonato 2007, pp. 1-87), EBRPD staff conducted California red-legged frog surveys across all park lands for the purpose of population trend monitoring and habitat assessment. Research conducted by EBRPD has also focused on California red-legged frog habitat requirements, tolerances related to water quality, adult and juvenile movements, and the effect of livestock grazing on habitat and frog reproduction. EBRPD provides educational outreach through park interpretive programs and presentation of California red-legged frog research findings at scientific conferences and in peer-reviewed journals. Habitat restoration and nonnative predator control are special management actions the EBRPD uses for the conservation of the California red-legged frog. The majority of the EBRPD land holdings are protected and managed as natural parklands, thereby providing protection for the physical and biological features essential to the conservation of the California red-legged frog. Conservation efforts including conserving, enhancing, and restoring rare, threatened, endangered, or locally important species of plants and animals and their habitats take precedence over other park activities if EBRPD activities are determined to have a significant adverse effect (change in any of the physical conditions within the area affected by a potential activity) on these resources (EBRPD 1997, pp. 1-83). As identified in their Master Plan, the EBRPD will accomplish this by using scientific research, field experience, and other proven methodologies. Populations of listed species will be monitored through periodic observations of their condition, size, habitat, reproduction, and distribution (EBRPD 1997, p. 20).

We expect the EBRPD to provide substantial protection of the physical and biological features essential to the conservation of the California red-legged frog on EBRPD lands within unit CCS-2. We expect the EBRPD to provide a greater level of management for the California red-legged frog on EBRPD lands than would designation of critical habitat on private lands. Moreover, inclusion of these non-Federal lands as critical habitat would not necessitate additional management and conservation activities over and above those already in place by the EBRPD. We do not anticipate any action on these lands would destroy or adversely modify the areas that meet the definition of critical habitat. Therefore, we do not expect that including those areas in the final designation will lead to any changes to actions on the conservation lands to avoid destroying or adversely modifying that habitat.

Benefits of Inclusion - East Bay Regional Park District Lands

Critical habitat designation will provide little additional benefit to the California red-legged frog within the areas owned and managed by the EBRPD. The principal benefit of any designated critical habitat is that federally-\ funded, permitted, or authorized activities that may affect critical habitat will require consultation under section 7 of the Act. Such consultations ensure that adequate protection is provided to avoid adverse modification or destruction of critical habitat. The approved EBRPD Master Plan covers the California red-legged frog and is designed to ensure the conservation of the species within the Plan area and incorporates special management and protection measures for California red-legged frog habitat within Plan boundaries. The adequacy of the EBRPD measures to protect the California red-legged frog and its habitat has undergone thorough public evaluation prior to approval of the Plan. Development and implementation of the EBRPD Master Plan has provided other important conservation benefits for the California red-legged frog, including the development of biological information to guide conservation efforts and assist in the species' recovery within the Plan area. The educational benefits of designating critical habitat, including informing the public of areas that are important to the conservation of listed species, are essentially the same as those that have occurred during the public involvement process of reviewing and approving the EBRPD Master Plan. Specifically, the EBRPD Master Plan involved public participation through public notices and public comment periods, active participation of the District's citizen-based Park Advisory Committee (PAC) and with extensive review and comment from the community prior to being approved. For these reasons, we believe that designation of critical habitat would provide little additional benefit in areas covered by the approved EBRPD Master Plan. Any actions that may affect the California red-legged frog will still require consultation under section 7 or section 10 of the Act.

Benefits of Exclusion — East Bay Regional Park District Lands

The benefits of excluding the EBRPD Master Plan from critical habitat designation include relieving landowners, communities, and portions of eastern Contra Costa County of any additional regulatory burden that might be imposed by critical habitat. Many such plans, particularly large regional plans such as this, take many years to develop and, upon completion, are consistent with the recovery objectives for listed species that are covered within the plan area. Additionally, many of these plans provide conservation benefits to unlisted sensitive species. Imposing an additional regulatory review after such as plan that specifically identifies measures to protect and conserve listed and other sensitive species is completed solely as a result of the designation of critical habitat may undermine conservation efforts and partnerships in many areas. In fact, it could result in the loss of species' benefits if participants abandon currently implemented conservation activities. Designation of critical habitat within the boundaries of approved plan could also be viewed as a disincentive to those entities currently developing similar plans or contemplating them in the future. The benefits of excluding lands within approved plans that specifically benefit listed or sensitive species from critical habitat discussed above applies fully to the EBRPD Master Plan. A related benefit of excluding lands within approved plans that cover the California red-legged frog from the critical habitat designation is the continued ability to seek new partnerships with future participants, including States, counties, local jurisdictions, conservation organizations, and private landowners, which together can implement conservation actions that we would be unable to accomplish otherwise. If lands within approved plan areas are designated as critical habitat, it would likely have a chilling effect on our ability to establish new partnerships to develop other such plans or HCPs, particularly large regional plans or HCPs that involve numerous participants and address landscape level conservation of the California red-legged frog and its habitat. By excluding the lands covered within the EBRPD Master Plan within eastern Contra Costa County, we preserve our current partnerships and encourage additional conservation actions in the future.

Benefits of Exclusion Outweigh the Benefits of Inclusion

We believe that the regulatory benefit of designating critical habitat on lands managed and owned by the EBRPD would be low and may hinder the effective implementation of the 1997 EBRPD Master Plan. The EBRPD Master Plan addresses conservation issues from a coordinated, integrated perspective and will achieve better California red-legged frog conservation than would be achieved through multiple site-by-site, project-by-project, section 7 consultations involving consideration of critical habitat. The EBRPD Master Plan provides for the proactive monitoring and management of conserved lands (as previously described), reducing known threats to California red-legged frog and its habitat.

Conservation and management of viable California red-legged frog habitat is essential to the survival and recovery of this species. Such conservation needs are typically not addressed through the action-by-action application of the statutory prohibition on adverse modification or destruction of critical habitat. The implementation of the EBRPD Master Plan provides as much or more conservation benefit to the species than a consultation for critical habitat designation conducted under the standards required by the Ninth Circuit in the Gifford Pinchot decision. Furthermore, educational benefits that may be derived from a critical habitat designation are low in this case and largely redundant to the educational benefits achieved through the significant public, State, and local government input solicited and received during the development of the EBRPD Master Plan.

For these reasons, we believe that designating critical habitat has little benefit in areas covered by the identified EBRPD lands. As a result, the Secretary has determined to exercise his discretion to exclude those EBRPD lands totaling approximately 14,627 ac (5,919 ha) within Unit CCS-2 from the designation of critical habitat under section 4(b)(2) of the Act.

Exclusion Will Not Result in Extinction of the Species

The exclusion of East Bay Regional Park lands within Unit CCS-2 would not result in the extinction of the California red-legged frog. Actions that may adversely affect the species are expected to have a Federal nexus, and would thus undergo a consultation with the Service under section 7 of the Act. The jeopardy standard of section 7 of the Act, and routine implementation of conservation measures through the section 7 process, provide assurance that the species will not go extinct. Additionally, the species is protected from the take prohibitions under section 9 of the Act. The exclusion leaves these protections unchanged from those that would exist if the excluded areas were designated as critical habitat.

We do not believe that this exclusion would result in the extinction of the species because: (1) The species occurs on lands protected and managed either explicitly for the species, or indirectly through more general objectives to protect natural values. This factor along with the other protections provided under the Act for these lands absent designating them as critical habitat, combined with protections afforded the species by the remaining critical habitat designation for the species, leads us to find that exclusion of these lands will not result in extinction of the California red-legged frog; and (2) the species is found in other areas and the EBRPD Plan provides for monitoring and conservation of rare, threatened, and endangered taxa, including the California red-legged frog. EBRPD has been actively conducting California red-legged frog surveys and research over the last 15 years. Nearly 90 percent of the EBRPD land holdings are protected and managed as natural parklands, thereby providing protection for the PCEs (Bobzien 2005, pp. 1-2), and conservation efforts take precedence over other park activities if EBRPD activities are determined to have a significant adverse effect on rare, threatened, or endangered taxa (EBRPD 1997, pp. 1-83).

Spivey Pond Management Area (SPMA) (Unit ELD-1)

The SPMA encompasses 54 ac (22 ha) of BLM-owned lands surrounding Spivey Pond in El Dorado County, California. Spivey Pond is one of five known extant California red-legged frog breeding populations in the Sierra Nevada foothills. In 1997, a population of reproducing California red-legged frogs was discovered in Spivey Pond on the north fork of Webber Creek. The previously confirmed sightings of a California red-legged frog in the Webber Creek watershed were in 1972 and 1975. At the time of discovery, the Spivey Pond parcel was privately owned and slated for timber harvest and subdivision development. The Service urged the American River Conservancy (ARC) to initiate negotiations with the owners of the Spivey Pond for purchase of the property. With financial assistance from the Service and the U.S. Bureau of Reclamation (USBR), ARC succeeded in purchasing the 54 ac (22 ha) Spivey Pond parcel on April 28, 1998. Additional grant funding from the National Fish and Wildlife Foundation was received on September 15, 1998, which allowed for initial pond stabilization and restoration work.

On May 3, 1999, all preliminary acquisition and restoration activities were completed, and the parcel was transferred to the BLM to be managed as a wildlife reserve specifically for the benefit of the California red-legged frog. We issued a non-jeopardy biological opinion for development of a new breeding pond for the species (Service File 1-1-03-F-0289) on March 4, 2004. A management plan for the California red-legged frog was finalized by BLM, the Service, Forest Service (El Dorado National Forest), USBR, CDFG, ARC, El Dorado County, and the El Dorado Irrigation District in July 2004 (BLM 2004, pp. 1-26). The Management Plan for the SPMA consists of six management objectives specifically for the conservation of the California red-legged frog including: (1) Control of bullfrogs and predatory fish; (2) monitoring of water quality for potential contaminants; (3) maintenance of the pond's integrity and habitat/water quality; (4) creation and management of additional California red-legged frog breeding habitat; (5) promotion of research and maintenance of a GIS database; (6) and providing input for watershed level planning and activities that may benefit Spivey Pond (BLM 2004, pp. 1-26).

Benefits of Inclusion - Spivey Pond Management Area

The approved Spivey Pond Management Plan covers the California red-legged frog and is designed to ensure the conservation of the species within the Plan area and incorporates special management and protection measures for California red-legged frog habitat within Plan boundaries. The Spivey Pond Management Plan's measures to protect the California red-legged frog and its habitat underwent thorough evaluation by the Service and other stakeholders prior to approval of the Plan. Development and implementation of the Spivey Pond Management Plan has provided other important conservation benefits for the California red-legged frog, including the development of biological information to guide conservation efforts and assist in the species' recovery within the Plan area. The educational benefits of designating critical habitat, including informing the public of areas that are important to the conservation of listed species, are essentially the same as those that have occurred during the public involvement process of designating critical habitat in 2006, and again within this designation in 2009. In addition, Federal actions that may affect the California red-legged frog will still require consultation under section 7 of the Act. For these reasons, we believe that designation of critical habitat would provide little additional benefit in areas covered by the approved Spivey Pond Management Plan.

Benefits of Exclusion - Spivey Pond Management Area

The benefits of excluding the Spivey Pond Management Plan from critical habitat designation include relieving the BLM of any additional regulatory burden that might be imposed by critical habitat. Imposing an additional regulatory review after such a plan that specifically identifies measures to protect and conserve the California red-legged frog is completed, solely as a result of the designation of critical habitat, may undermine the conservation efforts and partnerships developed during the development and implementation of this Plan. In fact, it could result in the loss of species' benefits if participants abandon currently implemented conservation activities. Designation of critical habitat within the boundaries of the approved Plan could also be viewed as a disincentive to those entities currently developing similar plans or contemplating them in the future. The previously discussed benefits of excluding lands within approved plans that specifically benefit listed or sensitive species from critical habitat apply fully to the Spivey Pond Management Plan. A related benefit of excluding lands within approved plans that cover the California red-legged frog from the critical habitat designation is the continued ability to seek new partnerships with future participants, including States, counties, local jurisdictions, conservation organizations, and private landowners, which together can implement conservation actions that we would be unable to accomplish otherwise. If lands within approved plan areas are designated as critical habitat, it would likely have a chilling effect on our ability to establish new partnerships to develop other such plans or HCPs that involve numerous participants. By excluding the lands covered within the Spivey Pond Management Plan within El Dorado County, we preserve our current partnerships and encourage additional conservation actions in the future.

Benefits of Exclusion Outweigh the Benefits of Inclusion - Spivey Pond Management Area (SPMA)

We believe that the benefits of excluding the entire 54-ac (22-ha) SPMA from the designation of critical habitat for the California red-legged frog outweigh the benefits of including the SPMA in critical habitat. We find that including the SPMA would result in very minimal, if any, additional benefits to the California red-legged frog as explained above. The critical habitat designation would remain on lands surrounding the SPMA, thereby providing a measure of protection for the PCEs outside the area, while the management plan would protect the PCEs and provide additional benefits of nonnative predator control, habitat management and creation, and pollution monitoring within the Plan area. We have worked cooperatively with the BLM and other agencies and assisted in development of the SPMA Plan. We believe that utilizing the Secretary's discretion in excluding the portions of this unit managed under the SPMA will encourage other willing landowners in the unit to continue their conservation activities and allow the Service to expand interest of other private landowners in the unit into conservation partnerships for conserving additional frog habitat. The benefits of exclusion include providing an incentive for continued conservation and restoration on private lands where landowners have shown a willingness to participate in such activities.

Exclusion Will Not Result in Extinction of the Species - SPMA

We find that the exclusion of these lands will not lead to the extinction of the species, nor hinder its recovery because the management emphasis of the SPMA is to protect and enhance habitat for the California red-legged frog. The SPMP consists of six management objectives specifically designed for the conservation of the California red-legged frog. Additionally, the jeopardy standard of section 7 of the Act and routine implementation of conservation measures through the section 7 process also provide assurances that the species will not go extinct as a result of this exclusion. As a result of ongoing management and protection of California red-legged frogs and their habitat at Spivey Pond through the development and implementation of the 2004 Management Plan for the Spivey Pond Management Area, the Secretary has determined to exercise his discretion to exclude the entire 54 ac (22 ha) of land owned by the Bureau of Land Management from Unit ELD-1 at Spivey Pond from critical habitat under section 4(b)(2) of the Act.

Hearst Ranch Conservation Easement

The Hearst Ranch Conservation Easement (Easement), held by the California Rangeland Trust, encompasses 81,000 ac (33,000 ha) of privately owned lands near the town of San Simeon in northern San Luis Obispo County of which 34,777 ac (14,074 ha) occur within Unit SLO-2. The Easement was signed on February 18, 2005, and the Hearst Ranch San Simeon Conservation Easement Management Plan (Plan) was put into place on February 17, 2006. The Easement and Plan provide protective measures for California red-legged frogs, which occur in several drainages within the boundaries of the Easement. The Easement and Plan also include: (1) Protective measures for the diverse communities and habitats, including wetlands, marshes, riparian areas, grasslands, and stock ponds, that collectively constitute California red-legged frog habitat; and (2) connectivity both within the boundaries of the Easement and connectivity to other open spaces surrounding the Easement, which is important for California red-legged frog dispersal. The Easement allows for grazing, farming, and development to occur in some areas. Future development is limited to an inn at Old San Simeon Village, limited employee housing, and a maximum of 27 new owner homesites. However, the Plan provides management directives that protect California red-legged frogs and their habitat including: maintaining cross fencing and livestock water systems to achieve good cattle distribution and to keep cattle from damaging riparian areas; locating salt blocks at least 0.25 mi (0.4 km) from water sources to encourage good cattle distribution and prevent salt from entering riparian areas; preventing overgrazing by establishing limits on residual dry matter; maintaining a residual dry matter cushion during drought conditions by reducing the size of the cattle herd or using a supplemental forage mix; selecting homesite locations to avoid impacts to conservation values, including California red-legged frogs and their habitat; and in farmed areas, mechanically managing weeds, preventing all irrigation water from entering flowing water courses and ponds, and mandating setbacks to buffer riparian areas from farming operations. Monitoring is conducted to ensure that the Plan continually provides sufficient protection of the Easement conservation values. Monitoring that provides information about the status of California red-legged frog habitat includes: annual photo point monitoring of Pico Creek, Little Pico Creek, Arroyo Laguna, San Carpoforo Creek, representative stock ponds, and representative wetland plant communities; annual residual dry matter monitoring; proper stream function evaluations of Pico Creek, Little Pico Creek, Arroyo Laguna, Arroyo de la Cruz, and San Carpoforo Creek every 5 years; and rangeland and habitat health evaluations every 5 years. Monitoring results are summarized and made available to the public by the California Rangeland Trust. If drainages show impairment

due to the operations of the ranch, corrective actions will be taken and may include: deferred grazing; changing the seasonality or length of grazing; reducing cattle grazing numbers near stream corridors; changing rotational grazing patterns; installing additional riparian pasture fencing; installing additional off-stream water troughs; placing salt and supplements farther away from impacted areas; removing noxious plants within the riparian area; installing additional erosion control structures; and/or instituting greater cropland setbacks from stream corridors. At least once every 5 years, the property is audited by a committee consisting of the Director of the California Rangeland Trust, the Executive Director of the Wildlife Conservation Board (a board under the California Department of Fish and Game with the authority and funding to conduct wildlife conservation programs and acquisitions), and a Certified Range Manager, for compliance with the Conservation Easement.

Based on the reasoning below, the Secretary has determined to exercise his discretion to exclude approximately 34,777 ac (14,074 ha) of land from Unit SLO-2 in San Luis Obispo County under section 4(b)(2) of the Act.

Benefits of Inclusion - Hearst Ranch

One benefit of including an area in a critical habitat designation is the requirement of Federal agencies to ensure actions they fund, authorize, or carry out are not likely to result in destruction or adverse modification of designated critical habitat, which is one of the regulatory standards under which consultation is completed. Unlike a jeopardy analysis, which looks at an action's impact on survival and recovery of the species, an adverse modification analysis looks at the action's effects on the designated habitat's contribution to the species' conservation. If, through consultation, the Service determines that a project may result in adverse modification, the Service will suggest reasonable and prudent alternatives that can be taken by the Federal agency or applicant to avoid adversely modifying the designated critical habitat while implementing the proposed action. Consultations that conclude that a proposed action is not likely to result in adverse modification may recommend additional conservation measures, but such measures would be discretionary on the part of the Federal agency.

Another benefit of including lands in a critical habitat designation is the designation can serve to educate the public regarding the potential conservation value of an area, and may help focus conservation efforts to designated areas of high conservation value for certain species. The process of proposing and finalizing the revised critical habitat rule provided the Service with the opportunity to evaluate and refine the features essential to the conservation of the species within the geographical area occupied by it at the time of listing, as well as to evaluate whether there are other areas essential for the conservation of the species. The designation process included peer review and public comment on the identified features and areas. This process is valuable to landowners and managers in developing conservation management plans for identified areas, as well as any other occupied habitat or suitable habitat that may not have been included in the Service's determination of essential habitat. However, the educational benefits of designating lands within the Hearst Ranch Conservation Easement are small because, as discussed above, Hearst Ranch is aware of the value of its lands to the conservation of the California red-legged frog, and currently implements management measures to conserve California red-legged frogs and their habitat. Further, much of Hearst Ranch was included in the proposed designation, which itself reached a wide audience. The educational benefits that might follow critical habitat designation (such as providing information to Hearst Ranch managers on areas important to the long-term conservation of this species) were already provided by: (1) Developing the Easement and Plan, (2) the original designation process in 2001 (66 FR 14626), and (3) publication of the revised critical habitat designation in 2006 (71 FR 19244).

In light of the continued commitment by Hearst Ranch to manage their lands in a manner that promotes conservation of the California red-legged frog and because monitoring is conducted and reviewed by a third party to ensure the Easement and Plan are being complied with, we believe designation of Easement lands within Unit SLO-2 as critical habitat would provide few, if any, additional regulatory and conservation benefits to the species.

Benefits of Exclusion - Hearst Ranch

The benefits of excluding approximately 34,777 ac (14,074 ha) of Hearst Ranch Easement lands are significant. Benefits include relieving landowners from any additional regulatory burden that might be imposed by a critical habitat designation. The Easement took years to develop in cooperation with several State agencies and non-governmental organizations, and is consistent with conservation objectives for California red-legged frogs. Furthermore, the Easement and Plan provide conservation benefits for unlisted sensitive species. Imposing additional regulatory review as a result of the designation may undermine conservation efforts and partnerships that would otherwise benefit the California red-legged frog as well as other species. Designation of critical habitat within the boundaries of a conservation easement that provides conservation measures for a species could be viewed as a disincentive to those entities currently developing these plans or contemplating them in the future, because one of the incentives for undertaking conservation is greater ease of permitting where listed species are affected. Excluding Easement lands will also preserve a partnership between the Service and Hearst Ranch, which may encourage other conservation partnerships between our two entities in the future.

Benefits of Exclusion Outweigh Benefits of Inclusion - Hearst Ranch

As discussed in the “Benefits of Inclusion - Hearst Ranch” section above, we believe the regulatory benefit of designating critical habitat on lands covered by the Hearst Ranch Conservation Easement and Plan would be low. The Easement and Plan address conservation issues from a coordinated, integrated perspective rather than a piecemeal project-by-project approach and will achieve more California red-legged frog conservation than we would achieve through multiple site-by-site, project-by-project, section 7 consultations involving consideration of critical habitat. We believe the conservation benefits for California red-legged frogs that would occur as a result of designating those 34,777 ac (14,074 ha) in Unit SLO-2 as critical habitat (e.g., protection afforded through the section 7(a)(2) consultation process) is minimal compared to the overall conservation benefits for the species that will be realized through the Hearst Ranch Conservation Easement and Plan.

Furthermore, the educational benefits of critical habitat designation, including informing the public of areas important for the long-term conservation of the species, are accomplished from material provided on our website and through notices of public comment periods associated with the original California red-legged frog critical habitat rule (66 FR 14626), the first revised critical habitat rule (71 FR 19244), and the development of the Easement and Plan. Further, many educational benefits of critical habitat designation will be achieved through the overall designation, and will occur whether or not this particular location is designated. For these reasons, we believe that designating critical habitat has little benefit in areas covered by the Hearst Ranch Easement and Plan.

The exclusion of the Hearst Ranch lands from California red-legged frog critical habitat will help preserve the partnerships that we developed with Hearst Ranch. It may also help encourage new partnerships with other landowners and jurisdictions. These partnerships are critical for the conservation of California red-legged frogs.

We reviewed and evaluated the exclusion of 34,777 ac (14,074 ha) of private lands within the Hearst Ranch Easement area from the final revised critical habitat designation for the California red-legged frog and determined that the benefits of excluding these lands in Unit SLO-2 outweigh the benefits of including them. As discussed above, the Easement and Plan will provide for preservation and management of habitat for and features essential to the conservation of the species.

Exclusion Will Not Result in Extinction of the Species - Hearst Ranch

We do not believe that this exclusion would result in the extinction of the species because the Hearst Ranch Conservation Easement and Plan provides for conservation of the species in this area through the detailed management practices and monitoring described above.

Special Rule Under Section 4(d) of the Act

In the April 13, 2006, Federal Register (71 FR 19244), we finalized a special rule for the California red-legged frog as defined under section 4(d) of the Act to ease the general take prohibitions for routine ranching activities by non-Federal entities on private and tribal lands. Under section 4(d) of the Act, the Secretary may publish a special rule that modifies the standard protections for threatened species under the Service's regulations implementing section 9 of the Act at 50 CFR 17.31 with special measures tailored to the conservation of the species that are determined to be necessary and advisable. We reviewed the special rule at 50 CFR 17.43(d), and we determined that the special rule is appropriate and will remain in place for the California red-legged frog. For more information on the “Special Rule Under Section 4(d) for Routine Livestock Ranching Activities” see the April 13, 2006, Federal Register (71 FR 19244).

Required Determinations

Regulatory Planning and Review - Executive Order 12866

The Office of Management and Budget (OMB) has determined that this rule is not significant under E.O. 12866. OMB bases its determination upon the following four criteria:

(1) Whether the rule will have an annual effect of $100 million or more on the economy or adversely affect an economic sector, productivity, jobs, the environment, or other units of the government.

(2) Whether the rule will create inconsistencies with other Federal agencies' actions.

(3) Whether the rule will materially affect entitlements, grants, user fees, loan programs, or the rights and obligations of their recipients.

(4) Whether the rule raises novel legal or policy issues.

Regulatory Flexibility Act (5 U.S.C. 601 et seq.)

Under the Regulatory Flexibility Act (5 U.S.C. 601 et seq.), as amended by the Small Business Regulatory Enforcement Fairness Act (5 U.S.C. 802(2)), whenever an agency is required to publish a notice of rulemaking for any proposed or final rule, it must prepare and make available for public comment a regulatory flexibility analysis that describes the effect of the rule on small entities (i.e., small businesses, small organizations, and small government jurisdictions). However, no regulatory flexibility analysis is required if the head of an agency certifies the rule will not have a significant economic impact on a substantial number of small entities. The Small Business Regulatory Enforcement Fairness Act amended the Regulatory Flexibility Act to require Federal agencies to provide a certification statement of the factual basis for certifying that the rule will not have a significant economic impact on a substantial number of small entities. In this final rule, we are certifying that the critical habitat designation for the California red-legged frog will not have a significant economic impact on a substantial number of small entities. The following discussion explains our rationale.

According to the Small Business Administration, small entities include small organizations, such as independent nonprofit organizations; small governmental jurisdictions, including school boards and city and town governments that serve fewer than 50,000 residents; and small businesses (13 CFR 121.201). Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we considered the types of activities that might trigger regulatory impacts under this designation as well as types of project modifications that may result. In general, the term significant economic impact is meant to apply to a typical small business firm's business operations.

To determine if the revised designation of critical habitat for the California red-legged frog would affect a substantial number of small entities, we considered the number of small entities affected within particular types of economic activities, such as residential and commercial development. We apply the “substantial number” test individually to each industry or category to determine if certification is appropriate. In estimating the numbers of small entities potentially affected, we also considered whether their activities have any Federal involvement; some kinds of activities are unlikely to have any Federal involvement and thus will not be affected by the designation of critical habitat.

Designation of critical habitat only affects activities conducted, funded, permitted, or authorized by Federal agencies; non-Federal activities are not affected by the designation. In areas where the species is present, Federal agencies already are required to consult with us under section 7 of the Act on activities they fund, permit, or implement that may affect the California red-legged frog (see Section 7 Consultation section). Federal agencies also must consult with us if their activities may affect critical habitat. Designation of critical habitat, therefore, could result in an additional economic impact on small entities due to the requirement to reinitiate consultation for ongoing Federal activities (see Application of the “Adverse Modification” Standard section)

In the DEA of the proposed revision of critical habitat, we evaluated the potential economic effects on small business entities resulting from conservation actions related to the proposed revision of critical habitat for the California red-legged frog. The analysis is based on the estimated incremental impacts associated with the rulemaking as described in section 2 of the analysis. In the FEA, we evaluated the potential economic effects on small business entities resulting from implementation of conservation actions related to the proposed revision to critical habitat for the California red-legged frog. The economic analysis identifies the estimated incremental impacts associated with the proposed rulemaking as described in chapters 4 through 12, and evaluates the potential for economic impacts related to activity categories including: urban development; water management; agricultural crop farming; grazing and ranching; timber harvest activities; transportation; utility and oil and gas pipeline construction and maintenance and mining activities; fire management activities; and habitat and vegetation management activities. The analysis concludes that incremental impacts to development and agriculture may affect small entities. However, for urban development, less than 1 percent (0.04) (19 out of 46,240) of small developers are anticipated to be impacted in the next 22 years. Similarly, for agriculture, only 1.6 percent (198 out of 12,060) of small farms are expected to be affected. Please refer to our final economic analysis of critical habitat designation for the California red-legged frog for a more detailed discussion of potential economic impacts.

In summary, we considered whether the final rule to revise critical habitat would result in a significant economic impact on a substantial number of small entities. For the above reasons and based on currently available information, we certify that this rule will not have a significant economic impact on a substantial number of small entities. Therefore, a regulatory flexibility analysis is not required.

Energy Supply, Distribution, or Use - Executive Order 13211

E.O. 13211 requires agencies to prepare Statements of Energy Effects when undertaking certain actions. This revision to critical habitat for the California red-legged frog is not considered a significant regulatory action under E.O. 12866. OMB has provided guidance for implementing E.O. 13211 that outlines nine outcomes that may constitute ‘‘a significant adverse effect'' when compared without the regulatory action under consideration. The economic analysis finds that none of these criteria are relevant to this designation of critical habitat. Thus, based on information in the economic analysis (Appendix A), energy-related impacts associated with California red-legged frog conservation activities within the areas included in this final designation of critical habitat are not expected. As such, this final designation of revised critical habitat is not expected to significantly affect energy supplies, distribution, or use, and a Statement of Energy Effects is not required.

Unfunded Mandates Reform Act (2 U.S.C. 1501 et seq.)

In accordance with the Unfunded Mandates Reform Act, the Service makes the following findings:

(1) This rule will not produce a Federal mandate. In general, a Federal mandate is a provision in legislation, statute, or regulation that would impose an enforceable duty upon State, local, or tribal governments, or the private sector, and includes both “Federal intergovernmental mandates” and “Federal private sector mandates.” These terms are defined in 2 U.S.C. 658(5)-(7). “Federal intergovernmental mandate” includes a regulation that “would impose an enforceable duty upon State, local, or [T]ribal governments” with two exceptions. It excludes “a condition of Federal assistance.” It also excludes “a duty arising from participation in a voluntary Federal program,” unless the regulation “relates to a then-existing Federal program under which $500,000,000 or more is provided annually to State, local, and [T]ribal governments under entitlement authority,” if the provision would “increase the stringency of conditions of assistance” or “place caps upon, or otherwise decrease, the Federal Government's responsibility to provide funding,” and the State, local, or Tribal governments “lack authority” to adjust accordingly. At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance; or (ii) a duty arising from participation in a voluntary Federal program.”

The designation of critical habitat does not impose a legally binding duty on non-Federal government entities or private parties. Under the Act, the only regulatory effect is that Federal agencies must ensure that their actions do not destroy or adversely modify critical habitat under section 7. While non-Federal entities who receive Federal funding, assistance, permits, or otherwise require approval or authorization from a Federal agency for an action, may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply, nor would critical habitat shift the costs of the large entitlement programs listed above onto State governments.

(2) We do not believe that this rule will significantly or uniquely affect small governments because it would not produce a Federal mandate of $100 million or greater in any year; that is, it is not a “significant regulatory action” under the Unfunded Mandates Reform Act. Small governments will be affected only to the extent that any programs having Federal funds, permits, or other authorized activities must ensure that their actions will not adversely affect the critical habitat. Therefore, a Small Government Agency Plan is not required.

Takings—Executive Order 12630

In accordance with Executive Order (E.O.) 12630 (“Government Actions and Interference with Constitutionally Protected Private Property Rights”), we have analyzed the potential takings implications of designating critical habitat for the California red-legged frog in a takings implications assessment. Critical habitat designation does not affect landowner actions that do not require Federal funding or permits, nor does it preclude development of habitat conservation programs or issuance of incidental take permits to permit actions that do require Federal funding or permits to go forward. The takings implications assessment concludes that this final designation of revised critical habitat for California red-legged frog does not pose significant takings implications for lands within or affected by the designation.

Federalism - Executive Order 13132

In accordance with E.O. 13132 (Federalism), the final rule does not have significant Federalism effects. A Federalism assessment is not required. In keeping with Department of the Interior and Department of Commerce policy, we requested information from, and coordinated development of, this critical habitat designation with appropriate State resource agencies in California. During the public comment periods, we contacted appropriate State and local agencies and jurisdictions, and invited them to comment on the proposed revised critical habitat designation for the California red-legged frog. We used the comments we received to help us refine this final designation. We received one comment letter from the State of California, Military Department Office of the Adjutant General (see “Summary of Comments and Recommendations” section). The designation may have some benefit to these governments in that the areas that contain the features essential to the conservation of the species are more clearly defined, and the primary constituent elements of the habitat essential to the conservation of the species are specifically identified. This information does not alter where and what federally sponsored activities may occur. However, it may assist local governments in long-range planning (rather than having them wait for case-by-case section 7 consultations to occur).

Civil Justice Reform - Executive Order 12988

In accordance with E.O. 12988 (Civil Justice Reform), it has been determined that the rule does not unduly burden the judicial system and meets the requirements of sections 3(a) and 3(b)(2) of the Order. We are revising critical habitat in accordance with the provisions of the Act. This final rule uses standard property descriptions and identifies the primary constituent elements within the designated areas to assist the public in understanding the habitat needs of the California red-legged frog.

Paperwork Reduction Act of 1995 (44 U.S.C. 3501 et seq.)

This rule does not contain any new collections of information that require approval by OMB under the Paperwork Reduction Act of 1995. This rule will not impose recordkeeping or reporting requirements on State or local governments, individuals, businesses, or organizations. An agency may not conduct or sponsor, and a person is not required to respond to, a collection of information unless it displays a currently valid OMB control number.

Government-to-Government Relationship with Tribes

In accordance with the President's memorandum of April 29, 1994, Government-to-Government Relations with Native American Tribal Governments (59 FR 22951), E.O. 13175, and the Department of the Interior's manual at 512 DM 2, we readily acknowledge our responsibility to communicate meaningfully with recognized Federal tribes on a government-to-government basis. In accordance with Secretarial Order 3206 of June 5, 1997 (American Indian Tribal Rights, Federal-Tribal Trust Responsibilities, and the Endangered Species Act), we readily acknowledge our responsibilities to work directly with tribes in developing programs for healthy ecosystems, to acknowledge that tribal lands are not subject to the same controls as Federal public lands, to remain sensitive to Indian culture, and to make information available to tribes.

As a result of changing the extent of Unit MEN-1 in Mendocino County, the proposed revised critical habitat designation contained approximately 92 ac (37 ha) of Tribal land. We contacted the Bureau of Indian Affairs and the Manchester Point Arena Band of Pomo Indians regarding our proposed revision of critical habitat (Service File 81420-2009-TA-0751). As of the date of this notice, we have not received any concerns from or been contacted by the Bureau of Indian Affairs or the Manchester Point Arena Band of Pomo Indians regarding the designation of critical habitat on the tribal lands identified in Unit MEN-1. Therefore, we have designated the tribal lands within Unit MEN-1 as critical habitat for the California red-legged frog.

National Environmental Policy Act (NEPA) (42 U.S.C. 4321 et. seq.)

It is our position that, outside the jurisdiction of the Circuit Court of the United States for the Tenth Circuit, we do not need to prepare environmental analyses as defined by NEPA in connection with designating critical habitat under the Act. We published a notice outlining our reasons for this determination in the Federal Register on October 25, 1983 (48 FR 49244). This assertion was upheld by the Circuit Court of the United States for the Ninth Circuit (Douglas County v. Babbitt, 48 F.3d 1495 (9th Cir. 1995), cert. denied 516 U.S. 1042 (1996)).

References Cited

A complete list of all references cited in this rulemaking is available on http://www.regulations.gov and upon request from the Field Supervisor, Sacramento Fish and Wildlife Office (see FOR FURTHER INFORMATION CONTACT section).

Author(s)

The primary authors of this notice are staff from the Sacramento, Ventura, Arcata, and Carlsbad Fish and Wildlife Offices (see FOR FURTHER INFORMATION CONTACT section).

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.11(h), revise the entry for “Frog, California red-legged,” under “AMPHIBIANS,” to read as follows:

§ 17.11 Endangered and threatened wildlife.

(h) * * *

Species: Common name | Species: Scientific name | Historic range | Vertebrate population where endangered or threatened | Status | When listed | Critical habitat | Special rules
* * * * * * *
AMPHIBIANS
* * * * * * *
Frog, California red-legged | Rana draytonii | U.S.A. (CA), Mexico | Entire | T | 583 | 17.95(d) | 17.43
* * * * * * *

3. In § 17.95(d), revise the entry for “California Red-legged Frog (Rana aurora draytonii)” to read as follows:

§ 17.95 Critical Habitat—Fish and Wildlife.

(d) Amphibians.

California Red-legged Frog (Rana draytonii)

(1) Critical habitat units are depicted for Alameda, Butte, Calaveras, Contra Costa, El Dorado, Kern, Kings, Los Angeles, Marin, Mendocino, Merced, Monterey, Napa, Nevada, Placer, Riverside, San Benito, San Joaquin, San Luis Obispo, San Mateo, Santa Barbara, Santa Clara, Santa Cruz, Solano, Sonoma, Stanislaus, Ventura, and Yuba Counties, California, on the maps below.

(2) Within these areas, the primary constituent elements for the California red-legged frog consist of four components:

(i) Aquatic Breeding Habitat. Standing bodies of fresh water (with salinities less than 4.5 ppt), including natural and manmade (e.g., stock) ponds, slow-moving streams or pools within streams, and other ephemeral or permanent water bodies that typically become inundated during winter rains and hold water for a minimum of 20 weeks in all but the driest of years.

(ii) Aquatic Non-Breeding Habitat. Freshwater pond and stream habitats, as described in paragraph (2)(i) of this entry, that may not hold water long enough for the species to complete its aquatic life cycle but which provide for shelter, foraging, predator avoidance, and aquatic dispersal of juvenile and adult California red-legged frogs. Other wetland habitats considered to meet these criteria include, but are not limited to: plunge pools within intermittent creeks, seeps, quiet water refugia within streams during high water flows, and springs of sufficient flow to withstand short-term dry periods.

(iii) Upland Habitat. Upland areas adjacent to or surrounding breeding and non-breeding aquatic and riparian habitat up to a distance of 1 mi (1.6 km) in most cases (i.e., depending on surrounding landscape and dispersal barriers) including various vegetational series such as grassland, woodland, forest, wetland, or riparian areas that provide shelter, forage, and predator avoidance for the California red-legged frog. Upland habitat should include structural features such as boulders, rocks and organic debris (e.g., downed trees, logs), small mammal burrows, or moist leaf litter. Upland features are also essential in that they are needed to maintain the hydrologic, geographic, topographic, ecological, and edaphic features that support and surround the aquatic, wetland, or riparian habitat. These upland features contribute to:

(A) Filling of aquatic, wetland, or riparian habitats;

(B) Maintaining suitable periods of pool inundation for larval frogs and their food sources; and

(C) Providing non-breeding, feeding, and sheltering habitat for juvenile and adult frogs (e.g., shelter, shade, moisture, cooler temperatures, a prey base, foraging opportunities, and areas for predator avoidance).

(iv) Dispersal Habitat. Accessible upland or riparian habitat within and between occupied locations within a minimum of 1 mi (1.6 km) of each other and that support movement between such sites. Dispersal habitat includes various natural habitats, and altered habitats such as agricultural fields, that do not contain barriers (e.g., heavily traveled roads without bridges or culverts) to dispersal. Dispersal habitat does not include moderate- to high-density urban or industrial developments with large expanses of asphalt or concrete, nor does it include large lakes or reservoirs over 50 ac (20 ha) in size, or other areas that do not contain those features identified in paragraphs (2)(i), (2)(ii), and (2)(iii) of this entry as essential to the conservation of the species.

(3) Critical habitat does not include manmade structures existing on the effective date of this rule and not containing one or more of the primary constituent elements, such as buildings, aqueducts, airports, and roads, and the land on which such structures are located.

(4) Critical habitat map units. Data layers defining map units were created on a base of USGS 7.5′ quadrangles using USDA National Agricultural Imagery Program (NAIP) county-wide MrSID compressed mosaics of 1 meter resolution and natural color aerial photography from summer 2005. Critical habitat units were then mapped using Universal Transverse Mercator (UTM) zone 10 and zone 11, North American Datum (NAD) 1983 coordinates.

(5) Note: Index map for California red-legged frog critical habitat units in northern California follows:

BILLING CODE 4310-55-S

(6) Note: Index map for California red-legged frog critical habitat units in southern California follows:

(7) Unit BUT-1: Butte County, California. From USGS 1:24,000 scale quadrangles Pulga, Berry Creek and Brush Creek.

(i) Land bounded by the following UTM Zone 10, NAD83 coordinates (E,N): 635284, 4400926; 635453, 4400907; 635539, 4400870; 635603, 4400930; 635726, 4400934; 635749, 4400994; 635820, 4401042; 635906, 4401042; 635992, 4400997; 636377, 4401020; 636414, 4401012; 636415, 4400967; 636836, 4400961; 636840, 4400584; 636819, 4400561; 636032, 4400541; 636000, 4400474; 635993, 4400141; 637654, 4400205; 637658, 4400775; 637782, 4400748; 637961, 4400640; 638164, 4400598; 638444, 4400303; 639062, 4400378; 639174, 4400326; 639318, 4400212; 639414, 4400098; 639616, 4400002; 639664, 4399875; 639667, 4399772; 639609, 4399578; 639492, 4399337; 639498, 4399218; 639397, 4398995; 639477, 4398627; 639628, 4398345; 640086, 4398179; 640120, 4398056; 640189, 4397932; 640243, 4397727; 640310, 4397601; 640281, 4397365; 640293, 4397311; 640545, 4397124; 640596, 4397057; 640533, 4396958; 639179, 4396957; 639206, 4395692; 639231, 4395681; 639236, 4395406; 637864, 4395379; 637968, 4395351; 637962, 4395169; 637764, 4395285; 637655, 4395303; 637710, 4395306; 637686, 4395325; 637232, 4395428; 637143, 4395417; 636893, 4395251; 636845, 4395236; 636813, 4395252; 636787, 4395300; 636787, 4395375; 636949, 4395589; 636995, 4395733; 637000, 4396105; 636934, 4396262; 636952, 4396314; 636898, 4396328; 636885, 4396372; 636786, 4396417; 636724, 4396549; 636677, 4396526; 636439, 4396726; 636424, 4396791; 636347, 4396812; 636254, 4396975; 636152, 4397085; 636057, 4397151; 635947, 4397190; 635885, 4397279; 635630, 4397454; 635579, 4397526; 635070, 4397817; 634758, 4397876; 634647, 4397940; 634514, 4397948; 634391, 4398277; 634290, 4398434; 634290, 4398815; 634318, 4398953; 635222, 4398966; 635190, 4399731; 634716, 4399737; 634701, 4399998; 634738, 4400050; 634701, 4400050; 634614, 4400166; 634510, 4400417; 634517, 4400544; 634570, 4400623; 634618, 4400645; 634629, 4400803; 634730, 4400889; 634843, 4401080; 634817, 4401226; 634899, 4401218; 635086, 4401053; 635180, 4401035; returning to 635284, 4400926.

(ii) Note: Map of Unit BUT-1 for the California red-legged frog follows:

(8) Unit YUB-1: Yuba County, California. From USGS 1:24,000 scale quadrangle Challenge.

(i) Land bounded by the following UTM Zone 10, NAD83 coordinates (E,N):

656776,4370030; 656932,4369825; 657462,4368370; 657481,4367769; 657672,4367445; 658105,4367098; 658503,4366871; 658905,4366554; 659124,4366290; 659222,4366053; 659528,4365883; 659624,4365706; 659383,4365704; 659384,4365583; 659340,4365600; 659261,4365537; 659101,4365527; 659061,4365567; 658998,4365584; 658985,4365687; 658888,4365790; 658764,4365830; 658726,4365936; 658579,4365929; 658490,4365853; 658400,4365837; 658396,4365782; 658421,4365733; 658465,4365719; 658581,4365826; 658634,4365834; 658674,4365736; 658794,4365641; 658794,4365469; 658552,4365295; 658524,4365193; 658427,4365180; 658431,4365157; 658564,4365144; 658659,4365199; 658707,4365123; 658730,4365136; 658747,4365240; 658809,4365247; 658850,4365176; 658882,4365226; 658947,4365220; 658998,4365252; 659078,4365182; 659147,4365239; 659181,4365235; 659238,4365207; 659273,4365132; 659332,4365140; 659368,4365118; 659105,4365028; 659020,4364875; 658939,4364572; 658531,4364168; 658410,4364131; 657788,4364103; 657792,4363648; 658106,4363673; 657655,4363358; 657395,4363049; 657087,4362405; 656227,4362436; 656051,4362735; 655683,4362963; 655558,4363109; 655202,4363849; 655669,4364315; 655690,4364586; 655218,4365202; 655027,4365526; 654779,4365758; 654445,4365837; 654319,4366013; 654187,4366370; 654149,4366639; 653990,4366874; 653952,4367143; 653883,4367381; 653710,4367531; 653696,4367950; 653744,4368109; 653740,4369028; 653836,4369294; 653990,4369404; 654143,4369566; 654687,4369794; 655104,4369939; 655245,4369920; 655453,4369987; 655896,4370242; 656198,4370221; 656470,4370170; returning to 656776,4370030.

(ii) Note: Map of Unit YUB-1 and NEV-1 for the California red-legged frog follows:

(9) Unit NEV-1: Nevada County, California. From USGS 1:24,000 scale quadrangle Nevada City and North Bloomfield.

(i) Land bounded by the following UTM Zone 10, NAD83 coordinates (E,N): 676906,4356394; 676962,4356305; 677130,4356317; 677131,4356238; 677181,4356231; 677306,4356068; 677485,4355987; 677670,4355985; 677882,4356056; 678051,4356296; 678231,4356310; 678224,4356187; 678277,4355825; 678274,4355759; 678217,4355664; 678229,4355623; 678444,4355409; 678448,4355341; 678354,4355125; 678356,4355083; 678510,4354644; 678540,4354482; 678642,4354231; 678650,4353980; 678734,4353879; 678852,4353796; 679227,4353902; 679563,4353782; 680349,4353649; 680352,4353517; 679422,4352362; 679148,4352080; 677270,4350680; 677199,4350636; 676807,4350614; 676812,4350531; 676440,4350485; 676117,4350571; 675995,4350556; 675686,4350459; 675457,4350453; 675325,4350412; 675325,4350616; 675293,4350711; 675206,4350862; 675166,4350990; 675063,4351133; 674920,4351180; 674673,4351196; 672710,4351546; 672074,4351586; 671684,4351705; 671438,4351872; 670969,4352039; 670738,4352158; 670668,4352774; 670633,4354099; 670847,4354102; 670960,4354053; 671174,4353907; 671435,4353852; 671437,4353664; 672180,4353672; 672287,4353562; 672450,4353566; 672716,4353754; 672817,4353800; 672938,4353818; 672900,4353937; 673158,4353946; 673148,4354137; 672855,4354130; 672783,4354295; 672757,4354434; 672842,4354522; 672941,4354578; 673021,4354593; 673117,4354665; 673119,4354745; 673191,4354837; 673253,4355088; 673175,4355379; 673188,4355465; 673283,4355581; 673402,4355344; 673616,4355327; 673903,4355380; 674072,4355387; 674378,4355543; 674440,4355612; 674698,4355703; 674907,4355945; 675027,4355928; 675092,4355868; 675414,4355681; 675647,4355612; 675763,4355477; 675773,4355263; 675827,4355213; 676036,4355164; 676143,4355418; 676255,4355555; 676269,4355603; 676400,4355681; 676445,4355779; 676405,4355981; 676456,4356381; 676693,4356744; 676751,4356738; returning to 676906,4356394.

(ii) Note: Unit NEV-1 for California red-legged frog is depicted on the map in paragraph (8)(ii) of this entry.

(10) Unit PLA-1: Placer County, California. From USGS 1:24,000 scale quadrangles Forest Hill and Michigan Bluff.

(i) Land bounded by the following UTM Zone 10, NAD83 coordinates (E,N): 696102,4324325; 696269,4324238; 696581,4324246; 696792,4324349; 696895,4324349; 697034,4324294; 697148,4324059; 697227,4323980; 697317,4323673; 697571,4323570; 697601,4323365; 697577,4323190; 697456,4322900; 697239,4322683; 696979,4322484; 696678,4322393; 696303,4322242; 695802,4322441; 695501,4322665; 695350,4322846; 695229,4322942; 695006,4323045; 694933,4323220; 694909,4323498; 694849,4323636; 694740,4323745; 694233,4323817; 694197,4323884; 694209,4324180; 694577,4324391; 694831,4324626; 695096,4324795; 695374,4324837; 695615,4324825; 695748,4324795; 695881,4324708; 695908,4324628; 695996,4324611; 696033,4324574; returning to: 696102,4324325. Excluding: 695636,4324153; 695563,4324116; 695471,4324147; 695380,4324137; 695482,4323950; 695575,4323941; 695636,4323824; 695782,4323867; 695815,4323840; 695885,4323710; 695875,4323548; 695757,4323455; 695789,4323364; 695821,4323355; 695847,4323389; 695974,4323437; 695975,4323571; 696121,4323615; 696178,4323884; 696037,4323867; 695941,4323923; 695775,4324220; returning to 695636,4324153.

(ii) Note: Map of Unit PLA-1 for the California red-legged frog follows:

(11) Unit ELD-1: El Dorado County, California. From USGS 1:24,000 scale quadrangles Camino, Pollock Pines and Sly Park.

(i) Land bounded by the following UTM Zone 10, NAD83 coordinates (E,N): 712042,4292979; 712243,4292856; 712419,4292796; 712540,4292683; 712511,4292523; 712319,4292151; 712259,4292082; 711866,4291905; 711680,4291585; 711650,4291319; 711576,4291195; 711182,4290958; 710956,4290705; 710718,4290490; 710400,4290528; 710054,4290648; 709815,4290648; 709523,4290568; 708926,4289838; 708873,4289705; 708661,4289533; 708515,4289347; 708143,4289015; 707771,4289015; 707493,4288896; 707400,4288789; 707161,4288617; 707148,4288404; 706922,4288245; 706715,4288156; 706471,4288294; 706007,4288251; 705507,4288398; 705231,4288234; 704826,4288214; 704683,4288368; 704536,4288381; 704329,4288707; 704126,4288577; 703960,4288838; 703439,4288864; 702684,4289323; 702371,4289290; 702165,4289393; 702324,4289643; 702406,4289714; 702744,4289897; 702829,4289991; 703050,4290362; 703106,4290570; 703147,4290632; 703210,4290691; 703248,4290770; 703486,4290934; 704423,4290921; 704732,4291034; 704878,4291038; 704899,4290959; 705129,4290959; 705154,4290925; 705217,4290699; 705221,4290478; 705267,4290369; 705355,4290336; 705497,4290340; 705522,4290361; 705522,4290423; 705493,4290545; 705522,4290574; 705761,4290578; 705798,4290616; 705811,4290733; 705911,4290733; 706007,4290942; 706112,4291025; 706162,4291113; 706262,4291122; 706379,4291172; 706634,4291402; 706902,4291506; 707291,4291531; 707379,4291577; 707659,4291644; 708236,4291933; 708554,4292134; 708989,4292267; 709302,4292489; 709674,4292706; 709766,4292736; 709775,4292665; 709816,4292639; 710126,4292920; 710327,4293012; 711141,4293016; 711258,4292972; 711367,4292964; 711830,4293033; returning to 712042,4292979. Excluding: 708426, 4291544; 708412,4291176; 709003,4291194; 709025,4291561; returning to 708426,4291544.

(ii) Note: Map of Unit ELD-1 for the California red-legged frog follows:

(12) Unit CAL-1: Calaveras County, California. From USGS 1:24,000 scale quadrangles Jackson, Valley Springs and Mokelumne Hill.

(i) Land bounded by the following UTM Zone 10, NAD83 coordinates (E,N):

695574,4232384; 695607,4232132; 695588,4232071; 695277,4232108; 695111,4231955; 695024,4231930; 694907,4231961; 694835,4231923; 694824,4231874; 694873,4231770; 694707,4231700; 694580,4231609; 694379,4231528; 694281,4231528; 694211,4231471; 694118,4231465; 694033,4231489; 694012,4231420; 693863,4231366; 693739,4231289; 693654,4231174; 693651,4231132; 693252,4230731; 693004,4230419; 692634,4230055; 692359,4229874; 691998,4229785; 692018,4230045; 691947,4230296; 691889,4230367; 691886,4230503; 691709,4230866; 691720,4230928; 691815,4231060; 691913,4231097; 692029,4231237; 692120,4231471; 692443,4231627; 692450,4231851; 692565,4231990; 692585,4232062; 692511,4232208; 692327,4232231; 692290,4232293; 692259,4232435; 692310,4232683; 692368,4232737; 692368,4232782; 692402,4232822; 692684,4232917; 692752,4233002; 692752,4233057; 692596,4233165; 692596,4233216; 692630,4233298; 692823,4233484; 692884,4233603; 692871,4233695; 692959,4233892; 692959,4233939; 693010,4234004; 693129,4234041; 693163,4234079; 693215,4234298; 693464,4234572; 693847,4234885; 694412,4235538; 694500,4235538; 694564,4235506; 694660,4235397; 694853,4234891; 695013,4234718; 695006,4234379; 695032,4234257; 695153,4234123; 695281,4234110; 695397,4233969; 695531,4233649; 695559,4233627; 695562,4233280; 695729,4233158; 695863,4233013; 695875,4232870; 695807,4232615; 695598,4232462; returning to 695574,4232384.

(ii) Note: Map of Unit CAL-1 for the California red-legged frog follows:

BILLING CODE 4310-55-C

(13) Unit MEN-1: Mendocino County, California. From USGS 1:24,000 scale quadrangles Cold Spring, Eureka Hill, Mallo Pass Creek, and Point Arena.

(i) Land bounded by the following UTM Zone 10, NAD83 coordinates (E,N): 447886,4320218; 447951,4320066; 447983,4319889; 447958,4319651; 447916,4319542; 447922,4319483; 447971,4319445; 448196,4319365; 448430,4319368; 448547,4319333; 448853,4319365; 449490,4319517; 449733,4319755; 449789,4319784; 450035,4319807; 450150,4319759; 450210,4319703; 450420,4319414; 450504,4319347; 450635,4319305; 450810,4319130; 451092,4318916; 451162,4318828; 451226,4318719; 451042,4318062; 450935,4317981; 450714,4317937; 450597,4317880; 450510,4317818; 450481,4317760; 450521,4317204; 450486,4317057; 450570,4316902; 450786,4316828; 450855,4316749; 450925,4316588; 451352,4316246; 451467,4316018; 451510,4315844; 451502,4315781; 451442,4315626; 451328,4315533; 451284,4315450; 451251,4315220; 451407,4315001; 451584,4314832; 451501,4314714; 451453,4314558; 451352,4314505; 451151,4314476; 450897,4314504; 450723,4314445; 450591,4314336; 450524,4314325; 450307,4314414; 450136,4314528; 450080,4314502; 450050,4314395; 449837,4314281; 449646,4314320; 449478,4314469; 449346,4314504; 449277,4314477; 449180,4314383; 448930,4314388; 448748,4314292; 448552,4314343; 448395,4314250; 448291,4314293; 448159,4314397; 448041,4314742; 447804,4315012; 447535,4315087; 447379,4315047; 447121,4315049; 447112,4314819; 447229,4314525; 447228,4314463; 447143,4314230; 447092,4314181; 446968,4313845; 446785,4313679; 446746,4313591; 446742,4313514; 446885,4313345; 447133,4313254; 447301,4313116; 447441,4312938; 447582,4312493; 447147,4312559; 447023,4312509; 446876,4312524; 446701,4312427; 446660,4312227; 446554,4312026; 446346,4311900; 446289,4311794; 446259,4311663; 446182,4311580; 446019,4311506; 445891,4311224; 445615,4310903; 445416,4310807; 445267,4310672; 445095,4310678; 444754,4310641; 444565,4310659; 444408,4310515; 444184,4310425; 444141,4310311; 444029,4310153; 443818,4309984; 443679,4309807; 443673,4309764; 443988,4309404; 443936,4309239; 443919,4308998; 443738,4308891; 443825,4308738; 444132,4308361; 444318,4308088; 444424,4307816; 444304,4307845; 444112,4307837; 443601,4307714; 443377,4307684; 442745,4307493; 442148,4307413; 441776,4307182; 441681,4307145; 441575,4307166; 441248,4307317; 441024,4307329; 440921,4307226; 440624,4307211; 440402,4307138; 440274,4307148; 440225,4307257; 440122,4307360; 439886,4307499; 439886,4307571; 439735,4307898; 439729,4308019; 439584,4308086; 439433,4308285; 439251,4308467; 439221,4308667; 439166,4308818; 439100,4308909; 438888,4309018; 438858,4309151; 438652,4309447; 438573,4309526; 438513,4309641; 438410,4309732; 437964,4309936; 437707,4310146; 437526,4310621; 437526,4310749; 437635,4310785; 437738,4310785; 438041,4310567; 438022,4310240; 438228,4310016; 438585,4309938; 438652,4309956; 438670,4310022; 439039,4310016; 439136,4310113; 439469,4310113; 439796,4310174; 439838,4310204; 440032,4310204; 440165,4310392; 440056,4310730; 440074,4310779; 440135,4310827; 440159,4311027; 440147,4311366; 440237,4311505; 440244,4311699; 440449,4312026; 440371,4312134; 440262,4312207; 440116,4312207; 440038,4312231; 439989,4312310; 439983,4312419; 439947,4312498; 439874,4312582; 439911,4312697; 439893,4312812; 439759,4313012; 439741,4313115; 439790,4313121; 439941,4313066; 440086,4312915; 440116,4312818; 440092,4312758; 440189,4312721; 440135,4312649; 440153,4312576; 440213,4312498; 440310,4312552; 440546,4312479; 440643,4312534; 440667,4312619; 440764,4312740; 440915,4312812; 441218,4312818; 441648,4312927; 441775,4313042; 441884,4313224; 441811,4313399; 441660,4313545; 441617,4313660; 441424,4313684; 441381,4313847; 441290,4314029; 441363,4314125; 441369,4314392; 441351,4314440; 441212,4314555; 441169,4314628; 441157,4314815; 441054,4314973; 441054,4315154; 440885,4315336; 440824,4315499; 440697,4315548; 440116,4315536; 439941,4315457; 439566,4315421; 439215,4315481; 439172,4315838; 439318,4316238; 439414,4316365; 439729,4316371; 440050,4316516; 440038,4316698; 439959,4316952; 439826,4317127; 439820,4317315; 439771,4317424; 439971,4318374; 440143,4319025; 440350,4318995; 440659,4319045; 441220,4318935; 441393,4318859; 441630,4318649; 441938,4318577; 442062,4318514; 442160,4318520; 442408,4318660; 442467,4318672; 442885,4318606; 443037,4318624; 443458,4318958; 443570,4318994; 443736,4318986; 443817,4318930; 443942,4318700; 444130,4318174; 444206,4318204; 444488,4318702; 444560,4318739; 444613,4318738; 444781,4318655; 444885,4318566; 445107,4318524; 445246,4318439; 445439,4318513; 445542,4318514; 445685,4318482; 445803,4318417; 446226,4318336; 446298,4318348; 446424,4318418; 446549,4318578; 446661,4319187; 446707,4319293; 446880,4319476; 447042,4319552; 447098,4319734; 447056,4319893; 447068,4320031; 447180,4320199; 447351,4320194; 447394,4320214; 447485,4320382; 447722,4320332; returning to 447886,4320218.

(ii) Note: Map of Unit MEN-1 for the California red-legged frog follows:

BILLING CODE 4310-55-S

(14) Unit SON-1: Sonoma County, California. From USGS 1:24,000 scale quadrangles Santa Rosa and Kenwood.

(i) Land bounded by the following UTM Zone 10, NAD83 coordinates (E,N):

536171,4251731; 536307,4251324; 536231,4250750; 536103,4250388; 535718,4250087; 535462,4250177; 535251,4250336; 534851,4250494; 534579,4250705; 534389,4250676; 534308,4250419; 534298,4250194; 534123,4250079; 533794,4250578; 533501,4250593; 533472,4250583; 533452,4250531; 533276,4250470; 533146,4250524; 532957,4250539; 532814,4250509; 532248,4250796; 532309,4250962; 532316,4251120; 532497,4251422; 532905,4251407; 533025,4251475; 533327,4251437; 533608,4251509; 533772,4252033; 533885,4252267; 534180,4252501; 534602,4252689; 535068,4252700; 535824,4252154; returning to 536171,4251731.

(ii) Note: Map of Units SON-1, SON-2 and SON-3 for the California red-legged frog follows:

(15) Unit SON-2: Sonoma County, California. From USGS 1:24,000 scale quadrangles Cotati and Glen Ellen.

(i) Land bounded by the following UTM Zone 10, NAD83 coordinates (E,N):

535134,4244142; 535187,4244062; 535622,4244348; 535838,4244353; 535971,4244499; 536040,4244436; 536393,4244436; 536655,4243995; 536702,4243674; 537129,4243407; 537300,4242457; 537009,4242237; 537121,4241673; 537315,4241438; 537510,4240808; 538274,4240465; 538488,4239638; 538778,4239243; 538778,4238977; 538645,4238790; 538605,4238404; 538446,4238045; 538180,4237686; 536152,4237939; 536037,4238617; 536157,4239291; 536104,4239642; 535917,4240041; 535829,4240117; 535319,4240068; 534653,4240161; 534496,4240364; 534786,4240840; 534813,4241186; 533414,4242273; 533056,4242396; 532833,4242624; 532537,4242609; 532391,4242756; 532418,4243049; 532604,4243222; 533841,4243454; 534135,4243980; 534633,4244287; 534706,4244539; 534912,4244479; returning to 535134,4244142.

(ii) Note: Unit SON-2 for California red-legged frog is depicted on the map in paragraph (14)(ii) of this entry.

(16) Unit SON-3: Sonoma and Marin Counties, California. From USGS 1:24,000 scale quadrangle Petaluma.

(i) Land bounded by the following UTM Zone 10, NAD83 coordinates (E,N):

530959,4230115; 531149,4229843; 531149,4229781; 531041,4229699; 530868,4229705; 530792,4229641; 530642,4229379; 529979,4228622; 529625,4228730; 529454,4228860; 529138,4228447; 529190,4228085; 529057,4227870; 529301,4227268; 529301,4226775; 528922,4226523; 528796,4226223; 528732,4225860; 528463,4225746; 528322,4225545; 528070,4225434; 527675,4225545; 527499,4225858; 526791,4226136; 526503,4226700; 526618,4227501; 526791,4227912; 527227,4228272; 527718,4228328; 528554,4228970; 528535,4229182; 528890,4229679; 529111,4229695; 529317,4230021; 529918,4229965; 530079,4229860; 530210,4230039; 530275,4230068; 530354,4230068; 530421,4230102; 530542,4230070; 530681,4230122; returning to 530959,4230115.

(ii) Note: Unit SON-3 for California red-legged frog is depicted on the map in paragraph (14)(ii) of this entry.

(17) Unit NAP-1: Napa County, California. From USGS 1:24,000 scale quadrangle Capell Valley.

(i) Land bounded by the following UTM Zone 10, NAD83 coordinates (E,N):

571668,4256238; 571744,4256065; 571928,4256108; 572003,4256097; 572230,4255795; 572479,4255665; 572879,4255676; 573030,4255503; 573063,4255384; 573495,4255265; 573603,4255200; 573798,4255395; 573895,4255427; 573949,4255535; 574100,4255568; 574187,4255535; 574327,4255427; 574468,4255395; 574835,4255535; 575278,4255406; 575408,4255427; 575430,4255244; 575408,4255017; 575592,4254887; 575765,4254649; 575808,4254465; 575581,4254195; 575408,4254033; 575214,4253957; 575333,4253892; 575419,4253676; 575321,4253562; 574972,4253480; 574899,4253535; 574781,4253445; 574508,4253381; 574411,4253302; 574367,4253332; 574279,4253463; 574146,4253508; 573831,4253776; 573715,4253702; 573552,4253734; 573386,4253663; 573186,4253794; 573088,4253822; 572972,4253911; 572909,4253921; 572820,4253898; 572740,4253845; 572582,4253833; 572328,4253749; 572104,4253461; 572027,4253479; 572020,4253414; 571495,4253784; 571420,4254011; 571420,4254184; 571204,4254368; 570339,4254400; 570079,4254573; 569593,4254725; 569474,4254865; 569431,4255060; 569290,4255416; 569344,4255525; 569463,4255568; 569669,4255568; 569852,4255600; 570015,4255676; 570207,4255556; 570241,4255438; 570458,4255211; 570641,4255200; 570804,4255060; 570966,4255049; 571020,4255211; 571009,4255330; 571031,4255449; 571009,4255752; 571031,4255870; 571085,4255968; 571117,4256141; 571301,4256141; 571560,4256281; returning to 571668,4256238.

(ii) Note: Map of Unit NAP-1 for the California red-legged frog follows:

(18) Unit MRN-1: Marin County, California. From USGS 1:24,000 scale quadrangles Valley Ford and Tomales.

(i) Land bounded by the following UTM Zone 10, NAD83 coordinates (E,N): 503193,4241015; 503294,4241015; 503446,4240937; 503876,4240603; 504256,4240551; 504408,4240473; 504433,4240421; 504484,4240396; 504584,4240395; 504545,4240350; 504587,4240298; 504674,4240281; 504733,4240225; 504875,4240159; 504851,4240030; 504874,4239956; 504766,4239840; 504829,4239728; 504862,4239600; 504835,4239306; 504896,4239139; 504977,4239052; 505087,4238842; 505172,4238850; 505319,4238813; 505493,4238806; 505516,4238668; 505626,4238434; 505673,4238392; 506091,4238339; 506140,4238393; 506448,4238501; 506551,4238326; 506504,4237813; 506618,4237620; 506517,4237109; 506625,4236375; 506329,4236129; 506284,4235230; 506524,4234994; 506343,4234300; 506695,4233557; 506620,4233316; 506090,4233083; 506024,4233103; 505937,4233091; 505855,4233143; 505762,4233160; 505672,4233255; 505316,4233212; 505140,4233280; 505088,4233359; 505061,4233502; 504853,4233737; 504730,4233985; 504594,4234030; 504488,4234115; 504418,4234208; 504373,4234221; 504244,4234161; 503885,4234079; 503816,4234126; 503687,4234290; 503645,4234307; 503492,4234276; 503439,4234355; 503308,4234448; 503306,4234629; 503108,4234736; 502977,4234755; 502885,4234906; 502888,4235086; 502871,4235112; 502733,4235138; 502717,4235160; 502784,4235437; 502764,4235462; 502661,4235385; 502555,4235379; 502381,4235521; 502256,4235562; 502146,4235673; 501997,4235752; 502182,4235744; 502251,4235776; 502356,4235907; 502405,4236072; 502480,4236149; 502493,4236237; 502526,4236262; 502696,4236169; 502907,4235905; 503090,4235814; 503103,4235727; 503078,4235649; 503097,4235618; 503146,4235709; 503147,4235834; 502966,4235913; 502896,4235997; 502848,4236145; 502693,4236274; 502563,4236320; 502474,4236284; 502354,4236108; 502304,4235881; 502188,4235785; 502104,4235813; 502031,4235871; 501753,4235794; 501647,4235813; 501648,4235849; 501527,4235955; 501544,4236012; 501498,4236014; 501409,4236114; 501183,4236116; 501128,4236244; 501074,4236286; 501097,4236453; 501048,4236477; 500968,4236596; 500991,4236836; 500972,4236920; 500902,4236997; 500660,4237080; 500559,4237170; 500458,4237221; 500395,4237383; 500401,4237476; 500279,4237575; 500302,4237634; 500287,4237695; 500227,4237771; 500253,4237811; 500238,4237936; 500164,4238003; 499987,4238094; 500014,4238175; 499962,4238343; 499796,4238588; 499601,4238795; 499742,4238649; 499813,4238660; 499948,4238829; 500076,4238905; 500483,4239029; 500560,4239079; 500586,4239129; 500587,4239256; 500537,4239409; 500539,4239562; 500438,4239717; 500464,4239818; 500541,4239843; 500642,4239816; 500768,4239714; 500871,4239788; 500922,4239864; 501127,4240016; 501203,4240015; 501203,4239990; 501254,4240014; 501406,4240013; 501458,4240090; 501484,4240267; 501535,4240317; 501688,4240315; 501713,4240341; 501815,4240289; 501916,4240288; 502120,4240363; 502298,4240388; 502349,4240335; 502602,4240208; 502730,4240307; 502756,4240485; 502834,4240586; 502867,4240891; 502964,4240992; returning to 503193,4241015.

(ii) Note: Map of Units MRN-1, MRN-2 and MRN-3 for the California red-legged frog follows:

BILLING CODE 4310-55-C

(19) Unit MRN-2: Marin County, California. From USGS 1:24,000 scale quadrangles Point Reyes NE, Inverness, and Petaluma.

(i) Land bounded by the following UTM Zone 10, NAD83 coordinates (E,N): 512634,4232438; 512942,4232244; 513098,4232298; 513362,4232450; 513497,4232455; 513734,4232386; 513918,4232251; 513953,4232187; 513939,4232023; 513849,4231832; 513855,4231619; 513876,4231594; 513952,4231792; 514067,4231818; 514387,4231769; 514431,4231744; 514482,4231533; 514514,4231516; 514663,4231619; 514738,4231830; 514879,4231915; 514984,4231862; 515164,4231822; 515265,4231703; 515413,4231696; 515480,4231654; 515682,4231600; 515773,4231673; 515857,4231825; 515889,4231847; 516011,4231747; 516087,4231574; 516258,4231510; 516369,4231437; 516551,4231414; 516624,4231372; 516733,4231367; 517058,4231285; 517107,4231304; 517391,4231679; 517463,4231696; 517588,4231597; 517667,4231496; 517768,4231273; 517772,4231173; 517811,4231094; 517939,4231058; 518083,4230966; 518200,4231014; 518308,4231014; 518391,4230977; 518538,4230841; 518822,4230448; 518810,4230285; 518942,4230355; 519137,4230506; 519237,4230507; 519320,4230466; 519549,4230605; 519594,4230608; 519685,4230581; 519829,4230580; 519999,4230511; 520091,4230394; 520239,4230269; 520162,4230139; 519882,4229855; 519840,4229621; 519867,4229461; 519849,4229396; 519739,4229280; 519592,4229059; 519476,4228998; 519454,4228924; 519378,4228818; 519315,4228630; 519042,4228213; 518464,4227912; 518370,4227840; 518322,4227831; 518197,4227891; 517943,4228049; 517694,4228069; 517400,4227982; 517268,4227880; 517186,4227771; 517199,4227646; 517250,4227548; 517224,4227253; 517185,4227094; 517202,4227018; 517172,4226789; 517183,4226684; 517345,4226172; 517540,4225917; 517664,4225822; 517996,4225774; 518119,4225599; 518363,4225531; 518498,4225403; 518610,4225441; 518768,4225408; 518968,4225411; 519092,4225528; 519190,4225560; 519233,4225531; 519388,4225502; 519507,4225352; 519594,4225350; 519749,4225266; 519810,4225258; 520064,4225362; 520184,4225514; 520277,4225592; 520630,4225713; 520910,4225546; 520992,4225569; 521097,4225648; 521150,4225647; 521266,4225514; 521483,4225374; 521560,4225362; 521593,4225446; 521576,4225682; 521628,4225793; 521667,4225821; 521971,4225822; 522029,4225860; 522041,4225912; 522179,4225963; 522417,4225897; 522749,4226030; 523034,4226041; 523183,4225960; 523305,4225859; 523473,4225826; 523554,4225753; 523698,4225705; 523900,4225560; 523999,4225413; 524219,4225251; 524366,4225189; 524417,4225181; 524508,4225322; 524595,4225339; 524810,4225202; 524934,4225191; 525064,4225131; 525135,4225139; 525269,4225297; 525386,4225307; 525742,4225446; 525981,4225301; 526083,4225122; 526277,4225058; 526307,4225022; 526328,4224957; 526330,4224726; 526452,4224537; 526214,4224486; 526042,4224410; 525929,4224415; 525873,4224347; 525811,4224326; 525748,4224320; 525586,4224443; 525534,4224449; 525296,4224366; 525206,4224371; 525133,4224279; 525087,4224261; 524966,4224252; 524839,4224204; 524671,4224229; 524546,4224086; 524230,4223937; 523845,4224016; 523743,4223997; 523685,4223952; 523498,4223688; 523434,4223663; 523161,4223685; 522965,4223495; 522819,4223448; 522613,4223424; 522407,4223176; 522258,4223101; 522271,4222843; 522364,4222760; 522445,4222581; 522555,4222444; 522613,4222102; 522588,4222018; 522343,4221918; 522236,4221786; 522055,4221641; 521969,4221349; 521990,4221082; 521763,4220864; 521855,4220541; 521793,4220391; 521774,4220127; 521784,4220067; 521896,4219981; 521924,4219896; 521848,4219817; 521755,4219800; 521656,4219700; 521494,4219662; 521368,4219377; 521240,4219304; 521152,4219225; 521114,4219151; 520863,4218981; 520678,4218787; 520578,4218796; 520378,4218869; 520247,4218872; 520018,4218822; 519872,4218838; 519845,4218996; 519642,4219152; 519519,4219421; 519233,4219697; 518902,4219651; 518634,4219717; 518312,4219719; 518147,4219746; 517999,4219816; 517719,4219868; 517653,4219916; 517287,4219900; 517225,4219917; 517183,4220084; 517009,4220242; 516987,4220313; 517103,4220544; 517122,4220629; 517253,4220802; 517367,4221065; 517182,4221254; 517129,4221341; 517036,4221398; 516768,4221243; 516693,4221247; 516601,4221165; 516444,4221115; 516150,4221102; 515956,4221049; 515673,4221081; 515460,4221071; 515380,4221101; 515114,4221102; 515014,4220983; 514867,4220920; 514780,4220772; 514755,4220678; 514594,4220665; 514492,4220871; 514430,4221146; 514439,4221253; 514360,4221329; 514351,4221370; 514397,4221492; 514268,4221673; 514071,4221758; 513978,4221885; 513976,4222125; 513829,4222366; 513771,4222562; 513695,4222672; 513628,4222855; 513572,4222850; 513466,4222715; 513416,4222692; 513297,4222704; 513134,4222645; 512740,4222361; 512600,4222391; 512449,4222344; 512292,4222366; 512112,4222334; 512046,4222390; 511964,4222543; 511866,4222643; 511826,4222861; 511675,4222929; 511527,4223048; 511437,4223216; 511547,4223360; 511503,4223547; 511501,4223757; 511620,4224148; 511629,4224296; 511786,4224456; 511844,4224569; 511874,4224719; 511854,4224868; 511902,4224965; 511904,4225113; 512071,4225338; 512157,4225513; 512204,4225552; 512337,4225573; 512368,4225726; 512356,4225792; 512428,4225869; 512529,4226054; 512591,4226107; 512660,4226098; 512756,4226159; 512859,4226140; 513037,4226157; 513287,4226362; 513607,4226528; 513677,4226611; 513728,4226781; 513769,4226828; 513982,4226839; 514078,4226893; 514253,4227043; 514392,4227258; 514369,4227563; 514393,4227680; 514388,4227874; 514142,4227981; 514068,4228051; 513987,4228072; 513829,4228182; 513610,4228246; 513532,4228309; 513362,4228319; 513228,4228439; 512822,4228591; 512709,4228749; 512692,4228880; 512618,4229002; 512598,4229082; 512424,4229178; 512261,4229363; 512328,4229469; 512328,4229507; 512245,4229751; 512645,4230037; 512816,4230363; 512774,4230537; 512777,4230732; 512685,4231053; 512590,4231193; 512559,4231357; 512387,4231685; 512254,4231827; 512208,4231918; 512249,4232203; 512365,4232457; 512525,4232501; returning to 512634,4232438.

(ii) Note: Unit MRN-2 for California red-legged frog is depicted on the map in paragraph (18)(ii) of this entry.

(20) Unit MRN-3: Marin County, California. From USGS 1:24,000 scale quadrangles Drakes Bay and Inverness.

(i) Land bounded by the following UTM Zone 10, NAD83 coordinates (E,N):

510133,4216765; 510270,4216372; 510239,4216321; 510281,4216124; 510629,4215830; 510849,4215727; 510877,4215571; 510978,4215595; 511057,4215680; 511122,4215630; 511147,4215593; 511161,4215478; 511210,4215387; 511275,4215332; 511518,4214941; 511553,4214727; 511602,4214667; 511785,4214601; 511919,4214612; 512054,4214589; 512332,4214656; 512415,4214708; 512707,4214574; 512889,4214540; 512963,4214501; 513029,4214420; 513116,4214029; 513217,4214012; 513416,4214031; 513512,4213950; 513576,4213953; 513736,4214119; 513846,4214332; 513925,4214400; 514141,4214492; 514240,4214562; 514366,4214810; 514400,4214999; 514442,4215075; 514510,4215014; 514513,4215057; 514413,4215323; 514255,4215636; 514267,4215701; 514317,4215712; 514365,4215687; 514559,4215488; 514642,4215319; 514725,4215282; 514603,4215579; 514621,4215694; 514779,4215441; 515018,4215186; 515077,4215033; 515232,4214981; 515342,4214897; 515288,4214710; 515275,4214564; 515381,4214375; 515711,4213988; 515746,4213733; 515733,4213354; 515750,4213055; 515781,4212901; 515830,4212870; 516367,4212892; 516503,4212932; 516644,4213042; 516860,4212910; 516926,4212822; 517040,4212830; 517088,4212791; 517172,4212791; 517374,4212518; 517264,4212465; 517339,4212311; 517414,4212254; 517480,4212267; 517595,4212205; 517661,4212078; 517787,4212085; 517933,4212205; 518079,4212282; 518260,4212635; 518544,4212979; 518683,4213112; 518803,4213102; 518927,4212967; 519118,4212921; 519159,4212887; 519291,4212649; 519280,4212589; 519210,4212517; 519196,4212418; 519336,4212358; 519353,4212325; 519335,4212205; 519349,4212132; 519401,4212089; 519504,4212103; 519628,4212046; 520171,4211644; 520055,4211392; 520030,4211190; 520097,4210910; 520586,4210785; 520815,4210783; 520850,4210769; 520892,4210704; 520861,4210397; 520721,4210162; 520600,4210028; 520590,4209949; 520646,4209898; 520887,4209871; 521006,4209793; 521031,4209751; 521041,4209527; 521004,4209454; 521114,4209240; 521104,4208959; 521141,4208913; 521339,4208949; 521419,4208921; 521461,4208889; 521598,4208620; 521501,4208595; 521346,4208500; 520950,4208483; 520727,4208354; 520374,4208079; 520220,4208045; 519885,4207813; 519438,4207400; 519240,4207065; 519025,4206781; 518852,4206795; 518859,4206992; 518825,4207242; 518779,4207341; 518633,4207493; 518590,4207597; 518303,4207765; 518255,4207851; 518165,4207884; 518049,4207875; 518013,4207892; 517908,4208057; 517861,4208082; 517771,4208080; 517601,4207985; 517354,4207996; 517125,4207882; 516970,4208017; 516925,4208111; 516780,4208118; 516653,4208173; 516549,4208178; 516215,4207960; 516078,4207893; 516028,4207896; 516070,4207700; 516038,4207514; 515826,4207401; 515664,4207236; 515598,4207042; 515590,4206816; 515322,4206667; 515113,4206403; 515080,4206186; 515096,4206019; 515065,4205839; 514688,4206208; 514367,4206421; 514164,4206598; 514016,4206652; 513803,4206859; 513688,4206894; 513604,4206970; 513520,4206990; 513373,4207120; 513147,4207269; 513080,4207355; 512595,4207687;511835,4208055; 510313,4208639; 509246,4208876; 508651,4208951; 507880,4209000; 507124,4208993; 506775,4209072; 506615,4209014; 506389,4209039; 506185,4209217; 506100,4209325; 506026,4209510; 506062,4209603; 506147,4209545; 506522,4209169; 506599,4209122; 506704,4209127; 507025,4209067; 507050,4209081; 507021,4209143; 507076,4209099; 507177,4209122; 507283,4209116; 507420,4209185; 507483,4209182; 507616,4209126; 507643,4209139; 507686,4209105; 507724,4209130; 507788,4209094; 507905,4209139; 507930,4209221; 508127,4209185; 508246,4209094; 508475,4209068; 508605,4209086; 508742,4209175; 509023,4209151; 509049,4209111; 509162,4209163; 509287,4209156; 509499,4209071; 509720,4209108; 509812,4208918; 509891,4208860; 509994,4208851; 510052,4208894; 510045,4208952; 510136,4208954; 510157,4208984; 510131,4209303; 510153,4209435; 510272,4209507; 510319,4209698; 510496,4209864; 510535,4210135; 510476,4210146; 510415,4210004; 510296,4209863; 510147,4209602; 510074,4209535; 509993,4209279; 509919,4209208; 509881,4209127; 509880,4209033; 509912,4208981; 510016,4208932; 510001,4208886; 509935,4208880; 509859,4208919; 509794,4209132; 509665,4209263; 509602,4209288; 509535,4209402; 509522,4209605; 509542,4209833; 509599,4209906; 509582,4209938; 509531,4209958; 509498,4210182; 509497,4210378; 509530,4210514; 509481,4210581; 509421,4210611; 509363,4210579; 509397,4210503; 509347,4210265; 509376,4209961; 509337,4209815; 509262,4209739; 509322,4209688; 509335,4209619; 509231,4209471; 509045,4209333; 508894,4209327; 508634,4209341; 508147,4209491; 508043,4209600; 508011,4209679; 508173,4209875; 508255,4210124; 508276,4210307; 508411,4210455; 508358,4210636; 508157,4210758; 508218,4210924; 508310,4211016; 508308,4211083; 508069,4211277; 507969,4211477; 507982,4211523; 507957,4211557; 507908,4211517; 507891,4211365; 507858,4211301; 507856,4210821; 507724,4210572; 507654,4210495; 507635,4210336; 507564,4210209; 507584,4210056; 507624,4209986; 507623,4209788; 507582,4209630; 507506,4209538; 507402,4209523; 507316,4209544; 507282,4209578; 507243,4209663; 507223,4209841; 507189,4209938; 507155,4209926; 507137,4209871; 507120,4209657; 507072,4209525; 506934,4209479; 506640,4209505; 506585,4209679; 506405,4209809; 506374,4209808; 506330,4209751; 506300,4209746; 505982,4209766; 505968,4209916; 505932,4209915; 505904,4210075; 505989,4210384; 505975,4210478; 505841,4210606; 505717,4210639; 505621,4210708; 505541,4210808; 505483,4210945; 505662,4211260; 505803,4211801; 505861,4211906; 506155,4212049; 506253,4212142; 506528,4212306; 506603,4212436; 506660,4212449; 506814,4212424; 506833,4212520; 506806,4212654; 506849,4212713; 506972,4212769; 507062,4212882; 506897,4212979; 506875,4213038; 506870,4213078; 506970,4213237; 507091,4213310; 507337,4213389; 507473,4213521; 507701,4213616; 507766,4213902; 507762,4213958; 507701,4213945; 507619,4213805; 507498,4213731; 507377,4213715; 507325,4213740; 507320,4213683; 507208,4213594; 507194,4213554; 507141,4213533; 506822,4213739; 506815,4213782; 506850,4213857; 506771,4214113; 506743,4214115; 506675,4214021; 506726,4213828; 506726,4213696; 506678,4213492; 506493,4213195; 506389,4212903; 506254,4212836; 506213,4212761; 506114,4212799; 505874,4212950; 505835,4213134; 505797,4213179; 505897,4213364; 505883,4213473; 505786,4213556; 505841,4213871; 505829,4213936; 505714,4214048; 505700,4214146; 505822,4214442; 505999,4214691; 505996,4214804; 505922,4214995; 505744,4215071; 505667,4215174; 505682,4215213; 505800,4215221; 505869,4215291; 506047,4215394; 506071,4215552; 506153,4215767; 506306,4215910; 506113,4215969; 506033,4215923; 505970,4215915; 505940,4215851; 505734,4215768; 505663,4215684; 505665,4215590; 505714,4215479; 505716,4215417; 505473,4215046; 505480,4214996; 505551,4214971; 505562,4214934; 505526,4214858; 505519,4214764; 505394,4214667; 505239,4214416; 505308,4214248; 505286,4213725; 505166,4213472; 505131,4213280; 505078,4213202; 505125,4212897; 505079,4212810; 504900,4212697; 504875,4212624; 504885,4212573; 504699,4212565; 504579,4212601; 504277,4212526; 504121,4212539; 504025,4212680; 504012,4212738; 504102,4212844; 504120,4212904; 504015,4213135; 504046,4213215; 504113,4213731; 503996,4213871; 504034,4213972; 503978,4214093; 503977,4214204; 503830,4214257; 503835,4214302; 503876,4214339; 503876,4214401; 503815,4214438; 503738,4214410; 503736,4214280; 503812,4214133; 503817,4214085; 503769,4213973; 503833,4213955; 503823,4213683; 503896,4213564; 503833,4213478; 503729,4213414; 503716,4213377; 503716,4213290; 503691,4213250; 503706,4213134; 503833,4212871; 503783,4212787; 503653,4212683; 503653,4212655; 503848,4212534; 503974,4212395; 504304,4212249; 504383,4212104; 504416,4211984; 504527,4211838; 504502,4211391; 504441,4211246; 504386,4211242; 504228,4211389; 503976,4211540; 503867,4211561; 503708,4211770; 503572,4211855; 503491,4211936; 503412,4211941; 503199,4212071; 503161,4212073; 503125,4212040; 503208,4211906; 503395,4211843; 503522,4211746; 503496,4211685; 503407,4211715; 503382,4211680; 503447,4211617; 503633,4211529; 503660,4211433; 503726,4211397; 503763,4211345; 503792,4211211; 503904,4211249; 504028,4211206; 504185,4211117; 504333,4210980; 504453,4210930; 504659,4210567; 504878,4210346; 504957,4210209; 505062,4210144; 505202,4209880; 505237,4209682; 505324,4209654; 505374,4209663; 505343,4209781; 505363,4209797; 505547,4209768; 505624,4209689; 505611,4209581; 505577,4209548; 505377,4209502; 505306,4209375; 505228,4209324; 504720,4209278; 504495,4209232; 503790,4209003; 503381,4208827; 502952,4208525; 502424,4208062; 502092,4207655; 501862,4207309; 501600,4206827; 501470,4206438; 501401,4206059; 501407,4205930; 501463,4205808; 501466,4205587; 501645,4205532; 501759,4205459; 501846,4205437; 501883,4205393; 501964,4205388; 502079,4205256; 502351,4205134; 502442,4205166; 502497,4205140; 502567,4205152; 502686,4205086; 502750,4205080; 502867,4205113;502873,4205060; 503019,4204813; 503124,4204736; 503115,4204722; 502956,4204673; 502927,4204721; 502810,4204750; 502632,4204765; 502492,4204737; 502373,4204742; 502323,4204822; 502347,4204896; 502292,4204963; 502181,4204983; 502112,4204967; 501888,4205031; 501683,4204983; 501563,4205013; 501477,4204995; 501377,4205051; 501227,4205013; 501227,4204947; 501192,4204936; 501123,4205000; 501156,4205033; 501127,4205088; 501050,4205076; 500973,4205148; 500811,4205234; 500575,4205162; 500552,4205058; 500420,4205028; 500409,4205116; 500293,4205180; 500176,4205160; 500112,4205121; 500082,4205134; 500035,4205076; 500014,4205138; 499960,4205144; 499933,4205132; 499908,4205069; 499856,4205055; 499796,4205072; 499774,4205044; 499700,4205069; 499499,4205076; 499452,4205234; 499347,4205261; 499348,4205303; 499300,4205322; 499161,4205311; 499129,4205276; 499091,4205304; 499077,4205280; 499042,4205321; 499001,4205306; 499005,4205265; 499023,4205267; 498993,4205231; 498985,4205317; 498933,4205329; 498893,4205265; 498794,4205213; 498766,4205151; 498712,4205145; 498599,4205178; 498517,4205164; 498476,4205219; 498452,4205161; 498348,4205198; 498327,4205256; 498173,4205288; 498083,4205254; 498014,4205270; 497983,4205215; 497891,4205242; 497876,4205290; 497903,4205377; 497979,4205447; 498051,4205586; 498106,4205613; 498115,4205676; 498188,4205786; 498243,4205796; 498308,4205758; 498360,4205764; 498497,4205674; 498587,4205715; 498578,4205773; 498665,4205838; 498695,4205922; 498819,4205919; 498847,4205899; 498954,4205918; 499075,4206064; 499253,4206407; 499399,4206801; 499539,4207277; 499907,4208172; 500142,4208871; 500345,4209347; 500720,4210420; 500986,4211087; 501012,4211233; 501361,4212122; 501901,4213703; 502491,4215316; 503094,4217156; 503345,4217022; 503679,4216629; 503730,4216579; 503799,4216555; 503958,4216581; 504285,4216561; 504526,4216621; 504859,4216757; 505264,4217009; 505550,4217104; 506541,4216757; 506604,4217067; 506525,4217161; 506532,4217185; 506994,4217323; 507410,4217877; 508102,4217877; 509072,4218155; 509626,4218155; 510135,4217982; 510344,4217819; 510140,4217687; 510054,4217459; 509963,4217330; 509962,4217179; 510098,4216973; 510136,4216841; returning to 510133,4216765.

(ii) Note: Unit MRN-3 for California red-legged frog is depicted on the map in paragraph (18)(ii) of this entry.

(21) Unit SOL-1: Solano and Napa Counties, California. From USGS 1:24,000 scale quadrangles Cordelia, Benecia, Fairfield South and Vine Hill.

(i) Land bounded by the following UTM Zone 10, NAD83 coordinates (E,N): 573848,4228015; 573903,4227912; 573977,4227914; 574101,4228001; 574144,4227996; 574168,4227924; 574108,4227756; 574045,4227438; 574091,4227308; 574369,4227183; 574607,4226770; 574709,4226724; 574710,4226757; 574752,4226739; 575176,4225375; 575367,4224934; 575363,4224914; 575154,4224811; 575156,4224422; 575340,4224312; 575272,4224261; 575277,4224221; 575430,4223998; 575543,4223916; 575898,4223882; 575951,4223933; 575956,4224042; 576548,4224315; 576613,4224309; 577094,4224080; 577185,4224072; 577294,4223874; 577241,4223622; 577294,4223503; 577394,4223421; 577361,4223317; 577276,4223227; 577093,4223198; 577026,4223148; 577088,4222761; 577231,4222620; 577424,4222494; 577487,4222409; 577764,4222437; 577901,4222389; 577908,4222309; 577823,4222231; 578000,4222065; 577976,4222018; 577851,4221975; 577819,4221920; 577874,4221749; 577847,4221604; 577479,4221571; 577347,4221465; 577347,4221267; 577254,4221042; 577263,4220963; 577240,4220963; 577232,4220845; 577157,4220753; 577148,4220519; 577207,4220260; 577340,4219959; 577708,4219717; 577833,4219667; 578061,4219640; 578022,4219507; 577850,4219230; 578141,4219044; 578141,4218548; 578071,4218516; 577638,4218687; 576844,4218674; 576474,4218621; 576315,4218370; 576130,4218317; 575892,4218145; 575693,4217814; 575535,4217616; 575045,4217139; 574873,4216862; 574304,4217100; 574026,4217139; 573391,4217351; 573100,4217311; 572730,4217510; 572550,4217698; 572484,4217823; 572498,4218787; 572276,4219425; 572241,4219668; 571809,4219995; 571486,4220345; 571285,4220358; 571097,4220460; 570722,4220804; 570712,4220888; 570467,4221496; 569971,4222168; 569322,4222661; 569141,4222871; 568932,4223029; 569100,4223446; 569287,4223455; 569617,4223245; 569859,4223239; 569998,4223461; 570161,4223803; 570212,4223793; 570589,4223923; 570713,4223831; 570802,4223659; 570802,4223501; 570936,4223240; 571008,4222761; 571145,4222466; 571240,4222370; 571367,4222173; 571848,4221869; 571964,4221615; 572129,4221634; 572415,4221529; 572618,4221361; 572912,4221346; 572919,4221484; 573182,4221670; 573101,4221744; 573080,4222159; 572894,4222695; 572719,4223078; 572686,4223384; 572555,4223800; 572555,4224434; 572609,4224828; 572596,4225163; 572424,4225185; 572290,4225081; 572133,4225232; 572065,4225225; 571881,4225001; 571574,4224781; 571484,4224773; 571338,4224672; 571231,4224490; 570850,4224490; 570733,4224439; 570602,4224420; 570585,4224503; 570453,4224690; 570576,4224852; 570722,4224934; 570875,4225093; 570763,4225322; 570670,4225406; 570879,4225740; 571040,4225925; 571358,4226168; 571485,4226295; 571618,4226478; 571663,4226445; 571710,4226470; 571678,4226529; 571802,4226631; 571975,4226718; 572345,4226851; 572506,4226954; 572764,4227177; 573262,4227884; 573371,4227967; 573657,4228044; 573766,4228055; returning to 573848,4228015.

(ii) Note: Map of Units SOL-1, SOL-2 and SOL-3 for the California red-legged frog follows:

BILLING CODE 4310-55-S

BILLING CODE 4310-55-C

(22) Unit SOL-2: Solano and Napa Counties, California. From USGS 1:24,000 scale quadrangle Cordelia.

(i) Land bounded by the following UTM Zone 10, NAD83 coordinates (E,N):

570458,4232242; 570722,4232209; 571086,4232374; 571367,4232573; 571880,4232606; 572552,4232394; 572809,4232259; 572809,4232155; 572756,4231996; 572637,4231837; 572637,4231639; 573009,4231625; 573192,4231413; 573390,4231275; 573441,4231119; 573467,4230836; 573406,4230775; 573470,4230566; 573705,4230214; 573992,4230187; 574036,4230088; 574120,4230009; 574352,4229667; 574403,4229391; 574344,4229350; 573890,4229241; 573760,4229329; 573519,4229412; 573113,4229431; 572770,4229520; 572598,4229533; 572300,4229291; 571970,4229190; 571766,4229253; 571606,4229514; 571658,4230168; 571639,4230536; 571519,4230834; 571360,4230968; 571023,4230968; 570750,4231012; 570560,4230936; 570294,4230699; 569918,4230136; 569626,4230110; 569334,4230180; 568858,4230392; 568747,4230511; 568604,4230722; 568466,4230826; 568420,4230947; 568427,4231151; 568370,4231153; 568241,4231036; 568170,4231061; 568251,4231202; 568522,4231421; 568329,4231625; 568273,4231618; 568199,4231461; 568133,4231392; 568051,4231386; 567956,4231463; 567912,4231543; 567727,4231690; 567729,4231878; 567994,4232292; 567944,4232639; 568093,4233152; 568821,4233152; 569151,4233185; 569548,4233185; 569846,4233019; 570061,4232854; returning to 570458,4232242.

(ii) Note: Unit SOL-2 for California red-legged frog is depicted on the map in paragraph (21)(ii) of this entry.

(23) Unit SOL-3: Solano and Napa Counties, California. From USGS 1:24,000 scale quadrangle Cordelia.

(i) Land bounded by the following UTM Zone 10, NAD83 coordinates (E,N):

567740,4229171; 568267,4229171; 568477,4228910; 568712,4228853; 568966,4228656; 569087,4228510; 569334,4228485; 569607,4228396; 569918,4228237; 570276,4228164; 571071,4228258; 571556,4228946; 572117,4228927; 572376,4228815; 572535,4228688; 572789,4228707; 573052,4228841; 573309,4228751; 573595,4228530; 573591,4228489; 572973,4227712; 572720,4227679; 572641,4227523; 572604,4227377; 572604,4227200; 572266,4227009; 572043,4226973; 571747,4226787; 571739,4226736; 571691,4226684; 571607,4226655; 571371,4226453; 571252,4226308; 570965,4226045; 570780,4225806; 570606,4225519; 570453,4225433; 570323,4225316; 570088,4225297; 569929,4225225; 569754,4225196; 569569,4225199; 569376,4225109; 569270,4225000; 569119,4224961; 569074,4224876; 568960,4224768; 568745,4224634; 568523,4224574; 568380,4224504; 568010,4224527; 567864,4224622; 567019,4224654; 566765,4224802; 566704,4225101; 566522,4225215; 566353,4225363; 566462,4225788; 566610,4226015; 566604,4226126; 566731,4226294; 566877,4226326; 567175,4226542; 567232,4226739; 567105,4226948; 567076,4227307; 567417,4228231; 567664,4228428; 567740,4228580; returning to 567740,4229171.

(ii) Note: Unit SOL-3 for California red-legged frog is depicted on the map in paragraph (21)(ii) of this entry.

(24) Unit CCS-1: Contra Costa County, California. From USGS 1:24,000 scale quadrangles Richmond, Benecia, Briones Valley and Walnut Creek.

(i) Land bounded by the following UTM Zone 10, NAD83 coordinates (E,N): 572162,4205268; 572327,4205277; 572442,4205195; 572582,4205195; 572788,4205283; 572909,4205274; 573122,4204829; 573298,4204638; 573495,4204549; 573519,4204473; 573487,4204382; 573594,4204332; 573672,4204255; 573639,4204185; 573520,4204083; 573424,4203726; 573355,4203671; 573267,4203695; 573150,4203787; 572928,4203867; 572737,4204064; 572574,4203972; 572526,4203835; 571765,4203776; 571660,4203656; 571783,4202972; 571741,4202650; 571991,4202253; 572214,4201968; 572486,4201677; 572471,4201544; 572497,4201511; 572614,4201480; 572794,4201502; 572878,4201552; 573135,4201820; 573168,4201827; 573218,4201660; 573237,4201425; 573292,4201268; 573364,4201222; 573484,4200970; 573443,4201046; 573544,4201047; 573651,4201342; 573748,4201343; 573742,4201477; 574217,4201456; 574155,4201560; 574504,4201744; 574537,4201730; 574501,4201794; 574535,4201949; 574691,4201984; 574719,4201926; 574749,4201918; 574771,4201939; 574774,4202005; 574799,4202006; 574807,4201453; 575241,4201597; 575195,4201668; 575198,4201759; 575232,4201791; 575271,4201928; 575242,4201927; 575276,4202021; 575390,4202092; 575386,4202303; 575527,4202304; 575672,4202256; 575687,4202126; 575729,4202104; 575803,4202084; 575955,4202109; 575936,4202055; 576042,4201903; 575989,4201793; 576046,4201771; 576025,4201654; 576171,4201610; 576222,4201746; 576282,4201829; 576248,4201881; 576272,4201920; 576235,4201988; 576381,4202154; 576452,4202128; 576537,4202156; 576696,4201885; 576871,4201782; 576922,4201934; 577022,4202086; 577036,4202077; 577059,4202163; 577129,4202252; 577122,4202327; 577165,4202394; 577286,4202312; 577377,4202449; 577553,4202269; 577370,4202080; 577433,4202019; 577181,4201778; 577331,4201778; 577332,4201711; 577396,4201713; 577394,4201778; 577538,4201779; 577538,4201608; 577375,4201499; 577180,4201413; 577177,4201270; 577253,4201191; 577192,4200992; 577204,4200806; 577331,4200562; 577350,4200480; 577311,4200435; 577192,4200372; 577162,4200287; 577028,4200293; 576947,4200268; 576858,4200184; 576906,4200083; 576929,4199888; 576926,4199829; 576851,4199719; 576847,4199627; 576744,4199595; 576480,4199299; 576670,4199097; 576790,4199053; 576934,4198944; 577000,4198816; 576998,4198671; 576909,4198588; 576860,4198575; 576798,4198592; 576812,4198531; 576357,4198119; 576106,4197955; 575987,4197664; 576046,4197240; 576005,4197111; 575797,4196993; 575587,4196999; 575432,4196824; 575436,4196897; 575386,4197011; 575161,4197151; 575066,4197298; 574718,4197534; 574156,4197457; 574162,4197390; 573973,4197317; 573757,4197318; 573683,4197437; 573738,4197634; 573750,4197950; 573599,4197933; 573543,4198199; 573353,4198414; 573281,4198460; 573166,4198456; 573063,4198504; 573022,4198458; 572836,4198432; 572610,4198534; 572532,4198601; 572485,4198723; 572417,4198723; 572221,4198785; 572141,4198998; 572010,4199081; 571881,4199118; 571670,4199102; 571566,4199147; 571524,4199202; 571507,4199310; 571533,4199362; 571350,4199393; 571009,4199625; 570836,4199835; 570696,4199866; 570536,4199789; 570280,4199549; 569826,4199391; 569478,4199475; 568851,4199841; 568699,4199671; 568627,4199387; 568691,4199069; 568353,4199245; 567529,4198875; 566350,4199375; 566284,4199599; 566341,4199604; 566737,4199831; 566760,4199874; 566841,4199875; 566833,4199961; 566930,4200163; 566919,4200201; 566776,4200022; 566657,4200001; 566562,4199885; 566296,4199802; 566239,4199753; 566203,4199876; 565621,4200086; 565429,4200430; 565511,4200537; 565521,4200525; 566258,4201186; 566869,4201553; 566786,4201997; 566461,4202226; 566270,4202570; 565402,4203167; 565751,4203676; 566022,4203755; 566817,4203589; 567187,4203774; 567307,4204369; 567551,4204653; 567971,4204786; 568162,4205016; 568316,4205601; 569243,4205726; 569500,4206028; 569786,4206162; 571795,4205888; 571822,4205812; 572102,4205486; 572129,4205309; returning to 572162,4205268.

(ii) Note: Map of Unit CCS-1 for the California red-legged frog follows:

BILLING CODE 4310-55-S

BILLING CODE 4310-55-C

(25) Unit CCS-2: Contra Costa and Alameda Counties, California.

(i) Subunit CCS-2A. From USGS 1:24,000 scale quadrangles Walnut Creek, Clayton, and Diablo. Land bounded by the following UTM Zone 10, NAD83 coordinates (E,N): 590966,4195381; 591584,4195077; 591596,4194986; 591659,4194914; 591743,4194903; 591896,4194623; 592141,4194355; 592189,4194330; 592235,4194205; 592329,4194137; 592442,4194139; 592470,4194106; 592527,4193846; 592688,4193638; 592834,4193634; 592942,4193372; 593298,4193329; 593278,4193189; 592898,4193026; 592464,4192592; 592410,4192158; 592410,4191723; 592301,4191397; 591867,4191017; 591595,4190529; 591495,4190495; 591457,4190511; 591447,4190592; 591142,4190699; 591124,4190836; 590955,4190873; 590648,4191074; 589965,4191056; 589873,4191079; 589807,4191148; 589751,4191159; 589656,4191120; 589656,4191026; 589428,4191042; 589293,4190997; 588928,4190974; 588851,4191280; 588891,4191357; 588857,4191474; 588834,4191480; 588831,4191683; 588477,4191754; 588478,4191791; 588335,4191796; 588267,4191865; 588296,4191958; 588224,4192037; 588213,4192087; 588248,4192180; 588129,4192225; 588074,4192281; 588047,4192349; 588100,4192405; 588063,4192545; 587986,4192680; 587925,4192733; 587796,4192729; 587701,4192678; 587606,4192858; 587356,4193019; 587222,4193159; 587396,4193281; 587505,4193429; 587711,4193321; 588016,4193393; 588207,4193552; 588289,4193768; 588378,4193831; 588728,4193850; 588804,4194250; 588982,4194638; 589026,4194983; 589108,4195198; 589323,4195327; 589882,4195381; 590548,4195274; returning to 590966,4195381.

(ii) Subunit CCS-2B. From USGS 1:24,000 scale quadrangles Diablo, Tassajara, Byron Hot Springs, Dublin, Livermore, Altamont, Midway, and Clifton Court Forebay. Land bounded by the following UTM Zone 10, NAD83 coordinates (E,N): 599361,4176006; 599341,4176048; 599341,4176174; 599284,4176237; 599339,4176375; 599328,4176394; 599351,4176409; 599193,4176675; 599350,4177063; 599085,4177291; 598887,4177526; 598831,4177784; 598883,4178009; 598893,4178237; 598946,4178300; 598936,4178389; 599076,4178612; 599001,4178659; 598939,4178780; 598982,4178937; 599256,4179309; 599170,4179461; 599348,4180125; 599348,4180303; 599494,4180570; 599710,4180868; 599735,4181179; 599932,4181459; 600465,4181344; 601189,4181433; 601265,4181573; 601010,4181785; 601010,4182167; 601038,4182207; 601226,4182275; 601305,4182383; 601321,4182514; 601408,4182609; 601544,4182684; 601770,4182693; 602052,4182635; 601992,4183824; 601846,4184616; 600555,4184616; 600399,4184565; 600269,4184571; 600243,4184637; 600179,4184639; 600087,4184579; 599915,4184539; 599359,4184962; 599227,4185769; 598974,4186032; 599082,4186368; 597914,4186452; 597879,4186793; 597685,4186967; 597681,4187031; 597633,4187076; 597562,4187077; 597525,4187112; 597176,4187118; 597174,4186906; 597046,4186902; 596844,4187007; 596646,4187013; 596172,4187079; 595987,4187174; 595752,4187566; 595813,4187685; 595746,4187785; 595523,4187813; 595445,4188105; 595352,4188108; 595240,4188044; 595240,4187971; 595198,4187857; 595210,4187761; 595151,4187633; 595069,4187629; 594873,4187497; 594601,4187391; 594459,4187434; 594459,4187518; 594309,4187529; 594261,4187722; 594233,4187736; 594223,4187841; 594131,4187785; 593748,4187977; 593705,4188078; 593606,4188042; 593474,4188081; 593410,4188204; 593240,4188182; 593132,4188217; 593036,4188421; 592987,4188416; 592913,4188598; 592625,4188865; 592566,4188841; 592547,4188887; 592579,4188947; 592403,4189055; 592432,4189145; 592389,4189312; 592346,4189373; 592327,4189556; 592289,4189590; 592283,4189782; 592464,4189714; 593007,4189660; 593441,4189388; 594039,4189171; 594364,4189225; 594907,4189225; 595342,4188900; 595722,4188520; 596211,4188465; 596428,4188845; 596482,4189334; 596699,4189931; 597242,4189986; 597514,4189551; 597894,4189334; 598165,4189117; 598491,4188791; 598871,4188302; 599577,4188411; 600012,4188411; 600336,4188087; 600351,4186962; 601470,4186982; 601695,4186728; 602129,4186456; 602944,4185370; 603650,4184936; 603867,4184719; 604410,4184556; 606690,4182112; 606690,4181081; 607776,4180266; 621397,4184549; 621470,4184429; 621507,4184287; 621983,4184349; 621788,4184672; 623318,4185153; 623256,4185109; 623331,4184969; 623311,4184795; 623520,4184478; 623692,4184338; 623735,4184117; 623472,4184116; 623479,4183966; 623791,4183970; 623813,4183913; 623940,4183799; 623890,4183477; 623954,4183316; 624056,4183260; 624119,4183134; 624022,4182579; 624054,4182471; 624181,4182344; 624213,4182236; 624206,4182046; 624323,4181863; 624472,4181801; 624471,4181577; 624777,4181462; 624962,4181261; 625001,4181120; 625034,4180699; 624946,4180302; 624892,4180389; 624579,4180724; 624473,4180770; 623882,4180767; 623692,4180833; 623559,4181043; 623364,4181183; 623224,4181383; 623257,4181585; 623226,4181707; 623107,4181751; 623051,4181839; 622963,4181907; 622678,4182332; 622560,4182376; 622472,4182442; 622425,4182514; 622328,4182564; 621806,4182439; 621645,4182584; 621674,4182640; 621703,4182642; 621709,4182689; 621528,4182836; 621453,4182808; 621431,4182743; 621406,4182776; 621381,4182923; 621490,4183263; 621445,4183403; 621342,4183538; 621098,4183711; 621050,4183843; 621031,4184097; 621241,4184338; 621139,4184357; 621006,4184237; 620949,4184103; 620949,4183835; 620983,4183702; 621309,4183387; 621332,4183208; 621247,4183062; 621234,4182871; 621347,4182624; 621380,4182609; 621400,4182556; 621389,4182512; 621238,4182326; 621169,4182277; 621146,4182237; 621203,4182212; 621140,4182070; 621049,4181958; 621071,4181920; 621203,4181983; 621390,4182187; 621500,4182201; 621508,4182234; 621462,4182320; 621555,4182405; 621608,4182406; 621772,4182312; 622035,4182252; 622121,4182186; 622129,4182128; 622076,4182055; 621966,4181995; 621990,4181963; 622087,4181953; 622193,4182005; 622344,4182150; 622373,4182150; 622324,4181968; 622489,4182014; 622512,4181967; 622438,4181807; 622507,4181784; 622607,4181864; 622646,4181844; 622646,4181772; 622586,4181578; 622576,4181510; 622593,4181479; 622690,4181578; 622756,4181595; 622746,4181709; 622829,4181733; 622898,4181650; 623013,4181402; 622971,4181220; 623021,4181194; 623122,4181313; 623190,4181189; 623441,4180906; 623501,4180763; 623628,4180649; 624135,4180591; 624429,4180624; 624619,4180516; 624856,4180172; 624907,4179859; 625025,4179696; 625203,4179620; 625248,4179512; 625271,4179192; 625357,4179099; 625221,4179013; 625094,4178683; 624999,4178137; 624186,4177959; 623602,4177870; 623284,4177769; 622719,4177737; 621971,4177625; 621163,4177429; 621071,4177365; 621001,4177389; 620839,4177350; 620531,4177175; 620338,4176956; 620073,4176555; 619557,4176372; 619398,4176387; 618445,4175921; 617741,4175699; 617214,4175661; 616985,4175845; 616827,4175893; 616726,4176023; 616595,4176069; 616465,4175916; 616300,4175916; 616199,4175967; 615952,4175987; 615645,4175956; 615550,4175968; 615445,4176022; 615277,4176155; 615204,4176187; 615014,4176190; 614869,4176077; 614818,4175888; 614818,4175781; 614758,4175694; 614621,4175571; 614115,4175445; 613667,4175272; 613613,4176416; 613543,4176702; 612845,4176702; 612559,4176794; 612400,4176791; 612405,4176585; 612468,4176496; 612180,4176347; 612010,4176352; 612010,4176485; 611878,4176498; 611851,4176683; 611698,4176683; 611670,4176703; 611263,4176692; 611257,4176915; 611178,4176961; 611109,4177229; 610888,4177229; 610888,4177496; 611059,4177908; 611149,4177904; 611195,4177958; 611343,4178037; 611193,4178156; 611193,4178602; 611068,4178930; 610967,4179021;610819,4179105; 610460,4179200; 610330,4179268; 609942,4179653; 609884,4179675; 609747,4179649; 609678,4179584; 609502,4179091; 609208,4179078; 609149,4178483; 608938,4178402; 608889,4178405; 608832,4178467; 608803,4178607; 608865,4178832; 608944,4178926; 609022,4179100; 609060,4179514; 608923,4179877; 607783,4179877; 607783,4180239; 607592,4180175; 607605,4179870; 607484,4179865; 607370,4179978; 606881,4179934; 606870,4179354; 607316,4178848; 607596,4178386; 607665,4178177; 607653,4177923; 607603,4177779; 607537,4177711; 607502,4177695; 607417,4177711; 607172,4177871; 607079,4177880; 606952,4177811; 607119,4177617; 607167,4177594; 607178,4177547; 607313,4177374; 607361,4177193; 607383,4176794; 607422,4176549; 607376,4176262; 607269,4175975; 607245,4175797; 607203,4175727; 607089,4175779; 606953,4175988; 606888,4175970; 606501,4175670; 606083,4175437; 605976,4175309; 605778,4174901; 605660,4174762; 605340,4174590; 605260,4174590; 605062,4175042; 604508,4175020; 604524,4174007; 603715,4173996; 603645,4173682; 603510,4173621; 603327,4173595; 603249,4173617; 603170,4173716; 602842,4173817; 602840,4173677; 602595,4173680; 602368,4173630; 602125,4173622; 601350,4173736; 601331,4173978; 601403,4174098; 601431,4174282; 601370,4174292; 601409,4174480; 601336,4174586; 601270,4174580; 601326,4174955; 601262,4175552; 601290,4175975; 601215,4176027; 601041,4176273; 600792,4176312; 600663,4176411; 600507,4176407; 600411,4176520; 600516,4176742; 600494,4176951; 600239,4177033; 600094,4177043; 599730,4176899; 599700,4176852; 599576,4176774; 599452,4176577; 599452,4176098; 599402,4176098; returning to 599361,4176006. Excluding: 622742,4184043; 622742,4183973; 623170,4183986; 623154,4184309; 622828,4184300; 622828,4184064; returning to 622742,4184043.

(iii) Note: Map of Unit CCS-2, subunits CCS-2A and CCS-2B, for the California red-legged frog follows:

BILLING CODE 4310-55-S

(26) Unit ALA-1: Alameda and Contra Costa Counties, California.

(i) Subunit ALA-1A. From USGS 1:24,000 scale quadrangles Hayward and Dublin. Land bounded by the following UTM Zone 10, NAD83 coordinates (E,N): 589322,4176556; 589405,4176494; 589496,4176505; 589924,4176319; 589935,4176295; 590430,4176229; 590671,4176222; 591266,4175498; 591719,4174774; 591948,4174305; 591853,4174108; 591642,4173986; 591604,4173865; 591542,4173820; 591545,4173707; 591486,4173693; 591355,4173389; 591499,4173241; 591694,4173149; 591840,4172933; 591448,4172833; 590725,4172829; 589688,4172994; 589054,4173369; 588658,4173519; 588382,4173575; 588034,4173607; 587897,4173519; 587616,4173529; 587503,4173596; 587361,4173580; 587265,4173454; 587091,4173433; 586954,4173495; 586775,4173449; 586544,4173495; 586531,4173449; 586293,4173369; 586242,4173425; 586242,4173859; 586210,4173945; 586247,4174005; 586500,4174070; 586630,4174164; 587008,4174540; 587167,4174927; 587446,4175244; 587548,4175454; 587414,4175727; 587586,4176114; 587681,4176546; 587654,4176671; 587794,4176717; 587912,4176814; 588009,4176960; 588352,4177224; 588496,4177249; 588745,4177130; 588812,4177013; 588827,4176886; 588916,4176782; 589103,4176705; returning to 589322,4176556.

(ii) Subunit ALA-1B. From USGS 1:24,000 scale quadrangles Hayward, Newark, Dublin and Niles. Land bounded by the following UTM Zone 10, NAD83 coordinates (E,N): 588321,4173181; 588639,4173092; 589000,4172905; 589752,4172727; 589798,4172674; 589766,4172519; 590315,4172407; 590489,4172393; 591221,4172426; 591396,4172458; 591606,4172445; 592102,4172231; 592172,4172044; 592189,4171371; 592042,4171279; 592151,4170380; 592223,4170274; 592266,4169980; 592295,4169974; 592376,4169868; 592356,4169776; 592382,4169675; 592366,4169540; 592758,4169210; 592904,4169127; 593012,4169114; 593047,4169002; 592837,4168532; 592484,4168000; 592339,4168097; 592026,4168424; 591967,4168457; 591926,4168450; 591490,4168898; 591583,4168715; 591600,4168604; 591552,4168555; 591445,4168506; 591391,4168384; 591375,4168229; 591314,4168047; 591180,4167755; 591302,4167480; 591364,4167166; 591324,4167114; 590985,4166944; 590847,4166939; 590568,4166990; 590483,4166904; 590440,4166758; 590366,4166722; 590240,4166746; 590127,4166801; 590009,4166810; 589907,4166736; 589879,4166634; 589923,4166536; 589913,4166354; 589951,4166210; 589925,4166027; 589834,4165738; 589459,4165656; 589211,4165548; 589046,4165281; 588824,4165281; 588533,4165134; 588437,4164907; 588163,4164532; 587725,4164310; 587497,4164106; 587332,4163903; 587131,4163906; 586555,4163647; 586163,4163992; 586062,4164145; 585877,4164291; 585839,4164456; 585687,4164710; 585560,4165078; 585538,4165286; 585395,4165510; 585247,4165573; 585201,4165782; 585288,4165951; 585380,4166061; 585520,4166085; 585508,4166256; 585528,4166374; 585693,4166513; 585897,4166640; 585970,4166766; 586129,4166878; 586344,4166952; 586414,4167028; 587090,4167066; 587119,4167029; 587158,4167029; 587452,4166869; 587732,4166767; 587973,4166786; 588170,4166970; 588155,4167200; 587681,4167758; 587459,4168183; 587133,4168507; 586360,4168839; 586047,4169778; 586218,4170240; 586313,4170161; 586909,4170161; 587125,4170201; 587109,4170285; 586997,4170377; 586969,4170461; 587015,4170485; 587041,4170593; 586953,4170669; 586905,4170757; 586805,4170789; 586701,4170933; 586613,4171125; 586609,4171265; 586467,4171532; 586545,4171729; 586438,4172049; 586603,4172104; 586673,4172189; 586317,4172358; 586229,4172533; 586556,4173120; 586809,4173225; 587468,4173169; 587883,4173268; 588111,4173240; returning to 588321,4173181.

(iii) Note: Map of Unit ALA-1, subunits ALA-1A and ALA-1B, for the California red-legged frog follows:

BILLING CODE 4310-55-C

(27) Unit ALA-2: Alameda, Santa Clara and San Joaquin Counties, California. From USGS 1:24,000 scale quadrangles Niles, La Costa Valley, Calaveras Reservoir, Altamont, Mendenhall Springs, Mt. Day, Midway, Cedar Mtn., Tracy, Lone Tree Creek and Eylar Mountain.

(i) Land bounded by the following UTM Zone 10, NAD83 coordinates (E,N): 612040,4142329; 612012,4142381; 611689,4142634; 611459,4142899; 611408,4142925; 611372,4142893; 611151,4142845; 610999,4142707; 610789,4142438; 610751,4142259; 610676,4142133; 610614,4142075; 610415,4141989; 610315,4141978; 610194,4142032; 610088,4142027; 610012,4142113; 609851,4142170; 609797,4142102; 609743,4141951; 609564,4141864; 609511,4141864; 609375,4141928; 609329,4141976; 609302,4142219; 609083,4142211; 608996,4142296; 608848,4142388; 608741,4142579; 608679,4142620; 608587,4142636; 608300,4142611; 607907,4142380; 607725,4142387; 607382,4142516; 607250,4142594; 607141,4142701; 606927,4142780; 606795,4142870; 606679,4142882; 606543,4142829; 606416,4142871; 606314,4142929; 606224,4143019; 606057,4143065; 605791,4143243; 605701,4143423; 605554,4143520; 605210,4143551; 605067,4143500; 604810,4143466; 604716,4143478; 604622,4143530; 604624,4143653; 604557,4143790; 604374,4143877; 604337,4143986; 604155,4144066; 603854,4144086; 603712,4144172; 603514,4144160; 603469,4144204; 603430,4144299; 603248,4144436; 603200,4144536; 603197,4144624; 603256,4144680; 603339,4144934; 603197,4145061; 603314,4145117; 603550,4145109; 603669,4145241; 603714,4145425; 603787,4145493; 603795,4145566; 603837,4145620; 604148,4145841; 604353,4145949; 604472,4145956; 604495,4145903; 604643,4145908; 604707,4145860; 604790,4145919; 605318,4145910; 605495,4145971; 605524,4145952; 605593,4145960; 605658,4145913; 605722,4145903; 605837,4146012; 605829,4146068; 605639,4146251; 605594,4146337; 605663,4146343; 605738,4146225; 605845,4146183; 605916,4146229; 605801,4146507; 605762,4146550; 605428,4146660; 605483,4146707; 605416,4146780; 605464,4146836; 605387,4146944; 605365,4147079; 605394,4147165; 605442,4147212; 605552,4147114; 605551,4147218; 605593,4147302; 605336,4147373; 605322,4147431; 605352,4147500; 605277,4147575; 605329,4147701; 605256,4147690; 605245,4147738; 605214,4147753; 605096,4147703; 605044,4147733; 605034,4147773; 605096,4147840; 605096,4147871; 604965,4147973; 604914,4148051; 604845,4148083; 604885,4148277; 604991,4148413; 605033,4148434; 605095,4148424; 605127,4148265; 605251,4148083; 605431,4148129; 605537,4148188; 605655,4148273; 605818,4148448; 606075,4148398; 606331,4148228; 606492,4148189; 606493,4148131; 606428,4148018; 606466,4147818; 606599,4147772; 606755,4147834; 606834,4147825; 606980,4147710; 607100,4147683; 607329,4147689; 607345,4147608; 607317,4147567; 607349,4147443; 607255,4147276; 607243,4147215; 607251,4147137; 607316,4147026; 607487,4147002; 607524,4147018; 607557,4147061; 607569,4147349; 607611,4147397; 607996,4147308; 608117,4147213; 608174,4147074; 608207,4147072; 608169,4147104; 608103,4147246; 608026,4147319; 607940,4147361; 607568,4147455; 607508,4147378; 607463,4147091; 607430,4147073; 607361,4147095; 607345,4147122; 607361,4147285; 607416,4147398; 607414,4147743; 607371,4147778; 607304,4147790; 607048,4147807; 606761,4147977; 606612,4147924; 606576,4147974; 606641,4148036; 606650,4148153; 606567,4148327; 606317,4148401; 606245,4148473; 606127,4148523; 606022,4148618; 606011,4148697; 605972,4148760; 605956,4148648; 605875,4148588; 605794,4148552; 605740,4148579; 605677,4148566; 605645,4148530; 605425,4148449; 605302,4148488; 605261,4148568; 605078,4148759; 604968,4148794; 604811,4148733; 604743,4148753; 604626,4148724; 604618,4148800; 604509,4148765; 604453,4148777; 604411,4148891; 604307,4148872; 604115,4148999; 604035,4149085; 604024,4149133; 604042,4149326; 604139,4149315; 604097,4149449; 604123,4149581; 604103,4149599; 604101,4149703; 604131,4149764; 604225,4149775; 604253,4149801; 604388,4149988; 604441,4150019; 604438,4150052; 604397,4150085; 604375,4150151; 604142,4150150; 604089,4150109; 603999,4150169; 603908,4150143; 603794,4150164; 603778,4150233; 603721,4150298; 603693,4150280; 603707,4150191; 603646,4150211; 603615,4150238; 603609,4150314; 603550,4150375; 603499,4150366; 603474,4150381; 603465,4150437; 603404,4150447; 603348,4150592; 603203,4151558; 603140,4151552; 603093,4151598; 602802,4151744; 602597,4151755; 602487,4151789; 602423,4151775; 602339,4151609; 602165,4151495; 602039,4151369; 601813,4151278; 601645,4151127; 601369,4151014; 601287,4150951; 601305,4150919; 601463,4150837; 601460,4150773; 601374,4150664; 600991,4150604; 600900,4150486; 600709,4150330; 600593,4150316; 600405,4150249; 600286,4150258; 600228,4150285; 600135,4150455; 599878,4150496; 599744,4150676; 599763,4150829; 599721,4150914; 599715,4151215; 599571,4151627; 599425,4151760; 599256,4151991; 598935,4152325; 598994,4152320; 599022,4152342; 599297,4152714; 599395,4153026; 599416,4153204; 599523,4153331; 599517,4153429; 599553,4153602; 599451,4153719; 599339,4153768; 599384,4153847; 599517,4153896; 599586,4154036; 599657,4154112; 599674,4154219; 599658,4154487; 599787,4154525; 599832,4154564; 599890,4154672; 600055,4154874; 600151,4154920; 600292,4154897; 600382,4154931; 600844,4154804; 600949,4154802; 601259,4154869; 601469,4154994; 601548,4155076; 601597,4155224; 601511,4155405; 601693,4155514; 601743,4155684; 601817,4155756; 601782,4155824; 601798,4155853; 601877,4155865; 602072,4156065; 602136,4156056; 602233,4155908; 602310,4155871; 602656,4155945; 602838,4156068; 602813,4156118; 602652,4156215; 602583,4156379; 602431,4156538; 602419,4156664; 602388,4156715; 602257,4156867; 601881,4157136; 601861,4157211; 601941,4157456; 601943,4157586; 601992,4157658; 601991,4157850; 601808,4158002; 601645,4158526; 601585,4158580; 601470,4158625; 601408,4158719; 601423,4158781; 601512,4158831; 601622,4158758; 601752,4158717; 601898,4158596; 602033,4158637; 602067,4158587; 602086,4158475; 602142,4158584; 602282,4158604; 602297,4158635; 602321,4158635; 602311,4158415; 602331,4158379; 602437,4158596; 602558,4158545; 602650,4158451; 602706,4158308; 602805,4158219; 602926,4158054; 603037,4158013; 602827,4158277; 602648,4158679;602798,4158650; 603040,4158674; 602776,4158754; 602703,4158797; 602703,4158879; 602810,4158896; 602805,4158971; 602894,4158933; 602923,4158841; 603015,4158899; 603083,4158860; 603129,4158889; 603216,4158884; 603214,4158913; 603098,4158945; 602965,4159029; 603073,4159117; 603168,4159046; 603185,4159071; 603250,4159068; 603265,4159087; 603168,4159143; 603236,4159172; 603461,4159032; 603492,4158860; 603538,4158766; 603550,4158928; 603741,4158838; 603741,4158877; 603613,4158981; 603543,4159097; 603565,4159141; 603678,4159218; 603732,4159221; 603751,4159250; 603659,4159274; 603478,4159165; 603417,4159206; 603417,4159240; 603366,4159242; 603282,4159308; 603475,4159334; 603487,4159361; 603676,4159424; 603666,4159470; 603690,4159513; 603897,4159734; 603965,4159654; 604021,4159650; 603961,4159728; 603949,4159767; 603970,4159788; 604166,4159765; 604156,4159788; 604023,4159840; 603891,4159842; 603843,4159867; 603860,4160059; 603916,4160117; 603934,4160229; 604036,4160251; 604063,4160345; 604119,4160411; 604402,4160462; 604532,4160438; 604539,4160396; 604611,4160425; 604785,4160307; 604836,4160247; 604959,4160235; 604961,4160328; 604907,4160415; 604799,4160508; 604896,4160510; 604990,4160481; 605025,4160446; 605052,4160454; 605049,4160535; 605091,4160560; 605099,4160638; 605188,4160556; 605161,4160369; 605207,4160208; 605432,4160204; 605639,4160059; 605658,4160065; 605647,4160127; 605589,4160148; 605664,4160156; 605668,4160177; 605558,4160196; 605517,4160266; 605412,4160355; 605356,4160371; 605354,4160429; 605418,4160492; 605416,4160574; 605383,4160611; 605329,4160769; 605097,4160903; 604896,4160982; 604898,4161015; 605031,4161075; 605211,4161062; 605250,4161083; 605354,4161052; 605393,4161125; 605321,4161083; 605248,4161139; 605229,4161104; 605078,4161129; 605130,4161201; 605116,4161213; 604965,4161110; 604882,4161098; 604849,4161211; 604830,4161106; 604725,4161094; 604719,4161145; 604772,4161251; 604743,4161387; 604836,4161458; 604840,4161588; 604785,4161648; 604674,4161661; 604643,4161706; 604539,4161905; 604530,4162062; 604477,4162055; 604402,4161896; 604331,4161865; 604293,4161816; 604201,4161825; 604223,4162298; 604245,4162381; 604326,4162500; 604256,4162686; 604287,4163126; 604402,4163244; 604489,4163238; 604534,4163384; 604453,4163523; 604392,4163562; 604261,4163606; 604110,4163595; 604048,4163634; 603989,4163770; 603966,4163928; 604037,4164092; 604238,4164099; 604777,4164253; 604854,4164136; 604916,4164096; 604969,4164096; 605148,4164169; 605350,4164352; 605649,4164257; 605875,4164270; 606040,4164321; 606197,4164286; 606378,4164305; 606748,4164218; 606807,4164177; 606956,4163861; 607033,4163799; 607137,4163817; 607200,4163795; 607268,4163723; 607406,4163317; 607437,4163070; 607399,4162974; 607509,4162882; 607489,4162781; 607497,4162559; 607612,4162491; 607662,4162347; 607884,4162241; 607987,4162290; 608041,4162397; 608293,4162412; 608369,4162379; 608463,4162419; 608631,4162415; 608789,4162338; 608939,4162358; 609035,4162342; 609251,4162174; 609303,4162095; 609507,4162059; 609821,4161959; 609961,4161787; 610119,4161756; 610377,4161516; 610474,4161581; 610495,4161639; 610408,4161802; 610304,4161934; 610281,4162055; 610366,4162111; 610529,4162091; 610616,4162113; 610662,4162180; 610689,4162326; 610174,4162444; 610131,4162487; 610080,4162627; 609932,4162662; 609887,4162694; 609833,4162853; 609836,4162929; 609999,4163118; 610132,4163212; 610249,4163343; 610316,4163543; 610317,4163675; 610415,4163690; 610523,4163664; 610579,4163673; 610592,4163705; 610595,4163608; 610668,4163472; 610657,4163365; 610744,4163376; 610786,4163237; 610819,4163245; 610831,4163322; 610873,4163365; 610965,4163326; 611159,4163301; 611202,4163271; 611290,4163341; 611432,4163346; 611461,4163328; 611474,4163252; 611534,4163149; 611593,4163114; 611595,4162990; 611636,4162967; 611635,4162879; 611702,4162824; 611806,4162617; 611790,4162515; 611874,4162493; 611875,4162422; 611979,4162414; 612067,4162316; 612076,4162260; 612130,4162220; 612151,4162172; 612272,4162060; 612422,4161996; 612454,4161956; 612432,4161882; 612311,4161816; 612309,4161796; 612413,4161792; 612514,4161819; 612591,4161744; 612678,4161700; 612661,4161344; 612611,4161249; 612715,4161266; 612821,4161156; 612964,4161105; 613031,4161029; 613138,4161026; 613391,4160895; 613523,4160757; 613511,4160668; 613568,4160646; 613630,4160685; 613909,4160554; 614053,4160437; 614094,4160428; 614139,4160301; 614169,4160307; 614196,4160383; 614239,4160384; 614317,4160278; 614319,4160159; 614374,4160203; 614410,4160204; 614588,4159980; 614786,4159869; 614999,4159887; 615160,4159798; 615214,4159743; 615218,4159659; 615277,4159609; 615382,4159585; 615451,4159520; 615506,4159445; 615511,4159244; 615627,4159137; 615734,4159077; 615774,4158966; 615883,4158975; 615967,4158961; 616016,4158926; 616001,4158756; 616053,4158653; 616070,4158533; 615937,4158437; 615937,4158415; 615976,4158395; 616031,4158406; 616342,4158535; 616404,4158655; 616395,4158754; 616189,4158934; 615951,4159202; 615675,4159338; 615628,4159393; 615652,4159505; 615754,4159626; 615705,4159877; 615559,4159969; 615593,4160096; 615699,4160258; 615689,4160306; 615558,4160205; 615507,4160217; 615249,4160467; 615111,4160529; 615021,4160616; 614906,4160648; 614920,4160732; 614847,4160690; 614743,4160701; 614584,4160803; 614304,4160664; 614064,4160734; 613882,4160844; 613864,4160886; 613915,4161004; 613815,4160942; 613708,4160968; 613663,4161051; 613668,4161227; 613605,4161238; 613532,4161329; 613395,4161296; 613163,4161379; 613047,4161352; 612998,4161367; 612939,4161432; 612944,4161612; 612978,4161702; 613114,4161754; 613228,4161830; 613321,4161841; 613475,4161930; 613497,4161981; 613561,4161990; 613692,4162073; 613696,4162098; 613638,4162100; 613494,4162045; 613460,4162092; 613345,4161966; 613160,4161935; 613159,4161989; 613267,4162112; 613258,4162204; 613178,4162261; 613202,4162353; 613153,4162408; 613107,4162415;613065,4162384; 612971,4162367; 612965,4162405; 613007,4162469; 612951,4162479; 612958,4162555; 613039,4162719; 612954,4162672; 612887,4162714; 612906,4162615; 612858,4162607; 612862,4162536; 612811,4162530; 612828,4162406; 612785,4162380; 612763,4162329; 612755,4162219; 612699,4162213; 612556,4162267; 612445,4162380; 612461,4162466; 612390,4162486; 612328,4162551; 612320,4162607; 612395,4162681; 612401,4162753; 612378,4162757; 612331,4162701; 612207,4162658; 611973,4162868; 611902,4162989; 611866,4163202; 611963,4163186; 611988,4163229; 612087,4163253; 612086,4163284; 611964,4163330; 611963,4163361; 612087,4163424; 612048,4163469; 612045,4163509; 612058,4163647; 612090,4163723; 612163,4163755; 612358,4163623; 612384,4163735; 612386,4163768; 612305,4163788; 612327,4163851; 612240,4163863; 612260,4163916; 612234,4163959; 612005,4163966; 611979,4163991; 612006,4164052; 612201,4164101; 612211,4164122; 612096,4164150; 612075,4164211; 612052,4164216; 612002,4164154; 611921,4164153; 611912,4164224; 611872,4164228; 611848,4164271; 611877,4164368; 611877,4164399; 611851,4164401; 611764,4164288; 611744,4164277; 611685,4164322; 611655,4164291; 611673,4164238; 611745,4164188; 611741,4164148; 611596,4164163; 611533,4164124; 611510,4164137; 611475,4164248; 611474,4164324; 611419,4164405; 611369,4164404; 611366,4164246; 611259,4164224; 611307,4164106; 611154,4163999; 611074,4163841; 611001,4163839; 610927,4163872; 610880,4163980; 611039,4164436; 611135,4164568; 611250,4164665; 611276,4164742; 611299,4164750; 611417,4164686; 611517,4164715; 611877,4164958; 612038,4164886; 612296,4164820; 612347,4164780; 612407,4164645; 612647,4164556; 612875,4164171; 612995,4164092; 613061,4163899; 613180,4163791; 613271,4163581; 613617,4163370; 613818,4163372; 613863,4163331; 613895,4163203; 613918,4163188; 614088,4163210; 614324,4163351; 614453,4163275; 614626,4163296; 614666,4163414; 614856,4163572; 614869,4163807; 614964,4163865; 615129,4163865; 615251,4163719; 615688,4163445; 616025,4163376; 616264,4163384; 616374,4163496; 616273,4163596; 615872,4163712; 615829,4163887; 615321,4164105; 614755,4164569; 614749,4164767; 614831,4164944; 614654,4165026; 614436,4165689; 614437,4165903; 614928,4165903; 615345,4165598; 615550,4165937; 615503,4166296; 615732,4166487; 615913,4166505; 616346,4167008; 617079,4167466; 617161,4167694; 617282,4167808; 617685,4167845; 617722,4167868; 617791,4167845; 618542,4167827; 618910,4167557; 619378,4167402; 619738,4167192; 620013,4167100; 620140,4167117; 620246,4167338; 620119,4167637; 619714,4167794; 619300,4168266; 619052,4168672; 618735,4168989; 618678,4169104; 618172,4169787; 617995,4170301; 617442,4170382; 617100,4170624; 616950,4170652; 616831,4170719; 616555,4171289; 616503,4171452; 616564,4171666; 616895,4171920; 616821,4172319; 616570,4172325; 616497,4172427; 616466,4172568; 616555,4172634; 616539,4172754; 616454,4172763; 616429,4172996; 616084,4173186; 616089,4173209; 616012,4173321; 615823,4173370; 615795,4173413; 615698,4173413; 615541,4173562; 615595,4173691; 615669,4173698; 615657,4173836; 615759,4174079; 615732,4174234; 615848,4174335; 615749,4174500; 615756,4174555; 615850,4174586; 615884,4174669; 615890,4174767; 615741,4174884; 615691,4174984; 616109,4175483; 616349,4175539; 617074,4175362; 617379,4175216; 617766,4175316; 618401,4175381; 618446,4175547; 620310,4176319; 620776,4176912; 621036,4177108; 621473,4177190; 622154,4177242; 622497,4177318; 622691,4177393; 623360,4177451; 624015,4177665; 625449,4178004; 625762,4177489; 626189,4177521; 626257,4177554; 626311,4177469; 626437,4177148; 626561,4176510; 626532,4176306; 626438,4176248; 626132,4176243; 625961,4176202; 625907,4176037; 626005,4175816; 626053,4175640; 626277,4175140; 626234,4175070; 626115,4174713; 626135,4174197; 626968,4173820; 627405,4173998; 628873,4173959; 629548,4174058; 630024,4174058; 630461,4173998; 630850,4173810; 631367,4173496; 631624,4173272; 631969,4172827; 632177,4172507; 632469,4172176; 632866,4171580; 633332,4171086; 633589,4170893; 634348,4169941; 634544,4169640; 634643,4169401; 634311,4169041; 634104,4168872; 633965,4168813; 633458,4168704; 633211,4168586; 633149,4168471; 633108,4168299; 633101,4167912; 633166,4167824; 633425,4167943; 633525,4168027; 633556,4168078; 633627,4168434; 633751,4168565; 634026,4168402; 634183,4168410; 634260,4168368; 634339,4168285; 634380,4168195; 634404,4167792; 634441,4167676; 634312,4167513; 634247,4167338; 634248,4167274; 634433,4166949; 634491,4166914; 634591,4166641; 634651,4166578; 634775,4166559; 634813,4166500; 634945,4166407; 634982,4166274; 635134,4166039; 635193,4166018; 635339,4166026; 635436,4166172; 635755,4166100; 635700,4165993; 635691,4165894; 635833,4165753; 636016,4165716; 636064,4165670; 636114,4165539; 636258,4165403; 636260,4165303; 636477,4165075; 636521,4164927; 636584,4164836; 636653,4164490; 636339,4164170; 635862,4163958; 635734,4163921; 635562,4163936; 635496,4163921; 635355,4163786; 635276,4163743; 635081,4163725; 635051,4163743; 635046,4163613; 634982,4163466; 635041,4163309; 634993,4163253; 634854,4163205; 634732,4163063; 634741,4163023; 634840,4162913; 634801,4162849; 634805,4162736; 634718,4162574; 634607,4162475; 634575,4162358; 634477,4162212; 634562,4162117; 634646,4162069; 634842,4162053; 635096,4161977; 635302,4161943; 635667,4161777; 635742,4161773; 636069,4161897; 636215,4161871; 636391,4161768; 636343,4161499; 636488,4161367; 636505,4161281; 636375,4161122; 636210,4160834; 636051,4160777; 635924,4160628; 635808,4160589; 635644,4160626; 635525,4160703; 635390,4160729; 635113,4160859; 634925,4160843; 634746,4160904; 634644,4160981; 634582,4161068; 634259,4161244; 634069,4161303; 633923,4161417; 633779,4161457; 633667,4161542; 633555,4161531; 633388,4161453; 632937,4161306; 632800,4161371; 632713,4161385; 632487,4161344; 632215,4161558; 632083,4161449; 631968,4161416; 631869,4161342; 631799,4161100; 631807,4160972;631788,4160935; 631345,4160821; 631146,4160825; 630921,4160773; 630897,4160466; 630917,4160371; 630973,4160314; 630956,4160241; 630838,4160218; 630643,4160290; 630537,4160241; 630354,4160270; 630250,4160169; 630145,4160113; 630088,4159996; 629833,4159832; 629707,4159689; 629552,4159394; 629602,4159258; 629583,4159103; 629526,4159075; 629357,4159113; 629298,4159097; 628603,4158708; 628420,4158526; 628172,4157726; 628567,4155976; 628195,4155657; 627118,4155118; 626866,4154744; 626072,4154665; 625607,4155084; 625524,4154995; 625513,4154941; 625536,4154846; 625599,4154744; 625493,4154679; 625463,4154608; 625490,4154496; 625541,4154421; 625550,4154238; 625740,4154018; 625739,4153961; 625633,4153790; 625526,4153735; 625220,4153646; 625204,4153582; 625139,4153501; 625159,4153319; 625017,4153337; 624952,4153321; 624866,4153269; 624748,4153146; 624737,4153000; 624671,4152882; 624377,4152543; 624319,4152300; 624290,4152255; 624165,4152183; 624012,4152192; 623913,4152153; 623832,4152011; 623618,4151858; 623541,4151842; 623448,4151871; 623269,4151759; 623162,4151743; 623100,4151695; 622804,4151586; 622730,4151531; 622674,4151396; 622665,4151241; 622583,4151034; 622587,4150819; 622617,4150679; 622450,4150382; 622197,4150260; 622030,4150280; 621804,4150082; 621625,4150040; 621396,4150024; 621330,4149996; 621248,4149920; 621154,4149738; 620947,4149601; 620818,4149560; 620754,4149493; 620636,4149276; 620256,4149217; 620137,4149231; 620012,4149280; 619945,4149270; 619596,4149026; 619495,4148997; 619459,4148942; 619254,4148825; 619118,4148793; 619087,4148700; 618666,4148833; 617890,4148580; 617797,4148216; 617361,4148176; 616645,4148456; 616250,4148335; 616166,4148424; 616047,4148593; 616039,4148704; 615966,4148768; 615968,4148808; 616331,4149065; 616490,4149268; 616506,4149456; 616416,4149564; 616424,4149735; 616405,4149809; 616359,4149879; 616255,4149959; 616202,4150114; 616048,4150176; 616006,4150223; 615856,4150630; 615749,4150763; 615624,4150797; 615366,4150793; 615278,4150702; 615254,4150704; 615114,4150959; 614994,4151014; 614893,4151097; 614906,4151187; 614664,4151097; 614394,4151118; 614196,4151102; 614139,4151111; 613932,4151244; 613819,4151240; 613707,4151302; 613490,4151198; 613287,4150929; 613057,4150951; 612955,4150900; 612878,4150824; 612817,4150663; 612550,4150498; 612364,4150441; 612168,4150495; 612127,4150474; 611931,4150091; 611765,4150016; 611693,4149948; 611663,4149850; 611696,4149683; 611658,4149539; 611420,4149275; 611265,4149211; 611223,4149172; 611197,4148882; 611156,4148715; 610957,4148293; 610880,4148036; 610929,4147898; 611187,4147546; 611249,4147572; 611377,4147569; 611584,4147462; 611676,4147475; 611780,4147420; 611979,4147091; 612299,4147084; 612468,4146929; 612585,4146887; 612734,4146894; 612815,4147009; 612914,4146974; 612996,4146904; 613008,4146804; 613095,4146713; 613126,4146601; 613342,4146462; 613413,4146384; 613500,4146065; 613687,4146076; 613806,4146015; 613904,4145888; 613935,4145803; 614183,4145527; 614240,4145531; 614497,4145391; 614524,4145292; 614580,4145250; 614664,4145233; 614893,4145270; 615411,4145165; 615464,4144957; 615626,4144771; 615644,4144645; 615490,4144251; 615387,4144182; 615268,4144252; 615163,4144353; 615120,4144355; 614983,4144207; 614904,4144173; 614659,4144184; 614240,4144101; 613823,4144161; 613678,4144033; 613402,4144076; 613126,4143957; 613071,4143816; 613088,4143711; 613063,4143570; 612942,4143405; 612758,4142885; 612658,4142813; 612574,4142655; 612371,4142458; 612237,4142374; returning to 612040,4142329.

(ii) Note: Map of Unit ALA-2 for the California red-legged frog follows:

BILLING CODE 4310-55-S

BILLING CODE 4310-55-C

(28) Unit SNM-1: San Mateo County, California. From USGS 1:24,000 scale quadrangles Montara Mountain, Half Moon Bay, San Mateo and Woodside.

(i) Land bounded by the following UTM Zone 10, NAD83 coordinates (E,N): 547630,4164045; 547744,4163977; 547818,4163983; 547963,4163840; 548003,4163821; 548075,4163840; 548154,4163787; 548153,4163732; 548244,4163618; 548399,4163493; 548584,4163581; 548727,4163782; 549022,4163842; 549445,4163265; 549662,4163019; 549773,4162861; 549895,4162605; 550021,4162446; 550354,4162086; 550600,4161758; 551542,4160713; 551788,4160393; 551799,4160319; 551944,4160134; 552084,4160038; 552243,4159834; 552407,4159687; 552523,4159489; 552902,4158657; 553256,4158186; 553696,4157816; 553834,4157670; 553823,4157626; 553845,4157594; 553929,4157579; 554007,4157453; 554066,4157221; 554201,4157191; 554220,4157113; 554166,4157054; 554193,4156993; 554257,4156937; 554333,4156948; 554427,4156913; 554508,4156694; 554629,4156541; 554593,4156418; 554660,4156373; 554607,4156236; 554715,4156157; 554745,4156059; 554851,4155898; 554808,4155832; 554829,4155792; 555118,4155748; 555222,4155647; 555357,4155646; 555636,4155305; 555857,4154813; 555939,4154569; 556122,4154292; 556154,4154208; 556143,4154129; 556320,4153982; 556461,4153761; 556574,4153469; 557000,4152696; 557532,4152000; 557762,4151768; 558014,4151373; 558318,4151148; 558897,4150855; 559085,4150704; 559381,4150587; 559688,4150537; 559998,4150521; 560300,4150410; 560575,4150209; 560919,4150048; 561406,4149886; 561583,4149791; 561726,4149680; 561856,4149534; 561936,4149173; 561888,4148062; 561974,4147672; 562316,4147299; 562358,4147124; 562178,4147011; 561549,4147169; 561302,4147169; 561232,4147204; 561247,4147242; 561193,4147339; 561284,4147458; 560695,4148054; 560281,4147651; 560384,4147185; 559753,4147258; 559303,4147393; 558697,4147640; 558360,4147640; 558023,4147797; 557844,4147955; 557394,4148044; 557058,4147865; 556698,4147618; 556564,4147416; 556451,4147146; 556114,4147101; 555239,4147303; 555059,4147236; 554967,4147015; 554570,4146922; 554295,4146742; 554026,4146653; 553971,4146586; 553899,4146546; 553653,4146575; 553443,4146740; 553174,4146834; 553149,4146836; 553089,4146772; 553044,4146769; 552740,4146824; 552651,4146923; 552646,4147040; 552620,4147093; 552355,4147149; 552211,4147123; 552047,4146981; 551417,4146719; 551274,4146763; 551254,4146926; 551347,4147012; 551556,4147431; 551552,4147528; 551759,4147743; 551848,4147802; 551961,4147810; 552486,4147520; 552743,4147426; 552803,4147446; 552402,4147733; 552226,4147814; 552595,4148011; 552585,4148107; 552654,4148138; 552669,4148252; 552550,4148396; 552397,4148405; 552340,4148333; 551865,4148180; 551654,4148525; 551591,4148487; 551702,4148145; 551416,4147821; 551154,4147714; 550940,4147904; 550797,4148071; 550380,4148643; 550071,4148666; 549999,4148809; 549847,4148969; 549866,4149048; 549831,4149121; 549625,4149308; 549541,4149485; 549541,4149729; 549429,4150056; 549372,4150439; 549429,4150626; 549234,4151034; 549298,4151393; 549249,4151982; 549344,4152076; 549223,4152356; 549082,4152487; 548989,4152684; 548830,4152787; 548495,4152839; 548306,4153011; 548231,4153170; 548091,4153207; 547957,4153207; 547895,4153165; 547738,4152873; 547642,4152753; 547118,4152738; 546916,4152655; 546749,4152524; 546689,4152345; 546511,4152286; 546177,4152298; 545963,4152226; 545796,4152083; 545653,4152022; 545579,4152060; 545411,4152060; 545297,4152030; 545261,4152121; 545258,4152236; 545139,4152232; 545045,4152561; 545162,4152689; 545119,4152768; 544967,4152686; 544829,4152669; 544547,4152746; 544512,4152830; 544364,4152830; 544364,4152771; 544293,4152771; 544180,4152639; 544038,4152704; 544142,4152930; 544311,4153185; 544156,4153287; 544080,4153433; 544149,4153570; 544393,4153570; 544485,4153677; 544565,4153700; 544588,4153753; 544580,4153841; 544630,4153967; 544630,4154063; 544668,4154154; 544760,4154211; 544817,4154345; 544905,4154437; 545086,4154774; 545071,4154828; 545164,4154983; 545146,4155048; 545261,4155381; 545249,4155667; 545130,4155810; 544987,4155882; 544677,4155762; 544475,4155762; 544106,4156084; 543951,4156132; 543449,4156020; 543397,4156101; 543389,4156189; 543523,4156318; 543599,4156456; 543459,4156534; 543420,4156658; 543305,4156704; 542962,4156704; 542937,4156752; 542916,4156749; 542930,4156782; 542895,4156795; 542819,4156894; 542817,4156948; 542765,4156966; 542785,4157009; 542868,4157065; 542903,4157143; 542893,4157348; 542802,4157399; 542907,4157513; 542895,4157739; 542833,4157933; 542666,4157923; 542564,4157986; 542570,4158056; 542722,4158161; 542709,4158196; 542634,4158227; 542677,4158332; 542661,4158362; 542619,4158385; 542554,4158357; 542535,4158387; 542584,4158454; 542525,4158478; 542517,4158502; 542617,4158584; 542522,4158643; 542474,4158625; 542477,4158680; 542392,4158652; 542380,4158689; 542350,4158682; 542340,4158701; 542351,4158845; 542427,4158879; 542466,4158938; 542528,4158923; 542559,4158993; 542565,4159509; 542600,4159566; 542610,4159675; 542625,4160419; 543175,4160488; 543288,4160561; 543385,4160746; 543618,4160791; 543850,4160573; 543745,4160235; 543745,4160032; 543716,4159858; 543798,4159828; 543811,4159739; 543854,4159671; 543953,4159732; 544051,4159575; 544184,4159501; 544422,4159640; 544782,4159616; 544869,4159575; 544937,4159454; 544810,4159267; 544533,4159230; 544551,4159139; 544673,4159021; 544833,4158951; 545266,4159425; 545695,4159321; 545741,4159230; 545893,4159196; 545893,4159339; 546104,4159339; 546181,4159276; 546227,4159148; 546295,4159089; 546381,4159126; 546454,4159207; 546617,4159207; 546745,4159239; 546844,4159380; 546863,4159466; 546953,4159553; 547132,4159639; 547181,4159793; 547312,4159893; 547408,4160034; 547408,4160143; 547567,4160257; 547750,4160161; 547962,4160161; 547962,4160279; 547732,4160430; 547716,4160623; 547789,4160793; 547950,4161034; 547912,4161138; 547848,4161197; 547690,4161187; 547530,4161309; 547494,4161406; 547403,4161442; 547218,4161411; 547153,4161524; 547153,4161794; 547107,4161793; 547035,4161868; 546901,4161937; 546709,4161990; 546327,4162012;546123,4162126; 545964,4162141; 545828,4162318; 546062,4162522; 546609,4162507; 546722,4162661; 546651,4162755; 546754,4163009; 546697,4163100; 546713,4163192; 546237,4163180; 545987,4163216; 545963,4163442; 545987,4163656; 546201,4163847; 546189,4164061; 545892,4164323; 545856,4164478; 545906,4164585; 546013,4164594; 546091,4164660; 546047,4164860; 546120,4164926; 546518,4165095; 546525,4165068; 546587,4165032; 546657,4164893; 546713,4164880; 546767,4164808; 546781,4164735; 546869,4164661; 546939,4164544; 547189,4164361; 547346,4164169; 547399,4164131; 547515,4164114; returning to 547630,4164045. Excluding: 549620,4162507; 549728,4162401; 549733,4162310; 549683,4162274; 549645,4162279; 549425,4162399; 549337,4162318; 549333,4162206; 549471,4161976; 549525,4161940; 549606,4161951; 549662,4161921; 549738,4161921; 549790,4161808; 549961,4161760; 549981,4161667; 549936,4161577; 550072,4161454; 550273,4161361; 550401,4161273; 550411,4161245; 550383,4161187; 550284,4161178; 550229,4161142; 550232,4161107; 550278,4161061; 550265,4160978; 550296,4160957; 550492,4160966; 550678,4160838; 550717,4160754; 550720,4160671; 550687,4160604; 550718,4160544; 550642,4160424; 550503,4160326; 550549,4160316; 550788,4160361; 550839,4160318; 550799,4160219; 550867,4160247; 551032,4160256; 551116,4160229; 551150,4160166; 551254,4160120; 551344,4159994; 551357,4159933; 551294,4159806; 551508,4159782; 551595,4159711; 551646,4159623; 551441,4159474; 551439,4159451; 551668,4159445; 551731,4159463; 551897,4159386; 552018,4159435; 552054,4159463; 552045,4159580; 552096,4159641; 552077,4159681; 551989,4159676; 551861,4159820; 551881,4159858; 551964,4159881; 551967,4159927; 551829,4159929; 551816,4160002; 551722,4159971; 551646,4160052; 551643,4160146; 551561,4160173; 551525,4160211; 551412,4160393; 551447,4160589; 551385,4160624; 551415,4160711; 551397,4160774; 551341,4160817; 551329,4160715; 551311,4160685; 551266,4160674; 551055,4160965; 551009,4161066; 551003,4161183; 550912,4161188; 550873,4161215; 550765,4161415; 550679,4161473; 550553,4161622; 550578,4161686; 550432,4161883; 550432,4161911; 550307,4162062; 550094,4162246; 549866,4162573; 549757,4162635; 549715,4162724; 549544,4162890; 549421,4163070; 549362,4163128; 549301,4163145; 549351,4162963; 549402,4162869; 549563,4162687; returning to 549620,4162507.

Excluding: 549220,4157011; 549541,4156838; 549722,4156775; 549735,4156697; 549801,4156710; 549883,4156632; 549886,4156573; 549977,4156553; 550000,4156528; 550158,4156504; 550288,4156436; 550357,4156345; 550347,4156266; 550457,4156277; 550492,4156234; 550495,4156194; 550420,4156053; 550582,4156065; 550631,4156017; 550684,4156004; 550738,4155941; 550809,4155916; 550841,4155787; 550925,4155803; 551002,4155930; 551019,4156093; 551077,4156152; 551073,4156327; 551032,4156400; 551040,4156464; 550998,4156603; 550857,4156826; 550788,4156876; 550768,4156856; 550806,4156762; 550914,4156646; 550936,4156369; 550988,4156222; 550986,4156177; 550940,4156123; 550708,4156302; 550626,4156334; 550616,4156367; 550384,4156493; 550300,4156553; 550297,4156578; 550218,4156578; 550172,4156621; 550063,4156618; 549941,4156723; 549933,4156777; 549876,4156814; 549576,4156911; 549550,4156944; 549555,4157013; 549474,4156969; 549416,4156974; 549204,4157059; returning to 549220,4157011. Excluding: 554142,4155908; 554257,4155782; 554311,4155675; 554264,4155586; 554381,4155549; 554414,4155493; 554518,4155471; 554527,4155397; 554641,4155337; 554746,4155191; 554701,4155114; 554798,4155071; 554842,4154935; 554782,4154761; 554914,4154795; 554950,4154775; 554920,4154722; 555022,4154651; 555084,4154509; 555230,4154328; 555279,4154214; 555309,4154193; 555413,4154197; 555439,4154108; 555369,4154054; 555329,4153947; 555293,4153942; 555250,4153982; 555184,4153984; 555094,4154029; 555056,4154088; 554883,4154165; 554832,4154145; 554702,4154172; 554646,4154240; 554336,4154291; 554257,4154362; 554255,4154245; 554318,4154248; 554555,4154173; 554586,4154107; 554652,4154090; 554841,4153964; 555218,4153835; 555223,4153761; 555356,4153696; 555397,4153653; 555420,4153577; 555501,4153590; 555526,4153695; 555693,4153711; 555904,4153415; 556072,4153271; 556063,4153182; 555943,4153217; 556034,4152959; 556026,4152910; 555996,4152895; 555856,4152935; 555854,4152909; 555992,4152788; 556078,4152756; 556331,4152585; 556318,4152547; 556184,4152574; 556174,4152538; 556235,4152493; 556286,4152488; 556279,4152435; 556373,4152428; 556444,4152362; 556450,4152283; 556488,4152197; 556382,4152194; 556425,4152138; 556499,4152098; 556517,4152025; 556574,4151989; 556576,4151956; 556513,4151890; 556555,4151751; 556608,4151715; 556681,4151881; 556790,4151955; 556861,4151946; 557012,4151776; 557051,4151695; 557125,4151632; 557070,4151495; 557095,4151457; 557133,4151460; 557224,4151552; 557295,4151667; 557302,4151720; 557154,4151833; 557154,4151861; 557253,4151844; 557347,4151878; 557346,4151923; 557269,4152007; 557112,4152067; 557104,4152095; 556976,4152193; 556775,4152285; 556790,4152321; 556871,4152332; 556871,4152367; 556827,4152405; 556850,4152446; 556842,4152489; 556777,4152679; 556721,4152755; 556657,4152793; 556697,4152889; 556634,4152881; 556593,4152919; 556600,4152998; 556529,4153023; 556475,4153091; 556480,4153132; 556543,4153186; 556459,4153213; 556382,4153312; 556394,4153456;556363,4153502; 556380,4153596; 556313,4153684; 556277,4153796; 555971,4153969; 555935,4154093; 555871,4154136; 555878,4154256; 555852,4154271; 555753,4154255; 555674,4154320; 555540,4154299; 555476,4154324; 555445,4154453; 555381,4154478; 555383,4154504; 555457,4154527; 555454,4154563; 555322,4154552; 555322,4154582; 555393,4154608; 555479,4154713; 555435,4154756; 555392,4154715; 555273,4154671; 555237,4154721; 555260,4154780; 555249,4154889; 555195,4154889; 555160,4154924; 555144,4154972; 555073,4155038; 555031,4155149; 554868,4155306; 554798,4155473; 554757,4155485; 554678,4155589; 554581,4155647; 554540,4155725; 554443,4155780; 554312,4156018; 554212,4156101; 554216,4156203; 554150,4156246; 554073,4156436; 553940,4156567; 553911,4156648; 553816,4156762; 553750,4156804; 553769,4156678; 553739,4156596; 553800,4156508; 553829,4156414; 553870,4156363; 553957,4156321; 553927,4156252; 553988,4156194; returning to 554142,4155908. Excluding: 557286,4151491; 557284,4151443; 557322,4151364; 557308,4151220; 557354,4151200; 557448,4151241; 557468,4151231; 557519,4151124; 557482,4151012; 557579,4150995; 557549,4150901; 557402,4150804; 557674,4150729; 557846,4150565; 558016,4150559; 558080,4150479; 558080,4150410; 558119,4150362; 558354,4150158; 558464,4150021; 558452,4150001; 558511,4149920; 558501,4149798; 558327,4149700; 558320,4149637; 558498,4149539; 558528,4149270; 558566,4149227; 558752,4149193; 558763,4149353; 558908,4149377; 559299,4148970; 559307,4148937; 559274,4148929; 559116,4148982; 559081,4148918; 559133,4148840; 559171,4148845; 559170,4148903; 559198,4148914; 559270,4148863; 559369,4148854; 559494,4148740; 559616,4148761; 559674,4148739; 559731,4148633; 559955,4148581; 559947,4148665; 560032,4148830; 560049,4148917; 560013,4148990; 560025,4149077; 559906,4149091; 559778,4149222; 559737,4149169; 559702,4149166; 559664,4149201; 559510,4149358; 559532,4149444; 559656,4149488; 559592,4149635; 559506,4149650; 559480,4149680; 559397,4149898; 559341,4149908; 559250,4149879; 559191,4149907; 559193,4150034; 559128,4150206; 559186,4150267; 559296,4150283; 559287,4150377; 559074,4150340; 558886,4150433; 558753,4150470; 558712,4150521; 558673,4150642; 558549,4150664; 558505,4150712; 558492,4150857; 558580,4150870; 558595,4150946; 558493,4150945; 558405,4150912; 558170,4151042; 558170,4151088; 558119,4151123; 557994,4151156; 557767,4151360; 557737,4151586; 557620,4151648; 557584,4151709; 557594,4151780; 557444,4151759; 557409,4151647; returning to 557286,4151491. Excluding: 553227,4150371; 553132,4150480; 553085,4150414; 553085,4150180; 552935,4150096; 553085,4150049; 553319,4149834; 553553,4149834; 553646,4150049; 553581,4150264; returning to 553227,4150371. Excluding: 552570,4150315; 552477,4150517; 552589,4150966; 552563,4151254; 552664,4151452; 552664,4151733; 552524,4151686; 552222,4151263; 551991,4151097; 551766,4150854; 551617,4150480; 551617,4150115; 551813,4149956; 552165,4149863; 552374,4149890; returning to 552570,4150315.

(ii) Note: Map of Units SNM-1 and SNM-2 for the California red-legged frog follows:

BILLING CODE 4310-55-S

BILLING CODE 4310-55-C

(29) Unit SNM-2: San Mateo and Santa Cruz Counties, California. From USGS 1:24,000 scale quadrangles Half Moon Bay, San Gregorio, Pigeon Point, Woodside, La Honda, Franklin Point, Mindego Hill and Big Basin.

(i) Land bounded by the following UTM Zone 10, NAD83 coordinates (E,N): 569250,4119121; 569151,4119022; 568939,4118954; 568881,4118980; 568788,4118975; 568652,4118929; 568430,4118898; 568274,4118928; 568169,4118976; 567965,4119114; 567911,4119100; 567778,4119012; 567704,4118933; 567699,4118870; 567746,4118785; 567733,4118731; 567590,4118548; 567499,4118333; 567262,4118281; 567036,4118184; 566576,4117892; 566404,4117833; 566304,4117724; 566110,4117736; 566051,4117615; 565927,4117536; 565921,4117260; 565894,4117190; 565809,4117126; 565671,4117091; 565425,4116788; 565262,4116712; 565091,4116711; 564995,4116680; 564832,4116671; 564749,4116592; 564742,4116504; 564701,4116455; 564644,4116464; 564501,4116430; 564414,4116466; 564140,4116453; 564134,4116372; 564048,4116217; 564045,4116048; 563964,4115960; 563895,4115727; 563887,4115633; 563931,4115559; 563879,4115420; 563915,4115297; 563902,4115237; 563662,4115064; 563528,4115090; 563379,4115163; 563229,4115336; 562888,4115441; 562826,4115435; 562679,4115366; 562397,4115352; 562330,4115200; 562221,4115057; 562104,4114979; 561913,4114940; 561755,4114828; 561485,4114784; 561007,4114774; 560798,4114607; 560609,4114539; 560544,4114492; 560488,4114385; 560326,4114249; 560225,4114086; 560107,4114183; 559833,4114260; 559745,4114221; 559598,4114235; 559271,4114217; 559009,4114112; 558716,4114159; 558594,4114259; 558599,4114458; 558403,4114681; 558300,4114736; 558149,4114739; 558094,4114697; 558106,4114557; 558082,4114344; 558025,4114287; 557832,4114201; 557729,4114128; 557684,4114059; 557589,4113776; 556967,4113271; 556775,4113655; 557058,4114173; 556966,4114389; 556734,4114563; 556508,4114673; 556108,4114673; 555114,4115309; 554795,4115423; 554201,4115487; 554056,4115554; 553898,4115745; 553421,4116519; 553230,4116879; 553163,4117510; 552770,4118575; 552692,4118856; 552686,4119049; 552832,4119084; 552843,4119062; 552934,4119077; 552906,4119209; 552957,4119263; 552954,4119299; 552855,4119422; 552873,4119468; 552810,4119530; 552696,4119536; 552696,4119628; 552630,4119861; 552479,4120102; 552601,4120216; 552562,4120269; 552710,4120441; 552710,4120493; 552762,4120561; 552759,4120761; 552813,4120881; 552780,4120929; 552814,4120967; 552875,4121197; 553185,4120764; 553520,4121135; 553141,4121621; 553303,4121748; 553326,4122001; 553167,4122381; 552662,4122597; 552549,4122814; 552292,4123114; 552336,4123768; 552151,4123874; 552044,4123874; 552129,4124397; 552171,4124534; 552222,4124393; 552346,4124238; 552548,4124260; 552634,4124232; 552655,4124255; 552563,4124291; 552555,4124315; 552426,4124340; 552418,4124377; 552477,4124422; 552393,4124431; 552273,4124577; 552197,4124591; 552230,4124662; 552166,4124704; 552274,4125178; 552291,4125455; 552347,4125621; 552317,4125675; 552319,4125751; 552347,4125785; 552344,4125868; 552389,4125921; 552414,4126094; 552390,4126152; 552436,4126284; 552412,4126394; 552462,4126623; 552465,4126765; 554285,4127045; 554348,4127299; 554393,4127347; 554399,4127474; 554358,4127620; 554461,4127656; 554507,4127806; 554561,4127851; 554634,4127852; 554769,4127802; 554769,4128072; 555061,4128697; 555034,4129157; 554813,4129488; 554804,4129463; 554758,4129459; 554489,4129518; 554419,4129543; 554218,4129684; 554167,4129676; 553952,4129729; 553868,4129881; 553395,4130479; 553250,4130564; 552869,4130621; 552881,4130661; 552821,4130823; 552825,4130999; 552804,4131010; 552796,4131079; 552845,4131083; 552876,4131131; 552876,4131326; 552915,4131403; 552997,4132106; 553190,4132082; 553362,4132089; 553494,4132144; 553537,4132262; 553547,4132490; 553647,4132612; 553602,4132871; 553641,4133060; 553621,4133192; 553434,4133496; 553384,4133735; 553267,4134023; 553259,4134239; 553421,4134628; 553399,4134765; 553360,4134855; 553190,4135011; 552963,4135283; 553379,4135635; 553442,4135811; 553540,4135865; 553572,4135910; 553583,4136045; 553659,4136295; 553889,4136534; 553914,4136623; 553914,4136854; 553762,4136980; 553783,4137262; 553803,4137293; 553858,4137341; 554197,4137481; 554417,4137731; 554603,4137783; 554759,4137744; 554784,4137762; 554822,4137868; 554817,4137996; 554676,4138273; 554618,4138521; 554636,4138646; 554717,4138801; 554780,4138839; 554925,4138871; 555392,4138909; 555441,4138984; 555413,4139214; 555601,4139415; 555714,4139649; 555744,4139820; 555921,4139916; 556166,4139926; 556259,4139976; 556361,4140244; 556432,4140290; 556490,4140404; 556856,4140727; 556896,4140845; 556853,4140964; 556852,4141399; 556768,4141545; 556803,4141754; 556775,4141867; 556791,4141902; 557144,4142056; 557240,4142041; 557359,4142059; 557599,4142185; 557662,4142195; 558052,4142061; 558192,4142080; 558311,4142057; 558434,4142091; 558662,4141842; 559030,4141562; 559213,4141470; 559357,4141505; 559519,4141690; 559601,4141712; 559697,4141693; 559766,4141724; 559998,4141459; 560077,4141441; 560242,4141513; 560283,4141428; 560430,4141372; 560668,4141190; 560841,4141136; 560869,4141081; 560978,4140989; 561055,4140964; 561208,4141005; 561240,4140993; 561287,4140875; 561213,4140727; 561244,4140388; 561324,4140282; 561345,4140196; 561455,4140206; 561695,4140081; 561800,4140000; 561921,4139872; 561966,4139724; 562132,4139625; 562164,4139517; 562468,4139413; 562912,4139086; 563107,4139105; 563367,4139057; 563389,4138904; 563426,4138850; 563543,4138782; 563559,4138677; 563847,4138571; 563930,4138480; 564034,4138484; 564190,4138558; 564420,4138510; 564471,4138435; 564901,4138198; 564978,4138127; 565013,4137931; 565235,4137747; 565269,4137444; 565376,4137337; 565423,4137076; 565479,4136982; 565649,4136858; 565801,4136865; 565810,4136784; 565953,4136476; 566058,4136416; 566222,4136370; 566306,4136066; 566457,4135889; 566638,4135815; 566713,4135637; 566857,4135522; 566842,4135456; 566741,4135376; 566689,4135303; 566712,4135121; 566695,4135021; 566730,4134874; 566801,4134760; 566870,4134722; 567001,4134715; 567090,4134510; 567085,4134394; 567120,4134277; 567218,4134215; 567352,4134023;567433,4133959; 567578,4133984; 567748,4133928; 567839,4133927; 567848,4133880; 568085,4133744; 568241,4133501; 568306,4133355; 568496,4133250; 568613,4133142; 568963,4132987; 569153,4132711; 569145,4132474; 569183,4132325; 569280,4132219; 569383,4132175; 569480,4131969; 569567,4131884; 569635,4131677; 569844,4131459; 570128,4131314; 570217,4131198; 570529,4131030; 570685,4130832; 570866,4130710; 571044,4130504; 571335,4130445; 571467,4130457; 571512,4130484; 571705,4130457; 571800,4130420; 571950,4130253; 572075,4130192; 572123,4130068; 572093,4129988; 572138,4129919; 572137,4129832; 572182,4129734; 572316,4129589; 572452,4129532; 572524,4129539; 572584,4129577; 572687,4129727; 572903,4129865; 572960,4129877; 573189,4129891; 573454,4129828; 573485,4129803; 573503,4129720; 573636,4129595; 573679,4129407; 573842,4129125; 573907,4129100; 574000,4129102; 574103,4129013; 574243,4128966; 574194,4128773; 574114,4128638; 574207,4128564; 574090,4128354; 573981,4128215; 573971,4128066; 573918,4128005; 573856,4127980; 573848,4127937; 573886,4127912; 574082,4127916; 574174,4127800; 574360,4127750; 574473,4127756; 574692,4127659; 574793,4127594; 574830,4127526; 575061,4127322; 575108,4127212; 575118,4127007; 575136,4126998; 575179,4126705; 575255,4126597; 575437,4126460; 575410,4126387; 575467,4126339; 575475,4126295; 575404,4126223; 575393,4126180; 575407,4126024; 575303,4125865; 575177,4125877; 575058,4126064; 574924,4126121; 574868,4126079; 574396,4126151; 574316,4126210; 574241,4126336; 574044,4126373; 573947,4126434; 573732,4126487; 573644,4126490; 573453,4126448; 573399,4126414; 573365,4126319; 573310,4126282; 573287,4126109; 573175,4126039; 573138,4125924; 573135,4125795; 572745,4125424; 572663,4125396; 572596,4125240; 572556,4125206; 572351,4125107; 572303,4125058; 572184,4125058; 572123,4125147; 571999,4125201; 571796,4125373; 571688,4125399; 571660,4125374; 571748,4124914; 571680,4124564; 571765,4124348; 571751,4124191; 571517,4123697; 571295,4123494; 571261,4123425; 571173,4123391; 570995,4123440; 570760,4123730; 570610,4123819; 570489,4123795; 570363,4123620; 570048,4123496; 569605,4123239; 569361,4123062; 569273,4122870; 569112,4122852; 569032,4122818; 568975,4122734; 568938,4122606; 568845,4122510; 568674,4122381; 568330,4122199; 568183,4122041; 568089,4121844; 567929,4121625; 567853,4121468; 567753,4121359; 567886,4121202; 568114,4121033; 568268,4120983; 568404,4120859; 568458,4120654; 568574,4120546; 568633,4120370; 568729,4120202; 568777,4120032; 568801,4119737; 568882,4119643; 568910,4119534; 568991,4119382; returning to 569250,4119121; Excluding: 555483,4121713; 555388,4121749; 555388,4121320; 555235,4121428; 555083,4121390; 554981,4121263; 554873,4121256; 554937,4121205; 555387,4121177; 556034,4121027; 556340,4120843; 556518,4120862; 556658,4120996; 556400,4121122; 556169,4121332; 556086,4121497; 555687,4121566; 555584,4121675; returning to 555483,4121713.

Excluding: 556092,4122063; 556218,4122107; 556645,4122069; 556727,4122152; 556746,4122317; 556816,4122418; 557032,4122456; 557089,4122533; 556873,4122695; 556861,4122837; 556467,4122821; 556281,4123125; 556289,4123256; 556226,4123422; 555497,4123687; 555358,4123614; 555261,4123663; 555032,4123593; 554691,4123369; 554690,4123310; 554656,4123262; 554596,4123352; 554359,4123364; 554270,4123180; 553600,4123504; 553555,4123410; 553375,4123390; 553635,4122920; 553644,4122708; 553715,4122548; 553839,4122460; 554062,4122505; 554165,4122407; 554289,4122418; 554447,4122645; 555312,4122656; 555578,4122761; 555705,4122761; 555756,4122507; 556003,4122317; returning to 556092,4122063.

(ii) Note: Unit SNM-2 for California red-legged frog is depicted on the map in paragraph (28)(ii) of this entry.

(30) Unit STC-1: Santa Clara County, California. From USGS 1:24,000 scale quadrangles Calaveras Reservoir, San Jose East, Mt. Day, Lick Observatory, Morgan Hill, Isabel Valley and Mt. Sizer.

(i) Land bounded by the following UTM Zone 10, NAD83 coordinates (E,N):

612040,4142329; 612059,4142174; 612136,4142137; 612243,4141962; 612198,4141726; 612203,4141589; 612088,4141439; 612041,4141311; 612049,4141259; 611960,4141119; 611893,4140940; 611969,4140675; 611942,4140491; 611944,4140135; 611962,4140096; 612052,4140065; 612152,4139946; 612275,4139957; 612334,4139915; 612459,4139974; 612507,4139882; 612554,4139865; 612630,4139772; 612695,4139756; 612795,4139794; 613168,4139551; 613274,4139569; 613392,4139510; 613498,4139495; 613570,4139450; 613586,4139411; 613566,4139244; 613666,4139098; 613611,4138948; 613591,4138643; 613645,4138499; 613605,4138264; 613625,4138154; 613708,4137981; 613803,4137917; 614063,4137873; 614140,4138041; 614249,4138124; 614319,4138132; 614354,4138114; 614382,4137991; 614504,4137865; 614553,4137838; 614650,4137844; 614894,4137745; 614981,4137741; 614951,4137541; 614963,4137477; 615053,4137385; 615187,4137120; 615536,4136826; 615623,4136654; 615694,4136571; 615811,4136523; 615823,4136452; 615764,4136335; 615810,4136000; 615822,4135962; 615914,4135902; 615928,4135865; 615873,4135230; 615957,4135094; 616080,4134655; 616156,4134516; 616247,4134483; 616360,4134378; 616464,4134099; 616515,4133842; 616638,4133676; 616670,4133559; 616644,4133379; 616652,4133124; 616668,4133048; 616729,4132973; 616798,4132770; 616852,4132690; 616866,4132313; 616973,4132054; 617051,4131999; 617114,4131990; 617158,4131944; 617172,4131872; 617143,4131780; 617178,4131687; 617302,4131573; 617591,4131501; 617635,4131459; 617692,4131243; 617760,4131146; 617872,4131197; 618059,4131081; 618145,4130995; 618281,4131037; 618511,4131004; 618693,4131033; 618729,4130991; 618729,4130940; 618624,4130736; 618668,4130675; 618718,4130655; 618787,4130644; 618878,4130668; 619015,4130511; 618895,4130412; 618867,4130338; 618871,4130263; 618965,4130041; 618965,4129916; 619031,4129801; 619135,4129762; 619298,4129777; 619591,4129713; 619800,4129796; 619819,4129775; 619824,4129621; 619925,4129584; 619976,4129526; 619994,4129332; 620075,4129282; 620163,4129300; 620342,4129194; 620451,4129228; 620734,4129474; 620830,4129720; 620871,4129653; 620969,4129299; 621072,4129096; 621167,4129040; 621462,4129008; 621485,4128960; 621419,4128672; 621449,4128541; 621515,4128408; 621545,4128096; 621521,4127932; 621824,4127708; 621825,4127609; 621904,4127423; 622072,4127349; 622113,4127288; 622112,4127201; 621723,4127166; 621691,4127088; 621697,4126941; 621650,4126898; 621435,4126877; 621355,4126773; 621352,4126717; 621480,4126534; 621560,4126366; 621611,4126292; 621701,4126238; 621758,4126104; 621817,4126034; 621915,4125991; 622028,4125979; 622113,4125901; 622192,4125876; 622370,4125910; 622527,4125851; 622683,4125916; 622744,4125886; 622816,4125749; 622945,4125721; 622982,4125621; 623173,4125332; 623145,4125105; 623239,4125034; 623411,4124996; 623593,4124887; 623692,4124722; 623802,4124609; 623880,4124572; 623985,4124559; 624046,4124365; 624145,4124286; 624195,4124252; 624361,4124256; 624411,4124190;624452,4124030; 624562,4123896; 624594,4123769; 624742,4123605; 624913,4123629; 624957,4123577; 625087,4123189; 625229,4123134; 625306,4123035; 625227,4122866; 625180,4122564; 625202,4122504; 625275,4122421; 625222,4122293; 625234,4122248; 625342,4122141; 625364,4122036; 625346,4121976; 625367,4121815; 625296,4121673; 625258,4121446; 625303,4121426; 625441,4121465; 625627,4121383; 625769,4121370; 625971,4121269; 626170,4121031; 626405,4120805; 626471,4120684; 626472,4120551; 626503,4120491; 626566,4120430; 626791,4120430; 626832,4120387; 626874,4120188; 626849,4120116; 626881,4120000; 626870,4119926; 626904,4119873; 627034,4119828; 626989,4119737; 626974,4119631; 626831,4119564; 626781,4119494; 626758,4119371; 626672,4119312; 626641,4119261; 626651,4119139; 626716,4119059; 626751,4118956; 626941,4118796; 627043,4118585; 627179,4118618; 627214,4118603; 627419,4118344; 627643,4118155; 627808,4118083; 628001,4118038; 628093,4117865; 628134,4117680; 628466,4117591; 628550,4117534; 628588,4117465; 628623,4117388; 628615,4117346; 628459,4117262; 628356,4117170; 628395,4116980; 628325,4116853; 628335,4116718; 628278,4116490; 628286,4116352; 628103,4116255; 628031,4116109; 627889,4115942; 627682,4115852; 627576,4115719; 627167,4115669; 627060,4115683; 626925,4115642; 626870,4115565; 626869,4115368; 626923,4115263; 626960,4115056; 626726,4114762; 626787,4114534; 626784,4114467; 626690,4114262; 626423,4114125; 626434,4114068; 626578,4113887; 626623,4113725; 626719,4113599; 626903,4113417; 627132,4113270; 627201,4113193; 627261,4113097; 627291,4112961; 627358,4112811; 627557,4112743; 627638,4112652; 627614,4112518; 627418,4112146; 627426,4111910; 627385,4111753; 627480,4111507; 627394,4111334; 627391,4111261; 627490,4111114; 627388,4110977; 627171,4111318; 627031,4111456; 626862,4111748; 626633,4111951; 626547,4112092; 626333,4112335; 626231,4112677; 626140,4112823; 625896,4112885; 625823,4112986; 625726,4113043; 625560,4113050; 625410,4112881; 625270,4112901; 624926,4113024; 624677,4113152; 624253,4113507; 624165,4113648; 624216,4113793; 624195,4113833; 624061,4113788; 623966,4113838; 623809,4113800; 623432,4113932; 623410,4113985; 623286,4113958; 623227,4114020; 623221,4114114; 623177,4114172; 623162,4114299; 623085,4114351; 622877,4114704; 622841,4114749; 622695,4114830; 622668,4114942; 622581,4114938; 622535,4114970; 622431,4114946; 622362,4114981; 622307,4115087; 622170,4115245; 622128,4115351; 621954,4115628; 621964,4115651; 622248,4115647; 622368,4115618; 622492,4115468; 622660,4115452; 622703,4115339; 622733,4115324; 622753,4115332; 622724,4115461; 622756,4115515; 622735,4115580; 622592,4115619; 622471,4115691; 622440,4115767; 622227,4115914; 622180,4115994; 622111,4116019; 621959,4115986; 621770,4115884; 621746,4115952; 621676,4116028; 621642,4116139; 621565,4116506; 621607,4116593; 621533,4116615; 621477,4116672; 621501,4116205; 621482,4116098; 621429,4116065; 621240,4116163; 621210,4116295; 621169,4116348; 620911,4116453; 620819,4116645; 620818,4116696; 620868,4116747; 620858,4116775; 620523,4116740; 620411,4116761; 620380,4116984; 620270,4117039; 620133,4117214; 620181,4117375; 620082,4117343; 620051,4117391; 620060,4117643; 620034,4117731; 619920,4117869; 619919,4117897; 619855,4117932; 619923,4118019; 619879,4118047; 619809,4117977; 619758,4117971; 619314,4118146; 619080,4118189; 618997,4118316; 618794,4118278; 618707,4118371; 618474,4118228; 618333,4118177; 618125,4118214; 617725,4118186; 617578,4118212; 617492,4118311; 617333,4118207; 617237,4118176; 617157,4118173; 617020,4118231; 616900,4118344; 616704,4118473; 616652,4118594; 616528,4118721; 616301,4118690; 616109,4118847; 615968,4119042; 615888,4119292; 615772,4119462; 615774,4119551; 615497,4119806; 614886,4120144; 614835,4120223; 614849,4120390; 614588,4120669; 614537,4120787; 614438,4120860; 614312,4120876; 614093,4121043; 614103,4121315; 614181,4121415; 614309,4121481; 614351,4121596; 614085,4121709; 613916,4121616; 613664,4121942; 613577,4122207; 613738,4122279; 613758,4122421; 613798,4122514; 613961,4122796; 613897,4122862; 613777,4122898; 613651,4122988; 613589,4123089; 613606,4123223; 613756,4123389; 613900,4123394; 613985,4123425; 614086,4123514; 614631,4123658; 614745,4123606; 614794,4123628; 614874,4123785; 614706,4123888; 614703,4123913; 614758,4123972; 614881,4123990; 615122,4123950; 615217,4123983; 615371,4123965; 615542,4124082; 615597,4124166; 615590,4124203; 615498,4124290; 615254,4124371; 615230,4124425; 615180,4124432; 615125,4124496; 615112,4124679; 614993,4124738; 614872,4124894; 614862,4124944; 614702,4125047; 614649,4125163; 614675,4125373; 614584,4125586; 614620,4125652; 614694,4125654; 614749,4125701; 614905,4126019; 614911,4126099; 614684,4126506; 614799,4126785; 614809,4127047; 614798,4127098; 614657,4127186; 614631,4127335; 614662,4127620; 614585,4127828; 614658,4128059; 614642,4128130; 614542,4128151; 614464,4128227; 614391,4128346; 614203,4128535; 614191,4128589; 614189,4128617; 614287,4128701; 614313,4128775; 614295,4128959; 614225,4129047; 614367,4129352; 614175,4129502; 614106,4129473; 613942,4129667; 613739,4129766; 613576,4130060; 613498,4130094; 613472,4130071; 613441,4130080; 613508,4130573; 613389,4130813; 613398,4130924; 613344,4131136; 613084,4131480; 613020,4131548; 612886,4131629; 612798,4131727; 612715,4131842; 612621,4132064; 612557,4132133; 612358,4132261; 612278,4132385; 612259,4132633; 612067,4132743; 611994,4132736; 611912,4132787; 611946,4132924; 611824,4133110; 611802,4133324; 611734,4133426; 611635,4133479; 611655,4133578; 611647,4133759; 611623,4133842; 611522,4133915; 611509,4133949; 611485,4134037; 611509,4134193; 611493,4134315; 611388,4134536; 611342,4134597; 611161,4134610; 611121,4134719; 610969,4134719; 610777,4134766; 610728,4134837; 610731,4134969; 610564,4135011; 610426,4135080; 610356,4135221; 610256,4135311; 610146,4135640; 610042,4135853; 609929,4135939;609729,4136000; 609508,4136147; 609270,4136458; 609113,4136872; 609025,4136993; 608928,4137055; 608816,4137274; 608787,4137441; 608638,4137595; 608537,4137760; 608444,4137816; 608346,4137829; 608182,4137930; 607779,4137907; 607593,4137951; 607413,4138082; 607351,4138218; 607210,4138322; 607157,4138501; 607091,4138579; 606846,4138652; 606681,4138605; 606357,4138606; 606040,4138540; 606025,4138608; 606045,4138787; 606102,4138827; 606098,4138947; 605923,4138995; 605932,4139155; 605426,4138980; 605234,4138972; 605121,4139012; 605059,4138971; 604638,4139103; 604471,4139194; 604343,4139170; 604302,4139246; 604183,4139305; 604159,4139363; 604133,4139467; 604133,4139623; 604367,4139882; 604382,4140096; 604429,4140118; 604574,4140118; 604608,4140376; 604783,4140578; 604789,4140721; 605055,4141023; 605226,4141041; 605536,4141023; 605648,4141059; 605764,4141137; 605993,4141092; 606071,4140988; 606145,4140955; 606317,4140970; 606545,4141045; 606686,4141124; 606832,4141464; 606985,4141659; 607076,4141722; 607213,4141750; 607541,4141680; 607785,4141734; 608014,4141870; 608137,4142008; 608199,4142141; 608199,4142276; 608300,4142611; 608587,4142636; 608715,4142602; 608815,4142474; 608848,4142388; 608996,4142296; 609083,4142211; 609302,4142219; 609329,4141976; 609375,4141928; 609532,4141860; 609743,4141951; 609797,4142102; 609851,4142170; 610012,4142113; 610088,4142027; 610194,4142032; 610315,4141978; 610415,4141989; 610614,4142075; 610676,4142133; 610751,4142259; 610789,4142438; 610999,4142707; 611151,4142845; 611372,4142893; 611408,4142925; 611459,4142899; 611689,4142634; 612012,4142381; returning to 612040,4142329.

(ii) Note: Map of Units STC-1 and STC-2 for the California red-legged frog follows:

BILLING CODE 4310-55-S

BILLING CODE 4310-55-C

(31) Unit STC-2: Santa Clara, Merced, Stanislaus and San Benito Counties, California. From USGS 1:24,000 scale quadrangles Mt. Sizer, Gilroy, Mt. Stakes, Mississippi Creek, Gilroy Hot Springs, San Felipe, Mustang Peak, Pacheco Peak, Three Sisters, Crevision Peak, Pacheco Pass and Mariposa Peak.

(i) Land bounded by the following UTM Zone 10, NAD83 coordinates (E,N): 639546,4129203; 639759,4129165; 639715,4128997; 639730,4128920; 639814,4128811; 639800,4128684; 640076,4128375; 640247,4128258; 640263,4128178; 640404,4128055; 640398,4127894; 640352,4127793; 640370,4127736; 640463,4127644; 640411,4127495; 640289,4127468; 640187,4127396; 640115,4127138; 640124,4127070; 639872,4126828; 639790,4126628; 639781,4126566; 639822,4126533; 639919,4126303; 639913,4126193; 639952,4126120; 639995,4125882; 639899,4125877; 639810,4125750; 639783,4125652; 639802,4125436; 639768,4125214; 639801,4125194; 639938,4124903; 639862,4124823; 639908,4124715; 640051,4124535; 640220,4124484; 640333,4124420; 640499,4124474; 640725,4124443; 640792,4124455; 640856,4124419; 641092,4124427; 641107,4124382; 641204,4124290; 641271,4124249; 641408,4124238; 641528,4124098; 641601,4124055; 641721,4124007; 641859,4123990; 642059,4123895; 642176,4123971; 642274,4124076; 642566,4124008; 642555,4123944; 642576,4123896; 642678,4123832; 642719,4123708; 642680,4123551; 642686,4123409; 642648,4123264; 642642,4123085; 642659,4123024; 642855,4122810; 642935,4122612; 642852,4122462; 642884,4122239; 642820,4122061; 642893,4121918; 643093,4121832; 643145,4121777; 643238,4121663; 643304,4121372; 643482,4121318; 643548,4121154; 643678,4121113; 643862,4120987; 643921,4120981; 644067,4120714; 644130,4120656; 644208,4120619; 644302,4120637; 644410,4120599; 644480,4120486; 644537,4120446; 644635,4120385; 644798,4120337; 644928,4120161; 644785,4120082; 644735,4120009; 644726,4119911; 644795,4119762; 644836,4119420; 644880,4119304; 644819,4119024; 644731,4118907; 644614,4118818; 644597,4118746; 644648,4118649; 644641,4118531; 644550,4118402; 644558,4118249; 644671,4117859; 644817,4117669; 644845,4117469; 644830,4117384; 644876,4117249; 644956,4117124; 644952,4116804; 645148,4116560; 645251,4116554; 645459,4116653; 645589,4116638; 645629,4116612; 645799,4116608; 646002,4116517; 646166,4116524; 646293,4116492; 646513,4116343; 646614,4116175; 646819,4116004; 646877,4115890; 646889,4115713; 646919,4115684; 647208,4115629; 647422,4115554; 647567,4115404; 647743,4115280; 647895,4115311; 648096,4114850; 648258,4114782; 648364,4114854; 648580,4114885; 648835,4114838; 648907,4114848; 649102,4114906; 649148,4114957; 649317,4115041; 649445,4115055; 649600,4115024; 649712,4115229; 649802,4115255; 649842,4115247; 649965,4115124; 650026,4115004; 650225,4114906; 650350,4114898; 650629,4114954; 650823,4114894; 650934,4114829; 651130,4114887; 651390,4115111; 651418,4115179; 651536,4115308; 651527,4115465; 651578,4115571; 651613,4115751; 651700,4115871; 651837,4115947; 651905,4116122; 651999,4116243; 652104,4116446; 652150,4116487; 652432,4116421; 652471,4116398; 652549,4116264; 652772,4116134; 652916,4115926; 653129,4115700; 653239,4115464; 653358,4115358; 653467,4115352; 653559,4115286; 653611,4115148; 653854,4114719; 653904,4114492; 654076,4114354; 654154,4114176; 654498,4114115; 654633,4114034; 654774,4114004; 654857,4114008; 655084,4114077; 655313,4114095; 655350,4114084; 655410,4114016; 655586,4113953; 655747,4114002; 655880,4113975; 656082,4113974; 656238,4113932; 656261,4113878; 656227,4113738; 656237,4113694; 656363,4113595; 656305,4113148; 656421,4112966; 656392,4112785; 656408,4112685; 656467,4112649; 656553,4112512; 656647,4112455; 656740,4112343; 656876,4112101; 656914,4111862; 657185,4111802; 657347,4111649; 657481,4111581; 657438,4111410; 657466,4111281; 657559,4111199; 657606,4111077; 657692,4111074; 657875,4110902; 657875,4110795; 657822,4110684; 657943,4110519; 657956,4110410; 658016,4110268; 658158,4110036; 658368,4109930; 658406,4109872; 658456,4109856; 658675,4109867; 658784,4109812; 658830,4109758; 658990,4109732; 659167,4109587; 659388,4109614; 659587,4109591; 659800,4109501; 659869,4109644; 660043,4109710; 660096,4109764; 660156,4109860; 660175,4110005; 660288,4110181; 660766,4110612; 660839,4110744; 661182,4110999; 661438,4111148; 661548,4111124; 661912,4111114; 662158,4111025; 662368,4111018; 662571,4110956; 662702,4110886; 662805,4110782; 662997,4110666; 663135,4110548; 663321,4110581; 663608,4110676; 663674,4110679; 663893,4110602; 664202,4110318; 664236,4110242; 664404,4110042; 664461,4109741; 664747,4109472; 664495,4109500; 664457,4109479; 664779,4109388; 664916,4109298; 664972,4109201; 665017,4109218; 665133,4109177; 665254,4109012; 665237,4108973; 665281,4108933; 665272,4108874; 665347,4108815; 665257,4108753; 665352,4108727; 665337,4108600; 665390,4108670; 665487,4108605; 665456,4108510; 665525,4108499; 665525,4108436; 665581,4108391; 665624,4108286; 665613,4108263; 665498,4108249; 665404,4108151; 665526,4108142; 665554,4108055; 665647,4108062; 665680,4107934; 665577,4107863; 665424,4107821; 665414,4107793; 665594,4107720; 665617,4107690; 665499,4107645; 665366,4107665; 665216,4107636; 665184,4107590; 665262,4107584; 665401,4107511; 665365,4107483; 665344,4107412; 665270,4107413; 665223,4107358; 665172,4107371; 665127,4107420; 665043,4107405; 664992,4107451; 664935,4107435; 664849,4107472; 664651,4107386; 664809,4107285; 664812,4107229; 664962,4107231; 665013,4107195; 665005,4107162; 664957,4107156; 664943,4107132; 665007,4107033; 664999,4106988; 664947,4106982; 664901,4107065; 664833,4107080; 664762,4106963; 664721,4106985; 664702,4107057; 664647,4107123; 664595,4107081; 664542,4107086; 664523,4107057; 664529,4106947; 664499,4106928; 664279,4107090; 664235,4107095; 664272,4106985; 664160,4106935; 664173,4106881; 664068,4106863; 663981,4106778; 663949,4106696; 663982,4106682; 664020,4106706; 664058,4106683; 664101,4106714; 664198,4106695; 664216,4106572; 664268,4106637; 664332,4106672; 664379,4106641; 664377,4106536; 664478,4106609; 664608,4106638; 664642,4106620; 664659,4106583; 664503,4106517; 664478,4106401; 664528,4106317; 664342,4106323; 664319,4106211; 664210,4106245; 664183,4106203; 664117,4106188; 664110,4106148;664028,4106043; 663964,4106025; 663931,4106037; 663916,4106100; 663813,4106108; 663864,4106244; 663783,4106232; 663722,4106292; 663697,4106153; 663545,4106164; 663549,4106101; 663620,4106067; 663513,4105861; 663513,4105809; 663550,4105752; 663535,4105727; 663452,4105750; 663306,4105713; 663248,4105728; 663170,4105782; 663119,4105892; 663095,4105732; 663012,4105662; 662888,4105748; 662862,4105912; 662764,4105833; 662716,4105830; 662453,4105932; 662453,4105961; 662401,4105940; 662270,4105987; 662200,4105960; 662201,4105855; 662013,4105669; 662047,4105655; 662142,4105697; 662342,4105669; 662482,4105617; 662541,4105568; 662592,4105572; 662711,4105452; 662662,4105420; 662547,4105456; 662338,4105357; 662238,4105344; 662130,4105244; 662009,4105247; 662066,4105171; 662189,4105157; 662389,4105242; 662414,4105136; 662565,4105124; 662683,4105177; 662796,4105179; 662816,4105152; 662723,4105055; 662745,4104994; 662709,4104895; 662752,4104909; 662790,4104888; 662852,4105023; 662917,4105007; 663044,4105197; 663045,4105230; 663101,4105226; 663106,4105175; 663052,4105068; 663074,4104940; 663168,4104980; 663211,4105030; 663327,4104919; 663367,4104918; 663367,4104826; 663391,4104807; 663484,4104813; 663558,4104884; 663608,4104811; 663664,4104811; 663761,4104766; 663852,4104771; 663873,4104707; 663780,4104713; 663682,4104668; 663579,4104722; 663441,4104687; 663349,4104708; 663330,4104748; 663226,4104798; 663096,4104761; 662992,4104689; 662938,4104689; 662986,4104615; 663124,4104676; 663237,4104624; 663418,4104447; 663346,4104380; 663256,4104392; 662986,4104264; 662933,4104365; 662873,4104422; 662832,4104425; 662768,4104378; 662606,4104510; 662593,4104558; 662617,4104696; 662589,4104719; 662585,4104656; 662436,4104465; 662481,4104247; 662444,4104227; 662366,4104266; 662399,4104377; 662308,4104563; 662245,4104582; 662154,4104690; 662156,4104784; 662059,4104770; 662035,4104802; 662004,4104905; 662040,4104941; 662040,4105008; 661981,4105023; 661923,4104960; 661877,4104955; 661672,4105035; 661496,4105065; 661429,4105117; 661419,4105070; 661675,4104881; 661706,4104901; 661778,4104863; 661815,4104803; 661816,4104736; 661875,4104680; 661866,4104579; 661983,4104499; 662068,4104326; 662045,4104279; 661980,4104281; 661844,4104389; 661873,4104279; 662085,4104161; 662069,4104129; 661884,4104095; 661904,4104044; 661812,4103974; 661678,4103983; 661452,4104119; 661348,4104203; 661331,4104257; 661286,4104213; 661154,4104209; 661090,4104245; 661063,4104304; 660930,4104342; 660830,4104407; 660631,4104460; 660872,4104326; 660926,4104258; 661016,4104230; 660980,4104164; 661085,4104163; 661091,4104076; 661287,4104100; 661371,4103978; 661411,4104027; 661518,4104007; 661576,4103932; 661586,4103871; 661627,4103850; 661792,4103810; 661900,4103876; 661945,4103876; 661967,4103808; 662027,4103893; 662129,4103943; 662197,4103967; 662259,4103948; 662309,4103845; 662272,4103798; 662312,4103767; 662315,4103649; 662352,4103660; 662387,4103732; 662431,4103719; 662438,4103781; 662496,4103839; 662565,4103788; 662902,4103841; 662991,4103820; 662997,4103763; 662950,4103713; 662858,4103642; 662705,4103581; 662771,4103535; 662766,4103459; 662755,4103442; 662653,4103462; 662617,4103422; 662613,4103349; 662527,4103308; 662441,4103320; 662377,4103359; 662338,4103298; 662164,4103304; 662075,4103266; 661910,4103262; 661924,4103236; 661862,4103211; 662158,4103214; 662243,4103176; 662489,4103160; 662519,4103097; 662372,4102996; 662374,4102975; 662520,4102986; 662562,4102935; 662573,4102844; 662598,4102822; 662585,4102914; 662620,4103011; 662663,4103029; 662660,4103110; 662704,4103156; 662780,4103181; 662772,4103243; 662884,4103297; 662972,4103446; 663040,4103465; 663143,4103410; 663159,4103486; 663117,4103575; 663196,4103672; 663272,4103668; 663330,4103719; 663430,4103756; 663528,4103774; 663588,4103750; 663676,4103796; 663735,4103700; 663833,4103647; 663876,4103717; 663969,4103740; 663996,4103603; 664079,4103590; 664140,4103642; 664151,4103492; 664395,4103184; 664441,4103167; 664452,4103104; 664556,4103058; 664585,4102963; 664581,4102736; 664523,4102552; 664454,4102487; 664601,4102421; 664668,4102260; 664665,4102125; 664637,4102103; 664499,4102094; 664625,4102033; 664745,4101930; 664754,4101895; 664659,4101863; 664780,4101696; 664753,4101613; 664687,4101558; 664725,4101497; 664698,4101461; 664636,4101434; 664586,4101443; 664516,4101341; 664566,4101315; 664550,4101260; 664433,4101126; 664326,4101094; 664216,4100939; 664344,4100957; 664387,4100928; 664404,4100966; 664477,4100986; 664582,4100935; 664659,4100999; 664679,4100864; 664747,4100840; 664848,4100720; 664663,4100710; 664613,4100663; 664622,4100600; 664730,4100556; 664756,4100522; 664640,4100471; 664691,4100390; 664599,4100268; 664569,4100037; 664598,4099951; 664539,4099835; 664447,4099733; 664564,4099744; 664603,4099811; 664719,4099914; 664774,4099939; 664817,4099896; 664935,4099996; 665152,4099790; 665279,4100228; 665329,4100111; 665340,4099968; 665366,4099938; 665474,4099980; 665548,4099917; 665537,4099810; 665591,4099794; 665661,4099817; 665720,4099778; 665738,4099738; 665683,4099612; 665789,4099585; 665811,4099445; 665886,4099466; 665913,4099408; 666077,4099344; 666107,4099156; 665937,4099044; 665913,4098986; 666029,4099035; 666072,4099031; 666085,4098989; 666129,4099003; 666214,4099070; 666251,4099177; 666321,4099211; 666385,4099172; 666399,4099088; 666461,4099043; 666482,4098810; 666387,4098683; 666538,4098676; 666570,4098651; 666629,4098564; 666621,4098502; 666579,4098478; 666625,4098384; 666507,4098305; 666400,4098283; 666382,4098252; 666407,4098219; 666543,4098195; 666692,4098200; 666760,4098135; 666811,4098223; 666893,4098240; 666950,4098153; 666951,4098026; 667019,4098055; 667165,4097991; 667164,4097968; 666966,4097881; 666922,4097835; 666986,4097799; 667003,4097688; 667048,4097702; 667168,4097684; 667129,4097631; 667116,4097561; 667020,4097558; 667008,4097537; 667099,4097487;667055,4097423; 667159,4097407; 667208,4097375; 667217,4097336; 667188,4097304; 667079,4097302; 667121,4097256; 667108,4097215; 667216,4097219; 667237,4097176; 667177,4096987; 667122,4096950; 667138,4096910; 667123,4096867; 667055,4096761; 667019,4096757; 666810,4096850; 666773,4096843; 666916,4096729; 666883,4096642; 667035,4096604; 666974,4096532; 667032,4096458; 667002,4096421; 667025,4096243; 667013,4096066; 666920,4096010; 666991,4095957; 667008,4095843; 666942,4095750; 666914,4095640; 666804,4095656; 666817,4095616; 666871,4095585; 666842,4095462; 666757,4095316; 666703,4095057; 666629,4094973; 666476,4094963; 666151,4095087; 666010,4095201; 665864,4095242; 665680,4095409; 665560,4095423; 665646,4095354; 665628,4095281; 665133,4094656; 664629,4094273; 664336,4094181; 663579,4094126; 662903,4094024; 662627,4093892; 662114,4093272; 662002,4093094; 661985,4092928; 662017,4092804; 661861,4092709; 661698,4092500; 661439,4092428; 661173,4092479; 660937,4092480; 660867,4092456; 660778,4092369; 660653,4092059; 660641,4091925; 660251,4091760; 660162,4091782; 660033,4091877; 659967,4092014; 659578,4091748; 659359,4091688; 659281,4091628; 659225,4091618; 659081,4091462; 659012,4091243; 658823,4091051; 658811,4091000; 658834,4090938; 658652,4090568; 658536,4090484; 658327,4090267; 658238,4090241; 658097,4090251; 658003,4090204; 657809,4089947; 657778,4089851; 657686,4089782; 657568,4089485; 657568,4089346; 657601,4089299; 657587,4089210; 657511,4089045; 657334,4088785; 657337,4088609; 656887,4088671; 656620,4088788; 656450,4088810; 656195,4088944; 656116,4089065; 655798,4089159; 655705,4089250; 655627,4089232; 655441,4089279; 655345,4089260; 655315,4089403; 655230,4089528; 655106,4089558; 654939,4089501; 654853,4089597; 654740,4089673; 654735,4089732; 654811,4089882; 654746,4090139; 654513,4090406; 654546,4090496; 654519,4090556; 654368,4090555; 654207,4090684; 654221,4090874; 654190,4091086; 654097,4091175; 654017,4091351; 653970,4091584; 653873,4091763; 653690,4091867; 653524,4092207; 653518,4092389; 653271,4092529; 653234,4092609; 653141,4092649; 653024,4092881; 652991,4092920; 652907,4092947; 652783,4093103; 652808,4093336; 652795,4093795; 652681,4093930; 652387,4094024; 652281,4094100; 652277,4094330; 652176,4094616; 651578,4094413; 651457,4094399; 651335,4094442; 651294,4094433; 651255,4094406; 651200,4094306; 651041,4094194; 651004,4094103; 651021,4094006; 650935,4093717; 650820,4093498; 650856,4093402; 650834,4093186; 650770,4093055; 650719,4093016; 650679,4093015; 650618,4093083; 650437,4093063; 650351,4093098; 650294,4093186; 650233,4093234; 650039,4093208; 649927,4093137; 649797,4093136; 649758,4093257; 649600,4093531; 649500,4093612; 649281,4093710; 649182,4093907; 648947,4094034; 648767,4094350; 648648,4094405; 648465,4094423; 648360,4094556; 648287,4094611; 648256,4094848; 648270,4095011; 648182,4095217; 647955,4095237; 647499,4095104; 647399,4095096; 647330,4095013; 647163,4094988; 647047,4094899; 647028,4094802; 646891,4094825; 646858,4094755; 646811,4094723; 646791,4094618; 646647,4094535; 646404,4094494; 646329,4094408; 646077,4094318; 646043,4094286; 646032,4094221; 646117,4094190; 646315,4093942; 646451,4093853; 646414,4093639; 646328,4093581; 646369,4093496; 646469,4093433; 646498,4093347; 646509,4093052; 646435,4092908; 646488,4092740; 646467,4092637; 646480,4092484; 646431,4092418; 646345,4092375; 646012,4092339; 645936,4092310; 645651,4091987; 645619,4091861; 645494,4091762; 645459,4091523; 645436,4091524; 645381,4091594; 645227,4091970; 644956,4092226; 644889,4092333; 644865,4092425; 644900,4092639; 645061,4092813; 645090,4092892; 645133,4093347; 645063,4093671; 644895,4094099; 644836,4094483; 644816,4095023; 644770,4095291; 644852,4095537; 644692,4095730; 644622,4095672; 644540,4095771; 644385,4095788; 644150,4095515; 643759,4094905; 643681,4094923; 643804,4094673; 643863,4094207; 643947,4094039; 644036,4093946; 644082,4093749; 644036,4093485; 643894,4093161; 643947,4092835; 643943,4092735; 643763,4092502; 643778,4092414; 643858,4092250; 643907,4092011; 643904,4091716; 643864,4091630; 643738,4091561; 643704,4091517; 643902,4091318; 643926,4091254; 643919,4091216; 643876,4091197; 643682,4091200; 643633,4091169; 643636,4091144; 643768,4091091; 643823,4090973; 643903,4090941; 643992,4090806; 644009,4090683; 643980,4090610; 643928,4090568; 643740,4090548; 643593,4090566; 643417,4090608; 643221,4090701; 643062,4090726; 642950,4090790; 642814,4090752; 642714,4090758; 642535,4090824; 642377,4090934; 642293,4091095; 642036,4091324; 641838,4091579; 641651,4091653; 641587,4091704; 641518,4091805; 641374,4091904; 641216,4091951; 641183,4091982; 641176,4092144; 641094,4092352; 641090,4092438; 641157,4092493; 641350,4092414; 641267,4092622; 641057,4092687; 641018,4092746; 641017,4092811; 641180,4093187; 641149,4093270; 641050,4093294; 640939,4093172; 640801,4093088; 640674,4093099; 640520,4093221; 640465,4093228; 640439,4093188; 640438,4093107; 640365,4093044; 640027,4093016; 639702,4092949; 639512,4092976; 639712,4093226; 639850,4093586; 639939,4093906; 639973,4094495; 639965,4094799; 640079,4095069; 640242,4095348; 640309,4095610; 640286,4095886; 640254,4095996; 640262,4096145; 640232,4096219; 640073,4096388; 639856,4096470; 639736,4096573; 639387,4096626; 639344,4096722; 639215,4096834; 639155,4096827; 639083,4096737; 638998,4096692; 638692,4096748; 638645,4096807; 638641,4096872; 638840,4097137; 638618,4097256; 638400,4097265; 638146,4097414; 638111,4097528; 637947,4097647; 637830,4097864; 637775,4098050; 637786,4098085; 637902,4098238; 638059,4098263; 638111,4098409; 638007,4098366; 637863,4098416; 637802,4098534; 637761,4098693; 637679,4098771; 637605,4098767; 637237,4098867; 636845,4099033; 636776,4099040; 636581,4099001; 636390,4099025; 636221,4099088; 636011,4099096; 635725,4099252; 635680,4099316; 635619,4099720; 635663,4099862; 635587,4099960; 635546,4100125;635453,4100204; 635388,4100212; 635302,4100179; 635251,4100208; 635125,4100421; 635087,4100546; 634956,4100712; 634884,4100857; 634726,4100913; 634608,4101021; 634551,4101110; 634485,4101292; 634392,4101417; 634028,4101603; 633905,4101812; 633797,4101901; 633726,4102017; 633722,4102251; 633521,4102565; 632829,4102548; 632606,4102597; 632783,4103163; 632399,4104333; 632239,4104397; 631719,4104456; 631546,4104625; 631213,4104741; 631161,4104817; 631157,4104921; 631069,4105021; 630977,4105063; 630964,4105109; 630778,4105330; 630643,4105544; 630607,4105579; 630482,4105607; 630435,4105645; 630468,4105831; 630383,4105962; 630318,4106184; 630241,4106257; 630237,4106356; 630165,4106449; 630003,4106545; 629870,4106820; 629714,4107029; 629557,4107390; 629544,4107573; 629498,4107755; 629458,4107886; 629394,4107941; 629373,4107994; 629353,4108126; 629308,4108227; 629233,4108310; 629141,4108357; 629108,4108410; 629052,4108947; 629083,4109024; 629149,4109061; 629183,4109142; 629062,4109075; 628948,4109076; 628796,4108906; 628782,4108817; 628625,4108893; 628568,4108994; 628416,4109039; 628402,4109420; 628321,4109540; 628314,4109750; 628251,4109890; 628105,4109947; 628022,4110080; 628010,4110233; 627933,4110391; 627469,4110933; 627423,4110926; 627388,4110977; 627490,4111114; 627391,4111261; 627394,4111334; 627480,4111507; 627385,4111753; 627426,4111910; 627418,4112146; 627614,4112518; 627638,4112652; 627557,4112743; 627358,4112811; 627291,4112961; 627261,4113097; 627201,4113193; 627132,4113270; 626903,4113417; 626719,4113599; 626623,4113725; 626578,4113887; 626434,4114068; 626423,4114125; 626690,4114262; 626784,4114467; 626787,4114534; 626726,4114762; 626960,4115056; 626923,4115263; 626869,4115368; 626870,4115565; 626925,4115642; 627060,4115683; 627167,4115669; 627576,4115719; 627682,4115852; 627889,4115942; 628031,4116109; 628103,4116255; 628286,4116352; 628278,4116490; 628335,4116718; 628325,4116853; 628395,4116980; 628356,4117170; 628459,4117262; 628615,4117346; 628623,4117388; 628522,4117558; 628134,4117680; 628093,4117865; 628001,4118038; 627808,4118083; 627643,4118155; 627419,4118344; 627214,4118603; 627179,4118618; 627043,4118585; 626941,4118796; 626751,4118956; 626716,4119059; 626651,4119139; 626641,4119261; 626672,4119312; 626758,4119371; 626781,4119494; 626877,4119598; 626974,4119631; 626989,4119737; 627034,4119828; 627247,4119851; 627320,4119803; 627472,4119822; 627655,4119787; 627818,4119904; 627861,4119981; 627933,4120021; 628181,4120054; 628259,4119984; 628392,4120115; 628483,4120293; 628489,4120390; 628754,4120575; 628774,4120652; 629144,4121010; 629269,4121094; 629803,4121223; 629856,4121184; 629910,4121041; 629987,4120938; 630087,4120937; 630186,4120882; 630395,4120831; 630565,4120699; 630924,4120570; 630985,4120528; 631157,4120347; 631185,4120270; 631319,4120093; 631417,4120048; 631500,4119910; 631714,4119996; 631853,4120126; 631975,4120552; 632218,4120977; 632441,4121188; 632522,4121351; 632708,4121430; 632859,4121567; 632993,4121415; 633176,4121419; 633266,4121504; 633231,4121662; 633303,4121820; 633279,4121940; 633319,4121985; 633314,4122039; 633253,4122087; 633190,4122214; 633392,4122505; 633547,4122539; 633467,4122678; 633529,4122783; 633641,4123102; 633616,4123188; 633489,4123308; 633465,4123374; 633599,4123619; 633612,4123689; 633909,4123712; 634007,4123766; 634079,4123760; 634185,4123709; 634520,4123699; 634693,4123562; 634864,4123521; 634934,4123479; 635026,4123302; 635148,4123158; 635412,4123050; 635511,4122886; 635585,4122811; 635688,4122750; 635829,4122770; 635886,4122679; 635952,4122623; 636163,4122601; 636333,4122655; 636481,4122645; 636610,4122687; 636711,4122672; 636775,4122711; 636866,4122976; 636912,4123044; 637267,4123340; 637206,4123572; 637205,4123665; 637101,4123719; 636988,4123848; 636927,4123873; 636897,4123954; 636926,4124017; 637015,4124087; 636986,4124222; 637063,4124300; 637122,4124411; 637054,4124511; 637073,4124589; 637048,4124670; 636967,4124824; 636922,4124850; 636878,4124925; 636899,4125004; 636960,4125046; 637017,4125045; 637031,4125169; 637095,4125265; 637064,4125306; 637048,4125431; 637005,4125514; 637040,4125617; 636963,4125702; 636959,4125785; 637023,4125924; 637147,4125951; 637074,4126120; 637048,4126273; 637002,4126331; 636998,4126418; 637063,4126493; 636964,4126727; 636964,4126800; 636984,4126889; 637031,4126953; 637016,4127032; 636944,4127069; 636843,4127169; 636793,4127268; 636643,4127421; 636622,4127496; 636570,4127550; 636566,4127614; 636601,4127723; 636638,4127786; 636721,4127842; 636831,4127793; 636864,4127754; 636936,4127766; 637048,4127882; 637058,4128046; 637121,4128192; 637273,4128338; 637371,4128367; 637439,4128360; 637491,4128395; 637504,4128431; 637475,4128612; 637398,4128865; 637490,4128976; 637616,4129021; 637667,4129080; 637899,4129178; 637943,4129175; 638111,4129126; 638206,4129043; 638279,4129045; 638355,4128931; 638612,4128834; 638846,4128930; 638909,4128934; 639057,4129011; 639199,4129040; 639431,4129195; returning to 639546,4129203.

(ii) Note: Unit STC-2 for California red-legged frog is depicted on the map in paragraph (30)(ii) of this entry.

(32) Unit SCZ-1: Santa Cruz and San Mateo Counties, California. From USGS 1:24,000 scale quadrangles Franklin Point, Ano Nuevo, Big Basin, Davenport, Felton and Santa Cruz.

(i) Land bounded by the following UTM Zone 10, NAD83 coordinates (E,N): 563662,4115064; 563902,4115237; 563915,4115297; 563879,4115420; 563931,4115559; 563887,4115633; 563895,4115727; 563964,4115960; 564045,4116048; 564048,4116217; 564134,4116372; 564140,4116453; 564414,4116466; 564501,4116430; 564644,4116464; 564701,4116455; 564742,4116504; 564749,4116592; 564832,4116671; 564995,4116680; 565091,4116711; 565262,4116712; 565425,4116788; 565671,4117091; 565809,4117126; 565894,4117190; 565921,4117260; 565927,4117536; 566051,4117615; 566110,4117736; 566304,4117724; 566404,4117833; 566576,4117892; 567036,4118184; 567262,4118281; 567499,4118333; 567590,4118548; 567733,4118731; 567746,4118785; 567699,4118870; 567704,4118933; 567778,4119012; 567942,4119114; 568006,4119097; 568067,4119030; 568274,4118928; 568430,4118898; 568652,4118929; 568788,4118975; 568881,4118980; 568939,4118954; 569151,4119022; 569218,4119108; 569260,4119124; 569422,4119083; 569476,4119040; 569571,4118885; 569845,4118763; 569977,4118646; 570191,4118236; 570505,4118044; 570662,4117740; 570849,4117476; 570922,4117312; 571458,4117009; 571527,4116831; 571510,4116573; 571552,4116437; 571546,4116349; 571667,4116105; 571672,4115971; 571624,4115844; 571834,4115456; 572014,4114800; 571999,4114663; 571958,4114557; 571724,4114348; 571686,4114278; 571692,4114244; 571770,4114100; 571872,4114050; 571891,4113944; 571928,4113887; 572145,4113691; 572238,4113541; 572410,4113497; 572422,4113471; 572383,4113428; 572275,4113380; 572190,4113291; 571991,4112934; 571986,4112755; 572028,4112600; 571938,4112494; 571948,4112437; 572018,4112345; 572159,4112277; 572180,4112230; 572014,4112052; 571788,4111956; 571722,4111803; 571522,4111664; 571456,4111512; 571426,4111382; 571432,4111298; 571556,4111218; 571831,4111207; 571945,4111012; 572126,4110986; 572296,4110916; 572355,4110861; 572400,4110669; 572449,4110629; 572665,4110563; 573032,4110522; 573210,4110425; 573396,4110412; 573515,4110339; 573552,4110252; 573551,4110105; 573581,4110001; 574046,4109512; 574309,4109172; 574432,4109053; 574685,4108907; 574846,4108732; 574881,4108547; 574995,4108383; 575066,4107912; 575127,4107794; 575247,4107709; 575542,4107691; 575616,4107666; 576142,4107244; 576342,4106833; 576364,4106472; 576456,4106126; 576449,4106015; 576491,4105706; 576374,4105368; 576464,4105110; 576710,4104644; 576898,4104558; 577006,4104480; 577078,4104398; 577093,4104337; 577074,4104056; 576991,4103801; 576995,4103644; 577561,4103149; 577688,4103089; 578028,4102717; 578146,4102420; 578061,4102291; 578030,4102169; 578091,4102066; 578087,4101987; 577874,4101885; 577887,4101790; 578067,4101506; 578161,4101440; 578273,4101407; 578410,4101243; 578482,4101025; 578546,4100957; 578637,4100917; 578682,4100701; 578804,4100569; 578865,4100465; 579150,4100310; 579322,4100254; 579434,4100153; 579480,4100023; 579488,4099773; 579469,4099660; 579410,4099528; 579426,4099493; 579516,4099446; 579530,4099383; 579486,4099239; 579486,4099152; 579561,4099035; 579589,4098829; 579762,4098630; 579871,4098566; 579957,4098355; 580193,4098159; 580330,4098160; 580426,4098102; 580669,4098106; 580861,4098168; 581010,4098149; 581168,4098063; 581422,4097753; 581616,4097576; 582018,4097337; 582277,4097203; 582555,4097250; 582592,4097218; 582711,4096974; 582847,4096872; 582932,4096650; 583059,4096480; 583210,4096352; 583304,4096109; 583288,4095861; 583390,4095602; 583352,4095509; 583512,4095165; 583460,4094954; 583478,4094782; 583513,4094670; 583568,4094655; 583615,4094582; 583597,4094481; 583611,4094312; 583761,4093780; 583795,4093387; 583779,4093252; 583722,4093092; 583703,4092859; 583747,4092502; 583832,4092321; 583859,4091876; 583916,4091657; 584008,4091471; 583895,4091228; 583898,4090922; 583863,4090799; 583829,4090470; 583901,4089880; 583964,4089669; 583925,4089666; 583895,4089633; 583886,4089659; 583936,4089703; 583760,4089751; 583724,4089721; 583649,4089715; 583547,4089648; 583358,4089623; 583180,4089516; 583081,4089615; 583042,4089610; 583007,4089546; 582975,4089594; 582813,4089599; 582671,4089703; 582604,4089693; 582582,4089761; 582530,4089751; 582479,4089676; 582440,4089713; 582427,4089770; 582389,4089724; 582281,4089766; 582234,4090003; 582145,4090053; 581928,4090091; 581851,4090055; 581845,4090012; 581791,4090029; 581786,4089986; 581695,4089926; 581592,4089965; 581607,4090024; 581575,4090049; 581529,4090027; 581471,4090045; 581411,4090017; 581401,4089979; 581335,4089979; 581264,4090087; 581261,4090236; 581229,4090134; 581105,4090195; 581133,4090145; 581084,4090138; 580919,4090222; 580871,4090193; 580848,4090130; 580748,4090235; 580664,4090239; 580628,4090279; 580569,4090242; 580550,4090291; 580521,4090303; 580418,4090308; 580362,4090260; 580336,4090300; 580299,4090307; 580259,4090269; 580230,4090305; 580123,4090237; 579966,4090344; 579953,4090384; 579820,4090341; 579700,4090402; 579589,4090382; 579486,4090486; 579316,4090558; 579273,4090666; 579000,4090846; 578981,4090865; 579007,4090901; 578990,4090938; 578828,4091033; 578781,4091096; 578675,4091097; 578500,4091040; 578416,4091089; 578375,4091037; 578354,4091059; 578381,4091100; 578365,4091197; 578228,4091379; 578098,4091453; 577985,4091489; 577834,4091436; 577738,4091268; 577686,4091341; 577612,4091340; 577556,4091388; 577512,4091517; 577440,4091551; 577421,4091538; 577371,4091579; 577335,4091586; 577317,4091551; 577175,4091642; 577077,4091648; 577020,4091551; 576976,4091638; 577014,4091727; 576938,4091669; 576894,4091716; 576945,4091863; 576700,4092252; 576596,4092354; 576574,4092349; 576563,4092394; 576457,4092499; 576277,4092618; 576216,4092627; 576184,4092669; 576160,4092620; 576121,4092625; 576115,4092672; 576060,4092706; 575884,4092731; 575837,4092713; 575840,4092666; 575809,4092631; 575673,4092602; 575660,4092559; 575626,4092611; 575584,4092625; 575572,4092591; 575563,4092631; 575504,4092560; 575453,4092591; 575374,4092572; 575335,4092638; 575329,4092757;575274,4092795; 575283,4092861; 575188,4092917; 575185,4093065; 575226,4093094; 575173,4093192; 575074,4093326; 574933,4093458; 574867,4093473; 574882,4093428; 574850,4093425; 574844,4093517; 574818,4093560; 574752,4093569; 574741,4093607; 574666,4093619; 574626,4093760; 574596,4093767; 574561,4093847; 574389,4093921; 574349,4093875; 574241,4093844; 574172,4093869; 574138,4093844; 574136,4093908; 574075,4093876; 574064,4093933; 573990,4093903; 573942,4093912; 573928,4093952; 573975,4093985; 573984,4094021; 573964,4094025; 573975,4094061; 573927,4094092; 573972,4094140; 573859,4094342; 573825,4094349; 573840,4094376; 573789,4094445; 573731,4094460; 573683,4094403; 573661,4094522; 573621,4094555; 573612,4094601; 573558,4094492; 573540,4094542; 573510,4094544; 573493,4094515; 573426,4094611; 573409,4094570; 573392,4094622; 573339,4094631; 573299,4094696; 573268,4094678; 573240,4094853; 573077,4094856; 573053,4094831; 572925,4094895; 572861,4094877; 572834,4094958; 572797,4094928; 572750,4094966; 572749,4094931; 572641,4095014; 572697,4095147; 572810,4095121; 572802,4095154; 572830,4095204; 572796,4095282; 572731,4095277; 572748,4095311; 572733,4095321; 572626,4095287; 572617,4095351; 572576,4095331; 572454,4095346; 572437,4095328; 572443,4095451; 572503,4095519; 572491,4095591; 572418,4095635; 572356,4095569; 572261,4095667; 572195,4095659; 572155,4095718; 572113,4095680; 572096,4095708; 572111,4095761; 572055,4095848; 571897,4095903; 571858,4095895; 571862,4096058; 571833,4096108; 571735,4096194; 571603,4096258; 571538,4096257; 571484,4096218; 571458,4096323; 571346,4096386; 571205,4096559; 570968,4096661; 570751,4096651; 570681,4096720; 570624,4096707; 570527,4096949; 570465,4097003; 570454,4097092; 570380,4097245; 570167,4097461; 570034,4097491; 569849,4097588; 569789,4097746; 569698,4097893; 569649,4097909; 569547,4097894; 569342,4097956; 569292,4097954; 569264,4097897; 569117,4097936; 569039,4098135; 568968,4098244; 568946,4098368; 568796,4098518; 568782,4098688; 568723,4098803; 568671,4098825; 568612,4098978; 568622,4099028; 568559,4099178; 568553,4099243; 568524,4099262; 568520,4099369; 568440,4099480; 568442,4099519; 568406,4099530; 568395,4099594; 568420,4099626; 568367,4099718; 568216,4099838; 568204,4099880; 568173,4099888; 568189,4099915; 568101,4100032; 567885,4100202; 567744,4100433; 567607,4100545; 567537,4100657; 567361,4100812; 567299,4100932; 567147,4101134; 567057,4101210; 566910,4101434; 566611,4101575; 566544,4101699; 566433,4101745; 566392,4101793; 566356,4101789; 566388,4101993; 566333,4102062; 566275,4102212; 566136,4102401; 566118,4102589; 566072,4102662; 565991,4102697; 565972,4102674; 565930,4102680; 565946,4102626; 565924,4102615; 565900,4102670; 565929,4102740; 565911,4102816; 565882,4102840; 565874,4102804; 565907,4102762; 565887,4102715; 565825,4102792; 565801,4102878; 565810,4102908; 565848,4102915; 565824,4102952; 565848,4102989; 565842,4103042; 565791,4103033; 565738,4103204; 565680,4103206; 565625,4103159; 565616,4103233; 565543,4103296; 565578,4103439; 565539,4103436; 565501,4103492; 565401,4103720; 565199,4103831; 565126,4103806; 565100,4103713; 565070,4103707; 565066,4103772; 565155,4103883; 565098,4103970; 565096,4104075; 564994,4104369; 564892,4104548; 564763,4104629; 564710,4104693; 564574,4104758; 564473,4104867; 564416,4105008; 564358,4105381; 564240,4105406; 564184,4105612; 563942,4105843; 563669,4106165; 563521,4106429; 563361,4106551; 563285,4106671; 563211,4106722; 563138,4106701; 562925,4106878; 562480,4107410; 562306,4107540; 562271,4107521; 562216,4107548; 562083,4107641; 562077,4107679; 561911,4107769; 561821,4107864; 561722,4107894; 561645,4108008; 561537,4108019; 561445,4108083; 561130,4108181; 561017,4108187; 560928,4108176; 560923,4108124; 560879,4108135; 560867,4108044; 560816,4107990; 560796,4108002; 560827,4108043; 560791,4108076; 560749,4108062; 560607,4108089; 560563,4108046; 560544,4108073; 560449,4107983; 560460,4107949; 560283,4107949; 560184,4107924; 560078,4107843; 560065,4107803; 560027,4107820; 559947,4107797; 559821,4107696; 559712,4107652; 559614,4107545; 559570,4107533; 559573,4107610; 559497,4107836; 559369,4108023; 559286,4108097; 559097,4108143; 558914,4108084; 558854,4108125; 558777,4108324; 558760,4108439; 558717,4108487; 558673,4108495; 558736,4108557; 558824,4108945; 558881,4109532; 558866,4109698; 559083,4109688; 559289,4109712; 559568,4109783; 559896,4109954; 560221,4110181; 560498,4110229; 560995,4110456; 561449,4110728; 561786,4110867; 561870,4111057; 561856,4111183; 561878,4111290; 561988,4111391; 562032,4111463; 562215,4111525; 562363,4111535; 562547,4111655; 562782,4111665; 562843,4111708; 562891,4111931; 562858,4112520; 562897,4112658; 562880,4112848; 562925,4112913; 563028,4112916; 563082,4112944; 563162,4113061; 563187,4113347; 563322,4113654; 563392,4113759; 563426,4113985; 563507,4114141; 563510,4114309; 563666,4114460; 563710,4114883; returning to 563662,4115064. Excluding: 573194,4098886; 573212,4098861; 573233,4098878; 573215,4098903; returning to 573194,4098886. Excluding: 573580,4098341; 573624,4098338; 573660,4098454; 573623,4098464; returning to 573580,4098341. Excluding: 574941,4098271; 574925,4098209; 575067,4098224; returning to 574941,4098271. Excluding: 573381,4098107; 573397,4098073; 573480,4098118; 573464,4098150; returning to 573381,4098107. Excluding: 575347,4097747; 575349,4097646; 575448,4097670; 575379,4097752; returning to 575347,4097747. Excluding: 575388,4097590; 575394,4097549; 575456,4097559; 575440,4097610; returning to 575388,4097590. Excluding: 574744,4097505; 574777,4097483; 574803,4097522; 574771,4097541; returning to 574744,4097505.

(ii) Note: Map of Units SCZ-1 and SCZ-2 for the California red-legged frog follows:

BILLING CODE 4310-55-S

(33) Unit SCZ-2: Santa Cruz County, California. From USGS 1:24,000 scale quadrangle Watsonville West.

(i) Land bounded by the following UTM Zone 10, NAD83 coordinates (E,N): 607874,4086411; 608701,4084860; 608605,4084937; 608520,4084844; 608271,4084560; 608221,4084334; 607164,4083847; 606471,4082967; 606324,4083005; 605956,4083724; 605973,4084135; 606148,4084358; 606145,4084654; 605804,4085090; 605562,4085868; 605307,4086095; 604763,4086054; 604698,4086167; 604132,4086258; 603520,4086848; 603133,4087000; 602103,4087771; 601519,4088060; 601570,4088484; 602074,4088759; 602064,4088910; 602395,4089247; 602360,4089344; 602512,4089607; 603336,4088906; 604761,4088286; 606286,4087760; 607611,4086748; returning to 607874,4086411.

(ii) Note: Unit SCZ-2 for California red-legged frog is depicted on the map in paragraph (32)(iii) of this entry.

(34) Unit MNT-1: Monterey County, California. From USGS 1:24,000 scale quadrangle Prunedale.

(i) Land bounded by the following UTM Zone 10, NAD83 coordinates (E,N):

613002,4076673; 613380,4076378; 613142,4076444; 613147,4076371; 613064,4076368; 613366,4076130; 613249,4075818; 613416,4075763; 613219,4075623; 613496,4075230; 613600,4075201; 613180,4074959; 612571,4074924; 612260,4075009; 612080,4075185; 612505,4076777; 612513,4077290; 612970,4077581; 613035,4077429; 612824,4076812; returning to 613002,4076673.

(ii) Note: Map of Units MNT-1, MNT-2, and MNT-3 for the California red-legged frog follows:

BILLING CODE 4310-55-C

(35) Unit MNT-2: Monterey County, California. From USGS 1:24,000 scale quadrangles Monterey, Soberanes Point, Seaside, Mt. Carmel, Big Sur, Spreckles, Carmel Valley, Ventana Cones, Rana Creek, Chews Ridge, Palo Escrito Peak and Sycamore Flat.

(i) Land bounded by the following UTM Zone 10, NAD83 coordinates (E,N): 603442,4046923; 603634,4046726; 603827,4046640; 604472,4046893; 604714,4046944; 605564,4046793; 605712,4046847; 605926,4046833; 606069,4046665; 606157,4046466; 606345,4046146; 606452,4045750; 606540,4045608; 606636,4045570; 606841,4045661; 607122,4045606; 607261,4045631; 607468,4045737; 608030,4045720; 608776,4045973; 609217,4046057; 609446,4046061; 609863,4046205; 610192,4046221; 610407,4046185; 610485,4045965; 610423,4045760; 610412,4045576; 610466,4045473; 611386,4045442; 611541,4045144; 611589,4044840; 611518,4044364; 611959,4043678; 611994,4043566; 612003,4043265; 612175,4043133; 612308,4043088; 612387,4042971; 612478,4042972; 612536,4042934; 612508,4042779; 612596,4042586; 612760,4042422; 612861,4042201; 612877,4042127; 612845,4042022; 612944,4041748; 613081,4041815; 613348,4041756; 613487,4041676; 613625,4041668; 613673,4041573; 613676,4041527; 613631,4041448; 613654,4041417; 613773,4041356; 614082,4041366; 614257,4041330; 614298,4041299; 614340,4041165; 614382,4041122; 614460,4041143; 614615,4041129; 614653,4041057; 614608,4040970; 614716,4040830; 614844,4040739; 615002,4040742; 615036,4040710; 615041,4040639; 615102,4040569; 615163,4040569; 615284,4040647; 615344,4040596; 615413,4040347; 615451,4040326; 616150,4040222; 616494,4040253; 616619,4040237; 616706,4040177; 616870,4039959; 617177,4039761; 617246,4039782; 617424,4039744; 617840,4039742; 618201,4039619; 618329,4039619; 618508,4039714; 618668,4039905; 618722,4039906; 618758,4039902; 619018,4039723; 619077,4039603; 619164,4039232; 619154,4039095; 619090,4038964; 619029,4038906; 618864,4038851; 618726,4038618; 618633,4038522; 618078,4038260; 618036,4038179; 618028,4038060; 617998,4038000; 617586,4037827; 617334,4037641; 617132,4037387; 616875,4037268; 616722,4037104; 616657,4036932; 616646,4036839; 616856,4036613; 616918,4036460; 616859,4036232; 616878,4035933; 616842,4035706; 616910,4035453; 616908,4035384; 616811,4034976; 616709,4034737; 616665,4034280; 616712,4034004; 616891,4033622; 616990,4033512; 617122,4033488; 617166,4033289; 617269,4033210; 617342,4033209; 617494,4033258; 617598,4033106; 617681,4033062; 617788,4033074; 617992,4033159; 618133,4033154; 618242,4033111; 618341,4032792; 618408,4032738; 618585,4032665; 618691,4032391; 618807,4032296; 619088,4032263; 619188,4032222; 619402,4032075; 620095,4031886; 620229,4031783; 620465,4031658; 620518,4031654; 620607,4031728; 620670,4031748; 620723,4031720; 620976,4031408; 621208,4031299; 621259,4031289; 621331,4031316; 621430,4031421; 621494,4031436; 621717,4031345; 622296,4031237; 622576,4031104; 622852,4031014; 623171,4030831; 623221,4030722; 623398,4030535; 623647,4030483; 623727,4030382; 623871,4030361; 623977,4030313; 624380,4029981; 624430,4029990; 624457,4030027; 624520,4030231; 624563,4030294; 624836,4030390; 625105,4030204; 625241,4029931; 625424,4029846; 625459,4029793; 625485,4029615; 625529,4029587; 625648,4029601; 625713,4029571; 625757,4029527; 625770,4029379; 625816,4029330; 626161,4029238; 626225,4029345; 626422,4029516; 626682,4029363; 626838,4029340; 626895,4029365; 626932,4029398; 626951,4029471; 627197,4029695; 627279,4029824; 627278,4030080; 627338,4030345; 627517,4030590; 627589,4030621; 627610,4030873; 627666,4030985; 627771,4031084; 627879,4031068; 627921,4031084; 628088,4031349; 628146,4031545; 628225,4031711; 628271,4031928; 628342,4032031; 628643,4031999; 628741,4032100; 628792,4032123; 628889,4032075; 629016,4031914; 629169,4031888; 629241,4031714; 629786,4031660; 629889,4031683; 629978,4031828; 630029,4031864; 630144,4031849; 630324,4031755; 630588,4031759; 630721,4031738; 630873,4031783; 631037,4031935; 631103,4031969; 631187,4031969; 631362,4031912; 631545,4031962; 631666,4031904; 631719,4031914; 631824,4031971; 631988,4032135; 632333,4032266; 632436,4032280; 632598,4032351; 632670,4032348; 632785,4032292; 632854,4032296; 632999,4032401; 633161,4032698; 633203,4032904; 633305,4032747; 633509,4032610; 633687,4032444; 633881,4032390; 633989,4032248; 634176,4032162; 634238,4032107; 634371,4031889; 634449,4031824; 634543,4031796; 634558,4031759; 634494,4031543; 634451,4031243; 634777,4030901; 634786,4030866; 634707,4030670; 634723,4030500; 634819,4030403; 635022,4030362; 635161,4030254; 635219,4030033; 635380,4029868; 635391,4029771; 635367,4029626; 635507,4029368; 635465,4029053; 635661,4028916; 635648,4028792; 635669,4028717; 635628,4028410; 635704,4028076; 635661,4027903; 635645,4027680; 635748,4027507; 635692,4027467; 635638,4027332; 635403,4027164; 635327,4026784; 635209,4026720; 635153,4026605; 634935,4026365; 634885,4026164; 634746,4026073; 634605,4025864; 634485,4025791; 634314,4025609; 634137,4025576; 633961,4025508; 633803,4025351; 633621,4025077; 633470,4024906; 633334,4024914; 633176,4024967; 633100,4024946; 632947,4024982; 632656,4024913; 632376,4024790; 632215,4024814; 632074,4024880; 632014,4024835; 631753,4024759; 631588,4024812; 631388,4024924; 631186,4024929; 630863,4025141; 630665,4025370; 630579,4025657; 630412,4025822; 630273,4025894; 630032,4025962; 629846,4026111; 629730,4026172; 629445,4026240; 629344,4026288; 629225,4026418; 629164,4026536; 629059,4026632; 628888,4026886; 628747,4026741; 628675,4026605; 628643,4026187; 628584,4025963; 628358,4025689; 628307,4025393; 628174,4025284; 627998,4025199; 628029,4025111; 628026,4025024; 628140,4024783; 628335,4024251; 628389,4023998; 628377,4023895; 628309,4023719; 628101,4023443; 627887,4023248; 627725,4023146; 627633,4023016; 627439,4022876; 627360,4022673; 627353,4022568; 627551,4022184; 627645,4021935; 627588,4021694; 627588,4021602; 627644,4021271; 627704,4021126; 627710,4020952; 627610,4020464; 627916,4019856; 628015,4019764; 628098,4019620; 628414,4019415; 628524,4019377; 628502,4019214; 628717,4018734; 628740,4018389; 628952,4018059; 628948,4017989; 628809,4017716; 628702,4017635; 628622,4017516;628485,4017411; 628424,4017216; 628362,4017145; 628326,4017121; 628275,4017130; 628194,4017232; 627991,4017342; 627829,4017481; 627510,4017600; 627141,4017542; 626957,4017470; 626809,4017530; 626208,4017534; 625892,4017716; 625820,4017733; 625596,4017728; 625422,4017673; 625272,4017705; 625011,4018004; 624594,4018209; 624501,4018462; 624370,4018688; 624143,4018882; 623947,4018959; 623879,4019028; 623806,4019159; 623771,4019378; 623723,4019428; 623335,4019450; 623190,4019397; 623113,4019411; 622897,4019551; 622689,4019616; 622637,4019685; 622529,4019960; 622511,4020068; 622280,4020117; 622014,4020120; 621730,4020211; 621487,4020203; 621220,4020307; 620852,4020491; 620440,4020541; 620255,4020500; 619864,4020642; 619558,4020690; 619384,4020557; 619283,4020377; 618994,4020006; 618831,4019912; 618452,4019804; 618262,4019677; 618175,4019691; 618011,4019667; 617679,4019776; 617373,4019761; 617216,4019781; 617074,4019836; 616927,4019996; 616712,4020069; 616584,4020161; 616524,4020153; 616235,4020012; 616054,4020023; 615975,4020098; 615989,4020342; 615968,4020439; 615912,4020528; 615839,4020572; 615614,4020619; 615313,4020801; 615226,4020943; 615181,4021141; 615211,4021292; 615340,4021492; 615378,4021666; 615716,4022234; 615868,4022438; 616001,4022564; 615801,4022657; 615597,4022916; 615394,4023003; 615011,4023268; 614758,4023392; 614492,4023578; 614346,4023799; 614310,4023900; 614317,4024126; 614374,4024416; 614334,4024517; 614283,4024557; 614115,4024594; 613982,4024719; 613776,4024812; 613599,4025040; 613422,4025119; 613211,4025118; 613067,4025145; 612979,4025131; 612641,4025030; 612463,4024877; 612363,4024948; 612200,4024978; 612089,4024964; 611995,4024905; 611919,4024908; 611750,4025038; 611669,4025235; 611427,4025539; 611195,4025651; 610983,4025897; 610929,4025669; 610424,4025385; 609907,4025483; 609861,4025531; 609755,4025743; 609518,4025859; 609331,4026006; 609184,4026198; 608969,4026365; 608893,4026398; 608847,4027084; 608781,4027218; 608655,4027332; 608691,4027442; 608591,4027629; 608281,4027733; 607966,4028005; 607618,4028204; 607510,4028334; 607410,4028507; 607348,4028553; 607041,4028534; 606965,4028573; 606860,4028711; 606704,4028792; 606758,4028980; 606751,4029076; 606697,4029275; 606622,4029420; 606586,4029580; 606601,4029897; 606680,4030050; 606594,4030249; 606669,4030768; 606634,4030873; 606555,4030916; 606409,4030916; 606346,4030941; 606134,4031115; 605817,4031192; 605669,4031149; 605598,4031155; 605127,4031328; 604955,4031445; 604869,4031534; 604796,4031662; 604766,4031875; 604723,4031941; 604415,4032092; 604215,4032159; 604092,4032249; 603955,4032221; 603767,4032244; 603363,4032526; 603205,4032571; 603022,4032501; 602795,4032606; 602672,4032823; 602510,4032949; 602608,4033063; 602616,4033255; 602683,4033401; 602750,4033661; 602724,4033743; 602512,4033882; 602118,4034068; 601896,4034124; 601700,4034112; 601556,4034329; 601369,4034418; 601232,4034611; 601197,4035070; 601245,4035219; 601077,4035491; 601059,4035611; 601168,4035752; 601185,4035813; 601206,4035964; 601181,4036068; 601070,4036175; 600949,4036231; 600889,4036286; 600788,4036505; 600672,4036675; 600429,4036795; 600160,4036993; 600082,4037119; 600049,4037287; 599998,4037408; 599832,4037611; 599653,4037701; 599529,4037728; 599442,4037802; 599471,4038184; 599464,4038233; 599401,4038320; 599247,4038399; 599163,4038508; 599021,4038578; 598986,4038663; 598904,4038731; 598573,4038761; 598492,4038813; 598423,4038921; 598328,4038926; 598311,4039055; 598151,4039111; 598160,4039243; 598250,4039388; 598249,4039431; 598173,4039551; 598102,4039970; 597770,4040819; 597253,4041444; 596744,4041800; 596252,4042301; 595916,4042481; 595975,4042509; 596125,4042675; 596197,4042793; 596225,4042892; 596185,4042943; 596208,4042961; 596173,4043038; 596113,4043052; 596153,4043238; 596139,4043326; 596101,4043399; 596051,4043440; 596048,4043526; 595956,4043705; 595922,4043841; 595913,4044017; 595803,4044251; 595980,4044472; 596641,4044556; 597625,4043868; 598316,4044030; 598771,4043986; 599109,4044228; 599364,4044256; 599492,4044450; 599412,4044472; 599400,4044703; 598784,4044876; 598904,4045023; 598904,4045172; 598777,4045395; 598977,4046334; 599354,4046979; 599608,4047352; 599754,4047193; 600359,4046861; 600490,4046893; 600728,4047051; 600829,4047075; 601344,4047023; 601618,4047106; 601836,4047123; 601992,4046990; 602578,4046917; 602830,4047224; 603037,4047321; 603207,4047358; 603370,4047112; returning to 603442,4046923.

(ii) Note: Unit MNT-2 for California red-legged frog is depicted on the map in paragraph (34)(ii) of this entry.

(36) Unit MNT-3: Monterey County, California. From USGS 1:24,000 scale quadrangles Point Sur, Big Sur, Pfeiffer Point, Ventana Cones and Partington Ridge.

(i) Land bounded by the following UTM Zone 10, NAD83 coordinates (E,N): 599824,4020540; 600160,4020013; 600076,4019744; 600415,4019570; 600658,4019298; 601003,4019253; 601097,4019279; 601189,4019357; 601271,4019618; 601335,4019536; 601395,4019503; 601491,4019514; 601773,4019469; 601816,4019444; 601850,4019407; 601902,4019246; 602079,4019037; 602174,4019087; 602354,4019075; 602498,4019123; 602702,4019137; 602825,4019084; 602973,4018931; 603092,4018962; 603245,4019046; 603482,4019006; 603567,4018867; 603840,4018617; 604071,4018329; 604181,4018122; 604235,4018085; 604468,4018037; 604574,4017974; 604688,4017843; 604803,4017638; 604926,4017503; 605196,4017452; 605294,4017407; 605379,4017319; 605744,4017255; 605813,4017227; 605965,4017095; 606124,4017066; 606155,4017030; 606166,4016909; 606220,4016829; 606378,4016938; 606473,4016954; 606596,4017019; 606806,4016941; 607037,4016541; 607312,4016334; 607422,4016280; 607466,4016273; 607542,4016318; 607672,4016600; 607730,4016676; 607972,4016737; 608190,4016668; 608333,4016691; 608446,4016682; 608613,4016563; 608672,4016546; 608817,4016537; 609038,4016561; 609237,4016506; 609444,4016311; 609763,4016093; 610060,4016011; 610232,4015866; 610291,4015914; 610533,4015955; 610580,4015993; 610629,4016131; 610706,4016228; 611088,4016419; 611215,4016453; 611713,4016508; 611928,4016439; 612229,4016515; 612755,4016386; 612872,4016555; 612904,4016695; 613198,4016801; 613349,4016887; 613426,4016961; 613551,4017247; 613574,4017598; 613666,4017774; 613921,4017893; 614131,4018132; 614441,4018132; 614554,4018208; 614737,4018259; 615012,4018206; 615190,4018072; 615310,4018040; 615329,4017912; 615409,4017705; 615429,4017664; 615508,4017610; 615985,4017571; 616026,4017571; 616123,4017631; 616153,4017610; 616300,4017463; 616340,4017345; 616421,4017224; 616429,4017144; 616304,4016940; 616254,4016812; 616135,4016696; 616044,4016297; 615879,4016083; 615857,4015992; 615876,4015718; 615853,4015622; 615696,4015504; 615510,4015239; 615494,4015109; 615414,4014960; 615376,4014673; 615249,4014662; 615109,4014616; 615036,4014560; 614950,4014399; 614781,4014347; 614752,4014291; 614655,4014099; 614739,4014004; 614855,4013821; 614855,4013785; 614785,4013714; 614438,4013524; 614323,4013384; 614280,4013093; 614364,4012831; 614367,4012711; 614313,4012537; 614173,4012413; 614090,4012181; 613737,4012003; 613631,4011981; 613515,4012007; 613412,4011991; 613333,4011935; 613200,4011762; 613020,4011699; 612955,4011506; 613025,4011319; 613058,4011125; 613048,4011032; 613006,4010944; 613003,4010847; 613064,4010768; 613313,4010708; 613515,4010494; 613581,4010470; 613645,4010394; 613773,4010303; 613876,4010036; 613994,4009961; 614008,4009841; 614125,4009767; 614153,4009680; 614331,4009440; 614483,4009353; 614679,4009165; 614794,4009131; 614980,4009138; 615170,4009058; 615209,4008838; 615240,4008803; 615637,4008698; 615852,4008576; 615905,4008576; 615988,4008633; 616065,4008647; 616366,4008569; 616490,4008477; 616550,4008474; 616643,4008518; 616821,4008290; 617052,4008258; 617288,4008123; 618016,4008020; 618187,4007907; 618327,4007851; 618375,4007850; 618482,4007931; 618583,4007951; 618694,4007933; 619021,4007813; 619251,4007637; 619473,4007351; 619646,4007177; 619758,4007001; 620061,4006831; 620156,4006669; 620338,4006512; 620413,4006400; 620486,4006172; 620633,4005989; 620556,4005825; 620401,4005636; 620082,4005388; 619827,4005255; 619673,4005143; 619492,4005073; 619408,4004977; 619192,4004812; 619116,4004691; 619165,4004312; 619270,4004107; 619333,4003893; 619480,4003708; 619612,4003605; 619604,4003535; 619498,4003282; 619617,4003037; 619574,4002927; 619548,4002555; 619466,4002366; 619346,4002426; 619301,4002388; 619256,4002458; 619199,4002467; 619208,4002531; 619282,4002593; 619267,4002635; 619217,4002647; 619198,4002739; 619109,4002901; 618952,4002935; 618919,4002976; 618923,4003038; 618883,4003081; 618585,4003204; 618524,4003175; 618473,4003204; 618458,4003164; 618419,4003171; 618409,4003273; 618358,4003318; 618351,4003365; 618312,4003369; 618278,4003329; 618130,4003391; 618119,4003452; 618077,4003432; 618052,4003445; 618039,4003506; 617967,4003578; 617892,4003603; 617837,4003691; 617799,4003657; 617746,4003672; 617684,4003813; 617650,4003825; 617569,4003753; 617528,4003753; 617488,4003792; 617476,4003879; 617440,4003914; 617481,4003970; 617400,4004012; 617351,4004091; 617297,4004096; 617274,4004180; 617244,4004160; 617263,4004053; 617209,4004022; 617118,4004104; 617154,4004182; 617036,4004132; 616954,4004221; 616910,4004342; 616933,4004372; 616934,4004461; 616899,4004509; 616801,4004553; 616757,4004834; 616613,4004966; 616572,4004981; 616539,4004948; 616521,4004987; 616543,4005024; 616395,4005136; 616313,4005236; 616250,4005262; 616164,4005252; 616219,4005329; 616183,4005349; 616175,4005470; 616117,4005578; 616031,4005680; 615882,4005765; 615807,4005864; 615646,4005878; 615577,4005977; 615499,4005993; 615495,4006036; 615528,4006041; 615527,4006111; 615397,4006326; 615291,4006407; 615094,4006495; 614997,4006583; 614689,4006742; 614392,4006843; 614356,4006848; 614339,4006820; 614287,4006839; 614153,4006939; 614079,4007089; 613956,4007187; 613801,4007223; 613765,4007211; 613596,4007282; 613563,4007255; 613516,4007290; 613408,4007318; 613414,4007343; 613314,4007439; 613323,4007520; 613248,4007644; 613160,4007717; 612929,4007815; 612830,4007917; 612699,4008005; 612517,4008037; 612471,4008066; 612410,4008024; 612385,4008031; 612390,4008062; 612230,4008014; 612140,4008043; 612046,4008042; 612044,4008081; 611984,4008101; 611910,4008207; 611844,4008224; 611858,4008256; 611804,4008355; 611700,4008471; 611484,4008596; 611348,4008752; 611225,4008800; 611166,4008891; 611047,4008924; 610973,4009055; 610717,4009215; 610670,4009206; 610683,4009244; 610504,4009385; 610321,4009432; 610175,4009532; 610133,4009493; 610081,4009514; 610057,4009484; 610050,4009526; 610102,4009568; 610088,4009618; 610031,4009671;609575,4009924; 609424,4009932; 609408,4009906; 609370,4009902; 609297,4009953; 609174,4009944; 609118,4009982; 609022,4009959; 609029,4010046; 608990,4010126; 608885,4010197; 608720,4010216; 608718,4010302; 608597,4010401; 608480,4010412; 608380,4010458; 608252,4010459; 608265,4010532; 608101,4010614; 607847,4010675; 607718,4010660; 607324,4010462; 607203,4010448; 607076,4010466; 607001,4010533; 606910,4010549; 606842,4010488; 606830,4010541; 606818,4010510; 606792,4010571; 606722,4010574; 606686,4010620; 606610,4010595; 606485,4010708; 606497,4010798; 606473,4010807; 606463,4010861; 606491,4010869; 606512,4010925; 606483,4011019; 606336,4011026; 606310,4011126; 606271,4011168; 606185,4011210; 606122,4011205; 606073,4011354; 605882,4011402; 605820,4011442; 605628,4011387; 605435,4011426; 605453,4011474; 605308,4011669; 605314,4011753; 605282,4011836; 605138,4011994; 604977,4012059; 604872,4012049; 604837,4012022; 604804,4012051; 604809,4012107; 604683,4012161; 604635,4012238; 604589,4012266; 604482,4012247; 604451,4012216; 604398,4012246; 604391,4012276; 604584,4012327; 604612,4012386; 604570,4012775; 604476,4013033; 604357,4013279; 604286,4013350; 604304,4013387; 604258,4013483; 604156,4013597; 604133,4013722; 604086,4013832; 603972,4013977; 603903,4014203; 603864,4014228; 603754,4014433; 603707,4014460; 603698,4014498; 603666,4014502; 603687,4014552; 603673,4014633; 603499,4014836; 603468,4014932; 603397,4015021; 603248,4015117; 603138,4015361; 602995,4015419; 602937,4015544; 602866,4015567; 602853,4015600; 602674,4015694; 602465,4015733; 602395,4015703; 602420,4015744; 602545,4015778; 602566,4015839; 602507,4015784; 602394,4015763; 602368,4015684; 602435,4015640; 602408,4015582; 602283,4015671; 602108,4015686; 602012,4015882; 601790,4016158; 601455,4016413; 601264,4016523; 601061,4016582; 600966,4016727; 600883,4016754; 600876,4016914; 600764,4017075; 600694,4017047; 600675,4017077; 600546,4017115; 600450,4017280; 600435,4017240; 600335,4017393; 600370,4017419; 600340,4017482; 600110,4017821; 600058,4017958; 599977,4018034; 599745,4018155; 599436,4018220; 599387,4018198; 599233,4018251; 599165,4018322; 599049,4018370; 599010,4018359; 598950,4018198; 598797,4018110; 598779,4018158; 598743,4018168; 598738,4018239; 598674,4018299; 598660,4018350; 598611,4018343; 598596,4018387; 598527,4018449; 598527,4018598; 598574,4018594; 598600,4018560; 598612,4018579; 598630,4018560; 598664,4018576; 598793,4018542; 599175,4019469; 599234,4019748; 599232,4019918; 599208,4019976; 599211,4020120; 599161,4020249; 599161,4020348; 599099,4020396; 599148,4020437; 599194,4020626; 599110,4020756; 599034,4020793; 599033,4020829; 599130,4020915; 599188,4021043; 599275,4021431; 599569,4021331; 599671,4021054; 599706,4020790; returning to 599824,4020540.

(ii) Note: Unit MNT-3 for California red-legged frog is depicted on the map in paragraph (34)(ii) of this entry.

(37) Unit SNB-1: San Benito County, California. From USGS 1:24,000 scale quadrangles San Juan Bautista, Hollister, Mt. Harlan, Tres Pinos and Pacines.

(i) Land bounded by the following UTM Zone 10, NAD83 coordinates (E,N): 635964,4075794; 636333,4075764; 636809,4075566; 637368,4075520; 637770,4075623; 638436,4075288; 639151,4074594; 639270,4074217; 639547,4073979; 640024,4073740; 640877,4073582; 641790,4073621; 642345,4072947; 642286,4072173; 642484,4071954; 642762,4071855; 643099,4071915; 643635,4071756; 644786,4072133; 645168,4072165; 645182,4072089; 645215,4072050; 645297,4072025; 645689,4072165; 645970,4072109; 646564,4072409; 646718,4072467; 646868,4072460; 646951,4072481; 647085,4072584; 647187,4072702; 647313,4072739; 648149,4072394; 648592,4072283; 648891,4072233; 649177,4072132; 649265,4072094; 649320,4072027; 649574,4072372; 649804,4072538; 649950,4072309; 650247,4072695; 650886,4072656; 651305,4072378; 651525,4072011; 651845,4071771; 652028,4071278; 652022,4070800; 651786,4070356; 651865,4070144; 651782,4070129; 652109,4069671; 652194,4069177; 652486,4069355; 652823,4069355; 653041,4069196; 652962,4068740; 653765,4068035; 653589,4067442; 653597,4067238; 653815,4066736; 653668,4066229; 653679,4065476; 653994,4063632; 652942,4063283; 653031,4062765; 653530,4062965; 653541,4062532; 653207,4062386; 653110,4062128; 653103,4061717; 652942,4061338; 653312,4061251; 653249,4060324; 653353,4060150; 653604,4060053; 653896,4059774; 654593,4058960; 654628,4058800; 654725,4058716; 655240,4058549; 655507,4058397; 655372,4058208; 655192,4058144; 654903,4058122; 654808,4058074; 654771,4058036; 654773,4057912; 654719,4057732; 654495,4057373; 654408,4057408; 654191,4057584; 654109,4057612; 653950,4057808; 653623,4057838; 653469,4057893; 653343,4057879; 652921,4058001; 652855,4058037; 652805,4058100; 652756,4058251; 652559,4058403; 652489,4058406; 652398,4058455; 652215,4058434; 652118,4058516; 652009,4058520; 651772,4058471; 651708,4058559; 651512,4058709; 651442,4058801; 651354,4058847; 651244,4058860; 651121,4058794; 650965,4058759; 650906,4058835; 650871,4058956; 650779,4058975; 650548,4058948; 650439,4058814; 650333,4058793; 650227,4058820; 649962,4058666; 649849,4058672; 649713,4058741; 649644,4058825; 649655,4058975; 649636,4059012; 649490,4059171; 649577,4059272; 649600,4059590; 649670,4059721; 649688,4059816; 649698,4060285; 649822,4060420; 649874,4060527; 649860,4060682; 649961,4060946; 649961,4061111; 650024,4061281; 649952,4061533; 650024,4061641; 650089,4061931; 649996,4062080; 649966,4062184; 649831,4062318; 649807,4062398; 649832,4062527; 649811,4062612; 649655,4062746; 649590,4062864; 649599,4062910; 649922,4063061; 649992,4063123; 649750,4063250; 649827,4063402; 649827,4063977; 649132,4064573; 648418,4064893; 648368,4065024; 648317,4065022; 648117,4065116; 648001,4065215; 647583,4065483; 647454,4065430; 647394,4065447; 647285,4065554; 647116,4065618; 646912,4065745; 646608,4065846; 646285,4066090; 645890,4066269; 645802,4066404; 645728,4066467; 645205,4066564; 645059,4066674; 644800,4066725; 644714,4066864; 644542,4066904; 644324,4067042; 644165,4067088; 644110,4067045; 643674,4067190; 643421,4067144; 643165,4067133; 642961,4067068; 642635,4067037; 642422,4066906; 642330,4066899; 642247,4066922; 642010,4067039; 641735,4067265; 641420,4067377; 641253,4067521; 641226,4067664; 640958,4067776; 640877,4067786; 640729,4067743; 640417,4067543; 640304,4067596; 640247,4067603; 640191,4067576; 640033,4067428; 639981,4067234; 639935,4067174; 639865,4067138; 639778,4067110; 639705,4067121; 639549,4067218; 639471,4067237; 639342,4067194; 639081,4067022; 638984,4066910; 638921,4066756; 638947,4066568; 638881,4066391; 638891,4066275; 638850,4066215; 638511,4066154; 638256,4066043; 638012,4066018; 637966,4066036; 637979,4066180; 637766,4066284; 637719,4066357; 637576,4066468; 637525,4066563; 637527,4066631; 637723,4066757; 637471,4066841; 637448,4066886; 637469,4067042; 637440,4067180; 637470,4067249; 637302,4067389; 637268,4067461; 637261,4067559; 637113,4067596; 637001,4067532; 636959,4067533; 636925,4067569; 636870,4067747; 636753,4067684; 636659,4067737; 636425,4067735; 636317,4067811; 636291,4067957; 636197,4068139; 636158,4068159; 636073,4068136; 635961,4068564; 635992,4068667; 636093,4068804; 636145,4068950; 636128,4069061; 636102,4069118; 636022,4069185; 635904,4069401; 635755,4069435; 635690,4069477; 635678,4069594; 635583,4069708; 635592,4069830; 635531,4069880; 635662,4070360; 635762,4070572; 635979,4070786; 635805,4070815; 635638,4070940; 635518,4071208; 635534,4071479; 635648,4071712; 635628,4072017; 635727,4072560; 635705,4073010; 635815,4073223; 635999,4073422; 636117,4073620; 636042,4073785; 635831,4073954; 635602,4074066; 635336,4074121; 634457,4074523; 633815,4074869; 633538,4074975; 633367,4075131; 633270,4075185; 633260,4075316; 633189,4075401; 633021,4075473; 632885,4075595; 632764,4075650; 632775,4075748; 632735,4075795; 633860,4075970; 634467,4075645; 634857,4075991; returning to 635964,4075794.

(ii) Note: Map of Units SNB-1, SNB-2, and SNB-3 for the California red-legged frog follows:

BILLING CODE 4310-55-S

BILLING CODE 4310-55-C

(38) Unit SNB-2: San Benito County, California. From USGS 1:24,000 scale quadrangles Cherry Peak, Panoche Pass, San Benito and Cerro Colorado.

(i) Land bounded by the following UTM Zone 10, NAD83 coordinates (E,N): 676029,4062601; 676230,4062578; 676483,4062490; 676510,4062448; 676554,4062204; 676704,4061886; 676692,4061546; 676790,4061442; 676820,4061061; 676804,4060981; 676862,4060922; 676974,4060952; 677119,4061055; 677323,4061004; 677447,4061014; 677774,4061125; 677852,4061182; 678022,4061438; 678008,4061572; 677919,4061760; 677918,4061809; 677972,4061873; 678139,4061952; 678262,4061930; 678408,4061970; 678512,4061969; 678766,4061884; 679155,4061826; 679258,4061780; 679420,4061646; 679485,4061625; 679889,4061630; 680240,4061551; 680325,4061484; 680444,4061474; 680422,4061242; 680338,4061037; 680335,4060777; 680268,4060568; 680276,4060473; 680347,4060282; 680344,4060098; 680278,4059853; 680117,4059594; 680160,4059059; 680016,4058815; 679949,4058582; 679944,4058267; 679972,4058198; 680064,4058089; 679986,4057901; 679769,4057775; 679691,4057687; 679627,4057447; 679640,4057235; 679455,4056952; 679404,4056741; 679241,4056434; 679254,4056369; 679417,4056236; 679456,4056006; 679273,4055833; 679122,4055575; 679023,4055587; 678850,4055678; 678685,4055607; 678587,4055601; 678445,4055503; 678383,4055500; 678173,4055561; 678035,4055573; 677873,4055670; 677800,4055642; 677692,4055517; 677375,4055399; 677213,4055301; 677058,4055273; 677034,4055411; 677123,4055589; 677082,4055816; 677080,4055937; 677128,4056087; 677110,4056228; 677021,4056448; 676918,4056569; 676645,4056729; 676541,4056588; 676603,4056341; 676570,4056235; 676487,4056162; 676356,4056126; 676047,4055850; 675931,4055727; 675857,4055548; 675714,4055436; 675690,4055386; 675698,4055277; 675758,4055161; 675723,4054930; 675770,4054773; 675766,4054697; 675169,4054557; 675036,4054641; 674682,4054689; 674510,4054761; 674416,4054839; 674252,4054834; 674085,4054870; 673922,4054945; 673772,4054946; 673664,4054828; 673621,4054810; 673503,4054822; 673276,4054751; 673053,4054732; 673005,4054709; 672759,4054349; 672728,4054251; 672763,4053963; 672594,4054069; 672241,4054145; 672092,4054148; 671925,4054184; 671643,4054153; 671402,4054228; 671332,4054433; 671105,4054658; 671026,4054901; 670928,4055057; 670847,4055121; 670721,4055533; 670663,4055653; 670482,4055860; 670445,4056154; 670393,4056277; 670502,4056463; 670493,4056600; 670462,4056643; 670249,4056743; 670126,4056907; 670109,4056970; 670131,4057085; 670107,4057225; 670068,4057295; 670019,4057322; 669844,4057338; 669602,4057302; 669506,4057253; 669459,4057264; 669389,4057380; 669177,4057496; 668976,4057461; 668834,4057516; 668659,4057467; 668447,4057459; 668086,4057206; 667912,4057169; 667789,4057106; 667618,4057125; 667416,4057334; 667469,4057389; 667516,4057510; 667542,4057751; 667499,4057953; 667312,4058286; 667287,4058459; 667323,4058648; 667507,4058762; 667531,4058809; 667486,4058914; 667298,4059118; 667285,4059361; 667327,4059662; 667320,4059715; 667248,4059838; 667276,4060161; 667420,4060361; 667588,4059980; 667749,4059922; 667984,4059900; 668141,4059803; 668305,4059585; 668442,4059453; 668427,4059331; 668450,4059302; 668559,4059267; 668726,4059286; 669161,4059410; 669258,4059375; 669320,4059286; 669377,4059247; 669746,4059144; 670294,4059563; 670453,4059748; 670531,4059889; 670773,4060050; 670815,4060223; 670881,4060249; 670961,4060245; 671185,4060195; 671331,4060210; 671460,4060163; 671547,4060207; 671576,4060307; 671940,4060616; 671995,4060719; 672085,4060743; 672152,4060888; 672221,4060958; 672258,4061070; 672099,4061294; 672094,4061394; 672125,4061545; 672046,4061649; 671976,4061960; 672066,4062276; 672210,4062447; 672317,4062472; 672421,4062400; 672612,4062462; 672694,4062576; 672743,4062612; 672792,4062606; 672999,4062387; 673187,4062313; 673395,4062325; 673460,4062242; 673677,4062114; 673786,4062217; 673794,4062345; 673763,4062494; 673843,4062570; 674152,4062720; 674205,4062627; 674437,4062581; 674638,4062578; 674766,4062660; 675068,4063046; 675164,4063105; 675321,4063155; 675373,4063154; 675452,4062990; 675541,4062940; 675616,4062860; 675844,4062782; 675926,4062673; returning to 676029,4062601.

(ii) Note: Unit SNB-2 for California red-legged frog is depicted on the map in paragraph (37)(ii) of this entry.

(39) Unit SNB-3: San Benito and Monterey Counties, California. From USGS 1:24,000 scale quadrangles Mount Johnson, Bickmore Canyon, North Chalone Peak, San Benito and Topo Valley.

(i) Land bounded by the following UTM Zone 10, NAD83 coordinates (E,N): 667961,4051790; 668106,4051812; 668286,4051788; 668405,4051734; 668529,4051611; 668730,4051545; 668794,4051501; 668881,4051383; 669289,4051134; 669464,4050957; 669575,4050880; 669623,4050812; 669742,4050747; 670106,4050415; 670363,4050329; 670573,4050143; 670845,4050005; 670906,4049872; 670752,4049571; 670742,4049485; 670673,4049309; 670676,4049267; 670761,4049165; 670856,4048941; 670931,4048872; 671080,4048830; 671193,4048831; 671345,4048914; 671408,4048916; 671785,4048650; 671892,4048493; 671889,4048376; 671989,4048203; 671980,4048026; 672031,4047891; 672069,4047870; 672119,4047880; 672582,4048045; 672695,4048107; 672752,4048122; 672795,4048106; 672960,4047995; 673123,4047927; 673288,4047775; 673445,4047669; 674242,4047306; 674399,4047188; 674466,4047097; 675044,4046732; 675311,4046480; 675502,4046420; 675673,4046166; 675794,4046074; 675874,4045960; 676119,4045781; 676078,4045736; 676029,4045554; 675891,4045303; 675802,4045226; 675588,4045108; 675460,4044844; 675366,4044549; 675429,4044427; 675420,4044259; 675510,4044072; 675702,4043860; 675873,4043724; 676022,4043469; 676125,4043365; 676186,4042894; 676150,4042557; 676179,4042466; 676326,4042244; 676460,4042121; 676516,4041635; 676478,4041577; 676340,4041478; 676285,4041379; 676314,4041108; 676367,4040942; 676327,4040655; 676328,4040487; 676353,4040393; 676427,4040314; 676424,4040257; 676276,4040145; 676166,4040095; 676151,4040034; 676153,4039774; 676245,4039545; 676371,4039361; 676379,4039310; 676343,4039253; 676176,4039111; 675991,4038844; 675900,4038970; 675749,4039119; 675660,4039176; 675588,4039194; 675558,4039176; 675289,4038881; 675003,4038721; 674969,4038682; 674974,4038537; 675065,4038307; 675059,4038204; 675025,4038154; 674866,4038054; 674741,4037929; 674550,4037791; 674388,4037719; 674240,4037693; 673997,4037470; 673695,4037422; 673521,4037324; 673336,4037169; 673138,4037115; 673030,4037113; 672780,4037264; 672552,4037674; 672401,4037820; 672208,4038098; 672058,4038263; 671998,4038293; 671947,4038274; 671879,4038120; 671724,4038008; 671635,4038205; 671507,4038385; 671357,4038342; 671187,4038241; 671074,4038139; 670967,4037982; 670793,4037860; 670598,4037653; 670434,4037429; 670240,4037291; 669864,4036914; 669527,4036650; 669388,4036434; 669214,4036273; 669160,4036025; 669126,4035957; 669075,4035923; 668981,4035746; 668756,4035520; 668595,4035459; 668527,4034981; 668439,4034908; 668297,4034707; 668190,4034629; 668124,4034500; 668278,4034256; 668253,4034044; 668222,4034002; 668061,4033952; 667958,4033874; 667828,4033860; 667711,4033876; 667681,4033845; 667654,4033718; 667713,4033572; 667720,4033441; 667556,4033219; 667480,4032952; 667442,4032910; 667271,4032863; 666975,4032619; 666832,4032603; 666753,4032494; 666585,4032485; 666436,4032574; 666092,4032562; 665986,4032580; 665680,4032536; 665616,4032553; 665554,4032611; 665469,4032750; 665427,4032772; 665393,4032867; 665368,4033081; 665321,4033199; 665298,4033401; 665178,4033485; 665064,4033647; 665003,4033697; 664800,4033749; 664632,4033710; 664319,4033689; 664236,4033713; 664161,4033806; 664107,4033810; 663652,4033789; 663442,4033723; 663280,4033713; 662986,4033790; 662763,4033807; 662623,4033932; 662588,4034146; 662267,4034294; 662008,4034306; 661907,4034272; 661793,4034199; 661746,4034200; 661709,4034260; 661635,4034658; 661707,4035056; 661690,4035158; 661489,4035541; 661526,4035890; 661410,4036077; 661231,4036171; 661106,4036282; 661052,4036373; 660950,4036471; 660867,4036645; 660789,4036744; 660478,4036933; 660395,4037013; 660261,4037211; 660210,4037355; 660078,4037516; 659899,4037938; 659754,4038008; 659614,4037855; 659565,4037841; 659456,4037977; 659296,4037977; 659230,4037948; 659203,4037845; 659161,4037789; 659105,4037775; 659061,4037796; 658987,4037768; 658814,4037927; 658769,4038012; 658630,4038115; 658571,4038395; 658530,4038479; 658551,4038517; 658629,4038552; 658747,4038697; 658748,4038725; 658654,4038859; 658706,4038991; 658729,4039162; 658517,4039362; 658454,4039570; 658338,4039634; 658341,4039702; 658468,4039922; 658467,4039964; 658286,4040094; 658266,4040188; 658156,4040398; 657990,4040522; 657915,4040617; 657806,4040906; 657749,4040980; 657659,4041366; 657498,4041432; 657311,4041415; 657159,4041562; 657073,4041538; 656954,4041583; 656933,4041519; 656788,4041430; 656756,4041317; 656595,4041436; 656536,4041444; 656265,4041221; 656119,4041302; 655915,4041325; 655751,4041245; 655570,4041203; 655490,4041252; 655421,4041245; 655350,4041209; 655279,4041109; 655204,4041057; 655129,4041067; 655042,4041034; 654801,4041055; 654747,4041137; 654588,4041162; 654420,4041156; 654326,4041093; 654140,4041047; 653783,4041106; 653659,4041227; 653588,4041406; 653456,4041371; 653389,4041304; 653238,4041382; 653052,4041368; 652959,4041442; 652759,4041452; 652563,4041309; 652515,4041200; 652379,4041252; 652239,4041389; 652098,4041367; 652045,4041307; 652007,4041186; 651862,4041108; 651839,4041009; 651675,4040963; 651545,4040697; 651499,4040667; 651424,4040706; 651386,4040820; 651287,4040863; 651262,4040899; 651194,4041019; 651161,4041252; 651205,4041323; 651353,4041394; 651348,4041464; 651267,4041680; 651299,4041804; 651392,4041812; 651482,4041906; 651498,4041967; 651608,4042074; 651602,4042262; 651554,4042334; 651548,4042498; 651580,4042610; 651823,4042693; 651912,4042762; 651924,4042796; 651879,4042853; 651950,4043006; 652047,4043116; 652160,4043159; 652147,4043248; 652167,4043283; 652328,4043355; 652421,4043430; 652463,4043510; 652463,4043625; 652504,4043690; 652593,4043756; 652540,4044007; 652443,4044098; 652501,4044186; 652448,4044367; 652864,4044432; 653134,4044389; 653613,4044440; 653910,4044555; 654260,4044754; 654396,4044748; 654472,4044774; 654568,4044864; 654632,4044871; 654666,4044900; 654692,4045074; 654774,4045161; 655117,4045283; 655019,4045442; 655012,4045625; 654950,4045852; 655027,4046199;655145,4046256; 655177,4046306; 655164,4046576; 655277,4046794; 655223,4047256; 655236,4047279; 655479,4047444; 655594,4047473; 655745,4047425; 655941,4047572; 656406,4047728; 656477,4047732; 656585,4047830; 656675,4047974; 656781,4048017; 656933,4048176; 657046,4048165; 657124,4048205; 657266,4048487; 657297,4048510; 657605,4048503; 657703,4048554; 657707,4048650; 657791,4048739; 657956,4048770; 658173,4048741; 658299,4048822; 658374,4048847; 658461,4048840; 658653,4048961; 658762,4049086; 659023,4049113; 659286,4049021; 659600,4049040; 659677,4048990; 659823,4049043; 660116,4048831; 660244,4048828; 660318,4048878; 660427,4048890; 660688,4048763; 660742,4048645; 660913,4048582; 661149,4048433; 661265,4048292; 661560,4048228; 661690,4048291; 661863,4048334; 662393,4048927; 662507,4049019; 662618,4049053; 662957,4048782; 663147,4048419; 663401,4048230; 663534,4048164; 663696,4048213; 663818,4048193; 663858,4048175; 664064,4047958; 664212,4048004; 664340,4048005; 664593,4047746; 664625,4047777; 664762,4047778; 664912,4047853; 664944,4047844; 665193,4047538; 665285,4047462; 665348,4047445; 666403,4046360; 666738,4046119; 666885,4045932; 667099,4045921; 667285,4046172; 667291,4046459; 667382,4046613; 667424,4046795; 667398,4046955; 667437,4047135; 667424,4047203; 667362,4047288; 667241,4047378; 667202,4047480; 667108,4047580; 667078,4047635; 667081,4047810; 666953,4047917; 666899,4048099; 666774,4048291; 666864,4048549; 666830,4048677; 666846,4048727; 667077,4049080; 666957,4049470; 666936,4049730; 666331,4050181; 666286,4050223; 666217,4050378; 665899,4050557; 665885,4050586; 666238,4050687; 666655,4050936; 666764,4051033; 666857,4051048; 666893,4051082; 666963,4051260; 667016,4051308; 667105,4051351; 667240,4051372; 667340,4051578; 667492,4051738; 667615,4051971; 667711,4051907; 667868,4051881; returning to 667961,4051790.

(ii) Note: Unit SNB-3 for California red-legged frog is depicted on the map in paragraph (37)(ii) of this entry.

(40) Unit SLO-1: San Luis Obispo, Kings and Kern Counties, California. From USGS 1:24,000 scale quadrangles Cholame Valley, Tent Hills, Cholame and Orchard Peak.

(i) Land bounded by the following UTM Zone 10, NAD83 coordinates (E,N): 752130,3963634; 752268,3963595; 752394,3963470; 752407,3963405; 752337,3963122; 752346,3963062; 752406,3962984; 752361,3962832; 752393,3962782; 752588,3962626; 752678,3962626; 752775,3962577; 752826,3962473; 753072,3962276; 753155,3962031; 753511,3961661; 753685,3961512; 753754,3961493; 753848,3961519; 753876,3961497; 753898,3961262; 753879,3961211; 753853,3961149; 753726,3961118; 753700,3960932; 753593,3960808; 753587,3960682; 753454,3960429; 753346,3960103; 753157,3960041; 753037,3960096; 752873,3959964; 752717,3959922; 752584,3959853; 752489,3959848; 752439,3959886; 752549,3959740; 752561,3959656; 752616,3959569; 752602,3959458; 752635,3959370; 752581,3959240; 752629,3959088; 752625,3959024; 752693,3958918; 752698,3958821; 752928,3958591; 753081,3958496; 753277,3958434; 753384,3958236; 753360,3958091; 753139,3957977; 753211,3957846; 753347,3957726; 753383,3957376; 753949,3957107; 755936,3955917; 756434,3955534; 756685,3955378; 756712,3955383; 756860,3954963; 756937,3954849; 757346,3954534; 757615,3954384; 757806,3954309; 757985,3954183; 758132,3953974; 758226,3953688; 758154,3953752; 758023,3953773; 757146,3954055; 757020,3954142; 756930,3954253; 756863,3954257; 756530,3954175; 756254,3954059; 755887,3954387; 755715,3954502; 755657,3954494; 755540,3954425; 755295,3954246; 755281,3954215; 755299,3954110; 755212,3953999; 755084,3953943; 755014,3953871; 755256,3953644; 755340,3953499; 755434,3953418; 755534,3953372; 755679,3953185; 755837,3953057; 755884,3952815; 755772,3952588; 755918,3952622; 756007,3952600; 756033,3952551; 756006,3952390; 755863,3952018; 755696,3951981; 755458,3951873; 755424,3951773; 755432,3951733; 755511,3951644; 755507,3951608; 755206,3951465; 755086,3951288; 754952,3951245; 754878,3951181; 754722,3950867; 754612,3950785; 754424,3950851; 754358,3950847; 754245,3950810; 754180,3950747; 754222,3950590; 754207,3950531; 754044,3950337; 753934,3950258; 753718,3949714; 753969,3949413; 753904,3949255; 753850,3949020; 753846,3948668; 753755,3948743; 753685,3949000; 753637,3949080; 753377,3949285; 753232,3949478; 753036,3949656; 752666,3949923; 752612,3950029; 752412,3950170; 752330,3950365; 752195,3950371; 751985,3950664; 751801,3950759; 751769,3950792; 751748,3950875; 751675,3950945; 751532,3951019; 751423,3951002; 751375,3951021; 751199,3951131; 750972,3951432; 750879,3951603; 750606,3951894; 750465,3952104; 750385,3952171; 750314,3952193; 750202,3952182; 750202,3952580; 750094,3953028; 750327,3954015; 750668,3954626; 750740,3954967; 750709,3955975; 750585,3956208; 750547,3956245; 750410,3956292; 750382,3956351; 750422,3956497; 750315,3956542; 750164,3956674; 749890,3956809; 749604,3957047; 749026,3957063; 748897,3957025; 748668,3957036; 748483,3957205; 748346,3957421; 748265,3957501; 748201,3957526; 748118,3957507; 748014,3957446; 747903,3957443; 747729,3957588; 747410,3957621; 747147,3957833; 746949,3957941; 746986,3958051; 746980,3958196; 746943,3958354; 746766,3958660; 746756,3958787; 746857,3959111; 746903,3959687; 746844,3959774; 746602,3959975; 746502,3960162; 746447,3960491; 746249,3960832; 746115,3960992; 746275,3961146; 746729,3961287; 746987,3961257; 747111,3961191; 747168,3961212; 747252,3961334; 747283,3961583; 747374,3961734; 747443,3961733; 747595,3961650; 747697,3961709; 747736,3961849; 747796,3961925; 747782,3962015; 747859,3962354; 747907,3962505; 747966,3962593; 748060,3962654; 748175,3962794; 748290,3962869; 748518,3963103; 748689,3963150; 748922,3963160; 749031,3963210; 749087,3963366; 749147,3963426; 749271,3963424; 749423,3963311; 749527,3963293; 749691,3963318; 749781,3963239; 749819,3963084; 749862,3963037; 750137,3963026; 750160,3963114; 750272,3963206; 750339,3963349; 750548,3963470; 750677,3963620; 750913,3963709; 751032,3963973; 751112,3964028; 751238,3964071; 751349,3964178; 751589,3964225; 751636,3964226; 751799,3964132; 751942,3964094; 752044,3963957; 752125,3963905; 752170,3963839; 752158,3963766; 752089,3963653; returning to 752130,3963634.

(ii) Note: Map of Unit SLO-1 for the California red-legged frog follows:

BILLING CODE 4310-55-S

BILLING CODE 4310-55-C

(41) Unit SLO-2: San Luis Obispo County, California. From USGS 1:24,000 scale quadrangles San Simeon, Pico Creek, Pebblestone Shut-In, Cambria, Cypress Mountain and Cayucos.

(i) Land bounded by the following UTM Zone 10, NAD83 coordinates (E,N): 667646,3942846; 667780,3942944; 667819,3942909; 667893,3942946; 667863,3943128; 668006,3943148; 668053,3943117; 668518,3942425; 668370,3942341; 669215,3941495; 669881,3942053; 669872,3943315; 669526,3944081; 669634,3944182; 669652,3944280; 669742,3944335; 669742,3944420; 669809,3944552; 669930,3944597; 669960,3944696; 670083,3944774; 670218,3944786; 670393,3944860; 670453,3944967; 670457,3944943; 670864,3944950; 670962,3944935; 671010,3944900; 671119,3944931; 671156,3944924; 671248,3944833; 671398,3944889; 671471,3944841; 671517,3944846; 671585,3944915; 671564,3944989; 671863,3944992; 671926,3945102; 671935,3945574; 671795,3945579; 671863,3945651; 671914,3945929; 671994,3946030; 672170,3946174; 672407,3946184; 672634,3946417; 672754,3946748; 672983,3946940; 673302,3947046; 673390,3947116; 674383,3947130; 674368,3947933; 674770,3947939; 674755,3948747; 675161,3948754; 675154,3949156; 675557,3949162; 675547,3949793; 675716,3949733; 675929,3949731; 676107,3949680; 676264,3949546; 676384,3949387; 676641,3949239; 676920,3949105; 677085,3949101; 677246,3949054; 677774,3948548; 678045,3948421; 678198,3948303; 678424,3948060; 678776,3947744; 679198,3947097; 679425,3946821; 679719,3946541; 679998,3946410; 680162,3946414; 680440,3946355; 680848,3946366; 681036,3946274; 681110,3946171; 681176,3946148; 681255,3946047; 681483,3945941; 681617,3945812; 681774,3945712; 682301,3945669; 682404,3945544; 682485,3945352; 682594,3945305; 682741,3945347; 682828,3945335; 682925,3945202; 683053,3945148; 683095,3945105; 683234,3944890; 683445,3944697; 683489,3944598; 683500,3944452; 683567,3944323; 683585,3944107; 683800,3943846; 683934,3943771; 684122,3943864; 684202,3943874; 684274,3943851; 684457,3943743; 684701,3943500; 684801,3943497; 685090,3943246; 685088,3943113; 685046,3942988; 684948,3942884; 684956,3942767; 684848,3942549; 684840,3942395; 684873,3942269; 685216,3941891; 685287,3941688; 685471,3941484; 685587,3941422; 685733,3941399; 685853,3941434; 685969,3941512; 686151,3941583; 686223,3941529; 686533,3941409; 686636,3941331; 686802,3941090; 687236,3940889; 687315,3940894; 687428,3940823; 687576,3940777; 687624,3940682; 687613,3940492; 687772,3940210; 687840,3939947; 688070,3939786; 688189,3939735; 688285,3939635; 688507,3939593; 688798,3939579; 688909,3939512; 689130,3939463; 689331,3939296; 689208,3939134; 689189,3938977; 689225,3938928; 689500,3938800; 689593,3938724; 689632,3938551; 689727,3938412; 689679,3938240; 689716,3938046; 689827,3937892; 689706,3937633; 689618,3937503; 689608,3937407; 689459,3937318; 689358,3937136; 689358,3937054; 689634,3936745; 689809,3936437; 690208,3935936; 690246,3935844; 690498,3935624; 690590,3935513; 690748,3935450; 690948,3935227; 690947,3934851; 690985,3934692; 691313,3934474; 691375,3934470; 691512,3934531; 691637,3934527; 691696,3934422; 691884,3934354; 691932,3934311; 691953,3934259; 691930,3934132; 691959,3933965; 691989,3933928; 692105,3933917; 691911,3933481; 691869,3933230; 691823,3933155; 691748,3933120; 691725,3933014; 691543,3933011; 691149,3932867; 691002,3932752; 690868,3932586; 690608,3932500; 690497,3932435; 690507,3932365; 690470,3932235; 690493,3932016; 690433,3931813; 690433,3931677; 690399,3931557; 690417,3931132; 690398,3931034; 690589,3930791; 690597,3930735; 690595,3930398; 690626,3930270; 690571,3930159; 690613,3930029; 690903,3929721; 691001,3929525; 691001,3929385; 691063,3929251; 691105,3929212; 691363,3929098; 691606,3928512; 691844,3928446; 691932,3928389; 691966,3928305; 692014,3927978; 692239,3927802; 692395,3927729; 692486,3927572; 692486,3926967; 692399,3926751; 692383,3926553; 692259,3926451; 692060,3926416; 691982,3926360; 691807,3926130; 691720,3925873; 691681,3925827; 691537,3925756; 691491,3925684; 691390,3924961; 691332,3924856; 691374,3924594; 691381,3924344; 691143,3924531; 690940,3924652; 690790,3924810; 690458,3925284; 690323,3925359; 690022,3925367; 689691,3925239; 689375,3925036; 689097,3924974; 689126,3924791; 689019,3924733; 688888,3924725; 688853,3924693; 688863,3924655; 688826,3924610; 688839,3924639; 688707,3924698; 688652,3924632; 688627,3924691; 688591,3924693; 688470,3924653; 688437,3924678; 688344,3924674; 688317,3924624; 688020,3924640; 687910,3924700; 687792,3924675; 687755,3924635; 687504,3924631; 687512,3924662; 687469,3924670; 687408,3924631; 687275,3924616; 687266,3924575; 687062,3924547; 686928,3924461; 686830,3924563; 686793,3924552; 686803,3924603; 686729,3924638; 686651,3924629; 686504,3924534; 686433,3924524; 686262,3924559; 686114,3924639; 686082,3924626; 685979,3924655; 685966,3924750; 685882,3924809; 685927,3924817; 685962,3924916; 685944,3924982; 685913,3925004; 685936,3925049; 685874,3925129; 685627,3925195; 685549,3925271; 685435,3925294; 685357,3925382; 685298,3925413; 685255,3925408; 685254,3925383; 685127,3925389; 685092,3925477; 685002,3925567; 684847,3925535; 684740,3925627; 684724,3925682; 684649,3925703; 684596,3925751; 684568,3925817; 684439,3925919; 684329,3925959; 684189,3925969; 684151,3925900; 684080,3925921; 684023,3925867; 683971,3925896; 683753,3925894; 683658,3925840; 683508,3925826; 683480,3925861; 683385,3925844; 683368,3925933; 683329,3925972; 683202,3925966; 683173,3925945; 683146,3925967; 683105,3925936; 683078,3925956; 683005,3925927; 682926,3925935; 682757,3926019; 682701,3926082; 682593,3926134; 682574,3926106; 682556,3926166; 682525,3926183; 682494,3926190; 682447,3926158; 682443,3926201; 682388,3926185; 682339,3926212; 682333,3926184; 682308,3926184; 682256,3926270; 682164,3926322; 682048,3926300; 681961,3926211; 681922,3926128; 681729,3925966; 681618,3925945; 681619,3925976; 681589,3925951; 681586,3926005; 681550,3925992; 681545,3925962; 681524,3925983; 681441,3925955; 681344,3926007; 681333,3925965; 681277,3925943; 681250,3925961; 681212,3925935; 681160,3925985; 681137,3925968; 681081,3926018;681080,3926049; 681059,3926032; 681057,3926064; 681004,3926084; 680949,3926189; 680899,3926206; 680886,3926187; 680874,3926228; 680823,3926263; 680823,3926304; 680732,3926383; 680742,3926442; 680699,3926463; 680664,3926604; 680614,3926648; 680608,3926728; 680582,3926742; 680568,3926714; 680468,3926860; 680427,3926862; 680440,3926921; 680347,3926986; 680329,3927058; 680348,3927085; 680312,3927087; 680324,3927103; 680278,3927123; 680217,3927246; 680164,3927280; 680139,3927256; 680118,3927291; 680068,3927306; 680053,3927406; 679951,3927471; 679958,3927499; 679815,3927652; 679790,3927731; 679768,3927746; 679736,3927723; 679719,3927794; 679689,3927798; 679599,3927918; 679574,3927871; 679561,3927889; 679547,3927871; 679499,3927986; 679423,3928069; 679358,3928089; 679343,3928165; 679293,3928177; 679264,3928230; 679289,3928261; 679268,3928343; 679297,3928351; 679349,3928432; 679335,3928504; 679268,3928514; 679261,3928539; 679195,3928546; 679139,3928584; 679095,3928576; 679072,3928541; 679026,3928541; 678937,3928638; 678870,3928592; 678783,3928709; 678804,3928724; 678793,3928791; 678688,3928860; 678671,3928847; 678611,3929026; 678486,3929044; 678477,3929065; 678501,3929076; 678494,3929103; 678462,3929107; 678465,3929157; 678421,3929167; 678342,3929138; 678308,3929087; 678171,3929047; 678135,3929085; 678108,3929061; 678081,3929142; 678027,3929164; 678032,3929236; 677976,3929253; 677927,3929222; 677914,3929262; 677962,3929344; 677947,3929336; 677934,3929423; 677966,3929495; 677951,3929541; 677864,3929607; 677805,3929544; 677732,3929673; 677661,3929694; 677656,3929717; 677593,3929708; 677582,3929750; 677539,3929739; 677566,3929848; 677517,3929923; 677555,3929943; 677572,3929994; 677533,3930042; 677484,3930015; 677485,3930082; 677426,3930027; 677393,3930049; 677390,3930076; 677351,3930082; 677340,3930196; 677297,3930183; 677275,3930246; 677159,3930291; 677164,3930449; 677124,3930487; 677130,3930610; 677049,3930658; 676969,3930809; 676780,3930823; 676733,3930897; 676666,3930890; 676603,3931056; 676369,3931151; 676273,3931120; 676226,3931133; 676139,3931214; 676074,3931235; 676014,3931303; 675912,3931345; 675893,3931401; 675789,3931473; 675748,3931613; 675701,3931641; 675677,3931699; 675656,3931801; 675597,3931859; 675502,3931880; 675480,3931931; 675363,3932014; 675360,3932046; 675246,3932191; 675214,3932192; 675196,3932230; 675127,3932235; 675021,3932380; 675047,3932452; 674992,3932523; 674774,3932670; 674741,3932739; 674614,3932849; 674557,3932941; 674556,3933068; 674426,3933140; 674388,3933222; 674312,3933300; 674252,3933325; 674215,3933415; 674074,3933470; 674017,3933643; 673973,3933674; 673887,3933684; 673772,3933870; 673524,3933940; 673426,3934125; 673415,3934300; 673256,3934367; 673210,3934426; 673092,3934461; 673037,3934503; 673002,3934608; 672914,3934625; 672901,3934724; 672780,3934823; 672766,3934929; 672668,3935079; 672502,3935173; 672436,3935455; 672359,3935521; 672145,3935533; 672094,3935583; 672072,3935687; 671982,3935774; 671968,3935833; 671866,3935941; 671881,3936108; 671754,3936229; 671768,3936279; 671853,3936282; 671904,3936337; 671918,3936422; 671895,3936500; 671863,3936515; 671887,3936545; 671867,3936600; 671751,3936665; 671664,3936811; 671554,3936872; 671515,3936948; 671527,3936969; 671491,3936996; 671505,3937047; 671443,3937112; 671439,3937181; 671366,3937229; 671365,3937305; 671312,3937446; 671173,3937620; 671105,3937942; 670971,3938146; 670989,3938188; 670979,3938295; 670856,3938570; 670801,3938643; 670687,3938696; 670634,3938799; 670573,3938781; 670528,3938853; 670535,3938897; 670500,3938993; 670418,3939122; 670364,3939134; 670302,3939112; 670284,3939140; 670245,3939120; 670198,3939180; 670164,3939368; 670092,3939477; 670048,3939779; 669987,3939914; 669934,3939974; 669930,3940082; 669798,3940427; 669537,3940805; 669275,3941045; 669151,3941212; 669002,3941308; 668918,3941287; 668728,3941358; 668632,3941415; 668524,3941591; 668291,3941647; 668210,3941770; 668141,3941956; 668086,3942007; 668058,3942124; 667959,3942264; 667883,3942458; returning to 667646,3942846.

(ii) Note: Map of Units SLO-2, SLO-3, and SLO-4 for the California red-legged frog follows:

BILLING CODE 4310-55-S

BILLING CODE 4310-55-C

(42) Unit SLO-3: San Luis Obispo County, California. From USGS 1:24,000 scale quadrangles Cayucos, York Mountain, Morro Bay North, Morro Bay South, Atascadero, San Luis Obispo, Santa Margarita, Lopez Mtn., Arroyo Grande NE, Santa Margarita Lake and Tar Spring Ridge.

(i) Land bounded by the following UTM Zone 10, NAD83 coordinates (E,N):

708480,3909559; 708441,3910955; 708953,3910998; 708951,3911126; 709014,3911173; 709031,3911248; 709149,3911331; 709196,3911523; 709379,3911869; 709720,3911825; 709690,3911905; 709706,3912082; 709833,3912190; 709970,3912204; 710064,3912127; 710369,3911710; 710470,3911835; 710784,3911745; 711191,3913933; 711878,3913934; 711797,3914739; 712191,3914739; 712179,3915142; 711735,3915125; 711736,3915563; 711304,3915547; 711301,3916366; 710414,3916357; 710425,3915951; 710147,3915940; 710047,3915494; 710036,3916362; 709640,3916335; 709639,3916723; 708842,3916668; 708873,3915470; 708430,3915467; 708224,3914469; 708040,3914512; 706756,3911363; 706360,3911808; 706227,3911922; 706084,3911995; 705844,3912068; 705722,3911621; 705700,3911440; 705722,3911307; 705134,3911225; 705096,3911346; 705495,3911457; 705535,3911575; 704722,3911846; 704376,3911393; 704274,3911458; 703953,3910861; 703639,3911003; 703480,3911034; 703382,3911091; 703163,3911297; 703032,3911484; 702959,3911529; 702676,3911598; 702245,3911808; 702081,3911796; 701929,3911752; 701839,3911772; 701727,3911897; 701655,3912079; 701528,3912248; 701357,3912809; 701276,3912913; 701072,3912981; 701034,3913017; 700904,3913017; 700792,3913073; 700488,3913155; 700314,3913091; 700217,3913101; 700116,3913173; 699882,3913217; 699835,3913247; 699721,3913403; 699336,3913304; 699129,3913322; 699054,3913306; 699021,3913245; 699016,3913056; 698990,3912989; 698913,3912885; 698739,3912799; 698225,3912640; 697879,3912645; 697856,3912906; 697714,3913241; 697639,3913667; 697463,3914010; 697354,3914345; 697145,3914487; 696811,3914604; 696660,3914964; 696760,3915332; 696986,3915834; 696505,3915981; 696019,3916362; 695814,3916551; 695600,3916847; 695394,3917201; 695295,3917588; 695312,3917736; 695411,3917835; 695279,3919493; 694899,3919905; 694734,3920136; 694668,3920318; 694420,3920565; 694255,3920582; 694156,3920631; 693760,3920747; 693694,3920846; 693694,3921192; 693595,3921324; 693397,3921423; 693034,3921704; 692886,3922084; 692886,3922331; 692556,3922744; 692452,3922808; 692220,3923081; 691953,3923266; 691735,3923774; 691714,3924444; 691730,3924609; 691796,3924741; 692374,3924774; 692836,3924642; 693018,3924559; 693133,3924757; 693265,3924873; 693265,3925087; 693496,3925467; 693595,3925747; 693859,3926110; 693859,3926193; 693744,3926193; 693678,3926077; 693414,3926143; 693414,3926342; 693562,3926540; 693562,3926705; 693661,3926903; 693793,3927084; 693826,3927216; 694056,3927463; 694099,3927483; 694020,3927619; 694019,3927738; 694067,3927896; 694053,3927946; 693969,3928099; 693780,3928333; 693734,3928506; 693843,3928738; 693802,3928968; 693816,3929091; 693927,3929258; 694114,3929368; 694194,3929576; 694322,3929750; 694327,3929777; 694266,3929869; 694296,3930070; 694246,3930584; 694159,3930640; 694177,3930826; 694217,3931041; 694341,3931111; 694484,3931101; 694554,3931166; 694482,3931458; 694589,3931548; 694603,3931722; 694703,3931707; 694747,3931720; 694798,3931779;694834,3931782; 694942,3931688; 695135,3931627; 695402,3931814; 695523,3931825; 695633,3931876; 695844,3932143; 695936,3932170; 696026,3932152; 696092,3932066; 696135,3932049; 696282,3932083; 696424,3932075; 696615,3931953; 696817,3931891; 696900,3932011; 696918,3932132; 697057,3932241; 697387,3932375; 697480,3932369; 697526,3932309; 697551,3932140; 697615,3932074; 697845,3931961; 698044,3931962; 698191,3931901; 698375,3931774; 698514,3931744; 698574,3931664; 698670,3931604; 698799,3931559; 698876,3931437; 698884,3931292; 698962,3931265; 699068,3931089; 699170,3931010; 699831,3930696; 699943,3930599; 700371,3930482; 700919,3930221; 701143,3930162; 701600,3929922; 701747,3929883; 701884,3929680; 701983,3929597; 701971,3929382; 702013,3929333; 702178,3929238; 702242,3929124; 702361,3929011; 702467,3928991; 702571,3929001; 702597,3928980; 702602,3928827; 702647,3928808; 702742,3928831; 702831,3928812; 703038,3928640; 703191,3928594; 703283,3928632; 703354,3928721; 703528,3928803; 703668,3928749; 703768,3928783; 703842,3928751; 703959,3928631; 704182,3928558; 704620,3928592; 704750,3928582; 705170,3928253; 705438,3928113; 705649,3927941; 705804,3927729; 705971,3927586; 706777,3927329; 707148,3927150; 707223,3927200; 707472,3927202; 707635,3926909; 707766,3926532; 708005,3926362; 708346,3926329; 708628,3926423; 708831,3926689; 709025,3926659; 709477,3926386; 709682,3926379; 709839,3926309; 709890,3926133; 709871,3925716; 709903,3925585; 709960,3925472; 710028,3925415; 710313,3925264; 710515,3925258; 710633,3925194; 710877,3924934; 711040,3924873; 711223,3924880; 711562,3924974; 711555,3922474; 711863,3922131; 711966,3922080; 712271,3922302; 712493,3922380; 712815,3922394; 713109,3922340; 713722,3922339; 714153,3922599; 714639,3922995; 714733,3923111; 714988,3922722; 715536,3921353; 715565,3921060; 715643,3920678; 715927,3920248; 715849,3919544; 716641,3917931; 718619,3919042; 718562,3919124; 718547,3919198; 718681,3919575; 718668,3919654; 718624,3919708; 718405,3919854; 718351,3920042; 718285,3919990; 718256,3919912; 718218,3919883; 718135,3919906; 718091,3919972; 718098,3920082; 718250,3920365; 718297,3920544; 718151,3920650; 718055,3920780; 717989,3921009; 717841,3921343; 717700,3921810; 717618,3922169; 717595,3922983; 717632,3923237; 717635,3923514; 717583,3923647; 717426,3923886; 717304,3924311; 717151,3924640; 717307,3924635; 717579,3924544; 717671,3924465; 717745,3924318; 717788,3924299; 717966,3924252; 718153,3924236; 718271,3924345; 718521,3924211; 718777,3923954; 718800,3923757; 718846,3923623; 719026,3923516; 719142,3923488; 719132,3923307; 719500,3923114; 719591,3922829; 719677,3922676; 719912,3922547; 719788,3922437; 719772,3922191; 719517,3922138; 719184,3922112; 719146,3922046; 719145,3921917; 719103,3921816; 719112,3921752; 719161,3921607; 719212,3921533; 719290,3921182; 719428,3920885; 719817,3920442; 719938,3920210; 720191,3919850; 720452,3919357; 720758,3918546; 720847,3918381; 721019,3918136; 721329,3917763; 721851,3917236; 722148,3917189; 722224,3917247; 722262,3917250; 722342,3917152; 722335,3917026; 722469,3916881; 722639,3916799; 722746,3916774; 722908,3916673; 722976,3916671; 723022,3916593; 722804,3916430; 722684,3916378; 722296,3916403; 722210,3916383; 722157,3916329; 722004,3915966; 722104,3915729; 722110,3915663; 722050,3915601; 721807,3915496; 721609,3915336; 721768,3915128; 721889,3914914; 721932,3914745; 721909,3914676; 721663,3914435; 721564,3914439; 721123,3914576; 721075,3914497; 721068,3914361; 721169,3914080; 721170,3913922; 721132,3913866; 720922,3913687; 720905,3913519; 720873,3913508; 720586,3913645; 720534,3913636; 720417,3913512; 720345,3913368; 720339,3913253; 720612,3913133; 720803,3912974; 720817,3912693; 720846,3912657; 721158,3912460; 721225,3912369; 721189,3912299; 720950,3912080; 720949,3911988; 720894,3911854; 720914,3911595; 720830,3911364; 720927,3911342; 721047,3911351; 721178,3911099; 721446,3911152; 721547,3911083; 721662,3911049; 721743,3910974; 721802,3910823; 721896,3910698; 722203,3910574; 722603,3910321; 722741,3910285; 723030,3910279; 723323,3910148; 723453,3910118; 723661,3909983; 723804,3909975; 723919,3909931; 723993,3909885; 724072,3909758; 724137,3909705; 724747,3909383; 725022,3909160; 725074,3909140; 725326,3909138; 725430,3909040; 725505,3909010; 725521,3908890; 725612,3908716; 725739,3908625; 725796,3908610; 725904,3908770; 726129,3908837; 726277,3908677; 726457,3908556; 726636,3908485; 726752,3908473; 726776,3908439; 726770,3908379; 726708,3908145; 726648,3908048; 726648,3907910; 726696,3907824; 726846,3907637; 726978,3907543; 727119,3907388; 727291,3907275; 727425,3907223; 727640,3907040; 728374,3906795; 728489,3906794; 728747,3906676; 728929,3906658; 728980,3906707; 729220,3907106; 729314,3907079; 729467,3906881; 729503,3906858; 729674,3906855; 729690,3906761; 729799,3906629; 730192,3906601; 730252,3906579; 730431,3906423; 730510,3906299; 730769,3906227; 730871,3906096; 731107,3905963; 731184,3905811; 731272,3905724; 731275,3905667; 731156,3905397; 731047,3905296; 730794,3905215; 730606,3905082; 730477,3904953; 730389,3904836; 730345,3904654; 730187,3904566; 730153,3904516; 730134,3904423; 730021,3904202; 730162,3904059; 730211,3903689; 730287,3903584; 730373,3903547; 730490,3903451; 730539,3903274; 730597,3903164; 730610,3902884; 730543,3902705; 730614,3902488; 730519,3902257; 730607,3902164; 730736,3901941; 730765,3901763; 730699,3901689; 730478,3901593; 730379,3901601; 730106,3901761; 729942,3901801; 729671,3901529; 729513,3901489; 729400,3901579; 729276,3901770; 729156,3901881; 728841,3902051; 728632,3902215; 728151,3902353; 727909,3902454; 727699,3902448; 727523,3902583; 727399,3902582; 727229,3902525; 727108,3902547; 726920,3902753; 726836,3902809; 726694,3902846; 726553,3902967; 726426,3903012; 726094,3903062; 726005,3903099; 725732,3903388; 725572,3903455; 725338,3903481; 724914,3903672; 724599,3903956;724555,3903984; 724428,3903995; 724295,3904068; 724185,3904176; 724168,3904269; 724114,3904351; 723963,3904441; 723808,3904453; 723797,3904679; 723624,3904870; 723562,3905071; 723551,3905135; 723603,3905281; 723587,3905347; 723422,3905488; 723353,3905647; 723284,3905714; 723134,3905742; 722948,3905662; 722906,3905652; 722878,3905672; 722909,3905898; 722896,3906018; 722730,3906197; 722616,3906427; 722554,3906476; 722373,3906541; 722333,3906527; 722300,3906455; 722258,3906454; 722142,3906512; 721851,3906600; 721764,3906592; 721611,3906629; 721534,3906774; 721311,3906977; 721053,3907127; 720798,3907154; 720644,3907275; 720433,3907271; 720237,3907346; 720169,3907336; 720027,3907209; 719827,3907099; 719756,3906930; 719431,3906655; 719240,3906353; 719187,3906323; 718920,3906286; 718724,3906291; 718631,3906271; 718587,3906229; 718494,3906042; 718379,3905952; 718293,3905926; 718060,3906026; 717993,3906029; 717766,3905967; 717546,3906007; 717397,3905986; 717197,3905906; 717124,3905714; 716745,3905915; 716386,3905988; 716172,3906099; 715943,3906264; 715852,3906428; 715633,3906476; 715562,3906525; 715397,3906710; 715185,3906910; 715105,3906956; 714760,3906971; 714467,3907048; 714135,3906821; 713349,3906677; 712859,3906469; 712615,3906420; 712022,3906204; 711763,3906258; 711574,3906375; 711350,3906610; 711235,3906824; 711031,3906871; 710829,3906866; 710786,3906899; 710726,3907030; 710597,3907564; 710591,3907823; 710629,3908101; 710599,3908139; 710063,3908380; 709730,3908654; 709640,3908770; 709536,3908835; 709428,3908982; 709183,3909029; 709087,3909114; 708906,3909193; 708654,3909438; returning to 708480,3909559.

(ii) Note: Unit SLO-3 for California red-legged frog is depicted on the map in paragraph (41)(ii) of this entry.

(43) Unit SLO-4: San Luis Obispo County, California. From USGS 1:24,000 scale quadrangles Santa Margarita Lake, Pozo Summit, Caldwell Mesa, La Panza and Los Machos Hills.

(i) Land bounded by the following UTM Zone 10, NAD83 coordinates (E,N): 749907,3913538; 750002,3913543; 750128,3913449; 750319,3913415; 750490,3913308; 750641,3913287; 750712,3913239; 750794,3913147; 750835,3913058; 750922,3912754; 751060,3912628; 751101,3912530; 751221,3912434; 751273,3912405; 751444,3912377; 751664,3912250; 751802,3912230; 751957,3912259; 751996,3912205; 752062,3911964; 752230,3911722; 752364,3911453; 752356,3911404; 752251,3911305; 752262,3911239; 752358,3911103; 752442,3910835; 752446,3910382; 752573,3910109; 752526,3909867; 752560,3909649; 752605,3909602; 752790,3909551; 753037,3909383; 753180,3909384; 753255,3909454; 753407,3909398; 753470,3909334; 753311,3909007; 753069,3908811; 752884,3908789; 752810,3908758; 752572,3908334; 752562,3908291; 752675,3908051; 752782,3907694; 752823,3907652; 752921,3907655; 753101,3907721; 753320,3907685; 753530,3907732; 753702,3907727; 753920,3907683; 754044,3907566; 754247,3907555; 754484,3907365; 754482,3907173; 754569,3907001; 754615,3906821; 754725,3906553; 754701,3906327; 754614,3906193; 754667,3905923; 754588,3905557; 754619,3905438; 754610,3905350; 754549,3905235; 754369,3905270; 754182,3905177; 754112,3904920; 753979,3904798; 753954,3904740; 753956,3904595; 754119,3904319; 754060,3904215; 753994,3903997; 754040,3903708; 753956,3903558; 753871,3903284; 753829,3903239; 753826,3902991; 753763,3902926; 753600,3902856; 753536,3902799; 753435,3902578; 753506,3902482; 753528,3902392; 753394,3902280; 753250,3902082; 753203,3902052; 753108,3902044; 753057,3902009; 752996,3901873; 752981,3901741; 752924,3901603; 752920,3901473; 753012,3901277; 753148,3901091; 753360,3900956; 753429,3900857; 753444,3900768; 753352,3900652; 753160,3900670; 752897,3900587; 752822,3900504; 752775,3900352; 752686,3900236; 752533,3900243; 752480,3900225; 752337,3900019; 752208,3899942; 752182,3899738; 752132,3899578; 752105,3899557; 751924,3899589; 751610,3899752; 751389,3899731; 751189,3899746; 751065,3899718; 750964,3899769; 750934,3899819; 750857,3900160; 750665,3900271; 750626,3900350; 750471,3900376; 750382,3900434; 750349,3900500; 750282,3900543; 750209,3900688; 750124,3900728; 750000,3900718; 749877,3900774; 749682,3901061; 749382,3901213; 749260,3901313; 749177,3901338; 748884,3901682; 748920,3901927; 748877,3902111; 748835,3902149; 748687,3902166; 748448,3902277; 748180,3902541; 748108,3902533; 747951,3902442; 747864,3902438; 747663,3902536; 747627,3902669; 747516,3902788; 747152,3902956; 747070,3902986; 746746,3902918; 746574,3902921; 746410,3902963; 746251,3903088; 746081,3903296; 745991,3903320; 745896,3903308; 745712,3903361; 745569,3903443; 745413,3903584; 745219,3903524; 745169,3903525; 745107,3903563; 744979,3903744; 744861,3903832; 744798,3903936; 744795,3904065; 744720,3904350; 744497,3904711; 744449,3904751; 744375,3904777; 744063,3904723; 743688,3904760; 743419,3904715; 743243,3904822; 743013,3904854; 742926,3904904; 742803,3904918; 742676,3904893; 742711,3904973; 742673,3905196; 742626,3905286; 742596,3905294; 742476,3905218; 742409,3905213; 742343,3905238; 742182,3905238; 742114,3905274; 741988,3905239; 741878,3905244; 741849,3905256; 741711,3905511; 741608,3905563; 741497,3905662; 741283,3905727; 741120,3905669; 740989,3905505; 740897,3905505; 740794,3905414; 740744,3905420; 740294,3905673; 740118,3905737; 739997,3905754; 739685,3905901; 739602,3906049; 739520,3906103; 739255,3906082; 739220,3906050; 739169,3906044; 739077,3906055; 738965,3905991; 738784,3906000; 738673,3905949; 738595,3905952; 738363,3906104; 738033,3906224; 737757,3906404; 737383,3906506; 737241,3906485; 736986,3906510; 736802,3906437; 736607,3906298; 736545,3906220; 736491,3906087; 736367,3906001; 736263,3905828; 736195,3905762; 735997,3905718; 735767,3905603; 735702,3905595; 735598,3905643; 735549,3905609; 735370,3905578; 734922,3905593; 734659,3905354; 734433,3905034; 734196,3904906; 734095,3904890; 733902,3904938; 733829,3904986; 733604,3905013; 733343,3905169; 733401,3905374; 733478,3905494; 733763,3905679; 733801,3905725; 733813,3905774; 733793,3905806; 733594,3905863; 733554,3905901; 733542,3905992; 733679,3906178; 733707,3906287; 733774,3906383; 733967,3906496; 734130,3906652; 734154,3906705; 734065,3906902; 734057,3907080; 734071,3907152; 734192,3907341; 734205,3907548; 734288,3907668; 734620,3907865; 734770,3908026; 734933,3908282; 735187,3908977; 735513,3909188; 735579,3909254; 735841,3909818; 736009,3909934; 736085,3910027; 736233,3910096; 736259,3910138; 736248,3910221; 736296,3910263; 736401,3910275; 736454,3910235; 736576,3910253; 736687,3910234; 736865,3910310; 736967,3910281; 737076,3910217; 737122,3910218; 737142,3910241; 737170,3910485; 737221,3910584; 737512,3910812; 737809,3910554; 737867,3910471; 737880,3910367; 737839,3909987; 737860,3909731; 737793,3909596; 737718,3909518; 737640,3909341; 737300,3908933; 737303,3908909; 737373,3908891; 737487,3908803; 738037,3908768; 738113,3908799; 738236,3908932; 738389,3908985; 738534,3909120; 738597,3909125; 738706,3909077; 738768,3908903; 738802,3908864; 739136,3908784; 739303,3908616; 739463,3908625; 739597,3908667; 739820,3908802; 739812,3908974; 739831,3909034; 740090,3909098; 740192,3909165; 740220,3909196; 740236,3909371; 740264,3909401; 740424,3909492; 740561,3909461; 740682,3909500; 740740,3909546; 740795,3909637; 740811,3909852; 740928,3909862; 741190,3910104; 741281,3910150; 741351,3910302; 741407,3910358; 741670,3910357; 741959,3910441; 742199,3910443; 742306,3910395; 742377,3910329; 742528,3910268; 742672,3910122; 742859,3910036; 742896,3909995; 742970,3910001; 743092,3910090; 743153,3910228; 743318,3910376; 743394,3910551; 743835,3910776; 744032,3910815; 744050,3910885; 744009,3911070; 744070,3911249; 744166,3911293; 744245,3911252; 744345,3911264; 744407,3911307; 744507,3911289; 744587,3911245; 744689,3911315; 744954,3911234; 745095,3911242; 745158,3911200; 745181,3911213; 745284,3911320;745273,3911537; 745306,3911578; 745449,3911665; 745708,3911877; 745889,3911958; 746028,3912124; 746184,3912386; 746363,3912491; 746552,3912551; 746747,3912476; 746855,3912400; 747016,3912347; 747185,3912330; 747337,3912369; 747613,3912532; 747712,3912640; 747890,3912758; 748104,3913019; 748410,3913078; 748671,3913080; 748921,3913126; 748964,3913154; 749120,3913374; 749162,3913394; 749336,3913362; 749471,3913395; 749607,3913604; 749649,3913628; 749718,3913621; returning to 749907,3913538.

(ii) Note: Unit SLO-4 for California red-legged frog is depicted on the map in paragraph (41)(ii) of this entry.

(44) Unit STB-1: Santa Barbara County, California. From USGS 1:24,000 scale quadrangles Tepusquet Canyon, Foxen Canyon, Manzanita Mountain and Zaca Lake.

(i) Land bounded by the following UTM Zone 10, NAD83 coordinates (E,N): 760562,3876097; 760672,3876042; 761005,3876093; 761287,3875929; 761484,3875882; 761676,3875762; 761783,3875634; 761915,3875540; 762011,3875342; 762187,3875292; 762339,3875178; 762395,3875163; 762518,3874997; 762670,3874870; 763079,3874758; 763145,3874919; 763311,3875038; 763422,3875236; 763812,3875437; 764027,3875382; 764181,3875309; 764363,3875306; 764567,3875164; 764684,3875040; 764762,3875023; 764832,3875188; 764845,3875462; 764895,3875633; 765728,3875247; 766130,3874926; 766773,3874765; 767375,3874303; 767317,3874268; 767147,3874084; 767009,3874063; 766889,3873933; 766692,3873794; 766680,3873615; 766866,3873352; 766878,3873053; 766932,3872882; 767102,3872733; 767518,3872546; 767828,3872501; 768022,3872422; 768333,3872362; 768617,3872174; 768753,3872050; 768872,3871869; 768833,3871652; 768789,3871555; 768302,3871371; 768233,3871304; 768179,3871202; 768119,3871167; 767914,3871161; 767761,3871077; 767577,3871017; 767443,3871051; 767275,3871037; 767170,3870973; 767012,3870794; 766969,3870783; 766959,3870591; 767103,3870378; 767134,3870165; 767123,3870109; 766974,3870022; 766841,3869893; 766810,3869721; 766702,3869630; 766590,3869471; 766520,3869233; 766555,3869103; 766558,3868884; 766939,3868674; 767035,3868506; 767084,3868355; 767080,3868253; 766843,3867945; 766763,3867725; 766766,3867689; 766887,3867637; 766960,3867566; 767061,3867318; 767038,3866988; 767083,3866672; 767053,3866343; 766926,3866262; 766871,3866166; 766901,3865924; 766875,3865716; 766912,3865624; 766960,3865587; 766919,3865529; 766872,3865365; 766724,3865095; 766449,3864834; 766178,3864457; 766115,3864280; 766071,3863939; 765862,3863616; 765794,3863346; 765692,3863267; 765391,3863258; 765364,3863228; 765331,3862966; 765225,3862803; 765140,3862612; 764983,3862406; 764868,3862136; 764617,3862365; 764482,3862406; 764224,3862343; 764032,3862342; 763590,3862178; 763547,3862176; 763295,3862281; 762879,3862024; 762827,3861912; 762570,3861741; 762469,3861631; 762204,3861602; 762136,3861666; 762105,3861666; 761931,3861582; 761845,3861487; 761788,3861358; 761781,3861243; 761844,3861084; 761850,3860994; 761785,3860737; 761750,3860680; 761705,3860676; 761440,3860732; 761112,3860913; 760959,3860945; 760807,3861013; 760636,3861043; 760598,3861036; 760566,3860969; 760433,3861135; 759600,3861135; 758845,3862084; 758767,3862569; 758748,3862937; 759290,3863518; 759639,3863731; 759813,3864060; 759852,3864486; 760046,3865087; 759717,3865648; 759717,3866047; 759659,3866170; 759601,3866415; 759655,3866528; 759581,3866701; 759449,3866785; 759438,3866819; 759430,3867144; 759385,3867286; 759402,3867508; 759383,3867543; 759254,3867630; 759240,3867665; 759221,3867942; 759171,3868113; 759197,3868274; 759173,3868453; 758987,3868651; 758941,3868990; 758822,3869188; 758919,3869389; 759088,3869432; 759139,3869528; 759310,3869599; 759411,3869690; 759610,3869788; 759707,3869963; 759731,3870118; 759685,3870224; 759615,3870533; 759591,3870865; 759493,3871043; 759348,3871149; 759266,3871363; 759205,3871457; 758906,3871763; 758719,3871858; 758736,3872008; 758710,3872086; 758485,3872299; 758330,3872577; 758384,3872761; 758541,3873023; 758697,3873177; 758755,3873396; 758824,3873459; 759046,3873498; 759241,3873456; 759706,3873605; 759884,3873711; 759924,3873760; 759967,3873943; 759864,3874007; 759819,3874091; 760002,3874342; 760181,3874444; 760210,3874639; 760333,3875007; 760311,3875096; 760185,3875250; 760134,3875544; 760198,3875800; 760198,3876182; 760214,3876232; returning to 760562,3876097.

(ii) Note: Map of Units STB-1, STB-3, STB-6, and STB-7 for the California red-legged frog follows:

BILLING CODE 4310-55-S

(45) Unit STB-2: Santa Barbara County, California. From USGS 1:24,000 scale quadrangles Guadalupe, Casmalia, Santa Maria and Orcutt.

(i) Land bounded by the following UTM Zone 10, NAD83 coordinates (E,N): 731166,3856983; 731162,3857181; 730322,3857168; 730135,3857420; 729967,3857473; 729819,3857459; 729578,3857568; 729443,3857667; 729376,3857635; 729296,3857555; 729247,3857354; 729250,3857154; 726368,3857120; 726362,3857815; 726173,3857740; 725905,3857679; 725880,3857563; 725691,3857512; 725605,3857586; 725443,3857497; 725173,3857271; 724731,3857082; 724478,3856821; 724238,3856699; 723676,3856260; 724048,3856812; 722984,3858902; 720821,3862104; 720937,3862161; 721420,3862089; 721742,3861874; 722117,3861535; 722510,3861123; 723011,3861088; 723387,3861266; 723583,3861535; 723619,3861713; 723619,3862035; 723780,3862429; 724352,3863055; 724444,3863044; 724504,3862997; 724541,3862994; 724593,3863032; 724728,3863019; 724960,3862894; 725461,3862876; 726659,3863663; 727070,3863359; 727589,3863037; 728111,3862721; 728294,3862654; 728819,3862272; 729012,3862198; 729234,3862071; 729404,3862017; 729132,3861318; 730520,3860854; 730596,3861595; 731659,3861185; 732097,3860989; 732221,3860925; 732166,3860903; 732254,3860823; 732289,3860843; 732494,3860743; 732565,3860659; 732618,3860544; 732651,3860145; 732777,3859761; 732883,3859161; 733046,3858083; 733169,3856993; 733069,3857088; 732897,3857362; 732777,3857459; 732591,3857466; 732186,3857578; 732036,3857709; 731830,3857930; 731144,3858960; 730876,3859226; 730556,3859033; 730572,3858841; 730613,3858694; 730754,3858570; 730770,3858404; 730861,3858147; 730876,3857961; 730938,3857800; 730944,3857692; 731044,3857527; 731168,3857431; 731264,3857288; 731268,3857183; 731237,3857088; returning to 731166,3856983.

(ii) Note: Map of Units STB-2, STB-4, and STB-5 for the California red-legged frog follows:

BILLING CODE 4310-55-C

(46) Unit STB-3: Santa Barbara County, California. From USGS 1:24,000 scale quadrangle Zaca Lake.

(i) Land bounded by the following UTM Zone 11, NAD83 coordinates (E,N): 230921,3859474; 231976,3855997; 231890,3855313; 232588,3855068; 233102,3854919; 233630,3854805; 234514,3854539; 235496,3854163; 236301,3853942; 236842,3853657; 236927,3853500; 237181,3853315; 237201,3853245; 237165,3853055; 237180,3853032; 237447,3852825; 237675,3852714; 237864,3852491; 237792,3852298; 237820,3852284; 237420,3852151; 237364,3852097; 237247,3851871; 237123,3851728; 237048,3851596; 236938,3851521; 236777,3851481; 236707,3851497; 236552,3851576; 235953,3851788; 235563,3851863; 234961,3851815; 234714,3851674; 234496,3851477; 234358,3851045; 234322,3850773; 234404,3850093; 234486,3849740; 234556,3849573; 234559,3849286; 234768,3848835; 234772,3848698; 234832,3848438; 235000,3848176; 234956,3847963; 234849,3847731; 234761,3847417; 234633,3847210; 234523,3846800; 234405,3846556; 234430,3846444; 234496,3846274; 234641,3846127; 234655,3845801; 234694,3845582; 235214,3845602; 235321,3845537; 235464,3845334; 235486,3845216; 235556,3845096; 235837,3844795; 236063,3844620; 236278,3844306; 236410,3844198; 236413,3844054; 236394,3843995; 236297,3843925; 235968,3843843; 235779,3843622; 235745,3843441; 235662,3843307; 235280,3843043; 235160,3842881; 235067,3842855; 234986,3842797; 235124,3842405; 235154,3842214; 235095,3842078; 235086,3841955; 235289,3841603; 235375,3841313; 235270,3841241; 235220,3841130; 235208,3841018; 235232,3840799; 235099,3840596; 235079,3840429; 234816,3840179; 234758,3840083; 234870,3839682; 234863,3839626; 234569,3839466; 234548,3839402; 234596,3839216; 234551,3839186; 234505,3839194; 234319,3839348; 234176,3839378; 234045,3839362; 233722,3839230; 233594,3839090; 233445,3839043; 233229,3838675; 233234,3838621; 233359,3838487; 233279,3838346; 233241,3838166; 233011,3837900; 232617,3837779; 232545,3837783; 232272,3837921; 232288,3837973; 232254,3838087; 231994,3838249; 231644,3838529; 231401,3838550; 231311,3838536; 231264,3838496; 231181,3838751; 230923,3838980; 229978,3839158; 229754,3839349; 229620,3839728; 229455,3839945; 228963,3840302; 228573,3840711; 228264,3841264; 228105,3841830; 227395,3841831; 227431,3841887; 227464,3842078; 227693,3842420; 227853,3842961; 228003,3843254; 228078,3843376; 228423,3843705; 228529,3843869; 228504,3843950; 228575,3844048; 228576,3844116; 228495,3844458; 228496,3844558; 228524,3844593; 228626,3844603; 228766,3844658; 228930,3844819; 229008,3844936; 229104,3845002; 229142,3845053; 229223,3845301; 229404,3845439; 229513,3845695; 229648,3845815; 229698,3845994; 229487,3845995; 229240,3845960; 229184,3845966; 229017,3846048; 228868,3846057; 228502,3846298; 228407,3846415; 228239,3846540; 228076,3846793; 228032,3846948; 227986,3846998; 227964,3847211; 227904,3847345; 227790,3847460; 227540,3847621; 227318,3847978; 227223,3848077; 227052,3848344; 226763,3848565; 226719,3848644; 226741,3848761; 226924,3849108; 226976,3849159; 226861,3849365; 226919,3849445; 227014,3849486; 227022,3849580; 226902,3849798; 226782,3849984; 225971,3850915; 225899,3851125; 225509,3851345; 225373,3851455; 225113,3851261; 225053,3851329; 224898,3851410; 224882,3851506; 224747,3851713; 224508,3852251; 224488,3852394; 224552,3852530; 224542,3852640; 224016,3852942; 223678,3853077; 223632,3853116; 223570,3853232; 223025,3853418; 222679,3853633; 222574,3853728; 222305,3853820; 222120,3853982; 221910,3854075; 221824,3854155; 221746,3854386; 221657,3854523; 221570,3854603; 221584,3854837; 221549,3855036; 221605,3855355; 221598,3855473; 221463,3855699; 221341,3855832; 221328,3855884; 221409,3856080; 221396,3856343; 221472,3856459; 221578,3856531; 221619,3856596; 221676,3856942; 221714,3857033; 222169,3857284; 222220,3857340; 222216,3857368; 222066,3857560; 222045,3857682; 221936,3857856; 221835,3857935; 221784,3858013; 221627,3858121; 221367,3858161; 221040,3858136; 220936,3858215; 220841,3858253; 220491,3858351; 220462,3858387; 220461,3858452; 220502,3858725; 220458,3858838; 220301,3859033; 220205,3859317; 220278,3859409; 220331,3859562; 220347,3859940; 220317,3860168; 220433,3860222; 220607,3860696; 221104,3860908; 221424,3861398; 222280,3861540; 222792,3861831; 222833,3861741; 223015,3861554; 223152,3861298; 223285,3861237; 223409,3861128; 223602,3860830; 223799,3860733; 223824,3860428; 223983,3860276; 223987,3860123; 223929,3859962; 223985,3859737; 223955,3859619; 224001,3859242; 223893,3858913; 224209,3859091; 224432,3859173; 224575,3859285; 224875,3859378; 225068,3859394; 225363,3859267; 225438,3859274; 225607,3859382; 225709,3859505; 225969,3859543; 226191,3859671; 226446,3859945; 226565,3860298; 226779,3861260; 226929,3861740; 227069,3862025; 227271,3862117; 227901,3862297; 228180,3862460; 228177,3862385; 228049,3862165; 227859,3861928; 227736,3861694; 227674,3861404; 227811,3861121; 228015,3860908; 228360,3860784; 228771,3860676; 229717,3860243; 230217,3859946; 230582,3859682; returning to 230921,3859474.

(ii) Note: Unit STB-3 for California red-legged frog is depicted on the map in paragraph (44)(ii) of this entry.

(47) Unit STB-4: Santa Barbara County, California. From USGS 1:24,000 scale quadrangles Tranquillon Mountain. and Lompoc Hills.

(i) Land bounded by the following UTM Zone 10, NAD83 coordinates (E,N): 729283,3821732; 729615,3821828; 729936,3821744; 729938,3821604; 730174,3821644; 730245,3821754; 730255,3822019; 730366,3822066; 730259,3822142; 730341,3824270; 730715,3824569; 730770,3824723; 730794,3824914; 730779,3825134; 730844,3825381; 730814,3825588; 730736,3825725; 730616,3825809; 730522,3825823; 730396,3825890; 730447,3827602; 729977,3827620; 729742,3827441; 729579,3827448; 729425,3827598; 729439,3827714; 729508,3827830; 729376,3827830; 729116,3827765; 729064,3827885; 729135,3827930; 729256,3828084; 729386,3828164; 729518,3828204; 729771,3828199; 730093,3828281; 730162,3828390; 730232,3828426; 730845,3828360; 730910,3828407; 730961,3828526; 731006,3828783; 731042,3828827; 731183,3828800; 731631,3828340; 731725,3828302; 731970,3828271; 732151,3828210; 732482,3828211; 733060,3827929; 733182,3827777; 733316,3827677; 733373,3827572; 733460,3827544; 733774,3827615; 733955,3827496; 734461,3827273; 734507,3827177; 734524,3827005; 734567,3826941; 734659,3826858; 734799,3826810; 734874,3826750; 735013,3826386; 735126,3825805; 735374,3825521; 735892,3825308; 736056,3825108; 736068,3824966; 736047,3824895; 735860,3824725; 735579,3824624; 735520,3824562; 735490,3824485; 735467,3824220; 735423,3824057; 735383,3823999; 735307,3823965; 735198,3823985; 735083,3824069; 735011,3824092; 734911,3823997; 734837,3823821; 734439,3823681; 734370,3823633; 734340,3823582; 734322,3823311; 734241,3823031; 734162,3822886; 733960,3822628; 733859,3822409; 733764,3822290; 733592,3822135; 733620,3822078; 733633,3821873; 733672,3821769; 733760,3821640; 734138,3821389; 734241,3821294; 734349,3821148; 734434,3820848; 734439,3820745; 734395,3820592; 734325,3820574; 734055,3820617; 733705,3820588; 733328,3820601; 733075,3820689; 732779,3820930; 732606,3821109; 732500,3821165; 732200,3821183; 731910,3821231; 731567,3821184; 731053,3821259; 730834,3821228; 730572,3821371; 730442,3821394; 730148,3821386; 730039,3821421; 729978,3821470; 729841,3821675; 729724,3821725; 729488,3821739; 729344,3821701; 729276,3821629; returning to 729283,3821732.

(ii) Note: Unit STB-4 for California red-legged frog is depicted on the map in paragraph (45)(ii) of this entry.

(48) Unit STB-5: Santa Barbara County, California. From USGS 1:24,000 scale quadrangles Santa Rosa Hills, Solvang and Gaviota.

(i) Land bounded by the following UTM Zone 10, NAD83 coordinates (E,N): 754082,3828621; 754220,3828624; 754353,3828538; 754484,3828518; 754931,3828518; 755206,3828493; 755300,3828431; 755414,3828288; 755575,3828212; 755742,3828169; 755779,3828121; 755879,3827637; 755821,3827482; 755964,3827406; 756196,3827234; 756293,3827116; 756595,3827008; 756601,3826836; 756743,3826460; 756612,3826255; 756591,3826150; 756657,3826032; 756701,3825778; 756846,3825651; 756876,3825582; 756798,3825268; 756716,3825102; 756670,3824819; 756583,3824656; 756924,3824697; 757105,3824442; 757173,3824401; 757409,3824289; 757802,3824191; 758062,3824046; 758418,3824147; 758483,3824146; 758654,3824109; 758956,3824097; 759185,3823989; 759313,3823888; 759356,3823826; 759476,3823527; 759563,3823388; 759548,3823115; 759577,3822909; 759786,3822680; 759614,3822411; 759491,3822264; 758838,3822045; 758378,3821985; 758063,3821887; 757890,3821808; 757632,3821751; 757411,3821638; 757090,3821271; 756817,3821205; 756808,3821052; 756686,3820890; 756722,3820735; 756716,3820604; 756657,3820451; 756510,3820230; 756394,3820122; 756216,3820140; 756146,3820057; 755960,3819953; 755931,3819925; 755906,3819802; 755807,3819648; 755619,3819539; 755309,3819235; 755176,3819185; 755084,3818876; 755126,3818560; 754978,3818336; 754815,3817931; 754712,3817826; 754545,3817914; 754353,3818081; 753795,3818299; 753620,3818490; 753474,3818553; 753200,3818625; 753158,3818667; 753147,3818770; 753015,3819109; 753013,3819157; 753096,3819346; 753342,3819518; 753385,3819620; 753341,3819734; 753176,3819898; 753175,3819997; 753236,3820136; 752987,3820348; 752979,3820397; 753010,3820486; 752957,3820648; 752961,3820749; 753074,3820999; 753329,3821454; 753393,3821515; 753567,3821609; 753614,3821664; 753589,3821730; 753478,3821799; 753341,3821827; 753191,3822091; 753039,3822189; 752961,3822212; 752604,3822156; 752336,3822171; 752121,3822276; 752044,3822295; 751885,3822284; 751740,3822395; 751571,3822432; 751345,3822432; 750965,3822371; 750711,3822281; 750371,3822319; 750231,3822360; 750179,3822461; 750007,3822667; 750066,3822856; 750213,3822944; 750268,3823084; 750434,3823080; 750652,3823110; 750716,3823220; 750690,3823335; 750439,3823592; 750348,3823715; 750335,3823770; 750456,3823947; 750488,3824163; 750596,3824256; 750780,3824259; 750839,3824376; 750807,3824796; 750948,3825215; 750926,3825433; 750875,3825585; 750875,3825695; 750964,3825912; 750994,3826175; 751047,3826363; 751162,3826568; 751167,3826702; 751257,3826992; 751377,3827152; 751406,3827294; 751444,3827363; 751566,3827409; 751732,3827410; 752145,3827504; 752493,3827446; 752553,3827613; 752627,3827679; 752750,3827870; 752841,3827943; 753043,3828218; 753153,3828494; 753196,3828533; 753588,3828705; 753846,3828746; 753902,3828744; 753974,3828673; returning to 754082,3828621.

(ii) Note: Unit STB-5 for California red-legged frog is depicted on the map in paragraph (45)(ii) of this entry.

(49) Unit STB-6: Santa Barbara County, California. From USGS 1:24,000 scale quadrangles Solvang, Gaviota, Santa Ynez and Tajiguas.

(i) Land bounded by the following UTM Zone 10, NAD83 coordinates (E,N): 770986,3825640; 771043,3825632; 771193,3825688; 771256,3825673; 771613,3825452; 771858,3825355; 772104,3825203; 772038,3825075; 771949,3824690; 771903,3824212; 771816,3824079; 771803,3823865; 771692,3823753; 771692,3823706; 771632,3823581; 771652,3823204; 771634,3823189; 771498,3823201; 771432,3823131; 771416,3822976; 771341,3822894; 771241,3822586; 771136,3822552; 771008,3822571; 770470,3822451; 770117,3822424; 770036,3822398; 769943,3822327; 769948,3822289; 769999,3822245; 770022,3822094; 769939,3821829; 770006,3821600; 769983,3821464; 770018,3820930; 769923,3820628; 769971,3820303; 769911,3819814; 769993,3819678; 769983,3819612; 769914,3819513; 769905,3819442; 769937,3819047; 769841,3818859; 769822,3818655; 769729,3818476; 769776,3818105; 769624,3817885; 769489,3817584; 769432,3817327; 769196,3817362; 769024,3817339; 768821,3817242; 768814,3817204; 768841,3817147; 768738,3817108; 768318,3817114; 767420,3817064; 766933,3817129; 766615,3817225; 766263,3817429; 766217,3817432; 766161,3817398; 765917,3817529; 765458,3817701; 765210,3817835; 764630,3818046; 764517,3818290; 764347,3818877; 764207,3819094; 764111,3819628; 764032,3819796; 763843,3819932; 763796,3820002; 763812,3820203; 763842,3820301; 763838,3820456; 763604,3820619; 763553,3820667; 763531,3820731; 763521,3820920; 763552,3821048; 763543,3821167; 763457,3821666; 763548,3822045; 763452,3822372; 763447,3822459; 763519,3822629; 763520,3822703; 763477,3822787; 763483,3822952; 763419,3823170; 763460,3823351; 763410,3823628; 763849,3823641; 763990,3823602; 764116,3823604; 764292,3823570; 764509,3823694; 764801,3823690; 765027,3823718; 765650,3823931; 765792,3824005; 765966,3824135; 766073,3824246; 766151,3824399; 766447,3824529; 766867,3824880; 767108,3824934; 767278,3824884; 767313,3824958; 767394,3825330; 767455,3825392; 767578,3825449; 767631,3825444; 767759,3825329; 767841,3825153; 767882,3825112; 768167,3825010; 768209,3824974; 768351,3824764; 768477,3824724; 768565,3824722; 768601,3824751; 768596,3825042; 768631,3825100; 768811,3825096; 769143,3824997; 769415,3825077; 769466,3825106; 769584,3825243; 769700,3825210; 769833,3825128; 769903,3825144; 770088,3825284; 770373,3825234; 770433,3825262; 770546,3825386; 770688,3825762; 770837,3825767; returning to 770986,3825640.

(ii) Note: Unit STB-6 for California red-legged frog is depicted on the map in paragraph (44)(ii) of this entry.

(50) Unit STB-7: Santa Barbara and Ventura Counties, California. From USGS 1:24,000 scale quadrangles Lake Cachuma, San Marcos Pass, Big Pine Mtn., Little Pine Mtn., Santa Barbara, Madulce Peak, Hildreth Peak, Carpinteria, Old Man Mountain, White Ledge Peak, Wheeler Springs and Matilija.

(i) Land bounded by the following UTM Zone 11, NAD83 coordinates (E,N):

254540,3837294; 254540,3837180; 254497,3837043; 254566,3836882; 254581,3836738; 254782,3836768; 254873,3836753; 255119,3836601; 255360,3836359; 255521,3836301; 255735,3836335; 255863,3836260; 256174,3836436; 256296,3836531; 256438,3836538; 256491,3836507; 256651,3836220; 256783,3836123; 256986,3835539; 257062,3835412; 257089,3835374; 257253,3835359; 257309,3835319; 257387,3835238; 257467,3835040; 257498,3835014; 257807,3835121; 257960,3835201; 258010,3835198; 258024,3835173; 257996,3835061; 258053,3834932; 258162,3834873; 258448,3834797; 258539,3834749; 258861,3834733; 259140,3834782; 259464,3834910; 259623,3834923; 259715,3834972; 259953,3835033; 260149,3835181; 260132,3835316; 260041,3835526; 259880,3835721; 259854,3835844; 259772,3836021; 259853,3836267; 259973,3836356; 260061,3836464; 260154,3836600; 260153,3836656; 260571,3836498; 260883,3836462; 260926,3836446; 260984,3836352; 261169,3836308; 261637,3836132; 261861,3835973; 261913,3835903; 262036,3835614; 262101,3835385; 262252,3835290; 262379,3835171; 262570,3835081; 262695,3834896; 262877,3834761; 263015,3834497; 264086,3833813; 263942,3833612; 264011,3833435; 264042,3832876; 264078,3832574; 264132,3832341; 264249,3832177; 264742,3831921; 265047,3831721; 265159,3831737; 265707,3831674; 265937,3831581; 266204,3831435; 266531,3831326; 266775,3831317; 267067,3831370; 267284,3831475; 267432,3831620; 267715,3832013; 267906,3832157; 268164,3832275; 268519,3832354; 268852,3832357; 269237,3832302; 269816,3832166; 270132,3832189; 270699,3832099; 270796,3832147; 270832,3832198; 270851,3832409; 270904,3832506; 271090,3832468; 271225,3832410; 271347,3832401; 271538,3832296; 271612,3832200; 271936,3832055; 272049,3832057; 272165,3832022; 272249,3832055; 272343,3832167; 272468,3832155; 272803,3832025; 272886,3832020; 272981,3832049; 273075,3832171; 273219,3832165; 273402,3832109; 273691,3832133; 273786,3832161; 273841,3832151; 274145,3831930; 274175,3831888; 274145,3831689; 274180,3831573; 274312,3831385; 274495,3831313; 274472,3830803; 274735,3830604; 274923,3830509; 274950,3830475; 275000,3830237; 275215,3829931; 275189,3829829; 275022,3829639; 274884,3829593; 274732,3829496; 274514,3829480; 274440,3829449; 274423,3829178; 274379,3829071; 274297,3829026; 274076,3828968; 273924,3828817; 273928,3828779; 274026,3828715; 274051,3828648; 274044,3828592; 273938,3828395; 273996,3828246; 274086,3828111; 274124,3827961; 274204,3827810; 274189,3827776; 274064,3827636; 274016,3827613; 273925,3827601; 273679,3827650; 273568,3827578; 273465,3827558; 273309,3827578; 273175,3827533; 273073,3827415; 273006,3827206; 273091,3826952; 273086,3826756; 273055,3826698; 273062,3826558; 273122,3826408; 273286,3826390; 273350,3826268; 273341,3826201; 273290,3826111; 273172,3826015; 273142,3825760; 273226,3825584; 273405,3825435; 273576,3825350; 273514,3825048; 273597,3824908; 273622,3824739; 273750,3824610; 273950,3824613; 274071,3824571; 274399,3824322; 274474,3824221;274509,3824108; 274582,3824035; 274584,3823977; 274643,3823874; 274642,3823813; 274565,3823647; 274562,3823391; 274524,3823253; 274605,3823149; 274615,3823082; 274547,3822626; 274557,3822492; 274533,3822311; 274570,3822222; 274649,3822184; 274891,3822164; 275081,3822065; 275293,3822012; 275485,3821718; 275604,3821597; 275756,3821502; 275840,3821481; 275996,3821521; 276142,3821520; 276294,3821556; 276448,3821632; 276496,3821629; 276614,3821567; 276686,3821556; 276788,3821424; 276974,3821303; 277234,3821282; 277295,3821294; 277399,3821365; 277463,3821369; 277579,3821245; 277631,3821224; 277957,3821265; 278134,3821231; 278284,3821250; 278450,3821183; 278640,3820996; 278737,3820951; 279054,3820960; 279277,3820931; 279357,3820940; 279433,3820982; 279540,3821079; 279838,3821001; 280021,3821005; 280358,3821105; 280590,3821114; 280836,3821172; 281343,3821213; 281559,3821306; 281763,3821360; 281947,3821339; 282381,3821364; 282505,3821328; 282730,3821394; 283119,3821455; 283320,3821615; 283376,3821632; 283771,3821627; 284018,3821714; 284180,3821740; 284412,3821742; 284496,3821722; 284830,3821570; 285082,3821552; 285216,3821502; 285434,3821504; 285899,3821655; 286232,3821724; 286360,3821854; 286706,3822022; 286736,3821889; 286745,3821494; 286798,3821405; 287000,3821226; 287051,3821146; 287227,3821072; 287462,3821038; 287541,3820987; 287656,3820733; 287660,3820524; 287683,3820483; 288081,3820234; 288388,3820156; 288797,3819538; 289000,3819452; 289251,3819184; 289681,3819065; 289848,3818992; 290238,3819105; 290385,3819028; 290382,3818716; 290168,3818372; 289870,3818346; 289637,3817929; 289617,3817336; 289730,3817002; 289419,3817006; 288934,3816842; 288224,3816394; 287682,3816263; 287327,3816284; 287120,3816311; 287012,3816496; 286768,3816629; 286380,3816607; 286341,3816936; 286253,3816956; 286201,3817346; 286083,3817565; 285933,3817566; 285618,3817694; 285261,3817655; 285106,3817671; 284668,3817915; 284422,3817980; 284278,3817982; 284140,3818014; 283910,3817995; 283708,3818098; 283570,3818117; 283424,3818062; 283229,3817896; 282887,3817826; 282649,3817924; 282348,3817967; 282156,3817950; 281929,3817838; 281874,3817832; 281706,3817868; 281526,3817856; 281326,3817920; 281004,3817877; 280720,3817888; 280560,3817798; 280101,3817710; 280011,3817658; 279748,3817416; 279464,3817570; 279336,3817683; 279139,3817772; 278811,3817804; 278774,3817834; 278704,3818030; 278568,3818099; 278478,3818096; 278376,3818000; 278271,3817965; 277896,3818033; 277692,3818099; 277599,3818067; 277313,3817879; 276989,3817794; 276849,3817824; 276679,3817905; 276590,3818024; 276531,3818028; 276318,3817972; 276171,3818135; 276016,3818039; 275752,3817932; 275580,3817788; 275329,3817640; 275239,3817630; 275033,3817696; 274672,3817765; 274361,3817785; 274177,3817748; 273988,3817673; 273545,3817589; 273411,3817528; 273187,3817495; 273082,3817503; 273017,3817448; 272814,3817057; 272730,3817005; 272317,3817226; 272170,3817255; 272029,3817238; 271875,3817140; 271764,3816994; 271767,3816670; 271736,3816646; 271471,3816630; 271373,3816718; 271322,3816729; 270955,3816682; 270836,3816608; 270548,3816633; 270351,3816594; 270259,3816681; 269908,3816794; 269860,3816848; 269847,3817005; 269810,3817045; 269623,3817067; 269187,3816972; 269067,3817076; 268936,3817144; 268898,3817143; 268667,3816998; 268296,3816967; 267993,3816808; 267926,3816794; 267819,3816849; 267466,3816959; 267332,3816970; 267212,3817022; 266991,3817057; 266804,3817188; 266686,3817211; 266204,3817117; 265863,3817006; 265825,3816977; 265776,3816853; 265811,3816615; 265791,3816574; 265718,3816541; 265391,3816504; 265143,3816578; 264835,3816581; 264574,3816674; 264406,3816799; 264238,3816829; 264113,3816795; 264000,3816684; 263915,3816735; 263672,3816815; 263457,3816823; 263337,3816857; 263134,3816853; 263079,3816905; 263000,3817099; 263026,3817167; 263002,3817248; 263285,3817578; 263293,3817628; 263262,3817696; 263237,3817744; 263190,3817770; 263019,3817791; 262831,3817918; 262766,3817938; 262605,3817886; 262451,3817874; 262337,3817947; 262249,3817939; 262215,3817955; 262140,3818112; 262109,3818129; 261728,3818068; 261509,3817921; 261334,3817842; 260950,3817918; 260876,3817961; 260815,3818136; 260726,3818125; 260553,3818175; 260253,3818198; 260205,3818330; 260098,3818305; 259936,3818370; 259858,3818493; 259531,3818714; 259252,3818760; 259069,3818865; 258941,3818975; 258637,3819093; 258540,3819090; 258368,3819021; 258272,3819019; 258101,3818939; 257883,3818924; 257687,3819003; 257599,3819150; 257561,3819171; 257423,3819179; 257230,3819280; 257088,3819310; 256977,3819391; 256824,3819408; 256692,3819544; 256598,3819597; 256297,3819570; 255871,3819586; 255750,3819629; 255526,3819650; 255285,3819731; 254994,3819636; 254890,3819552; 254815,3819539; 254625,3819650; 254496,3819787; 254356,3819826; 254059,3819976; 253697,3819985; 253483,3820096; 253375,3820109; 253217,3820059; 253159,3820081; 253063,3820162; 253090,3820326; 253047,3820414; 252961,3820418; 252822,3820380; 252700,3820476; 252538,3820536; 252358,3820656; 252297,3820667; 252196,3820643; 251992,3820449; 251722,3820286; 251467,3820305; 251358,3820351; 251031,3820328; 250811,3820417; 250713,3820585; 250561,3820724; 250485,3820859; 250320,3820945; 250275,3820992; 249695,3821192; 249350,3821203; 249252,3821248; 249166,3821338; 249091,3821617; 249023,3821758; 248720,3821831; 248673,3821887; 248470,3821987; 248386,3822075; 248098,3822072; 248023,3822013; 247958,3822010; 247889,3821942; 247768,3821921; 247486,3821688; 247392,3821673; 247137,3821543; 247027,3821538; 246986,3821551; 246904,3821651; 246799,3821673; 246686,3821760; 246322,3821875; 245959,3821944; 245821,3822088; 245250,3822371; 245177,3822481; 245065,3822564; 244920,3822851; 244797,3823012; 244638,3823100; 244485,3823234; 244271,3823374; 243850,3823411; 243668,3823320; 243599,3823229; 243464,3823136; 243465,3823063; 243546,3822920; 243387,3822706; 243315,3822708;243133,3822635; 242986,3822717; 242833,3822681; 242700,3822758; 242612,3822771; 242532,3822621; 242470,3822576; 242303,3822499; 242115,3822456; 242050,3822399; 241886,3822357; 241772,3822278; 241670,3822316; 241588,3822283; 241503,3822282; 241106,3822472; 240900,3822525; 240457,3822494; 240372,3822504; 240165,3822597; 239997,3822610; 239850,3822328; 239716,3822200; 239561,3822095; 239407,3822068; 239240,3821999; 239154,3822034; 239005,3822198; 238444,3822170; 237897,3822336; 237707,3822253; 237627,3822288; 237563,3822215; 237449,3822159; 237263,3822135; 236948,3822019; 236835,3822039; 236710,3822022; 236568,3822108; 236433,3822132; 236293,3822229; 236200,3822247; 236138,3822331; 235983,3822328; 235776,3822468; 235758,3822542; 235734,3822556; 235619,3822569; 235373,3822654; 235297,3822741; 235218,3822899; 235106,3822889; 235052,3822908; 234778,3823114; 234715,3823138; 234427,3823161; 234374,3823214; 234298,3823472; 234147,3823601; 233915,3823565; 233755,3823642; 233796,3823724; 233804,3823858; 233882,3823951; 234125,3824588; 234206,3824685; 234342,3824947; 234393,3825120; 234385,3825208; 234440,3825270; 234591,3825297; 234698,3825350; 234729,3825502; 234789,3825611; 234859,3825997; 234827,3826189; 234659,3826365; 234454,3826695; 234614,3826729; 234826,3826855; 235010,3827006; 235118,3827131; 235119,3827330; 235036,3827911; 235082,3827996; 235208,3828040; 235432,3828051; 235487,3828017; 235577,3827770; 235625,3827765; 235725,3827817; 235783,3827815; 235943,3827959; 235964,3828022; 235950,3828104; 235999,3828293; 235934,3828410; 235816,3828518; 235853,3828550; 236001,3828574; 236111,3828562; 236190,3828662; 236399,3828640; 236500,3828697; 236568,3828783; 236692,3828825; 236817,3828826; 236957,3828794; 237099,3828810; 237204,3828851; 237348,3828821; 237484,3828900; 237622,3829061; 237662,3829062; 237770,3828960; 237843,3828941; 237881,3828975; 237871,3829095; 237891,3829142; 238041,3829186; 238137,3829347; 238282,3829440; 238267,3829680; 238308,3829762; 238310,3829906; 238339,3829942; 238410,3829963; 238430,3830001; 238452,3830094; 238499,3830156; 238520,3830301; 238597,3830307; 238764,3830408; 238908,3830303; 239109,3830332; 239540,3830156; 239820,3830097; 239988,3830132; 240198,3830138; 240411,3830212; 240439,3830243; 240529,3830512; 240525,3830607; 240462,3830684; 240220,3830862; 240034,3831068; 240049,3831110; 240282,3831207; 240008,3831458; 239861,3831499; 239765,3831553; 239704,3831505; 239627,3831543; 239575,3831705; 239611,3832096; 239735,3832199; 239861,3832391; 239952,3832438; 240065,3832438; 240225,3832516; 240347,3832541; 240476,3832763; 240723,3832920; 240836,3833060; 240937,3833243; 241077,3833345; 241267,3833558; 241293,3833609; 241285,3833749; 241327,3833813; 241559,3833911; 241731,3833897; 241849,3833939; 242029,3833865; 242172,3833689; 242340,3833721; 242603,3833817; 242702,3833818; 242874,3833678; 242970,3833655; 243089,3833479; 243196,3833424; 243263,3833340; 243395,3833400; 243473,3833403; 243509,3833380; 243562,3833233; 243625,3833156; 243744,3833095; 244106,3833139; 244375,3833294; 244432,3833301; 244836,3833083; 244947,3833000; 245139,3832953; 245633,3832723; 245954,3832464; 246265,3832288; 246459,3832206; 246603,3832073; 246901,3832087; 247075,3832003; 247264,3832004; 247622,3832061; 247701,3832115; 247882,3832146; 248107,3832381; 248227,3832416; 248362,3832377; 248691,3832174; 248834,3832167; 248998,3832554; 249248,3832965; 249351,3833197; 249456,3833366; 249522,3833581; 249557,3833616; 249673,3833656; 249932,3833622; 250155,3833705; 250332,3833696; 250358,3834067; 250426,3834158; 250462,3834305; 250428,3834435; 250458,3834745; 250520,3834837; 250616,3834897; 250679,3835022; 250628,3835232; 250669,3835620; 250711,3835667; 250848,3835722; 250902,3835771; 250969,3836076; 250998,3836117; 251075,3836124; 251169,3835966; 251201,3835939; 251226,3835953; 251278,3836099; 251351,3836170; 251381,3836254; 251547,3836372; 251638,3836614; 251747,3836715; 251824,3836696; 251875,3836712; 251924,3836866; 251939,3837038; 252086,3837351; 252110,3837364; 252314,3837278; 252537,3837120; 252624,3837151; 252747,3837270; 252925,3837331; 253269,3837357; 253466,3837333; 253634,3837280; 253781,3837297; 254336,3837592; 254390,3837486; 254516,3837387; and return 254540,3837294.

(ii) Note: Unit STB-7 for California red-legged frog is depicted on the map in paragraph (44)(ii) of this entry.

(51) Unit VEN-1: Ventura County, California. From USGS 1:24,000 scale quadrangles Matilija, Ventura and Ojai.

(i) Land bounded by the following UTM Zone 11, NAD83 coordinates (E,N): 292389,3808989; 292269,3808813; 292067,3808838; 292001,3808540; 291744,3808513; 291660,3808360; 291309,3808445; 291346,3808110; 291188,3807970; 290857,3808078; 290683,3807876; 290516,3807881; 290022,3807626; 289938,3807423; 289743,3807351; 289693,3807054; 289556,3806919; 289357,3806257; 288924,3806106; 288596,3805768; 288535,3805756; 288169,3806170; 288139,3806566; 288022,3806679; 287922,3806605; 287842,3806111; 287702,3806086; 287770,3806708; 287997,3806862; 288226,3806724; 288210,3807181; 288352,3807324; 288495,3807334; 288507,3807633; 288897,3808046; 289299,3808143; 289254,3808351; 289400,3808575; 289665,3808668; 289771,3808791; 290075,3808823; 290121,3809125; 290398,3809519; 290426,3809709; 290786,3809928; 291436,3811102; 291817,3811326; 291749,3811476; 291788,3811585; 292474,3811706; 292581,3812127; 293112,3812393; 293210,3812196; 293840,3812153; 294048,3811973; 294135,3811749; 293856,3811194; 293598,3811103; 293155,3810614; 292790,3810406; 292674,3810144; 292894,3809713; 292746,3809412; 292765,3809204; 292611,3808985; returning to 292389,3808989.

(ii) Note: Map of Unit VEN-1 for the California red-legged frog follows:

BILLING CODE 4310-55-S

(52) Unit VEN-2: Ventura and Los Angeles Counties, California. From USGS 1:24,000 scale quadrangles Cobblestone Mountain and Whitaker Peak.

(i) Land bounded by the following UTM Zone 11, NAD83 coordinates (E,N): 339291,3827835; 339299,3827739; 339766,3827357; 340374,3827063; 340544,3826712; 341072,3826348; 340944,3826090; 340929,3825836; 341091,3825360; 340852,3824908; 340799,3824021; 340501,3823636; 340142,3823657; 339877,3823482; 339839,3822849; 339931,3822610; 340226,3822571; 340007,3822097; 339952,3821528; 339632,3821505; 339211,3820830; 339197,3820598; 338832,3820187; 338664,3820291; 338411,3820813; 338027,3821260; 337668,3821358; 336304,3822097; 336529,3822597; 336713,3822708; 336854,3823475; 335722,3824114; 335636,3824514; 335416,3824690; 334902,3824748; 334557,3824905; 334507,3825194; 334331,3825218; 334164,3825391; 334109,3825598; 333690,3825882; 333242,3826358; 333195,3826701; 333300,3826871; 333037,3827486; 332830,3827662; 333176,3827981; 333533,3828042; 335562,3827839; 336504,3827892; 336890,3827733; 337083,3827558; 337171,3827662; 337429,3827646; 337638,3827729; 337852,3827893; 338100,3827946; 338394,3827861; 339081,3828201; 339230,3828192; 339304,3828065; returning to 339291,3827835.

(ii) Note: Map of Units VEN-2 and VEN-3 for the California red-legged frog follows:

BILLING CODE 4310-55-C

(53) Unit VEN-3: Ventura County, California. From USGS 1:24,000 scale quadrangle Calabasas.

(i) Land bounded by the following UTM Zone 11, NAD83 coordinates (E,N):

341537,3788481; 341736,3788470; 341842,3788432; 341858,3788081; 341901,3788038; 342052,3787988; 342080,3787895; 342176,3787747; 342210,3787526; 342325,3787446; 342313,3787400; 342378,3787252; 342363,3787000; 342383,3786937; 342492,3786911; 342545,3786875; 342597,3786770; 342634,3786746; 342707,3786761; 342888,3786729; 343046,3786812; 343143,3786802; 343161,3786758; 343130,3786655; 343278,3786596; 343251,3786524; 343000,3786409; 342966,3786345; 342975,3786301; 343006,3786284; 343296,3786247; 343305,3786222; 343292,3786149; 343145,3786005; 343137,3785867; 343075,3785758; 343017,3785458; 343022,3785370; 343124,3785088; 343244,3785168; 343304,3785185; 343392,3785170; 343545,3785240; 343902,3785199; 344046,3785251; 344362,3785450; 344562,3785482; 344787,3785460; 345043,3785358; 345089,3785258; 345088,3785192; 344991,3784960; 345067,3784928; 345213,3784807; 345208,3784726; 345176,3784657; 345249,3784489; 345264,3784398; 345436,3784371; 345443,3784242; 345485,3784237; 345615,3784301; 345599,3784303; 345716,3784275; 345839,3784282; 345873,3784138; 346114,3784037; 346167,3783879; 346139,3783739; 346236,3783615; 346099,3783517; 346152,3783412; 346150,3783308; 346063,3783276; 345893,3783321; 345819,3783163; 345605,3783068; 345245,3782745; 345220,3782695; 345104,3782702; 344801,3782582; 344572,3782299; 344257,3782149; 344007,3782227; 343959,3782314; 343835,3782353; 343698,3782181; 343356,3782138; 342181,3782163; 342057,3782712; 341965,3782823; 341986,3782835; 341836,3783224; 341806,3783464; 341772,3783516; 341641,3783607; 341546,3783735; 341607,3783877; 341570,3784109; 341607,3784403; 341593,3784510; 341540,3784612; 341531,3784885; 341515,3784912; 341368,3784968; 341259,3785132; 341152,3785246; 341070,3785275; 341005,3785362; 340989,3785425; 341057,3785526; 341057,3785566; 340954,3785696; 340957,3785780; 340780,3785859; 340677,3785955; 340594,3785969; 340410,3786065; 340264,3786081; 340188,3786114; 340193,3786151; 340268,3786202; 340309,3786268; 340212,3786516; 340138,3786536; 340081,3786597; 340083,3786637; 340162,3786710; 340120,3786789; 339978,3786784; 339833,3786860; 339561,3786931; 339264,3787091; 339199,3787176; 338893,3787232; 338790,3787269; 338763,3787300; 338786,3787386; 339019,3787565; 338966,3787714; 338890,3787787; 338789,3787984; 338806,3788053; 338960,3788068; 339268,3788041; 339472,3788234; 339521,3788249; 339968,3788206; 340122,3788237; 340306,3788353; 340467,3788246; 340497,3788252; 340578,3788369; 340849,3788263; 341244,3788275; 341326,3788322; 341389,3788507; returning to 341537,3788481.

(ii) Note: Unit VEN-3 for California red-legged frog is depicted on the map in paragraph (52)(ii) of this entry.

(54) Unit LOS-1: Los Angeles County, California. From USGS 1:24,000 scale quadrangles Warm Springs Mountain and Green Valley.

(i) Land bounded by the following UTM Zone 11, NAD83 coordinates (E,N): 359031,3819227; 358730,3819226; 357682,3819421; 357694,3819619; 357819,3819717; 357871,3819926; 358218,3820421; 358455,3821056; 358466,3821241; 358352,3821327; 358424,3821653; 358610,3821669; 358704,3821902; 358598,3822345; 358987,3823103; 359060,3823442; 359387,3823820; 359806,3824854; 360096,3825062; 361616,3825686; 362356,3825881; 363057,3825879; 363330,3825796; 363930,3825191; 363867,3824811; 363724,3824621; 361885,3823314; 361706,3822967; 361437,3822679; 361231,3822109; 360167,3820914; 359852,3820073; 359475,3819513; 359153,3819227; returning to 359031,3819227.

(ii) Note: Map of Unit LOS-1 for the California red-legged frog follows:

BILLING CODE 4310-55-S

Dated: February 26, 2010
Signed: Thomas L. Strickland,
Assistant Secretary for Fish and Wildlife and Parks

[FR Doc. 2010-4656 Filed 3-16-10; 8:45 am]

BILLING CODE 4310-55-C